DEPARTMENT OF THE INTERIOR

Fish and Wildlife Service

50 CFR Part 17

RIN 1018-AU06

Endangered and Threatened Wildlife and Plants; Designation of Critical Habitat for Four Vernal Pool Crustaceans and Eleven Vernal Pool Plants

AGENCY: Fish and Wildlife Service, Interior.

ACTION: Final rule; administrative revisions.

SUMMARY: We, the Fish and Wildlife Service (Service), designated approximately 858,846 acres (ac) (347,563 hectares (ha)) of critical habitat for 4 vernal pool crustaceans and 11 vernal pool plants in 34 counties in California and 1 county in southern Oregon in a final rule of August 11, 2005 (70 FR 46924). That rule designated critical habitat for the 15 vernal pool species collectively. Pursuant to that rule, we are now publishing species-specific unit descriptions and maps for the 15 species. This rule specifically identifies the critical habitat for each individual species identified in the August 11, 2005, final rule. Because many of the units for the different species overlap, the total critical habitat area we are designating is much less than the sum of the areas for each species. This rule is entirely an administrative action in that it places the species individually where they belong in 50 CFR part 17; it does not change the critical habitat designations for any of the species.

DATES: This rule is effective February 10, 2006.

ADDRESSES: Comments and materials received, as well as supporting documentation used in the preparation of the August 11, 2005, final rule (70 FR 46924), are available for public inspection, by appointment, during normal business hours, at the Sacramento Fish and Wildlife Office, 2800 Cottage Way, Room W-2605, Sacramento, California 95825 (telephone (916) 414-6600). The August 11, 2005, final rule and draft economic analysis are available via the Internet at http://www.fws.gov/sacramento/.

FOR FURTHER INFORMATION CONTACT: Field Supervisor, Wayne White, Sacramento Fish and Wildlife Office, at the above address, (telephone (916) 414-6600; facsimile (916) 414-6712).

SUPPLEMENTARY INFORMATION:

Background

On August 11, 2005, we published in the Federal Register the final critical habitat designation for the 4 vernal pool crustaceans and 11 vernal pool plants described below (70 FR 46924). In this rule we are specifically identifying the critical habitat areas for each of the 4 vernal pool crustaceans and 11 vernal pool plants. We are also removing the collective designation from 50 CFR 17.97 and individually placing the crustaceans in § 17.95 and the plants in § 17.96.

The final designation of critical habitat for Conservancy fairy shrimp (Branchinecta conservatio) is 161,786 acres (ac) (65,473 hectares (ha)); longhorn fairy shrimp (Branchinecta longiantenna), 13,557 ac (5,486 ha); vernal pool fairy shrimp (Branchinecta lynchi), 597,821 ac (241,929 ha); and vernal pool tadpole shrimp (Lepidurus packardi), 228,785 ac (92,586 ha) (collectively referred to as “vernal pool crustaceans” in the remainder of this document), and Butte County meadowfoam (Limnanthes floccosa ssp. californica), 16,636 ac (6,732 ha); Contra Costa goldfields (Lasthenia conjugens), 14,730 ac (5,961 ha); Hoover's spurge (Chamaesyce hooveri), 114,713 ac (46,423 ha); fleshy owl's-clover (Castilleja campestris ssp. succulenta), 175,873 ac (71,173 ha); Colusa grass (Neostapfia colusana), 152,093 ac (61,550 ha); Greene's tuctoria (Tuctoria greenei), 145,119 ac (58,727 ha); hairy Orcutt grass (Orcuttia pilosa), 79,608 ac (32,216 ha); Sacramento Orcutt grass (Orcuttia viscida), 33,273 ac (13,465 ha); San Joaquin Valley Orcutt grass (Orcuttia inaequalis), 136,312 ac (55,164 ha); slender Orcutt grass (Orcuttia tenuis), 94,213 ac (38,127 ha); and Solano grass (Tuctoria mucronata), 440 ac (178 ha) (collectively referred to as “vernal pool plants” in the remainder of this rule), pursuant to the Endangered Species Act of 1973, as amended (Act) (16 U.S.C. 1531 et seq.).

In this rule, we discuss only those topics directly relevant to the publication of species-specific unit descriptions and maps. For more information on the 4 vernal pool crustaceans, 11 vernal pool plants, and the overall critical habitat designation, refer to the final critical habitat designation published in the Federal Register on August 11, 2005 (70 FR 46924).

Previous Federal Actions

In January 2004, the Butte Environmental Council and several other organizations filed a complaint regarding the previous designation of critical habitat (August 6, 2003, 68 FR 46684). On October 29, 2004, the court agreed with a settlement agreement and ordered a finalization of critical habitat by July 31, 2005 (Butte Environmental Council et al. v. Norton. et al., Case No. CIV S-04-0096 WBS KJM (E.D. Cal.). In order to comply with the court order and meet the established deadlines for finalizing the critical habitat for the 15 vernal pool species, we finalized a designation that contained a table listing subunits and the associated species found within the final critical habitat designation for the 15 vernal pool species. However, we did not identify associated area for each species or produce species-specific maps. The final rule designating critical habitat for the 4 vernal pool crustaceans and 11 vernal pool plants was subsequently published in the Federal Register on August 11, 2005 (70 FR 46926). To expedite the designation process, the August 11, 2005, rule contained maps that combined the critical habitat for the 15 vernal pool species.

For more information on previous Federal actions concerning the 15 vernal pool species identified in this rule, refer to the previous proposed and final critical habitat rules published in the Federal Register on September 24, 2002 (67 FR 59884), March 8, 2005 (70 FR 11140), and August 11, 2005 (70 FR 46926), respectively.

Critical Habitat Designation

We designated 111 units as critical habitat for the 15 vernal pool species. Many of the critical habitat units for the 15 vernal pool species overlap. The critical habitat areas designated for these species constitute our best assessment at this time of areas determined to be occupied at the time of listing, contain the primary constituent elements (PCEs) essential to the conservation of the vernal pool species that may require special management or protection, and those additional areas found to be essential to the conservation of the 4 vernal pool crustaceans and 11 vernal pool plants.

Table 1 identifies the approximate area designated as critical habitat for the vernal pool crustaceans and vernal pool plants by land ownership.

Table 1.—Approximate Areas of Final Critical Habitat for the Vernal Pool Crustaceans and Plants in California and Oregon
Critical habitat units | Federal: acres | Federal: hectares | State: acres | State: hectares | Local/private: acres | Local/private: hectares | Total: acres | Total: hectares
Conservancy Fairy Shrimp
1A-E | 0 | 0 | 0 | 0 | 4,347 | 1,759 | 4,347 | 1,759
2 | 0 | 0 | 0 | 0 | 0 | 0 | 0 | 0
3 | 0 | 0 | 0 | 0 | 4,414 | 1,786 | 4,414 | 1,786
4 | 0 | 0 | 0 | 0 | 0 | 0 | 0 | 0
5 | 0 | 0 | 0 | 0 | 746 | 302 | 746 | 302
6 | 0 | 0 | 0 | 0 | 86,078 | 34,834 | 86,078 | 34,834
7A-F | 0 | 0 | 0 | 0 | 19,671 | 7,960 | 19,671 | 7,960
8 | 0 | 0 | 0 | 0 | 46,531 | 18,830 | 46,531 | 18,830
Species Total | 0 | 0 | 0 | 0 | 161,786 | 65,473 | 161,786 | 65,473
Longhorn Fairy Shrimp
1A-B | 0 | 0 | 0 | 0 | 791 | 320 | 791 | 320
2 | 0 | 0 | 0 | 0 | 3,165 | 1,281 | 3,165 | 1,281
3 | 0 | 0 | 0 | 0 | 9.601 | 3,886 | 9.601 | 3,886
Species Total | 0 | 0 | 0 | 0 | 13,557 | 5,486 | 13,557 | 5,486
Vernal Pool Fairy Shrimp
1A-G | 0 | 0 | 0 | 0 | 2,130 | 862 | 2,130 | 862
2A-E | 0 | 0 | 0 | 0 | 2,251 | 911 | 2,251 | 911
3A-C | 0 | 0 | 0 | 0 | 2,301 | 931 | 2,301 | 931
4A-B | 432 | 175 | 0 | 0 | 460 | 186 | 892 | 361
5 | 41 | 17 | 0 | 0 | 4,297 | 1,739 | 4,338 | 1,756
6 | 0 | 0 | 0 | 0 | 39,173 | 15,853 | 39,173 | 15,853
7A-F | 0 | 0 | 0 | 0 | 8,393 | 3,397 | 8,393 | 3,397
8 | 0 | 0 | 0 | 0 | 12,677 | 5,130 | 12,677 | 5,130
9 | 0 | 0 | 0 | 0 | 433 | 175 | 433 | 175
10 | 0 | 0 | 0 | 0 | 0 | 0 | 0 | 0
11 | 0 | 0 | 0 | 0 | 1,324 | 536 | 1,324 | 536
12 | 0 | 0 | 0 | 0 | 2,580 | 1,044 | 2,580 | 1,044
13 | 0 | 0 | 0 | 0 | 2,450 | 992 | 2,450 | 992
14 | 0 | 0 | 0 | 0 | 37,093 | 15,011 | 37,093 | 15,011
15 | 0 | 0 | 0 | 0 | 0 | 0 | 0 | 0
16 | 88 | 36 | 0 | 0 | 12,488 | 5,054 | 12,576 | 5,090
17 | 0 | 0 | 0 | 0 | 655 | 265 | 655 | 265
18 | 0 | 0 | 0 | 0 | 14,181 | 5,739 | 14,181 | 5,739
19A-C | 0 | 0 | 108 | 44 | 7,784 | 3,150 | 7,892 | 3,194
20 | 0 | 0 | 0 | 0 | 746 | 302 | 746 | 302
21A-C | 17 | 7 | 41 | 17 | 48,582 | 19,661 | 48,640 | 19,685
22 | 8 | 3 | 0 | 0 | 69,131 | 27,976 | 69,139 | 27,979
23A-K | 10 | 4 | 0 | 0 | 28,530 | 11,546 | 28,540 | 11,550
24A-B | 20 | 8 | 0 | 0 | 28,930 | 11,708 | 28,950 | 11,716
25 | 161 | 65 | 0 | 0 | 2,295 | 929 | 2,456 | 994
26A-F | 0 | 0 | 0 | 0 | 6,688 | 2,707 | 6,688 | 2,707
27A-D | 3,366 | 1,362 | 0 | 0 | 12,099 | 4,896 | 15,465 | 6,258
28 | 3,906 | 1,581 | 5 | 2 | 115,004 | 46,540 | 118,914 | 48,123
29A-H | 22 | 9 | 0 | 0 | 50,034 | 20,248 | 50,055 | 20,257
30 | 0 | 0 | 0 | 0 | 9,601 | 3,886 | 9,601 | 3,886
31 | 5,527 | 2,237 | 0 | 0 | 15,228 | 6,162 | 20,754 | 8,399
32 | 44,580 | 18,041 | 0 | 0 | 1,951 | 789 | 46,531 | 18,830
33 | 0 | 0 | 0 | 0 | 0 | 0 | 0 | 0
34 | 0 | 0 | 0 | 0 | 0 | 0 | 0 | 0
35 | 0 | 0 | 0 | 0 | 0 | 0 | 0 | 0
Species Total | 58,177 | 23,544 | 154 | 63 | 539,490 | 218,322 | 597,821 | 241,929
Vernal Pool Tadpole Shrimp
1 | 42 | 17 | 0 | 0 | 4,297 | 1,739 | 4,338 | 1,755
2 | 15,347 | 6,211 | 18 | 7 | 32,749 | 13,253 | 48,114 | 19,471
3 | 0 | 0 | 0 | 0 | 8,393 | 3,397 | 8,393 | 3,397
4 | 0 | 0 | 0 | 0 | 17,652 | 7,143 | 17,652 | 7,143
5 | 0 | 0 | 0 | 0 | 0 | 0 | 0 | 0
6 | 0 | 0 | 0 | 0 | 980 | 397 | 980 | 397
7 | 0 | 0 | 0 | 0 | 1,324 | 536 | 1,324 | 536
8 | 0 | 0 | 0 | 0 | 2,450 | 992 | 2,450 | 992
9 | 0 | 0 | 0 | 0 | 37,093 | 15,011 | 37,093 | 15,011
10 | 310 | 125 | 0 | 0 | 130 | 53 | 440 | 178
11 | 88 | 36 | 0 | 0 | 12,483 | 5,052 | 12,571 | 5,087
12 | 0 | 0 | 0 | 0 | 0 | 0 | 0 | 0
13 | 0 | 0 | 0 | 0 | 4,700 | 1,902 | 4,700 | 1,902
14 | 0 | 0 | 0 | 0 | 92 | 37 | 92 | 37
15 | 0 | 0 | 0 | 0 | 53,607 | 21,694 | 53,607 | 21,694
16 | 0 | 0 | 0 | 0 | 28,540 | 11,546 | 28,540 | 11,546
17 | 209 | 85 | 0 | 0 | 1,592 | 644 | 1,802 | 729
18 | 0 | 0 | 0 | 0 | 6,688 | 2,707 | 6,688 | 2,707
Species Total | 15,996 | 6,473 | 18 | 7 | 212,770 | 86,105 | 228,785 | 92,586
Butte County Meadowfoam
1 | 0 | 0 | 0 | 0 | 1,962 | 794 | 1,962 | 794
2 | 0 | 0 | 0 | 0 | 4,059 | 1,642 | 4,059 | 1,642
3 | 0 | 0 | 0 | 0 | 1,454 | 589 | 1,454 | 589
4 | 0 | 0 | 0 | 0 | 9,161 | 3,707 | 9,161 | 3,707
Species Total | 0 | 0 | 0 | 0 | 16,636 | 6,732 | 16,636 | 6,732
Contra Costa Goldfields
1 | 0 | 0 | 0 | 0 | 2,637 | 1,067 | 2,637 | 1,067
2 | 0 | 0 | 0 | 0 | 1,106 | 411 | 1,106 | 411
3 | 0 | 0 | 0 | 0 | 534 | 216 | 534 | 216
4A-C | 0 | 0 | 0 | 0 | 5,929 | 2,399 | 5,929 | 2,399
5A-B | 0 | 0 | 0 | 0 | 839 | 339 | 839 | 339
6 | 0 | 0 | 0 | 0 | 398 | 161 | 398 | 161
7 | 0 | 0 | 0 | 0 | 3,286 | 1,330 | 3,286 | 1,330
8 | 0 | 0 | 0 | 0 | 92 | 37 | 92 | 37
9 | 0 | 0 | 0 | 0 | 0 | 0 | 0 | 0
Species Total | 0 | 0 | 0 | 0 | 14,730 | 5,961 | 14,730 | 5,961
Hoover's Spurge
1 | 0 | 0 | 0 | 0 | 2,838 | 1,149 | 2,838 | 1,149
2 | 0 | 0 | 0 | 0 | 8 | 3 | 8 | 3
3 | 0 | 0 | 0 | 0 | 0 | 0 | 0 | 0
4 | 0 | 0 | 0 | 0 | 37,595 | 15,214 | 37,595 | 15,214
5A-C | 0 | 0 | 41 | 17 | 35,092 | 14,201 | 35,133 | 14,218
6A-E | 0 | 0 | 0 | 0 | 16,505 | 6,679 | 16,505 | 6,679
7A-E | 0 | 0 | 0 | 0 | 22,634 | 9,160 | 22,634 | 9,160
Species Total | 0 | 0 | 41 | 17 | 114,672 | 46,406 | 114,713 | 46,423
Fleshy Owl's Clover
1 | 0 | 0 | 0 | 0 | 2,442 | 980 | 1,051 | 2,598
2A-B | 0 | 0 | 0 | 0 | 31,875 | 12,899 | 14,131 | 34,917
3A-B | 0 | 0 | 0 | 0 | 85,197 | 34,478 | 63,353 | 156,542
4A-C | 0 | 0 | 0 | 0 | 38,041 | 15,395 | 33,071 | 81,717
5A-B | 0 | 0 | 0 | 0 | 14,081 | 5,698 | 11,888 | 29,375
6A-B | 370 | 150 | 0 | 0 | 3,888 | 1,573 | 4,258 | 1,723
Species Total | 370 | 150 | 0 | 0 | 175,503 | 71,023 | 175,873 | 71,173
Colusa Grass
1 | 310 | 126 | 0 | 0 | 130 | 52 | 440 | 178
2 | 0 | 0 | 0 | 0 | 0 | 0 | 0 | 0
3 | 0 | 0 | 0 | 0 | 0 | 0 | 0 | 0
4A-E | 0 | 0 | 0 | 0 | 48,838 | 19,764 | 48,838 | 19,764
5A-E | 0 | 0 | 42 | 17 | 35,091 | 14,201 | 35,133 | 14,218
6 | 0 | 0 | 0 | 0 | 54,119 | 21,901 | 54,119 | 21,901
7A-F | 0 | 0 | 0 | 0 | 13,564 | 5,489 | 13,564 | 5,489
Species Total | 310 | 126 | 42 | 17 | 151,741 | 61,407 | 152,093 | 61,550
Greene's Tuctoria
1 | 0 | 0 | 0 | 0 | 1,703 | 689 | 1,703 | 689
2 | 0 | 0 | 0 | 0 | 2,838 | 1,149 | 2,838 | 1,149
3 | 0 | 0 | 0 | 0 | 8 | 3 | 8 | 3
4 | 0 | 0 | 0 | 0 | 0 | 0 | 0 | 0
5 | 0 | 0 | 0 | 0 | 0 | 0 | 0 | 0
6A-E | 0 | 0 | 0 | 0 | 50,808 | 20,561 | 50,808 | 20,561
7 | 0 | 0 | 0 | 0 | 86,636 | 35,060 | 86,636 | 35,060
8A-C | 0 | 0 | 0 | 0 | 3,127 | 1,265 | 3,127 | 1,265
Species Total | 0 | 0 | 0 | 0 | 145,118 | 58,727 | 145,118 | 58,727
Hairy Orcutt Grass
1 | 0 | 0 | 0 | 0 | 2,087 | 845 | 2,087 | 845
2 | 0 | 0 | 0 | 0 | 8 | 3 | 8 | 3
3 | 0 | 0 | 0 | 0 | 0 | 0 | 0 | 0
4 | 17 | 7 | 42 | 17 | 48,582 | 19,660 | 48,641 | 19,684
5 | 0 | 0 | 0 | 0 | 1,839 | 744 | 1,839 | 744
6 | 0 | 0 | 0 | 0 | 27,033 | 10,940 | 27,033 | 10,940
Species Total | 17 | 7 | 42 | 17 | 79,549 | 32,192 | 79,608 | 32,216
Sacramento Orcutt Grass
1 | 0 | 0 | 0 | 0 | 26 | 11 | 26 | 11
2 | 0 | 0 | 0 | 0 | 1,161 | 470 | 1,161 | 470
3 | 0 | 0 | 0 | 0 | 32,086 | 12,985 | 32,086 | 12,985
Species Total | 0 | 0 | 0 | 0 | 33,273 | 13,465 | 33,273 | 13,465
San Joaquin Valley Orcutt Grass
1 | 8 | 3 | 0 | 0 | 54,116 | 21,900 | 54,124 | 21,903
2 | 0 | 0 | 0 | 0 | 32,008 | 12,953 | 32,008 | 12,953
3A-C | 0 | 0 | 0 | 0 | 30,713 | 12,429 | 30,713 | 12,429
4 | 0 | 0 | 0 | 0 | 476 | 193 | 476 | 193
5A-B | 370 | 150 | 0 | 0 | 3,888 | 1,573 | 4,258 | 1,723
6A-D | 0 | 0 | 0 | 0 | 14,734 | 5,962 | 14,734 | 5,962
Species Total | 378 | 153 | 0 | 0 | 135,934 | 55,011 | 136,312 | 55,164
Slender Orcutt Grass
1A-K | 22,987 | 9,303 | 0 | 0 | 4,192 | 1,697 | 27,180 | 10,999
2A-D | 81 | 33 | 0 | 0 | 10,698 | 4,330 | 10,780 | 4,362
3A-B | 15,384 | 6,211 | 0 | 0 | 32,767 | 13,260 | 48,114 | 19,471
4 | 0 | 0 | 0 | 0 | 2,838 | 1,149 | 2,838 | 1,149
5A-B | 0 | 0 | 0 | 0 | 4,141 | 1,676 | 4,141 | 1,676
6 | 0 | 0 | 0 | 0 | 1,161 | 470 | 1,161 | 470
Species Total | 38,416 | 15,546 | 0 | 0 | 55,797 | 22,580 | 94,213 | 38,127
Solano Grass
1 | 310 | 125 | 0 | 0 | 130 | 53 | 440 | 178
2 | 0 | 0 | 0 | 0 | 0 | 0 | 0 | 0
Species Total | 310 | 125 | 0 | 0 | 130 | 53 | 440 | 178

Brief descriptions of the critical habitat units for each of the 4 vernal pool crustaceans and 11 vernal pool plants, and reasons why they meet the definition of critical habitat, are available on the Sacramento Fish and Wildlife Office internet site at http://www.fws.gov/sacramento or available by contacting the office directly (refer to ADDRESSES).

Required Determinations and Effective Date

We considered the statutes and Executive orders that govern the rulemaking process in the final rule of August 11, 2005 (70 FR 46924), and our analyses and determinations for that rule stand for this rule as well. This rule is an administrative action. It separates a collective critical habitat designation into 15 separate species-specific designations and assigns these designations to the appropriate sections of the CFR.

Because this action is merely administrative, we find good cause under 5 U.S.C. 553(b)(3)(B) to publish this rule without prior opportunity for public comment. We solicited and considered public comment on the August 11, 2005, final rule, and this rule does not alter the designations set forth in that rule. We also find good cause under 5 U.S.C. 553(d)(3) to make this rule final upon publication. This rule does not change any regulatory requirement placed upon the public but merely provides additional precision regarding the information in the CFR regarding designated critical habitat for these species. Therefore, this is not a substantive rule, and we see no reason to delay the effective date for 30 days.

References Cited

A complete list of all references cited in the August 11, 2005, final rule (70 FR 46924) and this administrative revision is available upon request from the Field Supervisor, Sacramento Fish and Wildlife Office, U.S. Fish and Wildlife Service (see ADDRESSES section).

Author(s)

Primary authors of this package are the staff of the Sacramento Fish and Wildlife Office.

List of Subjects in 50 CFR Part 17

Endangered and threatened species, Exports, Imports, Reporting and Recordkeeping requirements, Transportation.

Regulation Promulgation

Accordingly, we amend part 17, subchapter B of chapter I, title 50 of the Code of Federal Regulations, as set forth below:

PART 17—[AMENDED]

1. The authority citation for part 17 continues to read as follows:

Authority: 16 U.S.C. 1361-1407; 16 U.S.C. 1531-1544; 16 U.S.C. 4201-4245; Pub. L. 99-625, 100 Stat. 3500; unless otherwise noted.

2. Amend § 17.11(h) by revising the entries for “Fairy shrimp, Conservancy”, “Fairy shrimp, longhorn”, “Fairy shrimp, vernal pool”, and “Tadpole shrimp, vernal pool” under CRUSTACEANS in the List of Endangered and Threatened Wildlife to read as follows:

§ 17.11 Endangered and threatened wildlife.

* * * * *

(h) * * *

Species: Common name | Species: Scientific name | Historic range | Vertebrate population where endangered or threatened | Status | When listed | Critical habitat | Special rules
* * * * * * *
| CRUSTACEANS
* * * * * * *
Fairy shrimp, Conservancy | Branchinecta conservatio | U.S.A. (CA) | Entire | E | 552 | 17.95(h) | NA
Fairy shrimp, longhorn | Branchinecta longiantenna | U.S.A. (CA) | Entire | E | 552 | 17.95(h) | NA
* * * * * * *
Fairy shrimp, vernal pool | Branchinecta lynchi | U.S.A. (CA, OR) | Entire | E | 552 | 17.95(h) | NA
* * * * * * *
Tadpole shrimp, vernal pool | Lepidurus packardi | U.S.A. (CA) | Entire | E | 552 | 17.95(h) | NA

3. Amend § 17.12(h) by revising the entries for Castilleja campestris ssp. succulenta (fleshy owl's-clover), Chamaesyce hooveri (Hoover's spurge), Lasthenia conjugens (Contra Costa goldfields), Limnanthes floccosa ssp. californica (Butte County meadowfoam), Neostapfia colusana (Colusa grass), Orcuttia inaequalis (San Joaquin Valley Orcutt grass), Orcuttia pilosa (hairy Orcutt grass), Orcuttia tenuis (slender Orcutt grass), Orcuttia viscida (Sacramento Orcutt grass), Tuctoria greenei (Greene's tuctoria), and Tuctoria mucronata (Solano grass) under FLOWERING PLANTS in the List of Endangered and Threatened Plants to read as follows:

§ 17.12 Endangered and threatened plants.

* * * * *

(h) * * *

Species: Scientific name | Species: Common name | Historic range | Family | Status | When listed | Critical habitat | Special rules
Flowering Plants
* * * * * * *
Castilleja campestris ssp.succulenta | Fleshy owl's-clover | U.S.A. (CA) | Scrophulariaceae | T | 611 | 17.96(a) | NA
* * * * * * *
Chamaesyce hooveri | Hoover's spurge | U.S.A. (CA) | Euphorbiaceae | T | 611 | 17.96(a) | NA
* * * * * * *
Lasthenia conjugens | Contra Costa goldfields | U.S.A. (CA) | Asteraceae | E | 619 | 17.96(a) | NA
* * * * * * *
Limnanthes floccosa ssp. californica | Butte County meadowfoam | U.S.A. (CA) | Limnanthaceae | E | 471 | 17.96(a) | NA
* * * * * * *
Neostapfia colusana | Colusa grass | U.S.A. (CA) | Poaceae | T | 611 | 17.96(a) | NA
* * * * * * *
Orcuttia inaequalis | San Joaquin Valley Orcutt grass | U.S.A. (CA) | Poaceae | T | 611 | 17.96(a) | NA
Orcuttia pilosa | Hairy Orcutt grass | U.S.A. (CA) | Poaceae | T | 611 | 17.96(a) | NA
Orcuttia tenuis | Slender Orcutt grass | U.S.A. (CA) | Poaceae | T | 611 | 17.96(a) | NA
Orcuttia viscida | Sacramento Orcutt grass | U.S.A. (CA) | Poaceae | T | 611 | 17.96(a) | NA
* * * * * * *
Tuctoria greenei | Greene's tuctoria | U.S.A. (CA) | Poaceae | T | 611 | 17.96(a) | NA
Tuctoria mucronata | Solano grass | U.S.A. (CA) | Poaceae | T | 44 | 17.96(a) | NA
* * * * * * *

4. In § 17.95 add critical habitat for Conservancy fairy shrimp (Branchinecta conservatio), longhorn fairy shrimp (Branchinecta longiantenna), vernal pool fairy shrimp (Branchinecta lynchi), and vernal pool tadpole shrimp (Lepidurus packardi) under paragraph (h) in the same alphabetical order as this species occurs in § 17.11(h), to read as follows:

§ 17.95 Critical habitat—fish and wildlife.

* * * * *

(h) Crustaceans.

* * * * *

Conservancy fairy shrimp (Branchinecta conservatio).

(1) Critical habitat units are depicted for Butte, Colusa, Mariposa, Merced, Solano, Stanislaus, Tehama, and Ventura Counties, California, on the maps below.

(2) The primary constituent elements of critical habitat for Conservancy fairy shrimp (Branchinecta conservatio) are the habitat components that provide:

(i) Topographic features characterized by mounds and swales and depressions within a matrix of surrounding uplands that result in complexes of continuously, or intermittently, flowing surface water in the swales connecting the pools described below in paragraph (2)(ii), providing for dispersal and promoting hydroperiods of adequate length in the pools;

(ii) Depressional features including isolated vernal pools with underlying restrictive soil layers that become inundated during winter rains and that continuously hold water for a minimum of 19 days, in all but the driest years; thereby providing adequate water for incubation, maturation, and reproduction. As these features are inundated on a seasonal basis, they do not promote the development of obligate wetland vegetation habitats typical of permanently flooded emergent wetlands;

(iii) Sources of food, expected to be detritus occurring in the pools, contributed by overland flow from the pools' watershed, or the results of biological processes within the pools themselves, such as single-celled bacteria, algae, and dead organic matter, to provide for feeding; and

(iv) Structure within the pools described above in paragraph (2)(ii), consisting of organic and inorganic materials, such as living and dead plants from plant species adapted to seasonally inundated environments, rocks, and other inorganic debris that may be washed, blown, or otherwise transported into the pools, that provide shelter.

(3) Existing manmade features and structures, such as buildings, roads, railroads, airports, runways, other paved areas, lawns, and other urban landscaped areas do not contain one or more of the primary constituent elements. Federal actions limited to those areas, therefore, would not trigger a consultation under section 7 of the Act unless they may affect the species and/or primary constituent elements in adjacent critical habitat.

(4) Unit 1 Tehama County, California.

(i) Unit 1A: Tehama County, California. From USGS 1:24,000 topographic quadrangles Richardson Springs, and Acorn Hollow. Land bounded by the following UTM Zone 10, NAD 83 coordinates (E,N): 588739, 4429822; 588900, 4429500; 589500, 4429500; 589500, 4428600; 589500, 4428000; 589800, 4427100; 590500, 4426400; 590500, 4425300; 591200, 4424400; 591500, 4423300; 591562, 4422558; 590526, 4423686; 589986, 4424273; 589816, 4424458; 589129, 4425207; 588454, 4426221; 588425, 4426265; 588279, 4426485; 588213, 4426583; 588213, 4426584; 588600, 4429100; 588733, 4429833; returning to 588739, 4429822.

(ii) Unit 1B: Tehama County, California. From USGS 1:24,000 topographic quadrangle Richardson Springs NW. Land bounded by the following UTM Zone 10, NAD 83 coordinates (E,N): 593700, 4420900; 593164, 4420815; 592329, 4421723; 592258, 4421800; 593000, 4421800; 593100, 4421500; 593500, 4421400; returning to 593700, 4420900.

(iii) Unit 1C: Tehama County, California. From USGS 1:24,000 topographic quadrangle Richardson Springs NW. Land bounded by the following UTM Zone 10, NAD 83 coordinates (E,N): 594500, 4420300; 593881, 4420035; 593371, 4420590; 594000, 4420800; 594400, 4420600; returning to 594500, 4420300.

(iv) Unit 1D: Tehama County, and Butte County, California. From USGS 1:24,000 topographic quadrangles Richardson Springs NW, Campbell Mound, Richardson Springs. Land bounded by the following UTM Zone 10, NAD 83 coordinates (E,N): 597100, 4416400; 597100, 4415600; 597044, 4415525; 596800, 4415200; 597100, 4415000; 597800, 4415500; 598100, 4415200; 597600, 4414600; 597600, 4414400; 597300, 4413800; 597300, 4413300; 598200, 4413900; 598400, 4413900; 598400, 4413600; 597422, 4411938; 597281, 4412382; 596959, 4413403; 596640, 4414416; 596620, 4414481; 596305, 4415484; 596303, 4415489; 596130, 4416040; 596091, 4416160; 596028, 4416358; 596011, 4416411; 595993, 4416465; 595982, 4416500; 596000, 4416500; 596100, 4416400; 596200, 4416500; 596300, 4416600; 596400, 4416700; 596500, 4416700; 596500, 4416800; 596600, 4416800; returning to 597100, 4416400.

(v) Unit 1E: Butte County, California. From USGS 1:24,000 topographic quadrangles Richardson Springs. Land bounded by the following UTM Zone 10, NAD 83 coordinates (E,N): 598900, 4411800; 599400, 4411700; 599800, 4411700; 599800, 4411000; 599300, 4410700; 599100, 4410800; 599000, 4410800; 598800, 4410600; 598500, 4410400; 598300, 4410100; 598100, 4410000; 598070, 4409970; 598051, 4409993; 598038, 4410010; 598014, 4410083; 597806, 4410737; 597725, 4410990; 597461, 4411816; 597434, 4411900; 597600, 4411900; 598300, 4412700; 598500, 4413300; 598900, 4413300; returning to 598900, 4411800.

(vi) Note: Unit 1 (Map 1) follows:

BILLING CODE 4310-55-P

BILLING CODE 4310-55-C

(5) Unit 3: Solano County, California. From USGS 1:24,000 topographic quadrangles Elmira, and Denverton. Land bounded by the following UTM Zone 10, NAD 83 coordinates (E,N): 594915, 4234098; 594916, 4233314; 595044, 4233310; 595068, 4233296; 595131, 4233266; 595174, 4233226; 595189, 4233210; 595239, 4233151; 595322, 4232978; 595423, 4232778; 595483, 4232667; 595553, 4232524; 595699, 4232243; 595966, 4231717; 594927, 4231710; 594445, 4231707; 594409, 4231673; 594410, 4231616; 594434, 4231540; 594474, 4231494; 594495, 4231457; 594497, 4231414; 594510, 4231370; 594543, 4231356; 594575, 4231342; 594603, 4231341; 594614, 4231338; 594616, 4231325; 594618, 4231311; 594614, 4231290; 594605, 4231284; 594583, 4231275; 594573, 4231268; 594557, 4231245; 594550, 4231209; 594543, 4231179; 594500, 4231200; 593800, 4231200; 593600, 4230500; 593291, 4230515; 593291, 4230514; 589300, 4230700; 589179, 4230901; 589179, 4230901; 589240, 4230894; 589274, 4230890; 589315, 4230894; 589321, 4230909; 589313, 4231179; 589015, 4231215; 589100, 4231300; 589100, 4231700; 588900, 4232300; 588900, 4233000; 589983, 4233500; 590000, 4233500; 590100, 4233500; 590100, 4233300; 590600, 4233300; 591100, 4232800; 591138, 4232825; 591143, 4232820; 591184, 4232856; 591700, 4233200; 592513, 4233290; 592594, 4233291; 592594, 4233299; 592600, 4233300; 592600, 4233800; 592900, 4233700; 592900, 4233751; 592901, 4233751; 592900, 4233754; 592900, 4233800; 593400, 4234100; 594200, 4234100; 594300, 4234900; 594500, 4234900; 594890, 4235396; returning to 594915, 4234098.

(6) Note: Unit 3 (Map 2) follows:

BILLING CODE 4310-55-P

BILLING CODE 4310-55-C

(7) Unit 5: Stanislaus County, California. From USGS 1:24,000 topographic quadrangle Ripon. Land bounded by the following UTM Zone 10, NAD 83 coordinates (E,N): 662400, 4168300; 661600, 4168000; 661600, 4168300; 660300, 4167800; 660600, 4167500; 660800, 4167200; 660000, 4167200; 659500, 4168800; 661600, 4168800; 661600, 4169400; 662400, 4169400; returning to 662400, 4168300.

(8) Note: Unit 5 (Map 3) follows:

BILLING CODE 4310-55-P

BILLING CODE 4310-55-C

(9) Unit 6: Merced County, and Mariposa County, California. From USGS 1:24,000 topographic quadrangles Snelling, Merced Falls, Winton, Yosemite Lake, Haystack Mtn. Indian Gulch, Merced, Planada, Owens Reservoir, Illinois Hill, Plainsburg, Le Grand, and Raynor Creek. Land bounded by the following UTM Zone 10, NAD 83 coordinates (E,N): 747003, 4125902; 747142, 4125971; 747303, 4125987; 747358, 4126000; 747200, 4126000; 747142, 4125971; 747123, 4125969; 747070, 4125950; 747003, 4125902; 747000, 4125900; 746900, 4125900; 746600, 4125800; 746300, 4125700; 746200, 4125600; 746200, 4125500; 745700, 4125500; 745700, 4125100; 744500, 4125100; 744500, 4125300; 744400, 4125300; 744400, 4125200; 743700, 4125200; 743700, 4125800; 744500, 4125800; 744500, 4126200; 743700, 4126200; 743700, 4127000; 743600, 4127000; 742700, 4127000; 742400, 4127000; 742000, 4127200; 742000, 4128600; 742800, 4128600; 742800, 4129100; 742900, 4129100; 743000, 4129100; 743000, 4129200; 743400, 4129300; 743600, 4129500; 743600, 4130284; 743605, 4130284; 743600, 4130493; 743600, 4130700; 743595, 4130700; 743561, 4132097; 743560, 4132170; 743556, 4132335; 743549, 4132692; 743537, 4133202; 743529, 4133301; 743531, 4133352; 743530, 4133400; 743523, 4133729; 743518, 4134016; 743515, 4134159; 743509, 4134382; 743500, 4134708; 743504, 4134743; 743565, 4134782; 744447, 4135329; 746234, 4136439; 746230, 4136445; 745985, 4136865; 745952, 4136931; 745915, 4136978; 745914, 4136987; 745902, 4137008; 745748, 4137298; 745669, 4137403; 745620, 4137437; 745503, 4137487; 745203, 4138201; 744984, 4138471; 744895, 4138606; 744895, 4138606; 744830, 4138711; 744596, 4139085; 744234, 4139637; 744233, 4139645; 744162, 4139744; 744162, 4139744; 744013, 4140002; 744013, 4140002; 743998, 4140029; 743996, 4140030; 743973, 4140072; 743907, 4140195; 743889, 4140229; 743877, 4140264; 743750, 4140609; 743388, 4140868; 743091, 4141131; 743053, 4141165; 742997, 4141268; 742771, 4141692; 742748, 4141734; 742355, 4142343; 742336, 4142368; 742271, 4142457; 742238, 4142503; 742139, 4142637; 742056, 4142749; 742002, 4142823; 741974, 4142874; 741808, 4143176; 741722, 4143360; 741419, 4144010; 741385, 4144081; 741316, 4144328; 741297, 4144395; 741245, 4144456; 741194, 4144530; 741162, 4144608; 741076, 4144820; 740864, 4144897; 740843, 4144899; 740750, 4144952; 740641, 4145056; 740535, 4145175; 740517, 4145182; 740490, 4145240; 740487, 4145263; 740386, 4145415; 740321, 4145847; 740320, 4146066; 740303, 4146114; 740276, 4146159; 740272, 4146225; 740293, 4146273; 740293, 4146303; 740370, 4146426; 740415, 4146474; 740536, 4146602; 740735, 4146722; 740825, 4146775; 741069, 4147251; 741071, 4147549; 741071, 4147576; 740982, 4147830; 740955, 4147883; 740914, 4147967; 740822, 4148059; 740772, 4148182; 740782, 4148363; 740776, 4148391; 740695, 4148831; 740617, 4149151; 740447, 4149311; 740396, 4149534; 740344, 4149561; 740303, 4149575; 740289, 4149588; 740238, 4149636; 740225, 4149666; 740057, 4149659; 739993, 4149678; 739917, 4149678; 739791, 4149621; 739705, 4149597; 739701, 4149596; 739602, 4149593; 739521, 4149560; 739443, 4149542; 739197, 4149515; 738714, 4149273; 738694, 4149252; 738674, 4149251; 738178, 4148999; 737835, 4148823; 737747, 4148772; 737044, 4148135; 736672, 4147809; 736430, 4147669; 735929, 4147379; 735716, 4147219; 735669, 4147184; 735605, 4147136; 735437, 4147009; 735223, 4146848; 735183, 4146809; 735156, 4146798; 735151, 4146778; 735022, 4146655; 734989, 4146630; 734609, 4146349; 734480, 4146255; 734012, 4145909; 733808, 4145758; 733765, 4145739; 733763, 4145732; 733370, 4145442; 732703, 4144952; 732391, 4144910; 732197, 4144885; 731993, 4144850; 731062, 4144594; 730371, 4144363; 729000, 4143905; 728736, 4143813; 728542, 4143745; 728346, 4143647; 728018, 4143482; 727340, 4143194; 726795, 4142958; 726607, 4142867; 726599, 4142856; 726577, 4142853; 725785, 4142417; 725793, 4142408; 725843, 4142361; 726002, 4142378; 726117, 4142355; 726204, 4142264; 726415, 4142046; 726420, 4141975; 726381, 4141921; 726367, 4141880; 726261, 4141732; 726182, 4141648; 725935, 4141477; 725916, 4141451; 725903, 4141379; 725914, 4141349; 725981, 4141288; 726033, 4141240; 726145, 4141137; 726156, 4141109; 726147, 4141073; 726096, 4140993; 726083, 4140896; 726089, 4140784; 726108, 4140739; 726268, 4140551; 726269, 4140436; 726283, 4140368; 726313, 4140308; 726412, 4140209; 726455, 4140025; 726457, 4140000; 726459, 4139959; 726715, 4139715; 726786, 4139647; 726804, 4139630; 726822, 4139625; 726822, 4139611; 726823, 4139582; 726809, 4139546; 726755, 4139466; 726754, 4139433; 726931, 4139179; 727174, 4138842; 727220, 4138823; 727261, 4138819; 727328, 4138864; 727331, 4138842; 727333, 4138831; 727335, 4138819; 727343, 4138816; 727396, 4138803; 727406, 4138800; 727414, 4138798; 727552, 4138779; 727711, 4138793; 727806, 4138786; 727819, 4138766; 727845, 4138644; 727858, 4138617; 727881, 4138590; 727700, 4138500; 727600, 4138400; 727400, 4138300; 727400, 4137800; 727300, 4137800; 727300, 4137600; 727400, 4137600; 727400, 4137500; 727300, 4137500; 727300, 4137400; 727400, 4137400; 727400, 4137200; 726500, 4137200; 726500, 4136500; 726400, 4136400; 725800, 4136400; 725800, 4137200; 725000, 4137200; 724900, 4138800; 725500, 4138800; 725500, 4138700; 725800, 4138700; 725800, 4138800; 725900, 4138800; 725900, 4139500; 726500, 4139500; 726500, 4139600; 725900, 4139600; 725800, 4139600; 725800, 4140200; 725900, 4140200; 725900, 4140900; 725400, 4140900; 725400, 4140800; 725100, 4140800; 725100, 4141000; 724900, 4141000; 724900, 4141200; 724100, 4141200; 724100, 4141600; 723400, 4141600; 723400, 4141100; 723200, 4141100; 723200, 4140600; 723400, 4140500; 723400, 4139500; 724000, 4139500; 724000, 4139400; 723900, 4138900; 723900, 4138700; 723500, 4138200; 723400, 4138200; 723400, 4138300; 723000, 4138300; 723000, 4138700; 723000, 4138900; 723100, 4139100; 723200, 4139400; 723300, 4139500; 722100, 4139500; 722000, 4140500; 721900, 4141100; 721900, 4141900; 721900, 4143400; 720800, 4143400; 720900, 4141800; 721000, 4141500; 721000, 4141200; 721100, 4141100; 721000, 4141000; 717800, 4140900; 717700, 4142500; 714500, 4142400; 714500, 4144900; 715500, 4144900; 715500, 4145000; 715800, 4145000; 715900, 4145000; 716000, 4145000; 716100, 4145100; 716100, 4145200; 716000, 4145200; 715900, 4145300; 715900, 4145400; 716000, 4145500; 716000, 4145600; 716100, 4145700; 717000, 4145700; 717700, 4145300; 717800, 4145300; 717800, 4145200; 717800, 4145100; 717600, 4144900; 717600, 4144800; 717600, 4144700; 717800, 4144500; 717900, 4144600; 718200, 4144600; 718400, 4144500; 718700, 4144500; 718700, 4144800; 718600, 4145000; 718700, 4145100; 718700, 4145600; 718600, 4145600; 718600, 4145700; 718700, 4145800; 718600, 4145900; 718500, 4146000; 718500, 4146100; 718600, 4146200; 718600, 4146500; 718300, 4146500; 718200, 4146600; 718200, 4146800; 718300, 4146800; 718500, 4146900; 718600, 4147000; 718600, 4147100; 718400, 4147200; 718500, 4147300; 718500, 4147600; 718700, 4147600; 718700, 4147400; 719000, 4147500; 719100, 4147700; 719300, 4147600; 719600, 4147900; 719700, 4148000; 719700, 4148100; 719800, 4148200; 720000, 4148200; 720600, 4148200; 720600, 4148300; 720700, 4148400; 720800, 4148400; 720900, 4148500; 722700, 4148500; 722700, 4148600; 722900, 4148600; 723200, 4148700; 723400, 4148700; 723200, 4148600; 723100, 4148500; 723000, 4148400; 723200, 4148200; 723400, 4148200; 723500, 4148300; 723600, 4148400; 723600, 4148500; 723800, 4148500; 723800, 4148400; 723900, 4148400; 723900, 4148500; 724000, 4148700; 724200, 4148500; 724200, 4148900; 724300, 4149000; 724300, 4149100; 724500, 4149000; 724500, 4149300; 724700, 4149400; 724900, 4149600; 725000, 4149700; 725000, 4150000; 724900, 4150100; 725000, 4150200; 725200, 4150200; 725300, 4150400; 725400, 4150500; 725400, 4150600; 725100, 4150900; 724700, 4150900; 724700, 4153400; 725000, 4153500; 725400, 4153900; 725600, 4154100; 725800, 4154200; 726000, 4154300; 726200, 4154000; 726300, 4153800; 726300, 4153700; 727800, 4153600; 727800, 4153400; 727900, 4153400; 727900, 4153500; 728400, 4153600; 728700, 4153700; 729000, 4153700; 729000, 4153600; 729100, 4153500; 729300, 4153400; 729400, 4153400; 729400, 4153300; 729300, 4153200; 729500, 4153100; 729800, 4153100; 729900, 4153200; 729900, 4154200; 730000, 4154200; 730100, 4154300; 730600, 4154300; 730700, 4154400; 731000, 4154600; 731200, 4154700; 731500, 4154700; 731800, 4154900; 732200, 4154900; 732600, 4154800; 733200, 4154500; 733400, 4154500; 733700, 4154300; 734700, 4154300; 734900, 4154600; 735100, 4154800; 735100, 4154900; 735500, 4155300; 735600, 4155300; 735800, 4155500; 736100, 4155900; 737100, 4155400; 737157, 4155367; 737800, 4155000; 738200, 4154200; 738300, 4153300; 739000, 4152800; 739100, 4152200; 740200, 4151800; 740800, 4151500; 740800, 4150300; 741100, 4149900; 741700, 4149400; 742100, 4148500; 742100, 4147100; 743400, 4146100; 744000, 4145600; 744400, 4144600; 744300, 4143900; 743900, 4142700; 744000, 4142000; 744200, 4141700; 745500, 4140300; 746100, 4139500; 746800, 4138500; 747700, 4137700; 748500, 4135800; 748700, 4135100; 749500, 4134000; 749501, 4133999; 750173, 4132710; 750700, 4131700; 751600, 4130500; 752000, 4130200; 752094, 4130188; 752157, 4130180; 752800, 4130100; 753300, 4130400; 753500, 4130400; 753900, 4130200; 754000, 4129300; 753400, 4128400; 753900, 4127700; 754400, 4127700; 754600, 4127400; 755300, 4128400; 755400, 4128400; 755600, 4127700; 756900, 4126400; 757800, 4125800; 758400, 4126300; 758500, 4126300; 758600, 4126000; 757900, 4125100; 757400, 4125100; 757175, 4124750; 757166, 4124735; 756500, 4123700; 753500, 4122400; 750200, 4122400; 750200, 4121400; 748600, 4121400; 748600, 4121900; 747800, 4121900; 747800, 4123300; 748300, 4123300; 748300, 4123500; 748500, 4123500; 748600, 4123500; 748600, 4123900; 747800, 4123900; 747800, 4124600; 747400, 4125100; 747400, 4125500; 746900, 4125500; 746900, 4125763; 746902, 4125767; 746921, 4125818; 746971, 4125871; 746997, 4125897; returning to 747003, 4125902.

(10) Note: Unit 6 (Map 4) follows:

BILLING CODE 4310-55-P

BILLING CODE 4310-55-C

(11) Unit 7: Merced County, California.

(i) Unit 7A: Merced County, California. From USGS 1:24,000 topographic quadrangles Gustine, Stevinson, San Luis Ranch. Land bounded by the following UTM Zone 10, NAD 83 coordinates (E,N): 688300, 4129000; 688600, 4128800; 689100, 4128900; 689200, 4128800; 689400, 4128600; 689800, 4128500; 689900, 4128300; 690200, 4128300; 690400, 4128200; 690500, 4128000; 690600, 4125500; 692700, 4125500; 693200, 4125000; 693100, 4124800; 693100, 4124400; 693300, 4123700; 693600, 4123400; 693800, 4123000; 694000, 4122900; 694079, 4122821; 694035, 4122790; 692453, 4121671; 692300, 4121900; 692200, 4122000; 692200, 4122500; 692100, 4122700; 691800, 4122800; 691400, 4122800; 691261, 4123079; 691262, 4123097; 691263, 4123113; 691267, 4123155; 691273, 4123198; 691267, 4123238; 691248, 4123272; 691217, 4123291; 691200, 4123294; 691200, 4123500; 691110, 4123679; 691126, 4123677; 691149, 4123682; 691156, 4123694; 691166, 4123718; 691177, 4123739; 691191, 4123771; 691193, 4123793; 691200, 4123800; 691195, 4123810; 691201, 4123850; 691215, 4123892; 691220, 4123942; 691214, 4123980; 691192, 4124020; 691171, 4124049; 691150, 4124072; 691127, 4124089; 691099, 4124095; 691071, 4124095; 691055, 4124090; 690900, 4124400; 690559, 4124400; 690559, 4124402; 690569, 4124417; 690582, 4124427; 690582, 4124447; 690576, 4124466; 690563, 4124483; 690546, 4124493; 690525, 4124502; 690523, 4124502; 690523, 4124519; 690500, 4124524; 690475, 4124530; 690469, 4124538; 690445, 4124570; 690388, 4124590; 690353, 4124592; 690180, 4124650; 690127, 4124689; 690083, 4124695; 690025, 4124783; 690020, 4124854; 689996, 4124900; 689988, 4125006; 689952, 4125056; 689912, 4125095; 689856, 4125119; 689819, 4125184; 689788, 4125210; 689747, 4125229; 689700, 4125300; 689658, 4125595; 689665, 4125595; 689672, 4125603; 689645, 4125757; 689630, 4125793; 689600, 4126000; 689700, 4126200; 689600, 4126600; 689400, 4126600; 689275, 4126538; 689239, 4126581; 689188, 4126664; 689134, 4126678; 689121, 4126682; 689069, 4126728; 689067, 4126852; 689020, 4126961; 688990, 4126993; 688911, 4126978; 688903, 4126995; 688913, 4127006; 689100, 4127100; 689024, 4127195; 689025, 4127207; 688949, 4127292; 688931, 4127324; 688922, 4127322; 688854, 4127407; 688823, 4127454; 688780, 4127503; 688735, 4127581; 688723, 4127621; 688696, 4127650; 688684, 4128244; 688193, 4128235; 688100, 4128700; returning to 688300, 4129000.

(ii) Unit 7B: Merced County, California. From USGS 1:24,000 topographic quadrangles Stevinson, San Luis Ranch. Land bounded by the following UTM Zone 10, NAD 83 coordinates (E,N): 695400, 4125600; 695500, 4122000; 694900, 4122400; 694700, 4122700; 694500, 4122900; 694500, 4123100; 694100, 4123400; 693800, 4123500; 693800, 4123800; 693500, 4123900; 693500, 4124500; 693700, 4124700; 693800, 4125000; 693600, 4125200; 693400, 4125300; 693122, 4125670; 693100, 4125700; 693146, 4125746; 693200, 4125800; 693700, 4125900; 693700, 4127300; 693800, 4127300; 693900, 4127000; 694200, 4126900; 694600, 4126400; 694600, 4126200; 694700, 4126000; 695179, 4125726; returning to 695400, 4125600.

(iii) Unit 7C: Merced County, California. From USGS 1:24,000 topographic quadrangles Stevinson, Arena, San Luis Ranch, Turner Ranch: Land bounded by the following UTM Zone 10, NAD 83 coordinates (E,N): 699300, 4126300; 699300, 4125400; 700100, 4125400; 700200, 4126000; 700600, 4125700; 701100, 4125300; 701100, 4124300; 700300, 4124300; 700300, 4123800; 700500, 4123800; 700600, 4123500; 701100, 4123400; 701200, 4123200; 701400, 4123100; 701600, 4122700; 701900, 4122500; 702600, 4122200; 702870, 4121705; 703200, 4121100; 703900, 4120500; 704600, 4119800; 704600, 4119800; 704700, 4119700; 698900, 4119600; 698800, 4119700; 698543, 4119957; 698558, 4119970; 698501, 4120012; 698504, 4120069; 698626, 4120197; 698662, 4120077; 698694, 4120113; 698668, 4121116; 698663, 4121510; 698594, 4121508; 698600, 4121600; 699900, 4121600; 700000, 4120400; 700200, 4120400; 700200, 4122700; 697000, 4122600; 696900, 4125100; 697700, 4125100; 697700, 4125300; 697600, 4125400; 697700, 4125600; 698000, 4125700; 698200, 4125800; 698300, 4126100; 698700, 4126500; 699500, 4126500; 699600, 4126300; returning to 699300, 4126300.

(iv) Unit 7D: Merced County, California. From USGS 1:24,000 scale quadrangles Arena, Turner Ranch. Land bounded by the following UTM Zone 10, NAD 83 coordinates (E,N): 706700, 4122100; 706800, 4120900; 706700, 4120500; 706700, 4119700; 708100, 4119700; 708100, 4119600; 708000, 4119500; 707900, 4119200; 707900, 4119000; 708000, 4118900; 708300, 4118900; 708300, 4118100; 707900, 4118100; 707500, 4118500; 706500, 4118500; 706000, 4118900; 705600, 4119300; 705200, 4119700; 704800, 4120000; 704700, 4120100; 704700, 4120400; 705100, 4120400; 705100, 4120600; 704900, 4120700; 704900, 4120800; 705100, 4120800; 704900, 4121000; 705000, 4121100; 705100, 4121700; 705200, 4121700; 705300, 4122000; 705700, 4122100; 705700, 4122200; 705400, 4122300; 705300, 4122400; 705500, 4122600; 705400, 4122600; 705300, 4122500; 705200, 4122500; 705100, 4122500; 704900, 4122500; 704900, 4122700; 704800, 4122800; 704500, 4122800; 704300, 4122900; 704000, 4122800; 703900, 4122900; 703400, 4124400; 703300, 4124600; 701300, 4126500; 700100, 4127600; 700467, 4129067; 700500, 4129200; 700500, 4130600; 701000, 4130600; 701000, 4130100; 701100, 4129800; 701200, 4129800; 701100, 4130100; 701100, 4130600; 701700, 4130600; 701700, 4129200; 701800, 4129200; 702800, 4129200; 703000, 4128800; 703300, 4128800; 703900, 4128800; 703900, 4129000; 704200, 4129000; 704200, 4128500; 703300, 4128400; 703400, 4128300; 703400, 4127900; 703500, 4127800; 703800, 4127500; 703700, 4127300; 703500, 4127300; 703400, 4127100; 703400, 4126100; 703500, 4126100; 704400, 4126100; 704300, 4126000; 704400, 4125900; 704500, 4125300; 704500, 4124800; 705000, 4124800; 705000, 4125300; 705700, 4125300; 705700, 4124900; 706600, 4125000; 706700, 4123700; returning to 706700, 4122100.

(v) Unit 7E: Merced County, California. From USGS 1:24,000 scale quadrangles Turner Ranch, Sandy Mush. Land bounded by the following UTM Zone 10, NAD 83 coordinates (E,N): 706700, 4122100; 711500, 4122200; 711500, 4121700; 711500, 4121200; 709900, 4121300; 709900, 4121900; 709800, 4121900; 709800, 4121800; 709700, 4121500; 709500, 4121500; 709300, 4121600; 708800, 4121400; 708700, 4121300; 706800, 4121300; returning to 706700, 4122100.

(vi) Unit 7F: Merced County, California. From USGS 1:24,000 scale quadrangles Turner Ranch, Sandy Mush. Land bounded by the following UTM Zone 10, NAD 83 coordinates (E,N): 711200, 4120500; 711400, 4120400; 711500, 4120500; 711600, 4119600; 711900, 4119600; 711900, 4119400; 712100, 4119300; 712300, 4119300; 712300, 4119200; 712600, 4119200; 712800, 4118800; 711600, 4118700; 711600, 4118500; 711400, 4118500; 711300, 4118400; 711100, 4118100; 709900, 4118100; 709900, 4118800; 709900, 4119000; 709700, 4119000; 709700, 4119600; 710300, 4119600; 710300, 4119900; 710700, 4119900; 710700, 4120000; 710600, 4120000; 710600, 4120100; 710700, 4120200; 710600, 4120300; 710700, 4120400; 710700, 4120500; 710900, 4120400; 711100, 4120400; returning to 711200, 4120500.

(vii) Note: Unit 7 (Map 5) follows:

BILLING CODE 4310-55-P

BILLING CODE 4310-55-C

(12) Unit 8: Ventura County, California. From USGS 1:24,000 scale quadrangles San Guillermo, Lockwood Valley, Alamo Mountain, Lion Canyon, Topatopa Mountains. Land bounded by the following UTM Zone 10, NAD 83 coordinates (E,N): 864689, 3849170; 865272, 3847801; 866149, 3846550; 867028, 3843593; 867093, 3842494; 867037, 3842150; 866579, 3839353; 865815, 3838706; 865267, 3839476; 864068, 3839404; 863282, 3837452; 861766, 3835957; 860385, 3835574; 859656, 3836032; 858662, 3835872; 857481, 3835501; 856246, 3836030; 854941, 3836052; 853594, 3836774; 852265, 3837196; 851706, 3838166; 850507, 3838094; 849284, 3838422; 848261, 3838762; 847708, 3839632; 847788, 3841642; 849375, 3841937; 851020, 3842938; 851266, 3843856; 853063, 3845668; 853362, 3847390; 854407, 3848355; 855307, 3848409; 857217, 3848323; 859016, 3848430; 859968, 3849289; 861343, 3849773; 862794, 3850662; 863971, 3849428; returning to 864689, 3849170.

(13) Note: Unit 8 (Map 6) follows:

BILLING CODE 4310-55-P

BILLING CODE 4310-55-C

Longhorn Fairy Shrimp (Branchinecta longiantenna)

(1) Critical habitat units are depicted for Alameda, Contra Costa, Merced, and San Luis Obispo Counties, California, on the map below.

(2) The primary constituent elements of critical habitat for longhorn fairy shrimp (Branchinecta longiantenna) are the habitat components that provide:

(i) Topographic features characterized by mounds and swales and depressions within a matrix of surrounding uplands that result in complexes of continuously, or intermittently, flowing surface water in the swales connecting the pools described below in paragraph (2)(ii), providing for dispersal and promoting hydroperiods of adequate length in the pools;

(ii) Depressional features including isolated vernal pools with underlying restrictive soil layers that become inundated during winter rains and that continuously hold water for a minimum of 23 days, in all but the driest years; thereby providing adequate water for incubation, maturation, and reproduction. As these features are inundated on a seasonal basis, they do not promote the development of obligate wetland vegetation habitats typical of permanently flooded emergent wetlands;

(iii) Sources of food, expected to be detritus occurring in the pools, contributed by overland flow from the pools' watershed, or the results of biological processes within the pools themselves, such as single-celled bacteria, algae, and dead organic matter, to provide for feeding; and

(iv) Structure within the pools described above in paragraph (2)(ii), consisting of organic and inorganic materials, such as living and dead plants from plant species adapted to seasonally inundated environments, rocks, and other inorganic debris that may be washed, blown, or otherwise transported into the pools, that provide shelter.

(3) Existing manmade features and structures, such as buildings, roads, railroads, airports, runways, other paved areas, lawns, and other urban landscaped areas do not contain one or more of the primary constituent elements. Federal actions limited to those areas, therefore, would not trigger a consultation under section 7 of the Act unless they may affect the species and/or primary constituent elements in adjacent critical habitat.

(4) Unit 1: Contra Costa County.

(i) Unit 1A: Contra Costa County. USGS 24,000 topographic quad Byron Hot Springs: Land bounded by the following UTM Zone 10, NAD 83 coordinates (E,N): 614800, 4185400; 615100, 4185200; 615100, 4185500; 615300, 4185500; 615400, 4185200; 615600, 4184900; 615800, 4184900; 616000, 4184800; 616000, 4184700; 615800, 4184500; 615700, 4184500; 615500, 4184200; 615100, 4184200; 614800, 4184200; 614700, 4184000; 614600, 4184000; 614600, 4184500; 614900, 4185000; 614600, 4185300; 614600, 4185900; 614700, 4185900; returning to 614800, 4185400.

(ii) Unit 1B: Alameda County. USGS 24,000 topographic quad Byron Hot Springs: Land bounded by the following UTM Zone 10, NAD 83 coordinates (E,N): 615500, 4181200; 615500, 4181100; 615600, 4181100; 615700, 4181300; 615800, 4181200; 616000, 4180600; 616000, 4180500; 616200, 4180200; 616200, 4179900; 615900, 4179900; 615900, 4179700; 616200, 4179500; 616200, 4179000; 616100, 4179000; 615900, 4179200; 615900, 4179400; 615700, 4179600; 615500, 4180100; 615100, 4180500; 614800, 4180800; 614400, 4180900; 614100, 4181100; 614600, 4181500; 614700, 4181500; 614700, 4181700; 614900, 4181700; 615200, 4181400; 615400, 4181300; returning to 615500, 4181200.

(iii) Note: Unit 1 (Map 1) follows:

BILLING CODE 4310-55-P

BILLING CODE 4310-55-C

(5) Unit 2: Merced County. USGS 24,000 topographic quads Gustine, Stevinson, San Luis Ranch: Land bounded by the following UTM Zone 10, NAD 83 coordinates (E,N): 688300, 4129000; 688600, 4128800; 689100, 4128900; 689200, 4128800; 689400, 4128600; 689800, 4128500; 689900, 4128300; 690200, 4128300; 690400, 4128200; 690500, 4128000; 690600, 4125500; 692700, 4125500; 693200, 4125000; 693100, 4124800; 693100, 4124400; 693300, 4123700; 693600, 4123400; 693800, 4123000; 694000, 4122900; 694079, 4122821; 694035, 4122790; 692453, 4121671; 692300, 4121900; 692200, 4122000; 692200, 4122500; 692100, 4122700; 691800, 4122800; 691400, 4122800; 691261, 4123079; 691262, 4123097; 691263, 4123113; 691267, 4123155; 691273, 4123198; 691267, 4123238; 691248, 4123272; 691217, 4123291; 691200, 4123294; 691200, 4123500; 691110, 4123679; 691126, 4123677; 691149, 4123682; 691156, 4123694; 691166, 4123718; 691177, 4123739; 691191, 4123771; 691193, 4123793; 691200, 4123800; 691195, 4123810; 691201, 4123850; 691215, 4123892; 691220, 4123942; 691214, 4123980; 691192, 4124020; 691171, 4124049; 691150, 4124072; 691127, 4124089; 691099, 4124095; 691071, 4124095; 691055, 4124090; 690900, 4124400; 690559, 4124400; 690559, 4124402; 690569, 4124417; 690582, 4124427; 690582, 4124447; 690576, 4124466; 690563, 4124483; 690546, 4124493; 690525, 4124502; 690523, 4124502; 690523, 4124519; 690500, 4124524; 690475, 4124530; 690469, 4124538; 690445, 4124570; 690388, 4124590; 690353, 4124592; 690180, 4124650; 690127, 4124689; 690083, 4124695; 690025, 4124783; 690020, 4124854; 689996, 4124900; 689988, 4125006; 689952, 4125056; 689912, 4125095; 689856, 4125119; 689819, 4125184; 689788, 4125210; 689747, 4125229; 689700, 4125300; 689658, 4125595; 689665, 4125595; 689672, 4125603; 689645, 4125757; 689630, 4125793; 689600, 4126000; 689700, 4126200; 689600, 4126600; 689400, 4126600; 689275, 4126538; 689239, 4126581; 689188, 4126664; 689134, 4126678; 689121, 4126682; 689069, 4126728; 689067, 4126852; 689020, 4126961; 688990, 4126993; 688911, 4126978; 688903, 4126995; 688913, 4127006; 689100, 4127100; 689024, 4127195; 689025, 4127207; 688949, 4127292; 688931, 4127324; 688922, 4127322; 688854, 4127407; 688823, 4127454; 688780, 4127503; 688735, 4127581; 688723, 4127621; 688696, 4127650; 688684, 4128244; 688193, 4128235; 688100, 4128700; returning to 688300, 4129000.

(6) Note: Unit 2 (Map 2) follows:

BILLING CODE 4310-55-P

BILLING CODE 4310-55-C

(7) Unit 3: San Luis Obispo County. USGS 24,000 topographic quads Simmler: Land bounded by the following UTM Zone 10, NAD 83 coordinates (E,N): 774375, 3914002; 777312, 3913479; 778710, 3913564; 779726, 3913325; 780573, 3912575; 780827, 3911688; 779496, 3910506; 779321, 3910094; 780960, 3909492; 781390, 3909017; 782948, 3908110; 783520, 3906942; 783765, 3906725; 783760, 3906724; 782946, 3906690; 782936, 3906690; 782156, 3906654; 782132, 3906653; 782082, 3908301; 780768, 3908263; 780485, 3908255; 780490, 3908031; 780522, 3906619; 779393, 3906593; 777627, 3906558; 777613, 3906978; 777456, 3906974; 777388, 3907272; 777578, 3909087; 777442, 3909680; 774998, 3910333; 772742, 3911198; 772708, 3913400; 773483, 3913848; returning to 774375, 3914002.

(8) Note: Unit 3 (Map 3) follows:

BILLING CODE 4310-55-P

BILLING CODE 4310-55-C

Vernal Pool Fairy Shrimp (Branchinecta lynchi)

(1) Critical habitat units are depicted for Jackson County, Oregon, and Alameda, Amador, Butte, Contra Costa, Fresno, Kings, Madera, Mariposa, Merced, Monterey, Napa, Placer, Sacramento, San Benito, San Joaquin, San Luis Obispo, Santa Barbara, Shasta, Solano, Stanislaus, Tehama, Tulare, Ventura, and Yuba Counties, California on the map below:

(2) The primary constituent elements of critical habitat for vernal pool fairy shrimp (Branchinecta lynchi) are the habitat components that provide:

(i) Topographic features characterized by mounds and swales and depressions within a matrix of surrounding uplands that result in complexes of continuously, or intermittently, flowing surface water in the swales connecting the pools described below in paragraph (2)(ii), providing for dispersal and promoting hydroperiods of adequate length in the pools;

(ii) Depressional features including isolated vernal pools with underlying restrictive soil layers that become inundated during winter rains and that continuously hold water for a minimum of 18 days, in all but the driest years; thereby providing adequate water for incubation, maturation, and reproduction. As these features are inundated on a seasonal basis, they do not promote the development of obligate wetland vegetation habitats typical of permanently flooded emergent wetlands;

(iii) Sources of food, expected to be detritus occurring in the pools, contributed by overland flow from the pools' watershed, or the results of biological processes within the pools themselves, such as single-celled bacteria, algae, and dead organic matter, to provide for feeding; and

(iv) Structure within the pools described above in paragraph (3)(ii), consisting of organic and inorganic materials, such as living and dead plants from plant species adapted to seasonally inundated environments, rocks, and other inorganic debris that may be washed, blown, or otherwise transported into the pools, that provide shelter.

(3) Existing manmade features and structures, such as buildings, roads, railroads, airports, runways, other paved areas, lawns, and other urban landscaped areas do not contain one or more of the primary constituent elements. Federal actions limited to those areas, therefore, would not trigger a consultation under section 7 of the Act unless they may affect the species and/or primary constituent elements in adjacent critical habitat.

(4) Unit 1: Jackson County, Oregon

(i) Unit 1A: Jackson County, Oregon. From USGS 1:24,000 scale quadrangle Shady Grove. Land bounded by the following UTM Zone 10, NAD 83 coordinates (E,N): 514300, 4710800; 514300, 4710300; 514100, 4710300; 514100, 4709900; 513900, 4709900; 513900, 4709700; 513600, 4709700; 513600, 4709800; 513500, 4709800; 513500, 4710000; 513700, 4710000; 513700, 4710300; 513200, 4710300; 513200, 4710600; 513100, 4710600; 513100, 4710800; returning to 514300, 4710800;

(ii) Unit 1B: Jackson County, Oregon. From USGS 1:24,000 scale quadrangle Shady Grove. Land bounded by the following UTM Zone 10, NAD 83 coordinates (E,N): 514100, 4707500; 514100, 4707300; 514000, 4707300; 514000, 4707200; 513900, 4707200; 513900, 4707000; 513600, 4707000; 513600, 4707300; 513700, 4707300; 513700, 4707400; 513800, 4707400; 513800, 4707500; 513400, 4707500; 513400, 4708000; 514700, 4708000; 514700, 4707700; 514600, 4707700; 514600, 4707600; 514200, 4707600; 514200, 4707500; returning to 514100, 4707500;

(iii) Unit 1C: Jackson County, Oregon. From USGS 1:24,000 scale quadrangle Shady Grove. Land bounded by the following UTM Zone 10, NAD 83 coordinates (E,N): 511800, 4707800; 511800, 4707300; 511900, 4707300; 511900, 4706800; 512000, 4706800; 512000, 4706600; 511800, 4706600; 511800, 4706700; 511300, 4706700; 511300, 4706800; 511200, 4706800; 511200, 4706900; 511100, 4706900; 511100, 4707000; 511000, 4707000; 511000, 4707200; 511100, 4707200; 511100, 4707300; 511200, 4707300; 511200, 4707400; 511100, 4707400; 511100, 4707500; 511200, 4707500; 511200, 4707600; 511400, 4707600; 511400, 4707700; 511600, 4707700; 511600, 4707800; returning to 511800, 4707800.

(iv) Unit 1D: Jackson County, Oregon. From USGS 1:24,000 scale quadrangle Eagle Point. Land bounded by the following UTM Zone 10, NAD 83 coordinates (E,N): 515900, 4706700; 515900, 4706500; 516000, 4706500; 516000, 4706400; 516100, 4706400; 516100, 4706600; 516000, 4706600; 516000, 4706700; 515900, 4706700; 515900, 4707000; 516200, 4707000; 516200, 4706900; 516300, 4706900; 516300, 4706700; 516400, 4706700; 516400, 4706800; 516500, 4706800; 516500, 4707000; 516700, 4707000; 516700, 4706900; 516900, 4706900; 516900, 4707000; 517000, 4707000; 517000, 4707100; 517100, 4707100; 517100, 4706900; 517400, 4706900; 517400, 4706700; 517300, 4706700; 517300, 4706500; 517200, 4706500; 517200, 4706400; 517100, 4706400; 517100, 4706300; 516700, 4706300; 516700, 4705600; 516500, 4705600; 516500, 4705500; 516600, 4705500; 516600, 4705400; 516700, 4705400; 516700, 4704800; 516600, 4704800; 516600, 4704600; 516300, 4704600; 516300, 4704500; 516400, 4704500; 516400, 4704400; 516500, 4704400; 516500, 4704300; 515800, 4704300; 515800, 4704600; 516000, 4704600; 516000, 4704700; 515500, 4704700; 515500, 4704800; 515400, 4704800; 515400, 4705100; 515500, 4705100; 515500, 4705200; 515700, 4705200; 515700, 4705300; 515800, 4705300; 515800, 4705900; 515700, 4705900; 515700, 4706200; 515600, 4706200; 515600, 4706400; 515500, 4706400; 515500, 4706500; 515100, 4706500; 515100, 4706700; 515000, 4706700; 515000, 4706900; 514700, 4706900; 514700, 4707000; 514600, 4707000; 514600, 4707200; 514700, 4707200; 514700, 4707300; 515000, 4707300; 515000, 4707200; 515100, 4707200; 515100, 4707100; 515200, 4707100; 515200, 4707000; 515300, 4707000; 515300, 4706800; 515400, 4706800; 515400, 4706700; 515500, 4706700; 515500, 4706600; 515600, 4706600; 515600, 4706700; returning to 515900, 4706700;

(v) Unit 1E: Jackson County, Oregon. From USGS 1:24,000 scale quadrangle Shady Grove. Land bounded by the following UTM Zone 10, NAD 83 coordinates (E,N):510800, 4707100; 510800, 4706900; 511000, 4706900; 511000, 4706500; 510700, 4706500; 510700, 4706300; 510500, 4706300; 510500, 4706000; 510400, 4706000; 510400, 4706100; 510300, 4706100; 510300, 4706300; 510100, 4706300; 510100, 4706400; 510000, 4706400; 510000, 4706500; 509800, 4706500; 509800, 4706700; 510000, 4706700; 510000, 4706900; 510100, 4706900; 510100, 4707000; 510200, 4707000; 510200, 4706900; 510500, 4706900; 510500, 4707000; 510600, 4707000; 510600, 4707100; returning to 510800, 4707100.

(vi) Unit 1F: Jackson County, Oregon. From USGS 1:24,000 scale quadrangle Shady Grove. Land bounded by the following UTM Zone 10, NAD 83 coordinates (E,N): 511300, 4706000; 511300, 4705900; 511500, 4705900; 511500, 4705100; 511400, 4705100; 511400, 4704800; 511200, 4704800; 511200, 4705000; 511000, 4705000; 511000, 4705200; 510900, 4705200; 510900, 4705300; 510800, 4705300; 510800, 4705900; 511000, 4705900; 511000, 4706000; 511300, 4706000; excluding 511200, 4705500; 511200, 4705300; 511300, 4705300; 511300, 4705500; returning to 511200, 4705500;

(vii) Unit 1G: Jackson County, Oregon. From USGS 1:24,000 scale quadrangle Eagle Point. Land bounded by the following UTM Zone 10, NAD 83 coordinates (E,N): 517600, 4705100; 517600, 4705000; 517800, 4705000; 517800, 4704900; 517900, 4704900; 517900, 4704800; 519100, 4704800; 519100, 4704700; 519300, 4704700; 519300, 4704600; 519400, 4704600; 519400, 4704300; 519100, 4704300; 519100, 4704200; 518600, 4704200; 518600, 4704100; 517900, 4704100; 517900, 4704200; 517700, 4704200; 517700, 4704000; 517200, 4704000; 517200, 4704100; 517100, 4704100; 517100, 4704300; 517000, 4704300; 517000, 4704700; 516900, 4704700; 516900, 4704900; 517000, 4704900; 517000, 4705000; 517100, 4705000; 517100, 4705100; returning to 517600, 4705100

(5) Unit 2: Jackson County, Oregon.

(i) Unit 2A: Jackson County, Oregon. From USGS 1:24,000 scale quadrangle Eagle Point. Land bounded by the following UTM Zone 10, NAD 83 coordinates (E,N): 514200, 4699200; 514200, 4698800; 514300, 4698800; 514300, 4698900; 514400, 4698900; 514400, 4699000; 514900, 4699000; 514900, 4698900; 515100, 4698900; 515100, 4699100; 515200, 4699100; 515200, 4699000; 515500, 4699000; 515500, 4698800; 515600, 4698800; 515600, 4699000; 515700, 4699000; 515700, 4698900; 515800, 4698900; 515800, 4698500; 515500, 4698500; 515500, 4698700; 515400, 4698700; 515400, 4698600; 515300, 4698600; 515300, 4698500; 515100, 4698500; 515100, 4698600; 514900, 4698600; 514900, 4698500; 514400, 4698500; 514400, 4698600; 514300, 4698600; 514300, 4698400; 513400, 4698400; 513400, 4698500; 513300, 4698500; 513300, 4698600; 513400, 4698600; 513400, 4698700; 513500, 4698700; 513500, 4698800; 513700, 4698800; 513700, 4699000; 513800, 4699000; 513800, 4699100; 513900, 4699100; 513900, 4699200; returning to 514200, 4699200.

(ii) Unit 2B: Jackson County, Oregon. From USGS 1:24,000 scale quadrangle Eagle Point. Land bounded by the following UTM Zone 10, NAD 83 coordinates (E,N): 517300, 4698400; 517300, 4698300; 517500, 4698300; 517500, 4698200; 517600, 4698200; 517600, 4698300; 517900, 4698300; 517900, 4697800; 518500, 4697800; 518500, 4697700; 518600, 4697700; 518600, 4697600; 518800, 4697600; 518800, 4697700; 519100, 4697700; 519100, 4697600; 519300, 4697600; 519300, 4697500; 519400, 4697500; 519400, 4697400; 519500, 4697400; 519500, 4697300; 519700, 4697300; 519700, 4697200; 519800, 4697200; 519800, 4697100; 520000, 4697100; 520000, 4696800; 519900, 4696800; 519900, 4696700; 520400, 4696700; 520400, 4696600; 520500, 4696600; 520500, 4696300; 520400, 4696300; 520400, 4696100; 520500, 4696100; 520500, 4696200; 520600, 4696200; 520600, 4696100; 520700, 4696100; 520700, 4695900; 520600, 4695900; 520600, 4695800; 520500, 4695800; 520500, 4695500; 520700, 4695500; 520700, 4695400; 520800, 4695400; 520800, 4694400; 520700, 4694400; 520700, 4694500; 520500, 4694500; 520500, 4694600; 520400, 4694600; 520400, 4694700; 520300, 4694700; 520300, 4694800; 519900, 4694800; 519900, 4694900; 519500, 4694900; 519500, 4695200; 519400, 4695200; 519400, 4695600; 519300, 4695600; 519300, 4695800; 519200, 4695800; 519200, 4695900; 519100, 4695900; 519100, 4696000; 519000, 4696000; 519000, 4696200; 519300, 4696200; 519300, 4696300; 519100, 4696300; 519100, 4696400; 518900, 4696400; 518900, 4696500; 518800, 4696500; 518800, 4696400; 518600, 4696400; 518600, 4696700; 518500, 4696700; 518500, 4696800; 518400, 4696800; 518400, 4696900; 518300, 4696900; 518300, 4697000; 518200, 4697000; 518200, 4697100; 518100, 4697100; 518100, 4697200; 517600, 4697200; 517600, 4697300; 517300, 4697300; 517300, 4697400; 517100, 4697400; 517100, 4697600; 517000, 4697600; 517000, 4697800; 516900, 4697800; 516900, 4698400; returning to 517300, 4698400.

(iii) Unit 2C: Jackson County, Oregon. From USGS 1:24,000 scale quadrangle Eagle Point. Land bounded by the following UTM Zone 10, NAD 83 coordinates (E,N): 516100, 4697800; 516100, 4697400; 515000, 4697400; 515000, 4697800; 515200, 4697800; 515200, 4697700; 515300, 4697700; 515300, 4697800; returning to 516100, 4697800.

(iv) Unit 2D. Jackson County, Oregon. From USGS 1:24,000 scale quadrangle Eagle Point. Land bounded by the following UTM Zone 10, NAD 83 coordinates (E,N): 517000, 4697200; 517000, 4697100; 517200, 4697100; 517200, 4697000; 517300, 4697000; 517300, 4696900; 517400, 4696900; 517400, 4696600; 517200, 4696600; 517200, 4696700; 516800, 4696700; 516800, 4696600; 516300, 4696600; 516300, 4696500; 516200, 4696500; 516200, 4696200; 515900, 4696200; 515900, 4696900; 516100, 4696900; 516100, 4697000; 516500, 4697000; 516500, 4697100; 516800, 4697100; 516800, 4697200; returning to 517000, 4697200.

(v) Unit 2E: Jackson County, Oregon. From USGS 1:24,000 scale quadrangle Eagle Point. Land bounded by the following UTM Zone 10, NAD 83 coordinates (E,N): 515500, 4696600; 515500, 4696400; 515100, 4696400; 515100, 4696300; 515200, 4696300; 515200, 4695800; 515000, 4695800; 515000, 4695900; 514500, 4695900; 514500, 4695800; 514300, 4695800; 514300, 4695900; 514200, 4695900; 514200, 4696000; 514100, 4696000; 514100, 4695900; 514000, 4695900; 514000, 4695800; 513900, 4695800; 513900, 4695900; 513800, 4695900; 513800, 4696600; 513500, 4696600; 513500, 4696800; 515600, 4696800; 515600, 4696600; returning to 515500, 4696600; excluding 514500, 4696500; 514500, 4696400; 514300, 4696400; 514300, 4696500; 514200, 4696500; 514200, 4696400; 514100, 4696400; 514100, 4696300; 514700, 4696300; 514700, 4696500; returning to 514500, 4696500.

(6) Unit 3: Jackson County, Oregon.

(i) Unit 3A: Jackson County, Oregon. From USGS 1:24,000 scale quadrangle Eagle Point. Land bounded by the following UTM Zone 10, NAD 83 coordinates (E,N): 511600, 4698900; 511600, 4699000; 511400, 4699000; 511400, 4699100; 511100, 4699100; 511100, 4699200; 510700, 4699200; 510700, 4699300; 510600, 4699300; 510600, 4699500; 510900, 4699500; 510900, 4699600; 511200, 4699600; 511200, 4699700; 511300, 4699700; 511300, 4699900; 511400, 4699900; 511400, 4700000; 511500, 4700000; 511500, 4699900; 511600, 4699900; 511600, 4699800; 511700, 4699800; 511700, 4699900; 511900, 4699900; 511900, 4698900; returning to 511600, 4698900.

(ii) Unit 3B: Jackson County, Oregon. From USGS 1:24,000 scale quadrangle Eagle Point, Sams Valley. Land bounded by the following UTM Zone 10, NAD 83 coordinates (E,N): 511600, 4698900; 511600, 4698600; 511300, 4698600; 511300, 4698700; 511200, 4698700; 511200, 4698600; 511000, 4698600; 511000, 4698500; 510700, 4698500; 510700, 4698600; 510500, 4698600; 510500, 4698500; 509600, 4698500; 509600, 4698100; 509400, 4698100; 509400, 4698000; 509200, 4698000; 509200, 4697800; 509300, 4697800; 509300, 4697600; 509400, 4697600; 509400, 4697200; 509500, 4697200; 509500, 4697000; 510100, 4697000; 510100, 4697100; 511700, 4697100; 511700, 4697000; 511900, 4697000; 511900, 4696400; 510800, 4696400; 510800, 4696300; 510600, 4696300; 510600, 4696400; 510300, 4696400; 510300, 4696500; 509700, 4696500; 509700, 4696600; 509600, 4696600; 509600, 4696500; 508900, 4696500; 508900, 4696600; 508600, 4696600; 508600, 4696700; 508400, 4696700; 508400, 4696800; 508300, 4696800; 508300, 4696900; 508200, 4696900; 508200, 4697000; 508100, 4697000; 508100, 4697100; 508000, 4697100; 508000, 4697300; 508100, 4697300; 508100, 4697600; 508400, 4697600; 508400, 4697700; 508600, 4697700; 508600, 4697800; 508500, 4697800; 508500, 4698000; 508400, 4698000; 508400, 4698400; 508500, 4698400; 508500, 4698500; 508800, 4698500; 508800, 4698600; 508900, 4698600; 508900, 4698300; 509000, 4698300; 509000, 4698400; 509100, 4698400; 509100, 4698600; 509200, 4698600; 509200, 4698700; 509500, 4698700; 509500, 4698900; 509800, 4698900; 509800, 4699000; 510100, 4699000; 510100, 4699100; 511000, 4699100; 511000, 4699000; 511300, 4699000; 511300, 4698900; 511600, 4698900; excluding 508500, 4697300; 508500, 4697100; returning to 508600, 4697100; 508600, 4697300; 508500, 4697300; also excluding 508800, 4697800; 508800, 4697700; 509100, 4697700; 509100, 4697800; returning to 508800, 4697800;

(iii) Unit 3C: Jackson County, Oregon. From USGS 1:24,000 scale quadrangle Sams Valley. Land bounded by the following UTM Zone 10, NAD 83 coordinates (E,N): 506800, 4697600; 506800, 4697500; 506900, 4697500; 506900, 4697300; 506800, 4697300; 506800, 4697200; 506700, 4697200; 506700, 4696700; 507000, 4696700; 507000, 4697000; 506900, 4697000; 506900, 4697200; 507000, 4697200; 507000, 4697400; 507100, 4697400; 507100, 4697500; 507200, 4697500; 507200, 4697400; 507300, 4697400; 507300, 4697300; 507400, 4697300; 507400, 4697100; 507500, 4697100; 507500, 4697000; 507600, 4697000; 507600, 4696900; 507700, 4696900; 507700, 4696700; 507900, 4696700; 507900, 4696000; 508300, 4696000; 508300, 4695000; 507800, 4695000; 507800, 4695200; 507400, 4695200; 507400, 4695400; 506900, 4695400; 506900, 4695800; 506800, 4695800; 506800, 4695900; 506400, 4695900; 506400, 4695800; 505600, 4695800; 505600, 4696000; 505800, 4696000; 505800, 4696700; 506200, 4696700; 506200, 4696800; 506100, 4696800; 506100, 4697300; 506200, 4697300; 506200, 4697600; returning to 506800, 4697600.

(7) Unit 4: Jackson County, Oregon

(i) Unit 4A: Jackson County, Oregon. From USGS 1:24,000 scale quadrangle Sams Valley. Land bounded by the following UTM Zone 10, NAD 83 coordinates (E,N): 507200, 4703500; 507200, 4703400; 507300, 4703400; 507300, 4703300; 507800, 4703300; 507800, 4703200; 507900, 4703200; 507900, 4703100; 508000, 4703100; 508000, 4703000; 508100, 4703000; 508100, 4702900; 508200, 4702900; 508200, 4702800; 508300, 4702800; 508300, 4702700; 508400, 4702700; 508400, 4702500; 508500, 4702500; 508500, 4702300; 508600, 4702300; 508600, 4701900; 508800, 4701900; 508800, 4701500; 508700, 4701500; 508700, 4701400; 508600, 4701400; 508600, 4701300; 508400, 4701300; 508400, 4701500; 508300, 4701500; 508300, 4701900; 508200, 4701900; 508200, 4702000; 508100, 4702000; 508100, 4702100; 508000, 4702100; 508000, 4702200; 507900, 4702200; 507900, 4702300; 507800, 4702300; 507800, 4702400; 507700, 4702400; 507700, 4702500; 507600, 4702500; 507600, 4702400; 507500, 4702400; 507500, 4702300; 507300, 4702300; 507300, 4702200; 507400, 4702200; 507400, 4702100; 507600, 4702100; 507600, 4702000; 507700, 4702000; 507700, 4701800; 507800, 4701800; 507800, 4701700; 507900, 4701700; 507900, 4701400; 507700, 4701400; 507700, 4701500; 507600, 4701500; 507600, 4701600; 507300, 4701600; 507300, 4701700; 507100, 4701700; 507100, 4701800; 507000, 4701800; 507000, 4701900; 506900, 4701900; 506900, 4702000; 506800, 4702000; 506800, 4702200; 506700, 4702200; 506700, 4702400; 506600, 4702400; 506600, 4702500; 506500, 4702500; 506500, 4702700; 506600, 4702700; 506600, 4702900; 506700, 4702900; 506700, 4703100; 506800, 4703100; 506800, 4703400; 507000, 4703400; 507000, 4703500; returning to 507200, 4703500;

(ii) Unit 4B: Jackson County, Oregon. From USGS 1:24,000 scale quadrangle Sams Valley. Land bounded by the following UTM Zone 10, NAD 83 coordinates (E,N): 503800, 4700900; 503800, 4700800; 503900, 4700800; 503900, 4700700; 504000, 4700700; 504000, 4700600; 504300, 4700600; 504300, 4700500; 504400, 4700500; 504400, 4699500; 504200, 4699500; 504200, 4699200; 504100, 4699200; 504100, 4699100; 504000, 4699100; 504000, 4698900; 503800, 4698900; 503800, 4699000; 503700, 4699000; 503700, 4699400; 503800, 4699400; 503800, 4699800; 503700, 4699800; 503700, 4700900; returning to 503800, 4700900.

(iii) Note: Units 1-4 (Map 1) follow:

BILLING CODE 4310-55-P

BILLING CODE 4310-55-C

(8) Unit 5: Shasta County, California. From USGS 1:24,000 scale quadrangle Palo Cedro, Enterprise, Balls Ferry, Cottonwood. Land bounded by the following UTM Zone 10, NAD 83 coordinates (E,N): 562500, 4487400; 562700, 4487100; 562900, 4487200; 563200, 4487200; 563300, 4487000; 563300, 4486700; 563800, 4486400; 564300, 4484700; 564300, 4484400; 564500, 4484100; 564500, 4483800; 564600, 4483700; 564600, 4483400; 564400, 4483100; 564100, 4482800; 564100, 4482600; 564300, 4482600; 564300, 4482400; 564300, 4482300; 564200, 4482200; 564100, 4482100; 564000, 4482100; 564200, 4481800; 564200, 4480900; 563600, 4480900; 563300, 4481000; 563100, 4480900; 562900, 4480900; 562500, 4481200; 562400, 4481500; 562400, 4481700; 562300, 4482400; 562000, 4482500; 561900, 4482800; 561800, 4483300; 561500, 4483700; 561000, 4484000; 560700, 4485400; 560700, 4486500; 560800, 4486700; 561000, 4486900; 561200, 4487000; 561300, 4487600; 561600, 4487900; 562000, 4487900; returning to 562500, 4487400;

(9) Unit 6: Tehama County, California. From USGS 1:24,000 scale quadrangle Red Bluff East, Red Bluff West, Gerber, West of Gerber, Corning, Henleyville. Land bounded by the following UTM Zone 10, NAD 83 coordinates (E,N): 563400, 4444500; 563400, 4444400; 563500, 4444400; 563700, 4444400; 563800, 4443800; 564200, 4443800; 564300, 4443600; 564200, 4443400; 564100, 4443200; 564000, 4443200; 564000, 4443000; 564100, 4443000; 564100, 4442800; 564100, 4442700; 564100, 4442600; 564200, 4442600; 564300, 4442900; 564400, 4443100; 564400, 4443400; 564700, 4443400; 565200, 4443400; 565500, 4443300; 565800, 4442900; 566100, 4442900; 566200, 4442500; 566100, 4442400; 566100, 4442100; 565800, 4441900; 566000, 4441600; 566000, 4441500; 565400, 4441200; 565500, 4441000; 565400, 4440800; 565400, 4440200; 565400, 4439000; 566100, 4439000; 566100, 4439300; 566500, 4439900; 566400, 4440400; 566000, 4440600; 567500, 4441200; 567900, 4441200; 568673, 4440582; 568400, 4440400; 568300, 4439900; 568700, 4439100; 569500, 4439400; 569850, 4438750; 570194, 4438101; 569400, 4438200; 569000, 4438300; 568600, 4438400; 567800, 4438400; 567600, 4438400; 567400, 4438200; 567000, 4438100; 567000, 4438000; 566800, 4437700; 566800, 4437400; 566200, 4437400; 566200, 4438200; 565900, 4438400; 565400, 4438000; 564200, 4438000; 564200, 4437800; 563900, 4437800; 563600, 4437600; 563400, 4437400; 563400, 4436900; 563400, 4436600; 563200, 4436600; 563200, 4436200; 563200, 4435800; 563500, 4435800; 563700, 4436100; 564200, 4436400; 564500, 4436500; 564700, 4436500; 564900, 4436400; 564900, 4436200; 564800, 4435800; 565100, 4435800; 564800, 4435500; 564500, 4435500; 564400, 4435400; 564200, 4435200; 564100, 4435000; 563800, 4434900; 563600, 4434700; 563500, 4434500; 563400, 4434500; 563200, 4434200; 563600, 4434200; 563600, 4432600; 563700, 4432600; 563500, 4432100; 564500, 4431968; 564500, 4431500; 565400, 4431500; 565400, 4431400; 567000, 4431300; 567000, 4430700; 566800, 4430500; 567400, 4430500; 567500, 4429600; 566800, 4429600; 566300, 4429600; 566100, 4429700; 566100, 4429100; 566000, 4429200; 565800, 4429300; 565500, 4429200; 565300, 4429200; 565100, 4429000; 564600, 4429000; 564300, 4428700; 564000, 4428700; 563700, 4428500; 563700, 4428200; 564100, 4428200; 564600, 4428200; 565500, 4428300; 566600, 4428100; 566600, 4428000; 567000, 4428000; 567100, 4427900; 567300, 4427200; 566900, 4427200; 566100, 4426900; 566000, 4426700; 565500, 4426700; 565400, 4426600; 565297, 4426600; 565307, 4427383; 564276, 4427370; 564270, 4428012; 564280, 4428155; 563943, 4428136; 563688, 4428134; 563596, 4428131; 563607, 4427381; 563688, 4427377; 563689, 4426540; 563940, 4426553; 564800, 4426576; 564800, 4426200; 564800, 4425900; 563700, 4425800; 562600, 4425100; 562300, 4425000; 562100, 4425000; 562000, 4425000; 561800, 4424900; 561700, 4424800; 561600, 4424800; 561500, 4424800; 561300, 4424800; 561200, 4424800; 560900, 4424900; 560700, 4424900; 560400, 4425000; 560100, 4424900; 559800, 4424800; 559800, 4424500; 559700, 4424400; 559400, 4424300; 559300, 4424400; 559200, 4424500; 559100, 4424500; 558900, 4424700; 558700, 4424800; 558300, 4424800; 558100, 4424800; 557900, 4424600; 557700, 4424500; 557300, 4424300; 557000, 4424200; 556800, 4424100; 556600, 4424100; 556100, 4424000; 555900, 4424000; 555800, 4423900; 555800, 4423800; 555500, 4423800; 555400, 4423800; 555300, 4423700; 555200, 4423600; 555100, 4423600; 555000, 4423600; 554600, 4424900; 555100, 4425600; 557200, 4426300; 557800, 4426800; 558300, 4426500; 559500, 4428300; 558200, 4428200; 557800, 4428500; 557400, 4429300; 558000, 4429900; 558600, 4430000; 558600, 4431100; 560000, 4431600; 559200, 4431900; 558300, 4432000; 557400, 4432200; 557400, 4432600; 558400, 4433100; 558400, 4433600; 557800, 4433600; 557500, 4433800; 557300, 4434400; 555100, 4434800; 555100, 4435400; 557000, 4436200; 557900, 4439000; 557000, 4439000; 554600, 4437400; 553200, 4437000; 553200, 4437600; 554500, 4438100; 555400, 4439700; 556500, 4439800; 556500, 4441800; 558500, 4442600; 558500, 4443000; 557400, 4442900; 557000, 4443000; 556800, 4443400; 557500, 4444300; 558000, 4443700; 558400, 4443700; 559800, 4443900; 559800, 4443700; 559700, 4443500; 559700, 4443200; 559900, 4443400; 560000, 4443500; 560500, 4443500; 560700, 4443600; 561000, 4443700; 561700, 4443900; 562400, 4444000; 562500, 4444100; 562600, 4444100; 562600, 4444500; 562900, 4444500; returning to 563400, 4444500;

(10) Unit 7: Tehama County, California.

(i) Unit 7A: Tehama County, California. From USGS 1:24,000 scale quadrangle Acorn Hollow and Richardson Springs NW. Land bounded by the following UTM Zone 10, NAD 83 coordinates (E,N): 588739, 4429822; 588900, 4429500; 589500, 4429500; 589500, 4428600; 589500, 4428000; 589800, 4427100; 590500, 4426400; 590500, 4425300; 591200, 4424400; 591500, 4423300; 591562, 4422558; 590526, 4423686; 589986, 4424273; 589816, 4424458; 589129, 4425207; 588454, 4426221; 588425, 4426265; 588279, 4426485; 588213, 4426583; 588213, 4426584; 588600, 4429100; 588733, 4429833; returning to 588739, 4429822;

(ii) Unit 7B: Tehama County, California. From USGS 1:24,000 scale quadrangle Sloughhouse. Land bounded by the following UTM Zone 10, NAD 83 coordinates (E,N): 593700, 4420900; 593164, 4420815; 592329, 4421723; 592258, 4421800; 593000, 4421800; 593100, 4421500; 593500, 4421400; returning to 593700, 4420900;

(iii) Unit 7C: Tehama County, California. From USGS 1:24,000 scale quadrangle Richard Springs NW. Land bounded by the following UTM Zone 10, NAD 83 coordinates (E,N): 594500, 4420300; 593881, 4420035; 593371, 4420590; 594000, 4420800; 594400, 4420600; returning to 594500, 4420300;

(iv) Unit 7D: Tehama and Butte Counties, California. From USGS 1:24,000 scale quadrangle Campbell Mound, Richardson Springs, and Richardson Springs NW. Land bounded by the following UTM Zone 10, NAD 83 coordinates (E,N): 597100, 4416400; 597100, 4415600; 597044, 4415525; 596800, 4415200; 597100, 4415000; 597800, 4415500; 598100, 4415200; 597600, 4414600; 597600, 4414400; 597300, 4413800; 597300, 4413300; 598200, 4413900; 598400, 4413900; 598400, 4413600; 597422, 4411938; 597281, 4412382; 596959, 4413403; 596640, 4414416; 596620, 4414481; 596305, 4415484; 596303, 4415489; 596130, 4416040; 596091, 4416160; 596028, 4416358; 596011, 4416411; 595993, 4416465; 595982, 4416500; 596000, 4416500; 596100, 4416400; 596200, 4416500; 596300, 4416600; 596400, 4416700; 596500, 4416700; 596500, 4416800; 596600, 4416800; returning to 597100, 4416400.

(v) Unit 7E: Butte County, California. From USGS 1:24,000 scale quadrangle Richardson Springs. Land bounded by the following UTM Zone 10, NAD 83 coordinates (E,N): 598900, 4411800; 599400, 4411700; 599800, 4411700; 599800, 4411000; 599300, 4410700; 599100, 4410800; 599000, 4410800; 598800, 4410600; 598500, 4410400; 598300, 4410100; 598100, 4410000; 598070, 4409970; 598051, 4409993; 598038, 4410010; 598014, 4410083; 597806, 4410737; 597725, 4410990; 597461, 4411816; 597434, 4411900; 597600, 4411900; 598300, 4412700; 598500, 4413300; 598900, 4413300; returning to 598900, 4411800;

(vi) Unit 7F: Butte County, California, California. From USGS 1:24,000 scale quadrangle Richardson Springs. Land bounded by the following UTM Zone 10, NAD 83 coordinates (E,N): 599500, 4406200; 600300, 4406000; 601200, 4405600; 601800, 4405600; 602000, 4405500; 602200, 4405200; 602500, 4405200; 602700, 4404900; 603300, 4404700; 604500, 4404200; 605200, 4404200; 605600, 4404000; 605600, 4403600; 605100, 4403300; 604700, 4403400; 604500, 4403300; 604475, 4403175; 604400, 4403100; 604300, 4403100; 604200, 4403000; 604100, 4402900; 604000, 4402900; 603800, 4402800; 603800, 4402600; 603600, 4402400; 603400, 4402400; 603200, 4402500; 603100, 4402400; 602900, 4402400; 602900, 4402100; 602700, 4402100; 602300, 4402600; 602300, 4402700; 601800, 4403300; 601714, 4403300; 601553, 4403500; 601501, 4403499; 601465, 4403621; 601319, 4403663; 601226, 4403595; 601089, 4403571; 600979, 4403503; 600901, 4403569; 600860, 4403446; 600704, 4403566; 600542, 4403475; 600507, 4403530; 600473, 4403563; 600453, 4403580; 600369, 4403651; 600344, 4403642; 600232, 4403605; 599983, 4403679; 599973, 4403678; 599801, 4403662; 599725, 4403718; 599651, 4403697; 599493, 4403839; 599328, 4403862; 599302, 4403865; 599269, 4403870; 599084, 4403634; 599024, 4403611; 598987, 4404400; 598980, 4404543; 598971, 4404723; 598955, 4405388; 598953, 4405458; 598951, 4405529; 598947, 4405677; 598934, 4405719; 598919, 4405750; 599000, 4405800; 598900, 4406100; 598700, 4406000; 598694, 4406000; 598635, 4406058; 598598, 4406103; 598583, 4406127; 598567, 4406159; 598549, 4406210; 598544, 4406234; 598540, 4406255; 598533, 4406421; 598522, 4406815; 598516, 4407133; 598511, 4407496; 598513, 4407515; 598525, 4407568; 598527, 4407571; 598527, 4407589; 598580, 4407812; 598800, 4407900; 598900, 4408100; 599200, 4408400; 600200, 4408900; 600300, 4408800; 600300, 4408400; 600000, 4408100; 600400, 4407600; 599500, 4406700; returning to 599500, 4406200.

(11) Unit 8: Tehama and Glenn Counties, California. From USGS 1:24,000 scale quadrangle Kirkwood and Black Butte Dam. Land bounded by the following UTM Zone 10, NAD 83 coordinates (E,N): 572100, 4410900; 572100, 4410100; 571800, 4409600; 570500, 4409000; 570200, 4409000; 570200, 4409300; 569700, 4409300; 569700, 4409000; 569800, 4407700; 569900, 4407000; 569800, 4406100; 569800, 4405643; 569800, 4405500; 569400, 4405500; 569107, 4405647; 568600, 4405900; 568300, 4405900; 567809, 4405654; 567500, 4405500; 567200, 4405500; 565000, 4405500; 564769, 4405673; 564600, 4405800; 564100, 4405800; 563860, 4405680; 563700, 4405600; 563400, 4405400; 563214, 4405679; 563200, 4405700; 562800, 4405800; 561400, 4406200; 560900, 4406200; 560600, 4406300; 560500, 4406400; 560400, 4406600; 560400, 4406900; 560800, 4406900; 560800, 4407300; 561200, 4407300; 561200, 4411300; 565500, 4411300; 565500, 4410500; 568400, 4410500; 568400, 4410600; 568400, 4411400; 570500, 4411400; 570800, 4411700; 571400, 4411500; 571500, 4411000; returning to 572100, 4410900;

(12) Unit 9: Butte County, California. From USGS 1:24,000 scale quadrangle Chico. Land bounded by the following UTM Zone 10, NAD 83 coordinates (E,N): 605100, 4399600; 606500, 4399500; 606797, 4399330; 606777, 4399300; 606724, 4399252; 606568, 4399265; 606528, 4399272; 606479, 4399279; 606478, 4399279; 606394, 4399264; 606362, 4399238; 606329, 4399210; 606274, 4399169; 606209, 4399135; 606125, 4399122; 606060, 4399122; 605967, 4399131; 605899, 4399134; 605857, 4399134; 605822, 4399130; 605789, 4399116; 605781, 4399138; 605775, 4399149; 605764, 4399152; 605763, 4399152; 605701, 4399142; 605589, 4399116; 605504, 4399107; 605432, 4399110; 605319, 4399064; 605233, 4399045; 605173, 4399034; 605135, 4399023; 605134, 4399023; 605127, 4399023; 605109, 4399023; 605080, 4399025; 605063, 4399025; 605002, 4399051; 604957, 4399069; 604907, 4399092; 604029, 4399508; 603896, 4399435; 603886, 4399435; 603879, 4399436; 603300, 4399523; 603300, 4399600; 602900, 4399600; 603500, 4399800; 604700, 4400200; returning to 605100, 4399600.

(13) Note: Units 5-9 (Map 2) follow:

BILLING CODE 4310-55-P

BILLING CODE 4310-55-C

(14) Unit 10: Glenn and Colusa Counties, California. This unit was excluded from the designation pursuant to Section 4(b)(2) of the Act.

(15) Unit 11: Yuba County, California. From USGS 1:24,000 scale quadrangle Browns Valley and Wheatland. Land bounded by the following UTM Zone 10, NAD 83 coordinates (E,N): 635000, 4332200; 635000, 4329900; 634600, 4329900; 633800, 4329900; 633600, 4330100; 633500, 4330100; 633300, 4330100; 633300, 4330300; 632700, 4330100; 632400, 4329900; 632400, 4329000; 631300, 4329000; 631300, 4329200; 631600, 4329200; 631600, 4329800; 631900, 4329800; 631900, 4330600; 632800, 4330600; 633000, 4330900; 633000, 4331300; 633100, 4331500; 633500, 4331700; 633800, 4331500; 633800, 4332200; returning to 635000, 4332200.

(16) Unit 12: Placer County, California.

(i) Unit 12A: Placer County, California. From USGS 1:24,000 scale quadrangle Lincoln. Land bounded by the following UTM Zone 10, NAD 83 coordinates (E,N): 647900, 4313400; 647900, 4312700; 648000, 4312500; 647900, 4311500; 647700, 4311500; 647600, 4311300; 647300, 4311400; 646900, 4311400; 646900, 4311300; 647200, 4311300; 647500, 4311200; 647800, 4311200; 647900, 4311100; 647800, 4311000; 646900, 4311000; 646800, 4310900; 646800, 4310800; 647400, 4310800; 647500, 4310900; 647600, 4310800; 647800, 4310700; 648000, 4310700; 648000, 4310000; 648000, 4309700; 647200, 4309700; 647200, 4309200; 646700, 4309100; 646700, 4308800; 646600, 4308800; 646100, 4309100; 646100, 4308200; 646126, 4308174; 646012, 4308259; 645967, 4308294; 645917, 4308327; 645822, 4308387; 645337, 4308742; 645215, 4308841; 645100, 4308942; 644197, 4309858; 644195, 4309860; 644194, 4309862; 644149, 4309914; 643464, 4310618; 643700, 4310500; 644000, 4310900; 644300, 4310400; 645400, 4310400; 645800, 4310200; 646100, 4310200; 646300, 4310000; 647500, 4310000; 647500, 4310200; 646800, 4310200; 646500, 4310300; 646500, 4310600; 646600, 4310700; 646100, 4310700; 645900, 4310800; 645900, 4311200; 646100, 4311100; 646500, 4311100; 646500, 4311200; 646300, 4311200; 646300, 4311400; 646400, 4311700; 646800, 4311700; 646800, 4311900; 646800, 4312000; 646900, 4312100; 646800, 4312500; 647000, 4312600; 647100, 4312800; 647300, 4312800; 647400, 4312700; 647400, 4312800; 647300, 4312900; 647100, 4312900; 646800, 4312698; 646800, 4313000; 646900, 4313400; 647100, 4313800; 647300, 4314200; 648300, 4314200; 648300, 4313900; returning to 647900, 4313400;

(ii) Unit 12B: Placer County, California. From USGS 1:24,000 scale quadrangle Lincoln. Land bounded by the following UTM Zone 10, NAD 83 coordinates (E,N): 644400, 4306677; 644400, 4305900; 644700, 4305900; 644700, 4305400; 644800, 4305400; 644800, 4305200; 645100, 4305200; 645100, 4305100; 645200, 4305000; 645400, 4305100; 645526, 4305100; 645502, 4305086; 645456, 4305073; 645413, 4305069; 645405, 4305070; 645394, 4305065; 645377, 4305040; 645344, 4305023; 645314, 4305010; 645277, 4304988; 645258, 4304970; 645235, 4304941; 645228, 4304937; 645208, 4304916; 645145, 4304856; 645068, 4304806; 644987, 4304762; 644904, 4304734; 644828, 4304731; 644796, 4304732; 644778, 4304737; 644764, 4304744; 644764, 4304742; 644744, 4304744; 644707, 4304725; 644667, 4304698; 644626, 4304669; 644600, 4304649; 644575, 4304634; 644563, 4304634; 644560, 4304636; 644554, 4304639; 644540, 4304653; 644526, 4304663; 644515, 4304656; 644483, 4304652; 644439, 4304646; 644388, 4304643; 644357, 4304642; 644327, 4304640; 644316, 4304635; 644300, 4304631; 644300, 4304900; 644100, 4304900; 644100, 4305000; 644000, 4305000; 644000, 4306669; returning to 644400, 4306677.

(iii) Note: Units 11-12 (Map 3) follow:

BILLING CODE 4310-55-P

BILLING CODE 4310-55-C

(17) Unit 13: Sacramento County, California. From USGS 1:24,000 scale quadrangle Carmichael. Land bounded by the following UTM Zone 10, NAD 83 coordinates (E,N): 649800, 4269600; 649800, 4268700; 650400, 4268900; 650800, 4268800; 651000, 4268800; 651000, 4269400; 651800, 4269300; 651500, 4268800; 651600, 4267900; 651600, 4266500; 651500, 4266400; 651500, 4266300; 651100, 4266300; 651100, 4266000; 651570, 4265812; 651589, 4265075; 651600, 4264400; 651400, 4264400; 651400, 4264200; 650500, 4264200; 650500, 4264300; 650400, 4264300; 650400, 4264600; 650000, 4264700; 649900, 4265100; 649400, 4265100; 649100, 4265000; 648900, 4265100; 648700, 4265100; 648700, 4265300; 648700, 4265500; 649900, 4265500; 649900, 4266000; 648300, 4266000; 648300, 4266200; 648500, 4266400; 648700, 4266200; 649000, 4266200; 649300, 4266400; 649400, 4266600; 649635, 4266678; 649700, 4266700; 649794, 4266693; 650200, 4267100; 650400, 4267000; 650600, 4267000; 650800, 4267200; 650900, 4267500; 650800, 4267900; 650500, 4267800; 650300, 4268100; 649900, 4268400; 649400, 4268100; 649100, 4267800; 649100, 4267500; 649400, 4267400; 649200, 4267100; 648400, 4267100; 648300, 4267700; 648000, 4268000; 648600, 4268500; 649400, 4268900; 649400, 4269200; 649600, 4269600; returning to 649800, 4269600.

(18) Unit 14: Sacramento and Amador County, California.

(i) Unit 14A: Sacramento and Amador County, California. From USGS 1:24,000 scale quadrangle Carbondale, Sloughhouse, Goose Creek, and Clay. Land bounded by the following UTM Zone 10, NAD 83 coordinates (E,N): 673200, 4256400; 672800, 4255100; 672800, 4254800; 673100, 4254900; 673800, 4254900; 674000, 4254600; 674000, 4254400; 674500, 4254000; 674500, 4253700; 674100, 4253500; 674100, 4252900; 674300, 4252300; 674500, 4251900; 674500, 4251600; 673400, 4251500; 673300, 4251400; 673300, 4251200; 673900, 4251000; 674000, 4250500; 674300, 4250000; 674300, 4249800; 674200, 4249700; 673900, 4249700; 673600, 4249900; 672500, 4249900; 672315, 4249992; 671900, 4250200; 671300, 4250200; 671100, 4250500; 671000, 4250500; 671000, 4249800; 670700, 4249800; 670700, 4249500; 670800, 4249300; 670800, 4249000; 670900, 4248900; 670900, 4248500; 670500, 4248300; 670500, 4248125; 670400, 4248100; 670400, 4248000; 670100, 4248000; 670100, 4247800; 670500, 4247500; 671100, 4247500; 671600, 4247700; 671800, 4247600; 671900, 4247300; 671900, 4247100; 671500, 4246800; 671600, 4246600; 671800, 4246000; 671800, 4246000; 671255, 4245364; 670800, 4245000; 670000, 4244200; 670000, 4244100; 670500, 4243800; 670200, 4243400; 670200, 4243300; 670300, 4243200; 670400, 4243100; 670600, 4242600; 671200, 4242900; 671600, 4243000; 671600, 4242700; 670700, 4242100; 669800, 4242100; 669300, 4241900; 668900, 4241900; 668700, 4241800; 668500, 4241600; 668400, 4241600; 668200, 4241700; 668000, 4242000; 667900, 4242000; 667400, 4241600; 667400, 4241800; 666400, 4241700; 665400, 4241700; 665400, 4242700; 665000, 4242700; 665000, 4242300; 664800, 4242300; 664800, 4242200; 664700, 4242200; 664600, 4242100; 664500, 4242100; 664500, 4241300; 664000, 4241300; 664000, 4241000; 663500, 4241000; 663500, 4240900; 663400, 4240800; 663300, 4240800; 663300, 4240600; 663100, 4240600; 663100, 4240900; 662800, 4240900; 662800, 4240500; 662700, 4240400; 662700, 4240000; 662500, 4240000; 662500, 4239600; 662100, 4239600; 662100, 4239400; 662000, 4239300; 661700, 4239300; 661700, 4239200; 661400, 4239000; 661400, 4239900; 661500, 4239900; 661500, 4241600; 661500, 4241900; 661700, 4242000; 662200, 4242000; 662200, 4241600; 662900, 4241600; 662800, 4242300; 662500, 4242300; 662600, 4243000; 662900, 4243100; 663400, 4243100; 663400, 4243800; 663050, 4243800; 663029, 4243841; 663000, 4243900; 662500, 4243900; 662700, 4244700; 662850, 4244800; 663000, 4244900; 663100, 4245300; 663800, 4245300; 663900, 4245500; 664400, 4245600; 664500, 4245200; 664600, 4245200; 664750, 4245238; 664900, 4245275; 665000, 4245300; 664900, 4245700; 664900, 4246500; 664400, 4246500; 663900, 4246700; 662500, 4246300; 662233, 4246300; 662100, 4246400; 661700, 4246400; 661900, 4247000; 662000, 4247300; 661800, 4247500; 660900, 4247500; 660900, 4247140; 660850, 4247100; 659700, 4247100; 659500, 4247300; 659500, 4248300; 660000, 4248300; 659900, 4249600; 660000, 4249900; 659900, 4250200; 659400, 4249700; 659400, 4249500; 659300, 4249200; 659100, 4249000; 659100, 4248900; 659200, 4248800; 659100, 4248700; 658900, 4248700; 658800, 4248600; 658600, 4248600; 658500, 4248800; 658400, 4248900; 658200, 4249000; 658200, 4248900; 658300, 4248700; 658500, 4248500; 658500, 4248400; 658400, 4248300; 658400, 4247900; 658100, 4247900; 658000, 4248500; 656700, 4248500; 656300, 4248900; 655900, 4248200; 656100, 4248100; 656100, 4248000; 656000, 4247800; 655200, 4247800; 655200, 4247200; 654700, 4247200; 654700, 4248750; 654800, 4248900; 654700, 4249000; 655100, 4249000; 655800, 4249000; 656300, 4249700; 656600, 4249500; 657200, 4250200; 656700, 4251100; 657700, 4251100; 657700, 4251500; 656700, 4251400; 656700, 4252100; 656500, 4252300; 656500, 4252600; 657000, 4253700; 657400, 4254600; 657800, 4254300; 657800, 4254200; 657800, 4254200; 658100, 4254000; 658900, 4253500; 659000, 4253500; 659300, 4253300; 660000, 4254500; 660100, 4254800; 660200, 4254900; 660300, 4255200; 660600, 4255300; 660700, 4255400; 660800, 4256000; 660754, 4256046; 660777, 4256046; 661541, 4256060; 661554, 4255796; 661731, 4252263; 661736, 4252142; 662180, 4252172; 662313, 4252175; 662583, 4252191; 663009, 4252217; 663119, 4252198; 663221, 4252234; 663275, 4252290; 663311, 4252341; 663324, 4252391; 663344, 4252446; 663378, 4252511; 663390, 4252591; 663409, 4252710; 663437, 4252770; 663510, 4252890; 663546, 4252914; 663590, 4252922; 663630, 4252907; 663726, 4252900; 663761, 4252901; 663800, 4252916; 663817, 4252959; 663824, 4252991; 663760, 4253075; 663650, 4253199; 663651, 4253232; 663667, 4253286; 663741, 4253408; 663807, 4253488; 663832, 4253490; 663904, 4253486; 663962, 4253498; 664039, 4253560; 664088, 4253602; 664125, 4253617; 664219, 4253695; 664248, 4253699; 664313, 4253672; 664369, 4253606; 664471, 4253613; 664566, 4253675; 664591, 4253700; 664647, 4253753; 664752, 4253850; 664854, 4253953; 664868, 4254000; 664877, 4254124; 664856, 4254193; 664883, 4254238; 664977, 4254334; 665118, 4254420; 665174, 4254468; 665227, 4254492; 665313, 4254463; 665390, 4254424; 665514, 4254389; 665619, 4254438; 665656, 4254494; 665723, 4254546; 665757, 4254558; 665800, 4254553; 665853, 4254513; 665880, 4254493; 665956, 4254434; 665960, 4254402; 666029, 4254364; 666067, 4254367; 666114, 4254379; 666168, 4254392; 666236, 4254440; 666273, 4254448; 666310, 4254440; 666339, 4254435; 666417, 4254404; 666451, 4254362; 666491, 4254319; 666523, 4254309; 666581, 4254312; 666652, 4254306; 666705, 4254261; 666722, 4254230; 666740, 4254164; 666742, 4254084; 666763, 4253987; 666791, 4253947; 666826, 4253919; 666849, 4253913; 666914, 4253917; 666977, 4253951; 667057, 4253975; 667142, 4253997; 667253, 4253980; 667277, 4253964; 667302, 4253968; 667313, 4253981; 667315, 4254007; 667377, 4254034; 667482, 4254039; 667618, 4254026; 667801, 4253975; 667959, 4253881; 668167, 4253821; 668360, 4253834; 668422, 4253849; 668525, 4253837; 668643, 4253804; 668700, 4253743; 668799, 4253665; 668877, 4253610; 668998, 4253531; 669098, 4253487; 669171, 4253483; 669251, 4253471; 669328, 4253465; 669399, 4253396; 669461, 4253324; 669558, 4253276; 669619, 4253256; 669665, 4253257; 669859, 4253247; 670012, 4253179; 670143, 4253173; 670241, 4253188; 670278, 4253185; 670320, 4253159; 670371, 4253105; 670419, 4253074; 670499, 4253007; 670537, 4252992; 670594, 4252927; 670626, 4252873; 670642, 4252848; 670663, 4252843; 670712, 4252851; 670732, 4252875; 670716, 4252907; 670727, 4252921; 670756, 4252934; 670807, 4252923; 670850, 4252924; 670883, 4252896; 670912, 4252829; 670949, 4252789; 670975, 4252773; 671041, 4252762; 671109, 4252759; 671191, 4252663; 671270, 4252568; 671315, 4252537; 671376, 4252519; 671438, 4252504; 671509, 4252465; 671531, 4252448; 671559, 4252450; 671603, 4252490; 671631, 4252509; 671674, 4252515; 671716, 4252510; 671773, 4252503; 671827, 4252497; 671848, 4252476; 671934, 4252419; 671943, 4252426; 671963, 4252453; 671990, 4252458; 672004, 4252435; 672042, 4252400; 672107, 4252306; 672117, 4252284; 672129, 4252256; 672134, 4252244; 672152, 4252230; 672159, 4252200; 672153, 4252190; 672148, 4252180; 672110, 4252165; 672104, 4252149; 672109, 4252101; 672114, 4252080; 672113, 4252055; 672107, 4251980; 672120, 4251908; 672151, 4251893; 672177, 4251906; 672185, 4251900; 672199, 4251865; 672213, 4251830; 672245, 4251802; 672263, 4251784; 672271, 4251775; 672271, 4251787; 672265, 4252117; 672263, 4252199; 672247, 4252916; 672246, 4252941; 672231, 4253670; 672225, 4253953; 672223, 4254006; 672220, 4254157; 672219, 4254229; 672217, 4254287; 672192, 4255610; 672200, 4255600; 672400, 4255600; 672700, 4256400; returning to 673200, 4256400.

(ii) Unit 14B: Sacramento County, California. From USGS 1:24,000 scale quadrangle Sloughhouse. Land bounded by the following UTM Zone 10, NAD 83 coordinates (E,N): 660660, 4256508; 660681, 4256119; 660600, 4256200; 660300, 4256100; 660000, 4256200; 659800, 4256300; 659850, 4256450; 659900, 4256600; 660200, 4256500; 660300, 4256800; 660515, 4256728; 660633, 4256644; 660645, 4256626; returning to 660660, 4256508.

(iii) Note: Units 13-14 (Map 4) follow:

BILLING CODE 4310-55-P

BILLING CODE 4310-55-C

(19) Unit 16: Solano County, California.

(i) Unit 16A: Solano County, California. From USGS 1:24,000 scale quadrangle Elmira, Denverton, and Fairfield South. Land bounded by the following UTM Zone 10, NAD 83 coordinates (E,N): 594915, 4234098; 594916, 4233314; 595044, 4233310; 595068, 4233296; 595131, 4233266; 595174, 4233226; 595189, 4233210; 595239, 4233151; 595322, 4232978; 595423, 4232778; 595483, 4232667; 595553, 4232524; 595699, 4232243; 595966, 4231717; 594927, 4231710; 594445, 4231707; 594409, 4231673; 594410, 4231616; 594434, 4231540; 594474, 4231494; 594495, 4231457; 594497, 4231414; 594510, 4231370; 594543, 4231356; 594575, 4231342; 594603, 4231341; 594614, 4231338; 594616, 4231325; 594618, 4231311; 594614, 4231290; 594605, 4231284; 594583, 4231275; 594573, 4231268; 594557, 4231245; 594550, 4231209; 594543, 4231179; 594500, 4231200; 593800, 4231200; 593600, 4230500; 593291, 4230515; 593291, 4230514; 593700, 4229900; 594000, 4229700; 593900, 4229600; 593900, 4229500; 594000, 4229400; 593900, 4229300; 593900, 4229100; 594300, 4229000; 594300, 4228500; 593700, 4228400; 593500, 4228100; 592800, 4228100; 592700, 4228000; 592600, 4228000; 592500, 4227900; 592200, 4227800; 592000, 4227500; 591700, 4227400; 591500, 4227200; 591200, 4227100; 590900, 4227000; 590700, 4227100; 590400, 4227100; 589400, 4227400; 589265, 4227400; 589026, 4227463; 588707, 4227579; 587979, 4227869; 587973, 4227872; 587467, 4228036; 587339, 4228077; 587009, 4228197; 586933, 4228334; 586900, 4228400; 586700, 4228500; 586600, 4229000; 586400, 4229100; 586200, 4229100; 586100, 4229300; 585400, 4229900; 585400, 4230100; 585500, 4230200; 585000, 4230300; 585100, 4230400; 585000, 4230500; 585111, 4230567; 585124, 4230550; 585327, 4230585; 585319, 4230629; 585295, 4230649; 585270, 4230662; 585500, 4230800; 585600, 4231100; 585903, 4231100; 585908, 4231071; 585926, 4231064; 585956, 4231058; 586038, 4231061; 586045, 4231073; 586045, 4231088; 586027, 4231096; 586022, 4231100; 586267, 4231100; 586273, 4231084; 586323, 4231038; 586340, 4230994; 587435, 4231016; 587882, 4231052; 587967, 4231111; 587991, 4231124; 588015, 4231126; 588034, 4231123; 588075, 4231099; 588085, 4231097; 588116, 4231095; 588700, 4230900; 588842, 4230900; 588842, 4230900; 588925, 4230897; 588989, 4230899; 589090, 4230913; 589179, 4230901; 589179, 4230901; 589240, 4230894; 589274, 4230890; 589315, 4230894; 589321, 4230909; 589313, 4231179; 589015, 4231215; 589100, 4231300; 589100, 4231700; 588600, 4231600; 588440, 4231680; 588417, 4232400; 588500, 4232400; 588500, 4232500; 588600, 4232500; 588600, 4232800; 588400, 4233000; 588600, 4233300; 588700, 4233500; 589300, 4233500; 589983, 4233500; 590000, 4233500; 590100, 4233500; 590100, 4233300; 590600, 4233300; 591100, 4232800; 591138, 4232825; 591143, 4232820; 591184, 4232856; 591700, 4233200; 592513, 4233290; 592594, 4233291; 592594, 4233299; 592600, 4233300; 592600, 4233800; 592900, 4233700; 592900, 4233751; 592901, 4233751; 592900, 4233754; 592900, 4233800; 593400, 4234100; 594200, 4234100; 594300, 4234900; 594500, 4234900; 594890, 4235396; returning to 594915, 4234098.

(ii) Unit 16B: Solano County, California. From USGS 1:24,000 scale quadrangle Elmira and Denverton. Land bounded by the following UTM Zone 10, NAD 83 coordinates (E,N): 589698, 4236560; 589600, 4234900; 589700, 4234900; 589700, 4234500; 590100, 4234500; 590100, 4234064; 590100, 4234000; 589400, 4234000; 589000, 4234400; 588500, 4234400; 588500, 4236400; 588549, 4236449; 588944, 4236551; 589524, 4236558; 589670, 4236559; returning to 589698, 4236560.

(iii) Unit 16C: Solano County, California. From USGS 1:24,000 scale quadrangle Elmira. Land bounded by the following UTM Zone 10, NAD 83 coordinates (E,N): 593200, 4242200; 593200, 4240600; 593211, 4240600; 593255, 4239807; 592030, 4239793; 592062, 4240126; 592044, 4240137; 592026, 4240170; 592026, 4240181; 592030, 4240261; 592300, 4240800; 592100, 4240800; 591800, 4241000; 591700, 4241100; 591600, 4241200; 591600, 4241300; 591600, 4241700; 591700, 4241700; 591800, 4241600; 591900, 4241600; 592000, 4241500; 592200, 4241300; 592300, 4240900; returning to 593200, 4242200.

(iv) Unit 16D: Solano County, California. From USGS 1:24,000 scale quadrangle Dozier. Land bounded by the following UTM Zone 10, NAD 83 coordinates (E,N): 600400, 4243000; 600400, 4242200; 601300, 4242200; 601300, 4241416; 601002, 4241415; 600878, 4241415; 600446, 4241414; 600021, 4241414; 599000, 4241412; 599000, 4242300; 599600, 4242300; 599600, 4243000; returning to 600400, 4243000.

(20) Unit 17: Napa County, California. From USGS 1:24,000 scale quadrangle Cuttings Wharf. Land bounded by the following UTM Zone 10, NAD 83 coordinates (E,N): 563200, 4230600; 563800, 4229500; 564100, 4229600; 564300, 4229200; 563200, 4228900; 563000, 4228900; 562800, 4228500; 562622, 4228500; 562261, 4228644; 561890, 4228781; 561756, 4228832; 561798, 4228870; 561864, 4228920; 562198, 4229067; 562156, 4229301; 562420, 4229359; 562483, 4229527; 562531, 4229524; 562620, 4229552; 562652, 4229575; 562655, 4229641; 562604, 4229686; 562537, 4229781; 562480, 4229857; 562528, 4230295; 562458, 4230498; 562480, 4230568; 562477, 4230610; 562477, 4230692; 562464, 4230746; 562476, 4230800; 562500, 4230800; 563200, 4230900; returning to 563200, 4230600.

(21) Note: Units 16-17 (Map 5) follow:

BILLING CODE 4310-55-P

BILLING CODE 4310-55-C

(22) Unit 18: San Joaquin County, California. From USGS 1:24,000 scale quadrangle Valley Springs SW, Linden, Farmington, and Peters. Land bounded by the following UTM Zone 10, NAD 83 coordinates (E,N): 676000, 4212400; 676600, 4211200; 676300, 4211200; 676400, 4211000; 676300, 4210600; 676200, 4210500; 676100, 4210500; 675800, 4210300; 675600, 4210200; 675700, 4210000; 675900, 4209700; 675900, 4209600; 676500, 4209600; 676700, 4210100; 676700, 4210800; 676800, 4210900; 677200, 4211300; 678700, 4211300; 678800, 4210500; 680200, 4210400; 680200, 4209700; 681100, 4209700; 681800, 4210300; 682002, 4210263; 682013, 4209755; 682023, 4209287; 681500, 4209100; 681300, 4208500; 680800, 4208400; 680800, 4206100; 680500, 4205700; 680400, 4205100; 679700, 4204600; 679700, 4203300; 679200, 4203300; 679200, 4203400; 679000, 4203400; 679000, 4203300; 678500, 4203300; 678400, 4203100; 678300, 4203100; 678300, 4203000; 678400, 4202900; 678400, 4202700; 677700, 4202200; 677600, 4201700; 677500, 4201700; 677425, 4201625; 677367, 4201600; 675800, 4201600; 675700, 4203000; 675900, 4203000; 675900, 4203200; 675700, 4203200; 675700, 4204800; 672500, 4204700; 672500, 4205600; 672800, 4205800; 672800, 4206300; 672100, 4206300; 672100, 4206500; 671800, 4206500; 671600, 4206700; 671600, 4207100; 673200, 4207100; 673200, 4207400; 674000, 4207400; 674000, 4207700; 674700, 4207500; 674700, 4207200; 675100, 4207200; 675600, 4207400; 675600, 4208100; 675300, 4208100; 675300, 4208000; 674500, 4208000; 674400, 4208100; 674200, 4208200; 673930, 4208380; 673907, 4208701; 674800, 4208800; 674700, 4209300; 674600, 4209300; 674600, 4209600; 673900, 4209600; 673900, 4209800; 673500, 4209700; 673200, 4209600; 673200, 4209500; 673100, 4209500; 673100, 4211900; 673500, 4211800; 673900, 4211700; 673900, 4211400; 674100, 4211400; 674100, 4211500; 674300, 4211500; 674300, 4211600; 674900, 4211400; 675200, 4211500; 675200, 4211700; 675300, 4211800; 675300, 4211867; 675350, 4211900; 675500, 4211900; 675500, 4212000; 675500, 4212400; returning to 676000, 4212400;

(23) Unit 19: Contra Costa County, California.

(i) Unit 19A: Contra Costa County, California. From USGS 1:24,000 scale quadrangle Brentwood and Antioch South. Land bounded by the following UTM Zone 10, NAD 83 coordinates (E,N): 612500, 4195900; 611700, 4194500; 611700, 4194300; 611400, 4193400; 610900, 4193500; 610200, 4193700; 609900, 4193900; 609700, 4194000; 609100, 4194000; 608100, 4194300; 608500, 4194900; 608400, 4195100; 608600, 4195300; 608600, 4195900; 609600, 4195900; 609500, 4195600; 609200, 4195100; 609200, 4195000; 609300, 4194900; 609900, 4194800; 610200, 4194800; 610500, 4195100; 611200, 4195900; 612100, 4196300; returning to 612500, 4195900;

(ii) Unit 19B: Contra Costa County, California. From USGS 1:24,000 scale quadrangle Clifton Court Forebay and Byron Hot Springs. Land bounded by the following UTM Zone 10, NAD 83 coordinates (E,N): 621800, 4191200; 622200, 4190700; 622275, 4190400; 622400, 4189900; 623000, 4189300; 622900, 4188700; 622200, 4188700; 622100, 4188800; 621900, 4189000; 621700, 4189300; 621400, 4189700; 621200, 4190000; 621200, 4190400; 621100, 4190400; 621100, 4188700; 620900, 4188700; 620600, 4188400; 620400, 4188600; 620400, 4188100; 620500, 4187900; 620600, 4187800; 620700, 4187700; 620900, 4187700; 621100, 4187500; 620500, 4187100; 620500, 4186900; 621319, 4187272; 621338, 4187281; 621600, 4187400; 622000, 4187000; 622400, 4186400; 622600, 4186100; 622500, 4186000; 622500, 4185800; 622000, 4185300; 621200, 4185300; 621000, 4185500; 620800, 4185500; 620500, 4185200; 620200, 4185300; 619900, 4185600; 619600, 4185500; 619400, 4185700; 618200, 4186600; 618100, 4187100; 617700, 4187400; 617800, 4187900; 618200, 4188100; 618500, 4188300; 618400, 4188600; 617700, 4188800; 617800, 4188900; 617618, 4188855; 617400, 4189000; 617400, 4189200; 618200, 4189500; 618100, 4189800; 618200, 4190100; 618700, 4190300; 618700, 4190700; 619000, 4191000; 619300, 4191100; 619600, 4191100; 619800, 4190700; 619900, 4190700; 620100, 4190900; 620400, 4190900; 620400, 4190900; 620500, 4191200; returning to 621800, 4191200;

(iii) Unit 19C: Alameda County, California. From USGS 1:24,000 scale quadrangle Altamont and Livermore. Land bounded by the following UTM Zone 10, NAD 83 coordinates (E,N): 610800, 4177500; 610800, 4177200; 611200, 4177200; 611900, 4176700; 612300, 4176700; 612400, 4176700; 612400, 4177200; 613300, 4177200; 613300, 4177200; 613400, 4177000; 613300, 4176900; 613300, 4176800; 613300, 4176700; 613200, 4176700; 613200, 4176300; 613400, 4176300; 613400, 4176200; 613500, 4176200; 613500, 4176300; 613600, 4176400; 613700, 4176400; 613700, 4176600; 614400, 4175500; 614300, 4175400; 614200, 4175400; 614100, 4175300; 614000, 4175300; 613900, 4175200; 613800, 4175100; 613700, 4175100; 613700, 4175200; 613600, 4175200; 613600, 4176100; 613300, 4176100; 613200, 4175900; 613100, 4175900; 612800, 4176100; 612700, 4176100; 612500, 4175900; 612400, 4175900; 612400, 4176300; 612100, 4176300; 612100, 4176400; 612000, 4176500; 611800, 4176500; 611600, 4176500; 611600, 4175300; 611400, 4175300; 611200, 4175400; 610900, 4175400; 610800, 4175900; 610400, 4175900; 610300, 4175200; 610200, 4175100; 610000, 4175000; 610000, 4174800; 609100, 4175400; 608600, 4175600; 608400, 4175900; 610000, 4175900; 610000, 4176500; 610400, 4176500; 610400, 4178500; 610800, 4178300; returning to 610800, 4177500;

(24) Unit 20: Stanislaus County, California. From USGS 1:24,000 scale quadrangle Ripon. Land bounded by the following UTM Zone 10, NAD 83 coordinates (E,N): 662400, 4168300; 661600, 4168000; 661600, 4168300; 660300, 4167800; 660600, 4167500; 660800, 4167200; 660000, 4167200; 659500, 4168800; 661600, 4168800; 661600, 4169400; 662400, 4169400; returning to 662400, 4168300;

(25) Note: Maps of Units 18, 19, and 20 (Maps 6 and 7) follow:

BILLING CODE 4310-55-P

BILLING CODE 4310-55-C

(26) Unit 21: Stanislaus County, California.

(i) Unit 21A: Stanislaus County, California. From USGS 1:24,000 scale quadrangle Paulsell and Montpelier. Land bounded by the following UTM Zone 10, NAD 83 coordinates (E,N): 704200, 4166200; 704000, 4166200; 703800, 4166400; 703400, 4166600; 703400, 4166800; 703500, 4166800; 703600, 4166900; 703700, 4167000; 703700, 4167200; 704600, 4167600; 704700, 4167600; 704800, 4167500; 705000, 4167400; 705300, 4167400; 705300, 4166400; 705000, 4166300; 704400, 4166300; returning to 704200, 4166200;

(ii) Unit 21B: Stanislaus, Merced, and Mariposa Counties, California. From USGS 1:24,000 scale quadrangle La Grange, Cooperstown, Paulsell, Turlock Lake, Snelling, Montpelier and Merced Falls. Land bounded by the following UTM Zone 10, NAD 83 coordinates (E,N): 725100, 4167900; 725300, 4167200; 726200, 4167100; 726500, 4166800; 726500, 4166600; 726727, 4166429; 727300, 4166000; 727700, 4165800; 729000, 4165800; 730100, 4165400; 730400, 4165100; 730500, 4164900; 730700, 4164100; 731300, 4164100; 731700, 4163800; 731800, 4163400; 732200, 4162800; 732200, 4162500; 732700, 4162700; 733000, 4162600; 733600, 4162100; 733700, 4161500; 733600, 4161000; 734600, 4160400; 734727, 4160273; 734800, 4160200; 734800, 4160135; 734800, 4159500; 734400, 4158700; 734300, 4158100; 734500, 4157900; 734700, 4158000; 734900, 4158300; 735000, 4158800; 735500, 4158800; 735505, 4158795; 735700, 4158600; 735674, 4158472; 735600, 4158100; 736171, 4157529; 736200, 4157500; 736800, 4157300; 736900, 4157100; 736900, 4156500; 736712, 4156500; 736300, 4156500; 736000, 4156300; 735500, 4156300; 734100, 4156900; 733400, 4157100; 731700, 4156900; 730900, 4156500; 728900, 4156600; 728700, 4156700; 728700, 4156800; 728600, 4156900; 728300, 4156900; 728100, 4156800; 727900, 4156800; 727100, 4156800; 726900, 4156600; 726700, 4156500; 726300, 4156500; 726100, 4156600; 725800, 4156500; 725600, 4156400; 725500, 4156300; 725400, 4156200; 725100, 4156100; 725000, 4156000; 724900, 4156000; 724800, 4156100; 724300, 4156100; 724300, 4155700; 723800, 4155700; 723900, 4155300; 723300, 4155400; 722700, 4155100; 722700, 4155400; 722300, 4155400; 722300, 4156800; 722900, 4156800; 722900, 4157400; 723500, 4157400; 723500, 4157000; 723700, 4157000; 723700, 4156900; 724300, 4156900; 724300, 4157400; 724200, 4157400; 724200, 4157400; 724100, 4158200; 723800, 4158200; 723700, 4159000; 722500, 4159000; 722500, 4159200; 722400, 4159200; 722300, 4159300; 722200, 4159300; 721600, 4159300; 721600, 4159500; 721500, 4159600; 721500, 4159800; 721600, 4159800; 721600, 4159900; 721700, 4159900; 721700, 4160500; 721100, 4160500; 721100, 4160100; 720800, 4160100; 720800, 4160500; 719500, 4160500; 719500, 4160300; 720000, 4159600; 719600, 4159600; 719600, 4159500; 719500, 4159500; 719400, 4159500; 719300, 4159400; 719100, 4159400; 719000, 4159400; 718900, 4159300; 718700, 4159100; 718600, 4159000; 718600, 4158900; 718400, 4158900; 718200, 4158800; 718200, 4158700; 718300, 4158600; 718400, 4158500; 718500, 4158500; 718600, 4158400; 718700, 4158400; 718900, 4158300; 719000, 4158100; 719000, 4157900; 718700, 4157600; 718000, 4157700; 717800, 4157400; 717900, 4157200; 718000, 4157000; 718400, 4157300; 718700, 4156700; 718700, 4156300; 717500, 4156300; 717500, 4156700; 717100, 4156700; 717100, 4156300; 716600, 4156300; 716600, 4155800; 716300, 4155700; 716200, 4155000; 715900, 4154900; 715900, 4155100; 715800, 4155200; 715800, 4155300; 715700, 4155400; 715600, 4155700; 715500, 4155800; 715400, 4155800; 715300, 4156600; 715400, 4156600; 715400, 4157200; 715400, 4157400; 715500, 4157400; 715500, 4157600; 717600, 4157600; 717600, 4159700; 718100, 4160200; 718200, 4160500; 718400, 4160800; 718700, 4161100; 716800, 4161100; 716800, 4160400; 715253, 4160400; 714900, 4160400; 714900, 4160900; 715000, 4160900; 715000, 4161000; 715200, 4161000; 715200, 4161100; 714400, 4161100; 714400, 4161200; 713700, 4161200; 713700, 4161100; 713300, 4161100; 713200, 4161200; 713100, 4161100; 713100, 4161000; 713400, 4160700; 713400, 4160600; 713600, 4160500; 713800, 4160800; 713900, 4160800; 714000, 4160700; 714000, 4160400; 711133, 4160301; 711100, 4161900; 709500, 4161900; 709500, 4163500; 707900, 4163500; 707900, 4163100; 707000, 4163100; 707000, 4165600; 707400, 4165600; 707400, 4165800; 706700, 4166100; 706500, 4165800; 706200, 4166000; 706300, 4166300; 706200, 4166400; 706200, 4166500; 706300, 4166500; 706300, 4166700; 706200, 4166700; 706200, 4167100; 706500, 4167100; 706700, 4166700; 706800, 4166700; 706800, 4166300; 707000, 4166300; 707000, 4166100; 707200, 4166100; 707200, 4166700; 707400, 4166700; 707800, 4166000; 707800, 4165600; 708000, 4165800; 708200, 4165800; 708400, 4165700; 708400, 4165500; 708200, 4165400; 708200, 4165300; 708300, 4165200; 708400, 4165200; 708500, 4165300; 708600, 4165400; 708800, 4165400; 709100, 4165100; 710200, 4165100; 710200, 4166400; 710100, 4166400; 710100, 4166500; 710000, 4166500; 709900, 4166500; 709900, 4166700; 709800, 4166700; 709800, 4167100; 710200, 4166800; 711000, 4167600; 711600, 4167800; 712400, 4167800; 712400, 4167300; 712900, 4167300; 712900, 4167200; 712600, 4166900; 711800, 4167000; 711600, 4166800; 711600, 4166600; 711800, 4166500; 711800, 4166600; 711900, 4166600; 712000, 4166300; 712100, 4166500; 712200, 4166500; 712300, 4166400; 712500, 4166400; 712500, 4166200; 712700, 4166200; 712700, 4166300; 712800, 4166300; 713000, 4166100; 712923, 4166062; 712800, 4166000; 712700, 4165800; 712500, 4165800; 712500, 4165600; 712700, 4165600; 712600, 4165400; 712400, 4165500; 712300, 4165400; 712500, 4165300; 712500, 4165200; 712400, 4165100; 712600, 4165100; 712600, 4165000; 712600, 4164900; 712700, 4164800; 712600, 4164700; 712500, 4164800; 712400, 4164800; 712400, 4164300; 712800, 4164500; 713100, 4164300; 713200, 4164100; 712900, 4163800; 712900, 4163700; 713100, 4163800; 713500, 4164000; 713600, 4164000; 713600, 4164100; 713700, 4164300; 714200, 4164300; 714400, 4164500; 714500, 4164800; 714600, 4164800; 714800, 4164700; 714800, 4164200; 714400, 4164000; 714400, 4163600; 714500, 4163500; 715200, 4164000; 715300, 4164200; 715400, 4164200; 715300, 4163900; 715100, 4163700; 715000, 4163500; 714800, 4163300; 714900, 4163200; 715000, 4163200; 715700, 4163200; 715900, 4163100; 716000, 4162900; 716100, 4162800; 716200, 4162800; 716300, 4162900; 716400, 4163000; 716500, 4163100; 716600, 4163200; 716600, 4163500; 716500, 4163600; 716500, 4163800; 716600, 4164100; 716800, 4164500; 716700, 4164900; 716800, 4165300; 717200, 4165800; 717200, 4166100; 717000, 4166400; 716600, 4166400; 716400, 4166300; 716400, 4166900; 716600, 4166900; 716800, 4167100; 716800, 4167300; 717000, 4167400; 717500, 4167400; 718100, 4167300; 718500, 4167100; 718600, 4166600; 718700, 4166400; 719100, 4166700; 719300, 4166800; 719500, 4166800; 719500, 4166500; 719600, 4166400; 719600, 4166100; 719800, 4166100; 719900, 4166300; 719900, 4166200; 720700, 4166200; 720700, 4163700; 721533, 4163700; 721700, 4163700; 722400, 4164100; 722400, 4164155; 722400, 4165300; 722200, 4165300; 722200, 4165400; 721500, 4165400; 721500, 4166100; 721000, 4166300; 720700, 4166500; 720900, 4166600; 721000, 4166700; 721100, 4166900; 721000, 4167000; 720300, 4167000; 720100, 4166900; 720200, 4166700; 720200, e 55'4166600; 720100, 4166500; 720000,4166500; 719800,4166800; 719500,4167400; 719500,4167600; 719700,4167800; 720500,4167800; 720700,4167700; 720900,4167500; 721100,4167400; 721300,4167700; 721700,4167700; 722000,4167600; 722500,4167600; 722900,4167500; 723300,4167400; 723000,4168400; 723000,4169200; 723300,4169700; 723800,4169800; 724100,4169800; 724600,4169200; 724700,4168300; returning to 725100,4167900;

(iii) Unit 21C: Merced County, California. From USGS 1:24,000 scale quadrangle Turlock Lake. Land bounded by the following UTM Zone 10, NAD 83 coordinates (E,N): 713800,4155400; 712600,4155200; 712600,4156800; 712900,4156800; 712900,4157100; 714800,4157200; 714800,4156800; 714300,4156300; 714200,4156200; 714000,4155500; 714000,4155400; returning to 713800,4155400;

(27) Unit 22: Merced County, California. From USGS 1:24,000 scale quadrangle Merced Falls, Snelling, Indian Gulch, Haystack Mtn., Yosemite Lake, Winton, Owens Reservoir, Planada, Le Grand, Plainsburg, and Merced. Land bounded by the following UTM Zone 10, NAD 83 coordinates (E,N): 737800,4155000; 738200,4154200; 738300,4153300; 739000,4152800; 739100,4152200; 740200,4151800; 740800,4151500; 740800,4150300; 741100,4149900; 741700,4149400; 742100,4148500; 742100,4147100; 743400,4146100; 744000,4145600; 744400,4144600; 744300,4143900; 743900,4142700; 744000,4142000; 744200,4141700; 745500,4140300; 745500,4139600; 745500,4139576; 745500,4139500; 745432,4139432; 745400,4139400; 745339,4139307; 745338,4139306; 745334,4139300; 745500,4139300; 745500,4139100; 745500,4137700; 746600,4137100; 747300,4137300; 747200,4135800; 747600,4135300; 747600,4134800; 748100,4134400; 747800,4133700; 748400,4133300; 748600,4133900; 749500,4133400; 749600,4132100; 750400,4131600; 750100,4129800; 751693,4129800; 751681,4129794; 751664,4129785; 751654,4129772; 751560,4129753; 751457,4129733; 751416,4129705; 751410,4129701; 751400,4129700; 751399,4129700; 751326,4129693; 751299,4129685; 751191,4129530; 751123,4129507; 751088,4129488; 751053,4129470; 751004,4129410; 751002,4129402; 750955,4129261; 750909,4129180; 750848,4129037; 750790,4128977; 750766,4128953; 750609,4128861; 750506,4128806; 750420,4128760; 750409,4128754; 750305,4128665; 750239,4128660; 750017,4128694; 750006,4128700; 749963,4128723; 749886,4128721; 749824,4128725; 749716,4128734; 749672,4128755; 749591,4128753; 749563,4128739; 749458,4128596; 749410,4128574; 749363,4128542; 749133,4128508; 749013,4128457; 749005,4128453; 749002,4128451; 748903,4128379; 748906,4128277; 748917,4128239; 748933,4128123; 748899,4128013; 748784,4127941; 748764,4127912; 748753,4127851; 748635,4127644; 748439,4127570; 748396,4127553; 748343,4127521; 748306,4127500; 748300,4127486; 748287,4127458; 748295,4127296; 748300,4127277; 748320,4127203; 748332,4127134; 748321,4127094; 748292,4127060; 748196,4126992; 748194,4126991; 748166,4126932; 748141,4126839; 748080,4126756; 748085,4126672; 748075,4126641; 748037,4126635; 747962,4126676; 747898,4126700; 747863,4126691; 747823,4126667; 747794,4126628; 747766,4126528; 747692,4126358; 747650,4126316; 747562,4126246; 747502,4126125; 747478,4126053; 747451,4126022; 747406,4126011; 747358,4126000; 747200,4126000; 747142,4125971; 747123,4125969; 747070,4125950; 747003,4125902; 747000,4125900; 746900,4125900; 746600,4125800; 746300,4125700; 746200,4125600; 746200,4125500; 745700,4125500; 745700,4125100; 744500,4125100; 744500,4125300; 744400,4125300; 744400,4125200; 743700,4125200; 743700,4125800; 744500,4125800; 744500,4126200; 743700,4126200; 743700,4127000; 743600,4127000; 742700,4127000; 742400,4127000; 742000,4127200; 742000,4128600; 742800,4128600; 742800,4129100; 742900,4129100; 743000,4129100; 743000,4129200; 743400,4129300; 743600,4129500; 743600,4130284; 743605,4130284; 743600,4130493; 743600,4130700; 743595,4130700; 743561,4132097; 743560,4132170; 743556,4132335; 744000,4133400; 743530,4133400; 743523,4133729; 743518,4134016; 743515,4134159; 743509,4134382; 743500,4134708; 743504,4134743; 743565,4134782; 744447,4135329; 746234,4136439; 746230,4136445; 745985,4136865; 745952,4136931; 745915,4136978; 745914,4136987; 745902,4137008; 745748,4137298; 745669,4137403; 745620,4137437; 745503,4137487; 745203,4138201; 744984,4138471; 744895,4138606; 744895,4138606; 744830,4138711; 744596,4139085; 744234,4139637; 744233,4139645; 744162,4139744; 744162,4139744; 744013,4140002; 744013,4140002; 743998,4140029; 743996,4140030; 743973,4140072; 743907,4140195; 743889,4140229; 743877,4140264; 743750,4140609; 743388,4140868; 743091,4141131; 743053,4141165; 742997,4141268; 742771,4141692; 742748,4141734; 742355,4142343; 742336,4142368; 742271,4142457; 742238,4142503; 742139,4142637; 742056,4142749; 742002,4142823; 741974,4142874; 741808,4143176; 741722,4143360; 741419,4144010; 741385,4144081; 741316,4144328; 741297,4144395; 741245,4144456; 741194,4144530; 741162,4144608; 741076,4144820; 740864,4144897; 740843,4144899; 740750,4144952; 740641,4145056; 740535,4145175; 740517,4145182; 740490,4145240; 740487,4145263; 740386,4145415; 740321,4145847; 740320,4146066; 740303,4146114; 740276,4146159; 740272,4146225; 740293,4146273; 740293,4146303; 740370,4146426; 740415,4146474; 740536,4146602; 740735,4146722; 740825,4146775; 741069,4147251; 741071,4147549; 741071,4147576; 740982,4147830; 740955,4147883; 740914,4147967; 740822,4148059; 740772,4148182; 740782,4148363; 740776,4148391; 740695,4148831; 740617,4149151; 740447,4149311; 740396,4149534; 740344,4149561; 740303,4149575; 740289,4149588; 740238,4149636; 740225,4149666; 740057,4149659; 739993,4149678; 739917,4149678; 739791,4149621; 739705,4149597; 739701,4149596; 739602,4149593; 739521,4149560; 739443,4149542; 739197,4149515; 738714,4149273; 738694,4149252; 738674,4149251; 738178,4148999; 737835,4148823; 737747,4148772; 737044,4148135; 736672,4147809; 736430,4147669; 735929,4147379; 735716,4147219; 735669,4147184; 735605,4147136; 735437,4147009; 735223,4146848; 735183,4146809; 735156,4146798; 735151,4146778; 735022,4146655; 734989,4146630; 734609,4146349; 734480,4146255; 734012,4145909; 733808,4145758; 733765,4145739; 733763,4145732; 733370,4145442; 732703,4144952; 732391,4144910; 732197,4144885; 731993,4144850; 731062,4144594; 730371,4144363; 729000,4143905; 728736,4143813; 728542,4143745; 728346,4143647; 728018,4143482; 727340,4143194; 726795,4142958; 726607,4142867; 726599,4142856; 726577,4142853; 725785,4142417; 725793,4142408; 725843,4142361; 726002,4142378; 726117,4142355; 726204,4142264; 726415,4142046; 726420,4141975; 726381,4141921; 726367,4141880; 726261,4141732; 726182,4141648; 725935,4141477; 725916,4141451; 725903,4141379; 725914,4141349; 725981,4141288; 726033,4141240; 726145,4141137; 726156,4141109; 726147,4141073; 726096,4140993; 726083,4140896; 726089,4140784; 726108,4140739; 726268,4140551; 726269,4140436; 726283,4140368; 726313,4140308; 726412,4140209; 726455,4140025; 726457,4140000; 726459,4139959; 726715,4139715; 726786,4139647; 726804,4139630; 726822,4139625; 726822,4139611; 726823,4139582; 726809,4139546; 726755,4139466; 726754,4139433; 726931,4139179; 727174,4138842; 727220,4138823; 727261,4138819; 727328,4138864; 727331,4138842; 727333,4138831; 727335,4138819; 727343,4138816; 727396,4138803; 727406,4138800; 727414,4138798; 727552,4138779; 727711,4138793; 727806,4138786; 727819,4138766; 727845,4138644; 727858,4138617; 727881,4138590; 727700,4138500; 727600,4138400; 727400,4138300; 727400,4137800; 727300,4137800; 727300,4137600; 727400,4137600; 727400,4137500; 727300,4137500; 727300,4137400; 727400,4137400; 727400,4137200; 726500,4137200; 726500,4136500; 726400,4136400; 725800,4136400; 725800,4137200; 725000,4137200; 724900,4138800; 725500,4138800; 725500,4138700; 725800,4138700; 725800,4138800; 725900,4138800; 725900,4139500; 726500,4139500; 726500,4139600; 725900,4139600; 725800,4139600; 725800,4140200; 725900,4140200; 725900,4140900; 725400,4140900; 725400,4140800; 725100,4140800; 725100,4141000; 724900,4141000; 724900,4141200; 724100,4141200; 724100,4141600; 723400,4141600; 723400,4141100; 723200,4141100; 723200,4140600; 723400,4140500; 723400,4139500; 724000,4139500; 724000,4139400; 723900,4138900; 723900,4138700; 723500,4138200; 723400,4138200; 723400,4138300; 723000,4138300; 723000,4138700; 723000,4138900; 723100,4139100; 723200,4139400; 723300,4139500; 722100,4139500; 722000,4140500; 721900,4141100; 721900,4141900; 721900,4143400; 720800,4143400; 720900,4141800; 721000,4141500; 721000,4141200; 721100,4141100; 721000,4141000; 717800,4140900; 717700,4142500; 714500,4142400; 714500,4144900; 715500,4144900; 715500,4145000; 715800,4145000; 715900,4145000; 716000,4145000; 716100,4145100; 716100,4145200; 716000,4145200; 715900,4145300; 715900,4145400; 716000,4145500; 716000,4145600; 716100,4145700; 717000,4145700; 717700,4145300; 717800,4145300; 717800,4145200; 717800,4145100; 717600,4144900; 717600,4144800; 717600,4144700; 717800,4144500; 717900,4144600; 718200,4144600; 718400,4144500; 718700,4144500; 718700,4144800; 718600,4145000; 718700,4145100; 718700,4145600; 718600,4145600; 718600,4145700; 718700,4145800; 718600,4145900; 718500,4146000; 718500,4146100; 718600,4146200; 718600,4146500; 718300,4146500; 718200,4146600; 718200,4146800; 718300,4146800; 718500,4146900; 718600,4147000; 718600,4147100; 718400,4147200; 718500,4147300; 718500,4147600; 718700,4147600; 718700,4147400; 719000,4147500; 719100,4147700; 719300,4147600; 719600,4147900; 719700,4148000; 719700,4148100; 719800,4148200; 720000,4148200; 720600,4148200; 720600,4148300; 720700,4148400; 720800,4148400; 720900,4148500; 722700,4148500; 722700,4148600; 722900,4148600; 723200,4148700; 723400,4148700; 723200,4148600; 723100,4148500; 723000,4148400; 723200,4148200; 723400,4148200; 723500,4148300; 723600,4148400; 723600,4148500; 723800,4148500; 723800,4148400; 723900,4148400; 723900,4148500; 724000,4148700; 724200,4148500; 724200,4148900; 724300,4149000; 724300,4149100; 724500,4149000; 724500,4149300; 724700,4149400; 724900,4149600; 725000,4149700; 725000,4150000; 724900,4150100; 725000,4150200; 725200,4150200; 725300,4150400; 725400,4150500; 725400,4150600; 725100,4150900; 724700,4150900; 724700,4153400; 725000,4153500; 725400,4153900; 725600,4154100; 725800,4154200; 726000,4154300; 726200,4154000; 726300,4153800; 726300,4153700; 727800,4153600; 727800,4153400; 727900,4153400; 727900,4153500; 728400,4153600; 728700,4153700; 729000,4153700; 729000,4153600; 729100,4153500; 729300,4153400; 729400,4153400; 729400,4153300; 729300,4153200; 729500,4153100; 729800,4153100; 729900,4153200; 729900,4154200; 730000,4154200; 730100,4154300; 730600,4154300; 730700,4154400; 731000,4154600; 731200,4154700; 731500,4154700; 731800,4154900; 732200,4154900; 732600,4154800; 733200,4154500; 733400,4154500; 733700,4154300; 734700,4154300; 734900,4154600; 735100,4154800; 735100,4154900; 735500,4155300; 735600,4155300; 735800,4155500; 736100,4155900; 737100,4155400; 737157,4155367; returning to 737800,4155000;

(28) Note: Units 21-22 (Map 8) follow:

BILLING CODE 4310-55-P

BILLING CODE 4310-55-C

(29) Unit 23: Merced County, California

(i) Unit 23A: Merced County, California. From USGS 1:24,000 scale quadrangle Stevinson, Gustine, and San Luis Ranch. Land bounded by the following UTM Zone 10, NAD 83 coordinates (E,N): 688300, 4129000; 688600, 4128800; 689100, 4128900; 689200, 4128800; 689400, 4128600; 689800, 4128500; 689900, 4128300; 690200, 4128300; 690400, 4128200; 690500, 4128000; 690600, 4125500; 692700, 4125500; 693200, 4125000; 693100, 4124800; 693100, 4124400; 693300, 4123700; 693600, 4123400; 693800, 4123000; 694000, 4122900; 694079, 4122821; 694035, 4122790; 692453, 4121671; 692300, 4121900; 692200, 4122000; 692200, 4122500; 692100, 4122700; 691800, 4122800; 691400, 4122800; 691261, 4123079; 691262, 4123097; 691263, 4123113; 691267, 4123155; 691273, 4123198; 691267, 4123238; 691248, 4123272; 691217, 4123291; 691200, 4123294; 691200, 4123500; 691110, 4123679; 691126, 4123677; 691149, 4123682; 691156, 4123694; 691166, 4123718; 691177, 4123739; 691191, 4123771; 691193, 4123793; 691200, 4123800; 691195, 4123810; 691201, 4123850; 691215, 4123892; 691220, 4123942; 691214, 4123980; 691192, 4124020; 691171, 4124049; 691150, 4124072; 691127, 4124089; 691099, 4124095; 691071, 4124095; 691055, 4124090; 690900, 4124400; 690559, 4124400; 690559, 4124402; 690569, 4124417; 690582, 4124427; 690582, 4124447; 690576, 4124466; 690563, 4124483; 690546, 4124493; 690525, 4124502; 690523, 4124502; 690523, 4124519; 690500, 4124524; 690475, 4124530; 690469, 4124538; 690445, 4124570; 690388, 4124590; 690353, 4124592; 690180, 4124650; 690127, 4124689; 690083, 4124695; 690025, 4124783; 690020, 4124854; 689996, 4124900; 689988, 4125006; 689952, 4125056; 689912, 4125095; 689856, 4125119; 689819, 4125184; 689788, 4125210; 689747, 4125229; 689700, 4125300; 689658, 4125595; 689665, 4125595; 689672, 4125603; 689645, 4125757; 689630, 4125793; 689600, 4126000; 689700, 4126200; 689600, 4126600; 689400, 4126600; 689275, 4126538; 689239, 4126581; 689188, 4126664; 689134, 4126678; 689121, 4126682; 689069, 4126728; 689067, 4126852; 689020, 4126961; 688990, 4126993; 688911, 4126978; 688903, 4126995; 688913, 4127006; 689100, 4127100; 689024, 4127195; 689025, 4127207; 688949, 4127292; 688931, 4127324; 688922, 4127322; 688854, 4127407; 688823, 4127454; 688780, 4127503; 688735, 4127581; 688723, 4127621; 688696, 4127650; 688684, 4128244; 688193, 4128235; 688100, 4128700; returning to 688300, 4129000;

(ii) Unit 23B: Merced County, California. From USGS 1:24,000 scale quadrangle Stevinson and San Luis Ranch. Land bounded by the following UTM Zone 10, NAD 83 coordinates (E,N): 695400, 4125600; 695500, 4122000; 694900, 4122400; 694700, 4122700; 694500, 4122900; 694500, 4123100; 694100, 4123400; 693800, 4123500; 693800, 4123800; 693500, 4123900; 693500, 4124500; 693700, 4124700; 693800, 4125000; 693600, 4125200; 693400, 4125300; 693122, 4125670; 693100, 4125700; 693146, 4125746; 693200, 4125800; 693700, 4125900; 693700, 4127300; 693800, 4127300; 693900, 4127000; 694200, 4126900; 694600, 4126400; 694600, 4126200; 694700, 4126000; 695179, 4125726; returning to 695400, 4125600;

(iii) Unit 23C: Merced County, California. From USGS 1:24,000 scale quadrangle Arena, Stevinson, Turner Ranch, and San Luis Ranch. Land bounded by the following UTM Zone 10, NAD 83 coordinates (E,N): 699300, 4126300; 699300, 4125400; 700100, 4125400; 700200, 4126000; 700600, 4125700; 701100, 4125300; 701100, 4124300; 700300, 4124300; 700300, 4123800; 700500, 4123800; 700600, 4123500; 701100, 4123400; 701200, 4123200; 701400, 4123100; 701600, 4122700; 701900, 4122500; 702600, 4122200; 702870, 4121705; 703200, 4121100; 703900, 4120500; 704600, 4119800; 704600, 4119800; 704700, 4119700; 698900, 4119600; 698800, 4119700; 698543, 4119957; 698558, 4119970; 698501, 4120012; 698504, 4120069; 698626, 4120197; 698662, 4120077; 698694, 4120113; 698668, 4121116; 698663, 4121510; 698594, 4121508; 698600, 4121600; 699900, 4121600; 700000, 4120400; 700200, 4120400; 700200, 4122700; 697000, 4122600; 696900, 4125100; 697700, 4125100; 697700, 4125300; 697600, 4125400; 697700, 4125600; 698000, 4125700; 698200, 4125800; 698300, 4126100; 698700, 4126500; 699500, 4126500; 699600, 4126300; returning to 699300, 4126300;

(iv) Unit 23D: Merced County, California. From USGS 1:24,000 scale quadrangle Arena and Turner Ranch. Land bounded by the following UTM Zone 10, NAD 83 coordinates (E,N): 706700, 4122100; 706800, 4120900; 706700, 4120500; 706700, 4119700; 708100, 4119700; 708100, 4119600; 708000, 4119500; 707900, 4119200; 707900, 4119000; 708000, 4118900; 708300, 4118900; 708300, 4118100; 707900, 4118100; 707500, 4118500; 706500, 4118500; 706000, 4118900; 705600, 4119300; 705200, 4119700; 704800, 4120000; 704700, 4120100; 704700, 4120400; 705100, 4120400; 705100, 4120600; 704900, 4120700; 704900, 4120800; 705100, 4120800; 704900, 4121000; 705000, 4121100; 705100, 4121700; 705200, 4121700; 705300, 4122000; 705700, 4122100; 705700, 4122200; 705400, 4122300; 705300, 4122400; 705500, 4122600; 705400, 4122600; 705300, 4122500; 705200, 4122500; 705100, 4122500; 704900, 4122500; 704900, 4122700; 704800, 4122800; 704500, 4122800; 704300, 4122900; 704000, 4122800; 703900, 4122900; 703400, 4124400; 703300, 4124600; 701300, 4126500; 700100, 4127600; 700467, 4129067; 700500, 4129200; 700500, 4130600; 701000, 4130600; 701000, 4130100; 701100, 4129800; 701200, 4129800; 701100, 4130100; 701100, 4130600; 701700, 4130600; 701700, 4129200; 701800, 4129200; 702800, 4129200; 703000, 4128800; 703300, 4128800; 703900,4128800; 703900, 4129000; 704200, 4129000; 704200, 4128500; 703300,4128400; 703400, 4128300; 703400, 4127900; 703500,4127800; 703800, 4127500; 703700, 4127300; 703500, 4127300; 703400,4127100; 703400, 4126100; 703500, 4126100; 704400, 4126100; 704300, 4126000; 704400, 4125900; 704500, 4125300; 704500, 4124800; 705000, 4124800; 705000, 4125300; 705700, 4125300; 705700, 4124900; 706600, 4125000; 706700, 4123700; returning to 706700, 4122100;

(v) Unit 23E: Merced County, California. From USGS 1:24,000 scale quadrangle Sandy Mush and Turner Ranch. Land bounded by the following UTM Zone 10, NAD 83 coordinates (E,N): 706700, 4122100; 711500, 4122200; 711500, 4121700; 711500, 4121200; 709900, 4121300; 709900, 4121900; 709800, 4121900; 709800, 4121800; 709700, 4121500; 709500, 4121500; 709300, 4121600; 708800, 4121400; 708700, 4121300; 706800, 4121300; returning to 706700, 4122100;

(vi) Unit 23F: Merced County, California. From USGS 1:24,000 scale quadrangle Sandy Mush and Turner Ranch. Land bounded by the following UTM Zone 10, NAD 83 coordinates (E,N): 711200, 4120500; 711400, 4120400; 711500, 4120500; 711600, 4119600; 711900, 4119600; 711900,4119400; 712100, 4119300; 712300, 4119300; 712300, 4119200; 712600, 4119200; 712800, 4118800; 711600, 4118700; 711600, 4118500; 711400, 4118500; 711300, 4118400; 711100, 4118100; 709900, 4118100; 709900, 4118800; 709900, 4119000; 709700, 4119000; 709700, 4119600; 710300, 4119600; 710300, 4119900; 710700, 4119900; 710700, 4120000; 710600, 4120000; 710600, 4120100; 710700, 4120200; 710600, 4120300; 710700, 4120400; 710700, 4120500; 710900, 4120400; 711100, 4120400; returning to 711200, 4120500;

(vii) Unit 23G: Merced County, California. From USGS 1:24,000 scale quadrangle Sandy Mush. Land bounded by the following UTM Zone 10, NAD 83 coordinates (E,N): 714600, 4115000; 713300, 4115000; 713100, 4115300; 713300, 4115300; 713800, 4115400; 713800, 4116600; 715400, 4116600; 715500, 4116500; 715500, 4115818; 714600, 4115800; returning to 714600, 4115000;

(viii) Unit 23H: Merced County, California. From USGS 1:24,000 scale quadrangle El Nido and Sandy Mush. Land bounded by the following UTM Zone 10, NAD 83 coordinates (E,N): 718900, 4120900; 718900, 4120000; 719300, 4120000; 719400, 4120200; 719600, 4120100; 720200, 4120100; 720300, 4120200; 720700, 4120200; 720900, 4120000; 721500, 4120000; 721600, 4120100; 722000, 4120100; 722100, 4120000; 722200, 4120200; 722200, 4120300; 722900, 4120300; 722900, 4119600; 722100, 4119500; 722200, 4118400; 725400, 4118500; 725400, 4118578; 726100, 4118600; 726100, 4120100; 728600, 4120100; 728600, 4119200; 727800, 4119200; 727700, 4118600; 727600, 4118500; 727500, 4118500; 727500, 4118400; 727500, 4116900; 726800, 4116900; 726700, 4116900; 726800, 4115300; 725900, 4115300; 725900, 4116900; 724300, 4116900; 724300, 4117600; 722694, 4117506; 722600, 4117600; 721800, 4117600; 721800, 4118400; 720200, 4118400; 720200, 4117600; 719400, 4117600; 719400, 4116700; 718600, 4116700; 718600, 4117100; 718200, 4117100; 718200, 4117200; 718300, 4117300; 718400, 4117400; 718600, 4117400; 718600, 4117500; 718600, 4118291; 718900, 4118300; 718900, 4118900; 718800, 4119000; 718700, 4119000; 718600, 4119100; 717700, 4119100; 717700, 4119900; 718100, 4119900; 718100, 4119950; 718100, 4120000; 718500, 4120000; 718500, 4120900; returning to 718900, 4120900;

(ix) Unit 23I: Merced County, California. From USGS 1:24,000 scale quadrangle Sandy Mush. Land bounded by the following UTM Zone 10, NAD 83 coordinates (E,N): 721300, 4120800; 720500, 4120800; 720500, 4121600; 721300, 4121600; 721300, 4121200; returning to 721300, 4120800;

(x) Unit 23J: Merced County, California. From USGS 1:24,000 scale quadrangle El Nido. Land bounded by the following UTM Zone 10, NAD 83 coordinates (E,N): 722900, 4121800; 721800, 4121800; 722200, 4122500; 722900, 4122500; returning to 722900, 4121800;

(xi) Unit 23K: Merced County, California. From USGS 1:24,000 scale quadrangle Plainsburg and El Nido. Land bounded by the following UTM Zone 10, NAD 83 coordinates (E,N): 731700, 4117000; 730400, 4117000; 730400, 4118600; 730200, 4118600; 730100, 4119300; 730000, 4119700; 730000, 4119900; 730100, 4120200; 730900, 4120200; 730900, 4121400; 731300, 4121500; 731800, 4121400; 732700, 4121300; 734000, 4121200; 734200, 4121100; 734200, 4120300; 733400, 4120300; 733400, 4118700; 731700, 4118700; returning to 731700, 4117000.

(xii) Note: Unit 23 (Map 9) follows:

BILLING CODE 4310-55-P

BILLING CODE 4310-55-C

(30) Unit 24: Madera County, California.

(i) Unit 24A: Madera County, California. From USGS 1:24,000 scale quadrangle Little Table Mountain, Daulton, Lanes Bridge, and Gregg. Land bounded by the following UTM Zone 10, NAD 83 coordinates (E,N): 775948, 4105456; 775999, 4105450; 776120, 4105477; 776212, 4105561; 776272, 4105591; 776338, 4105583; 776404, 4105519; 776449, 4105460; 776460, 4105422; 776461, 4105333; 776454, 4105310; 776453, 4105259; 776440, 4105190; 776403, 4105067; 776342, 4104912; 776338, 4104874; 776344, 4104834; 776389, 4104794; 776390, 4104794; 776511, 4104930; 776669, 4105060; 776888, 4105057; 777034, 4105112; 777089, 4105117; 777174, 4105104; 777227, 4105114; 777322, 4105160; 777452, 4105307; 777505, 4105311; 777525, 4105303; 777569, 4105287; 777611, 4105253; 777630, 4105233; 777676, 4105204; 777716, 4105178; 777254, 4104608; 776860, 4104161; 777386, 4103739; 777417, 4103722; 777478, 4103724; 777556, 4103747; 777592, 4103745; 777628, 4103729; 777649, 4103704; 777655, 4103686; 777652, 4103610; 777595, 4103484; 777574, 4103361; 777542, 4103322; 777483, 4103277; 777424, 4103214; 777425, 4103166; 777452, 4103116; 777471, 4103096; 777503, 4103036; 777500, 4102977; 777455, 4102796; 777458, 4102704; 777472, 4102666; 777490, 4102639; 777701, 4102491; 777761, 4102460; 777902, 4102427; 778037, 4102384; 778066, 4102347; 778094, 4102274; 778118, 4102255; 778167, 4102239; 778212, 4102243; 778340, 4102295; 778379, 4102282; 778505, 4102141; 778562, 4102125; 778633, 4102132; 778720, 4102092; 778766, 4102096; 778798, 4102120; 778918, 4102254; 778976, 4102268; 778997, 4102264; 779059, 4102223; 779095, 4102209; 779762, 4102193; 779897, 4102172; 780079, 4102219; 780132, 4102236; 780185, 4102235; 780236, 4102217; 780360, 4102089; 780617, 4101823; 780666, 4101774; 780673, 4101764; 780682, 4101751; 780688, 4101743; 780713, 4101714; 780759, 4101634; 780761, 4101576; 780738, 4101514; 780687, 4101446; 780591, 4101336; 780514, 4101212; 780513, 4101163; 780527, 4101126; 780569, 4101089; 780939, 4100827; 781071, 4100686; 781076, 4100683; 781136, 4100645; 781561, 4100454; 781645, 4100459; 781800, 4100538; 781863, 4100561; 781925, 4100540; 781944, 4100528; 782075, 4100451; 782128, 4100455; 782347, 4100528; 782403, 4100533; 782429, 4100521; 782457, 4100499; 782535, 4100382; 782587, 4100338; 782809, 4100244; 782840, 4100222; 782884, 4100193; 782929, 4100075; 783072, 4099907; 783203, 4099779; 783268, 4099756; 783377, 4099744; 783662, 4099749; 783703, 4099735; 783743, 4099676; 783751, 4099641; 783755, 4099621; 783767, 4099609; 783768, 4099584; 783781, 4099548; 783795, 4099504; 783827, 4099471; 783858, 4099445; 783890, 4099424; 783916, 4099399; 783946, 4099382; 784056, 4099380; 784184, 4099372; 784246, 4099369; 784263, 4099375; 784300, 4099370; 784342, 4099377; 784378, 4099391; 784414, 4099405; 784438, 4099417; 784462, 4099430; 784493, 4099442; 784516, 4099445; 784536, 4099439; 784561, 4099422; 784574, 4099398; 784593, 4099356; 784601, 4099324; 784620, 4099288; 784627, 4099259; 784651, 4099241; 784652, 4099240; 784671, 4099217; 784701, 4099206; 784733, 4099188; 784758, 4099176; 784776, 4099164; 784801, 4099153; 784820, 4099143; 784845, 4099124; 784876, 4099102; 784907, 4099085; 784944, 4099056; 784970, 4099032; 784995, 4099006; 785020, 4098984; 785040, 4098960; 785046, 4098935; 785059, 4098917; 785060, 4098888; 785073, 4098858; 785074, 4098834; 785068, 4098801; 785061, 4098785; 785052, 4098764; 785041, 4098739; 785024, 4098708; 785006, 4098676; 784995, 4098640; 784978, 4098615; 784967, 4098591; 784960, 4098572; 784968, 4098548; 784993, 4098525; 785024, 4098508; 785062, 4098476; 785086, 4098473; 785117, 4098442; 785130, 4098431; 785143, 4098395; 785152, 4098345; 785159, 4098279; 785168, 4098231; 785176, 4098163; 785184, 4098120; 785184, 4098108; 785204, 4098054; 785220, 4097988; 785238, 4097931; 785246, 4097885; 785247, 4097853; 785237, 4097805; 785216, 4097736; 785199, 4097682; 785188, 4097625; 785182, 4097596; 785190, 4097576; 785209, 4097535; 785235, 4097499; 785266, 4097451; 785286, 4097422; 785312, 4097385; 785325, 4097349; 785320, 4097300; 785329, 4097245; 785330, 4097202; 785337, 4097165; 785350, 4097153; 785362, 4097142; 785387, 4097137; 785386, 4097154; 785380, 4097178; 785336, 4098764; 785334, 4098821; 785334, 4098823; 785325, 4099157; 785658, 4099178; 785746, 4097781; 787243, 4097875; 787331, 4096478; 786932, 4096452; 786601, 4096933; 786208, 4096807; 786246, 4096208; 786258, 4096009; 785453, 4095958; 784661, 4095908; 784661, 4095908; 784662, 4095507; 784662, 4094305; 784681, 4094005; 780582, 4093847; 779783, 4093796; 776583, 4093695; 776463, 4095591; 776657, 4095704; 778160, 4095698; 778053, 4097395; 778858, 4097346; 778857, 4098949; 779656, 4099000; 779555, 4100597; 776348, 4100594; 776551, 4095797; 776451, 4095791; 773656, 4095615; 771760, 4095495; 771697, 4096493; 771652, 4098795; 773554, 4098815; 773553, 4100418; 769954, 4100291; 769935, 4100590; 771238, 4102176; 772086, 4103031; 772447, 4103655; 772896, 4104485; 774373, 4106482; 774835, 4107052; 774846, 4107045; 774850, 4107042; 774860, 4107038; 774885, 4106988; 774910, 4106826; 774924, 4106643; 774919, 4106604; 774912, 4106536; 774917, 4106473; 774975, 4106381; 774999, 4106361; 775134, 4106205; 775285, 4106081; 775406, 4105942; 775604, 4105742; 775620, 4105713; 775682, 4105659; 775765, 4105623; returning to 775948, 4105456;

(ii) Unit 24B: Fresno County, California. From USGS 1:24,000 scale quadrangle Friant. Land bounded by the following UTM Zone 10, NAD 83 coordinates (E,N): 793782, 4099090; 793994, 4098902; 794194, 4098915; 794306, 4098722; 794618, 4098541; 794831, 4098354; 795529, 4098398; 795835, 4098317; 796228, 4098442; 796403, 4098854; 797089, 4099098; 797289, 4099111; 797588, 4099129; 798930, 4098512; 798743, 4098300; 798244, 4098269; 797832, 4098443; 797863, 4097944; 797670, 4097832; 797577, 4097725; 797583, 4097626; 797589, 4097526; 797989, 4097551; 798007, 4097252; 797708, 4097233; 797721, 4097033; 797920, 4097046; 797926, 4096946; 797446, 4096615; 796479, 4096053; 796018, 4095422; 794932, 4095153; 794203, 4094004; 794215, 4093805; 794515, 4093824; 795494, 4094186; 796549, 4093351; 797229, 4093694; 797760, 4093226; 797848, 4091829; 797655, 4091716; 797580, 4091310; 796372, 4090700; 796318, 4090707; 796265, 4090961; 796301, 4090929; 796262, 4090975; 796072, 4091876; 796159, 4092137; 796200, 4092206; 796282, 4092261; 796330, 4092663; 796160, 4093099; 796056, 4093364; 795805, 4093706; 795727, 4093853; 795710, 4093880; 795603, 4094060; 795291, 4093982; 794825, 4093866; 794320, 4093746; 794171, 4093710; 794163, 4093773; 794145, 4093931; 794183, 4094110; 794269, 4094203; 794321, 4094260; 794475, 4094454; 794503, 4094666; 794724, 4094985; 794665, 4095138; 794826, 4095644; 794644, 4095919; 794496, 4096144; 794468, 4096427; 794455, 4096564; 793663, 4097789; 793626, 4098378; 793513, 4098371; 793423, 4098551; 793475, 4098842; 793327, 4099109; 793333, 4099147; 793270, 4099175; 793237, 4099239; 793463, 4099370; 793563, 4099377; 793769, 4099289; returning to 793782, 4099090;

(31) Unit 25: Madera County, California. From USGS 1:24,000 scale quadrangle Millerton Lake East. Land bounded by the following UTM Zone 10, NAD 83 coordinates (E,N): 804045, 4111166; 804569, 4110798; 804807, 4110212; 804938, 4109719; 804571, 4109194; 803572, 4109131; 803260, 4109312; 803222, 4109911; 803359, 4110922; 802579, 4110572; 802254, 4110952; 801755, 4110921; 801473, 4112206; 801947, 4112637; 802009, 4113242; 801391, 4113504; 801578, 4113716; 801627, 4114521; 801820, 4114634; 803618, 4114748; 803836, 4114461; 803787, 4113656; 802720, 4113087; 802839, 4112794; 803158, 4112513; 803788, 4112052; returning to 804045, 4111166;

(32) Note: Units 24-25 (Map 10) follow:

BILLING CODE 4310-55-P

BILLING CODE 4310-55-C

(33) Unit 26: Tulare and Kings Counties, California.

(i) Unit 26A: Tulare and Kings Counties, California. From USGS 1:24,000 scale quadrangle Monson, Traver, Burris Park, and Remnoy. Land bounded by the following UTM Zone 10, NAD 83 coordinates (E,N): 828797, 4041134; 828810, 4040935; 829509, 4040978; 829634, 4040585; 829709, 4039386; 830449, 4039621; 830453, 4039463; 830420, 4039230; 829721, 4039186; 829521, 4039174; 829509, 4039374; 828304, 4039399; 828279, 4039798; 827580, 4039755; 827605, 4039355; 827205, 4039330; 827280, 4038132; 826381, 4038076; 826400, 4037776; 825601, 4037726; 825582, 4038026; 824877, 4038082; 824895, 4037782; 822892, 4037758; 822929, 4037159; 821031, 4037041; 821075, 4036342; 820575, 4036310; 820606, 4035811; 820207, 4035786; 820157, 4034981; 820200, 4034282; 818203, 4034157; 818222, 4033858; 817135, 4033589; 816842, 4033471; 816667, 4033059; 816274, 4032935; 816181, 4032934; 814570, 4032928; 813902, 4032386; 813727, 4031974; 813565, 4031362; 813284, 4031044; 812996, 4030826; 812891, 4032523; 813790, 4032579; 814252, 4033209; 814539, 4033428; 814851, 4034164; 814889, 4034252; 815581, 4034395; 816256, 4034838; 817560, 4034819; 816992, 4035886; 818490, 4035980; 819364, 4036436; 819770, 4036360; 820900, 4037534; 821693, 4037683; 822542, 4038539; 824646, 4038569; 824846, 4038582; 826344, 4038675; 826313, 4039175; 825507, 4039225; 825445, 4040223; 827043, 4040323; 827100, 4041028; returning to 828797, 4041134;

(ii) Unit 26B: Tulare County, California. From USGS 1:24,000 scale quadrangle Monson. Land bounded by the following UTM Zone 10, NAD 83 coordinates (E,N): 831257, 4040285; 831281, 4039895; 831228, 4039894; 831226, 4040265; 830457, 4040256; 830452, 4040335; returning to 831257, 4040285;

(iii) Unit 26C: Tulare County, California. From USGS 1:24,000 scale quadrangle Monson. Land bounded by the following UTM Zone 10, NAD 83 coordinates (E,N): 835309, 4039635; 834510, 4039585; 834460, 4040384; 835259, 4040434; returning to 835309, 4039635;

(iv) Unit 26D: Tulare County, California. From USGS 1:24,000 scale quadrangle Ivanhoe. Land bounded by the following UTM Zone 10, NAD 83 coordinates (E,N): 837863, 4043705; 837178, 4043663; 837165, 4044455; 837527, 4044471; 837510, 4044925; 837253, 4045186; 836546, 4045165; 836550, 4044829; 836726, 4044828; 836732, 4044453; 836753, 4044453; 836777, 4043638; 836764, 4043637; 836765, 4043628; 835983, 4043614; 835959, 4043687; 836040, 4043993; 836433, 4044117; 836365, 4045216; 837164, 4045266; 836733, 4045741; 838331, 4045841; 838338, 4045740; 837838, 4045710; 837919, 4044411; 837819, 4044405; returning to 837863, 4043705;

(v) Unit 26E: Tulare County, California. From USGS 1:24,000 scale quadrangle Monson. Land bounded by the following UTM Zone 10, NAD 83 coordinates (E,N): 831258, 4037878; 830508, 4037831; 830507, 4037837; 830510, 4037837; 830495, 4038113; 830867, 4038116; 831249, 4038123; returning to 831258, 4037878;

(vi) Unit 26F: Tulare County, California. From USGS 1:24,000 scale quadrangle Monson. Land bounded by the following UTM Zone 10, NAD 83 coordinates (E,N): 832081, 4039935; 832106, 4039535; 832038, 4039531; 831991, 4039595; 831752, 4039679; 831748, 4039853; 832035, 4039864; 832031, 4039913; 831542, 4039901; 832081, 4039935; returning to 832081, 4039935;

(vii) Note: Unit 26 (Map 11) follows:

BILLING CODE 4310-55-P

BILLING CODE 4310-55-C

(34) Unit 27: Tulare County, California.

(i) Unit 27A: Tulare County, California. From USGS 1:24,000 scale quadrangle Taylor Weir, Corcoran, and Alpaugh. Land bounded by the following UTM Zone 10, NAD 83 coordinates (E,N): 816702, 4000178; 816908, 4000090; 818306, 4000177; 818405, 3998578; 819903, 3998671; 820002, 3997073; 818403, 3996974; 818502, 3995377; 819301, 3995426; 819351, 3994627; 820149, 3994676; 820199, 3993877; 820248, 3993078; 820297, 3992279; 819399, 3992224; 819497, 3990626; 819996, 3990656; 820064, 3989558; 819765, 3989539; 819752, 3989739; 819422, 3990220; 819310, 3990414; 819104, 3990501; 817899, 3990527; 817644, 3991413; 817613, 3991913; 817214, 3991888; 816659, 3992756; 816504, 3993649; 816691, 3993861; 816660, 3994360; 816960, 3994379; 816910, 3995178; 816898, 3995378; 814901, 3995254; 814802, 3996852; 815201, 3996877; 815164, 3997476; 815252, 3997682; 816051, 3997731; 813905, 4000005; returning to 816702, 4000178.

(ii) Unit 27B: Tulare County, California. From USGS 1:24,000 scale quadrangle Pixley and Alpaugh. Land bounded by the following UTM Zone 10, NAD 83 coordinates (E,N): 829592, 3978113; 829568, 3978513; 829967, 3978537; 829949, 3978837; 830348, 3978862; 830293, 3979761; 826897, 3979551; 826585, 3979733; 826454, 3980226; 826324, 3980719; 826012, 3980901; 825999, 3981101; 824601, 3981014; 824320, 3980697; 825480, 3979765; 825492, 3979565; 825392, 3979559; 823495, 3979442; 822391, 3981079; 823590, 3981153; 824008, 3980878; 824201, 3980990; 824189, 3981190; 824476, 3981408; 824470, 3981508; 824570, 3981514; 824496, 3982713; 827793, 3982915; 827743, 3983715; 828543, 3983764; 828598, 3982865; 828997, 3982890; 829090, 3981391; 829090, 3981391; 830388, 3981471; 830387, 3979867; 831991, 3979865; 831897, 3979759; 831947, 3978960; 832946, 3979021; 832939, 3979121; 833039, 3979128; 832995, 3978222; 832895, 3978216; 832845, 3977419; 832047, 3977387; 831990, 3978261; 829992, 3978138; returning to 829592, 3978113;

(iii) Unit 27C: Tulare County, California. From USGS 1:24,000 scale quadrangle Pixley and Alpaugh. Land bounded by the following UTM Zone 10, NAD 83 coordinates (E,N): 829592, 3978113; 829641, 3977314; 828842, 3977265; 828848, 3977165; 828848, 3977165; 828885, 3976566; 827487, 3976480; 827450, 3977079; 827150, 3977060; 827144, 3977160; 826645, 3977130; 826700, 3976231; 825601, 3976163; 824598, 3977806; returning to 829592, 3978113;

(iv) Unit 27D: Tulare County, California. From USGS 1:24,000 scale quadrangle Delano West. Land bounded by the following UTM Zone 10, NAD 83 coordinates (E,N): 831681, 3975979; 831682, 3975780; 832114, 3975799; 832147, 3975004; 831304, 3974962; 831290, 3974961; 831213, 3976207; 832099, 3976262; 832108, 3976000; returning to 831681, 3975979;

(v) Note: Unit 27 (Map 12) follows:

BILLING CODE 4310-55-P

BILLING CODE 4310-55-C

(35) Unit 28: San Benito and Monterey Counties, California. From USGS 1:24,000 scale quadrangle Hernandez Reservoir, Rock Springs Peak, Topo Peak, Hepsedam Peak, Lonoak, Pinalito Canyon, Monarch Peak, and Nattrass Valley. Land bounded by the following UTM Zone 10, NAD 83 coordinates (E,N): 682300, 4039700; 681300, 4038600; 681600, 4037000; 681700, 4035800; 680800, 4034500; 678800, 4035200; 678000, 4036000; 677600, 4037100; 677200, 4037800; 67680, 4037900; 676100, 4038500; 675800, 4039000; 675000, 4038500; 675100, 4038000; 674700, 4037600; 673100, 4037000; 673800, 4036500; 674000, 4035500; 674700, 4035000; 675500, 4034700; 676000, 4033600; 676800, 4033300; 677600, 4032700; 678100, 4032100; 679000, 4031400; 679600, 4031200; 679900, 4031700; 679900, 4032700; 680500, 4033000; 681000, 4032500; 681500, 4031500; 682600, 4031200; 684400, 4028700; 685200, 4028700; 685500, 4028200; 687400, 4029500; 688000, 4030700; 688800, 4031100; 689700, 4031200; 691200, 4032600; 692000, 4032300; 692500, 4031600; 693200, 4031300; 693700, 4031300; 694300, 4030900; 693800, 4029500; 692600, 4028500; 693500, 4028500; 694300, 4027800; 694300, 4027200; 695100, 4026100; 696600, 4024900; 696600, 4023700; 697200, 4022600; 697900, 4022600; 698300, 4021500; 699200, 4020500; 699100, 4019400; 698500, 4019300; 698000, 4018700; 697100, 4018800; 695700, 4017900; 695400, 4016900; 695100, 4016500; 694900, 4015900; 694900, 4015000; 694857, 4014888; 694400, 4013700; 693800, 4013100; 693600, 4012100; 692400, 4010900; 692000, 4009100; 691600, 4008600; 690800, 4008600; 689500, 4009400; 689000, 4010100; 688900, 4010700; 687800, 4011000; 687100, 4011000; 685400, 4012100; 684900, 4013300; 683600, 4014100; 683400, 4014900; 682700, 4015200; 682500, 4016200; 683100, 4016600; 683100, 4017044; 683100, 4017700; 684200, 4019500; 684200, 4020500; 683400, 4022200; 681700, 4023500; 681100, 4023600; 680700, 4024400; 680600, 4025500; 679800, 4025700; 679300, 4026900; 678700, 4027300; 678100, 4026600; 677400, 4026400; 676000, 4025600; 676000, 4025000; 676600, 4024500; 676800, 4023700; 675800, 4022500; 675702, 4021862; 675600, 4021200; 675000, 4020200; 674200, 4019900; 672200, 4016700; 670800, 4015700; 670000, 4015700; 669500, 4016000; 669100, 4016700; 669600, 4017400; 669500, 4018600; 670100, 4019300; 670300, 4022200; 671000, 4023000; 672700, 4024100; 673205, 4024226; 673500, 4024300; 674800, 4026200; 674500, 4026500; 674600, 4027000; 674100, 4027300; 673000, 4026800; 672400, 4027000; 671600, 4028700; 670700, 4028700; 669700, 4028900; 669700, 4030100; 669800, 4030700; 670300, 4032100; 670700, 4035100; 671300, 4037100; 669100, 4037700; 669200, 4038600; 668700, 4040300; 669800, 4042700; 671900, 4043300; 674100, 4043500; 676000, 4045600; 677300, 4046700; 683000, 4043300; 683800, 4042200; 683700, 4040600; returning to 682300, 4039700.

(36) Note: Unit 28 (Map 13) follows:

BILLING CODE 4310-55-P

BILLING CODE 4310-55-C

(37) Unit 29: Monterey County, California.

(i) Unit 29A: Monterey County, California. From USGS 1:24,000 scale quadrangle Williams Hill and Jolon. Land bounded by the following UTM Zone 10, NAD 83 coordinates (E,N): 668500, 3981900; 668700, 3981600; 668500, 3981100; 668700, 3980600; 669400, 3980100; 669800, 3980500; 670600, 3980700; 671400, 3980600; 671400, 3979500; 671900, 3979500; 672700, 3978600; 674700, 3978600; 675400, 3978200; 674600, 3976900; 674800, 3975700; 674900, 3975567; 674900, 3975500; 674700, 3975500; 674640, 3975981; 674639, 3976224; 674609, 3976226; 674600, 3976300; 673444, 3976300; 673418, 3976654; 673400, 3976654; 673400, 3976700; 673032, 3976700; 673029, 3977031; 673830, 3977043; 673838, 3977861; 673000, 3977858; 673000, 3977900; 672261, 3977869; 672201, 3978658; 670585, 3978648; 670610, 3977800; 670600, 3977800; 670600, 3977628; 670210, 3977909; 669793, 3978209; 669403, 3978493; 669204, 3978638; 669009, 3978794; 668691, 3979047; 668676, 3979059; 668631, 3979094; 668575, 3979139; 668542, 3979154; 668427, 3979205; 668355, 3979245; 668300, 3979300; 667137, 3980172; 668155, 3980187; 668138, 3980992; 667738, 3980995; 667723, 3981807; 667320, 3981800; 667314, 3982100; 668000, 3982100; returning to 668500, 3981900;

(ii) Unit 29B: Monterey County, California. From USGS 1:24,000 scale quadrangle Valleton, Wunpost, San Miguel. Land bounded by the following UTM Zone 10, NAD 83 coordinates (E,N): 706300, 3975100; 706500, 3974400; 706400, 3971900; 706600, 3970800; 707000, 3970100; 707000, 3969400; 706800, 3969200; 706800, 3968200; 706600, 3967499; 705500, 3965500; 705400, 3965500; 705290, 3970469; 706068, 3970480; 706043, 3972930; 705235, 3972918; 705200, 3974500; 705155, 3974500; 705155, 3974504; 704931, 3974500; 704000, 3974500; 703700, 3973800; 703700, 3973400; 703229, 3972552; 703170, 3972480; 702900, 3972300; 702600, 3972000; 702500, 3971900; 701931, 3971236; 701923, 3971236; 701885, 3971200; 701600, 3971200; 701300, 3971000; 700800, 3971000; 700000, 3971000; 700000, 3970400; 699000, 3970410; 699000, 3970500; 699200, 3970700; 699800, 3972200; 700200, 3972800; 700400, 3973600; 700800, 3974300; 701300, 3974700; 701700, 3975500; 702900, 3976300; 703200, 3976900; 704200, 3977800; 704800, 3977900; 705400, 3977900; 706100, 3978300; 706700, 3978700; 706700, 3978300; 706200, 3976700; 706100, 3975500; returning to 706300, 3975100;

(iii) Unit 29C: San Luis Obispo County, California. From USGS 1:24,000 scale quadrangle Estrella, Paso Robles, Cholame Hills, Ranchito Canyon, and Creston. Land bounded by the following UTM Zone 10, NAD 83 coordinates (E,N): 725000, 3962100; 725600, 3961700; 726100, 3961700; 726100, 3961300; 725200, 3960400; 725100, 3959200; 724700, 3958300; 724300, 3956700; 724700, 3956500; 725200, 3955000; 724100, 3953600; 723800, 3952700; 723400, 3952000; 723100, 3950600; 723500, 3949700; 723500, 3949000; 724100, 3948500; 723500, 3948400; 722300, 3948900; 719200, 3948900; 719200, 3949700; 718300, 3949700; 718300, 3948900; 718900, 3948900; 719000, 3948700; 719200, 3948700; 719200, 3948100; 720000, 3948100; 720000, 3946500; 720200, 3946400; 720800, 3945700; 721000, 3945200; 721100, 3944900; 721100, 3943400; 720100, 3943400; 718700, 3942200; 717700, 3941700; 717400, 3941700; 717000, 3941900; 717200, 3942500; 715100, 3944900; 715300, 3945200; 714500, 3945900; 714800, 3946200; 714600, 3946400; 714000, 3946400; 713200, 3947000; 713200, 3947200; 713600, 3947800; 713500, 3948400; 713200, 3948700; 712800, 3947900; 712600, 3947900; 712500, 3948000; 712500, 3948800; 711600, 3949100; 711300, 3949300; 711200, 3949800; 710600, 3949900; 710500, 3950000; 710500, 3950200; 710900, 3950400; 710900, 3950600; 710600, 3950700; 709400, 3950500; 709300, 3952100; 709800, 3952800; 709800, 3954800; 709500, 3955200; 709500, 3955600; 710200, 3955600; 710400, 3955500; 711000, 3955300; 711500, 3954600; 711600, 3953600; 713900, 3953600; 714200, 3954000; 714500, 3953800; 715000, 3953700; 715300, 3953500; 715500, 3953400; 715700, 3953400; 716000, 3953700; 716500, 3953700; 716800, 3953600; 717600, 3953700; 717900, 3954200; 718500, 3954600; 718900, 3954800; 719300, 3954900; 720400, 3955600; 721400, 3956700; 722200, 3958400; 722500, 3960400; 723300, 3962100; 724200, 3962500; 724400, 3963300; 724657, 3963557; 725100, 3964000; 725100, 3963563; 725100, 3963300; returning to 725000, 3962100;

(iv) Unit 29D: San Luis Obispo and Monterey Counties, California. From USGS 1:24,000 scale quadrangle Bradley. Land bounded by the following UTM Zone 10, NAD 83 coordinates (E,N): 695400, 3963500; 695700, 3963400; 695755, 3963400; 695761, 3963087; 695592, 3963031; 695500, 3963000; 695500, 3962966; 695470, 3962965; 695500, 3961632; 695500, 3961400; 694300, 3961400; 694300, 3961200; 694200, 3961400; 694800, 3961800; 694900, 3962400; 694700, 3962800; 694730, 3963011; 694800, 3963500; 695400, 3963500;

(v) Unit 29E: Monterey and San Luis Obispo County, NIT_NUM = 20D California. From USGS 1:24,000 scale quadrangle San Miguel. Land bounded by the following UTM Zone 10, NAD 83 coordinates (E,N): 707500, 3961300; 706900, 3961300; 706900, 3961400; 706793, 3961480; 706792, 3961534; 706809, 3962857; 706650, 3962895; 706543, 3962948; 706490, 3963003; 706410, 3963007; 706288, 3963052; 706477, 3963218; 706800, 3963500; 707600, 3963500; 707563, 3963241; 707500, 3962800; 707900, 3962500; 708100, 3962000; returning to 707500, 3961300;

(vi) Unit 29F: San Luis Obispo County, California. From USGS 1:24,000 scale quadrangle San Miguel. Land bounded by the following UTM Zone 10, NAD 83 coordinates (E,N): 705600, 3959800; 705900, 3959400; 705949, 3959103; 705635, 3959098; 705626, 3959502; 705300, 3959498; 705300, 3961100; 705464, 3961118; 706200, 3961125; 706200, 3961100; 706000, 3961000; 705600, 3959800;

(vii) Unit 29G: San Luis Obispo County, California. From USGS 1:24,000 scale quadrangle San Miguel and Paso Robles. Land bounded by the following UTM Zone 10, NAD 83 coordinates (E,N): 705700, 3957100; 705311, 3957100; 705300, 3957657; 705300, 3958689; 706287, 3958704; 706600, 3958600; 706900, 3958000; 706900, 3957600; 706400, 3957200; returning to 705700, 3957100;

(viii) Unit 29H: San Luis Obispo, California. From USGS 1:24,000 scale quadrangle Paso Robles and Adelaida. Land bounded by the following UTM Zone 10, NAD 83 coordinates (E,N): 705800, 3956500; 706300, 3956000; 707900, 3956100; 707900, 3955400; 708100, 3955100; 707600, 3954000; 707300, 3953600; 705700, 3952600; 705000, 3952800; 703200, 3952200; 703000, 3952200; 703000, 3953500; 702200, 3953500; 702113, 3954196; 703041, 3955028; 705352, 3955079; 705351, 3955100; 705400, 3955100; 705328, 3956248; 705319, 3956700; 705400, 3956700; returning to 705800, 3956500;

(ix) Note: Unit 29 (Map 14) follows:

BILLING CODE 4310-55-P

BILLING CODE 4310-55-C

(38) Unit 30: San Luis Obispo County, California. From USGS 1:24,000 scale quadrangle Simmler. Land bounded by the following UTM Zone 10, NAD 83 coordinates (E,N): 774375, 3914002; 777312, 3913479; 778710, 3913564; 779726, 3913325; 780573, 3912575; 780827, 3911688; 779496, 3910506; 779321, 3910094; 780960, 3909492; 781390, 3909017; 782948, 3908110; 783520, 3906942; 783765, 3906725; 783760, 3906724; 782946, 3906690; 782936, 3906690; 782156, 3906654; 782132, 3906653; 782082, 3908301; 780768, 3908263; 780485, 3908255; 780490, 3908031; 780522, 3906619; 779393, 3906593; 777627, 3906558; 777613, 3906978; 777456, 3906974; 777388, 3907272; 777578, 3909087; 777442, 3909680; 774998, 3910333; 772742, 3911198; 772708, 3913400; 773483, 3913848; returning to 774375, 3914002;

(39) Note: Unit 30 (Map 15) follows:

BILLING CODE 4310-55-P

BILLING CODE 4310-55-C

(40) Unit 31: Santa Barbara County, California. From USGS 1:24,000 scale quadrangle Figueroa Mtn., Los Olivos, Lake Cachuma, and Santa Ynez. Land bounded by the following UTM Zone 10, NAD 83 coordinates (E,N): 775060, 3831898; 774653, 3831857; 774200, 3831800; 773600, 3831900; 772500, 3831800; 772100, 3831400; 771400, 3831500; 770400, 3831000; 769800, 3830900; 769300, 3831100; 769100, 3831300; 768500, 3832600; 768500, 3833300; 768700, 3833700; 769900, 3834700; 770200, 3834700; 771157, 3834982; 772300, 3835300; 772800, 3835000; 773100, 3835000; 773100, 3835300; 773700, 3835300; 773700, 3835700; 773600, 3836100; 773200, 3836900; 773800, 3837100; 774300, 3836500; 774928, 3836289; 774935, 3836124; 775060, 3831898; UTM NAD83 Zone 11N: 225515, 3836830; 226600, 3838500; 228200, 3839300; 229800, 3839000; 232200, 3840500; 232400, 3841700; 232300, 3842700; 231600, 3843100; 230300, 3844900; 230000, 3846200; 230800, 3846400; 231200, 3846200; 231700, 3846200; 232000, 3846500; 232800, 3847000; 233800, 3847000; 234500, 3846400; 234700, 3845600; 235200, 3845600; 235900, 3844500; 236400, 3844200; 236400, 3843800; 235900, 3843600; 235500, 3843000; 235200, 3842900; 235100, 3842800; 235100, 3842000; 235300, 3841300; 235200, 3840700; 234700, 3840000; 234900, 3839700; 234600, 3839500; 234600, 3839300; 233800, 3839300; 233100, 3838200; 232900, 3838000; 232300, 3837900; 232100, 3838200; 231800, 3838400; 231400, 3838500; 230700, 3837700; 230800, 3837200; 230300, 3836600; 230100, 3836100; 230000, 3835700; 229100, 3835300; 228900, 3834900; 228800, 3833800; 228000, 3833300; 227400, 3833200; 227000, 3832800; 226700, 3832400; 226100, 3832400; 225800, 3832500; 225200, 3832000; 225000, 3831900; 224752, 3831904; 224835, 3834499; 224871, 3835728; 224904, 3836287; 225100, 3836200; 225372, 3836544; 225515, 3836830;

(41) Note: Unit 31 (Map 16) follows:

BILLING CODE 4310-55-P

BILLING CODE 4310-55-C

(42) Unit 32: Ventura County, California. From USGS 1:24,000 scale quadrangle Alamo Mountain, Lockwood Valley, San Guillermo, Topatopa Mountains, Lion Canyon. Land bounded by the following UTM Zone 10, NAD 83 coordinates (E,N): 864689, 3849170; 865272, 3847801; 866149, 3846550; 867028, 3843593; 867093, 3842494; 867037, 3842150; 866579, 3839353; 865815, 3838706; 865267, 3839476; 864068, 3839404; 863282, 3837452; 861766, 3835957; 860385, 3835574; 859656, 3836032; 858662, 3835872; 857481, 3835501; 856246, 3836030; 854941, 3836052; 853594, 3836774; 852265, 3837196; 851706, 3838166; 850507, 3838094; 849284, 3838422; 848261, 3838762; 847708, 3839632; 847788, 3841642; 849375, 3841937; 851020, 3842938; 851266, 3843856; 853063, 3845668; 853362, 3847390; 854407, 3848355; 855307, 3848409; 857217, 3848323; 859016, 3848430; 859968, 3849289; 861343, 3849773; 862794, 3850662; 863971, 3849428; returning to 864689, 3849170;

(43) Note: Unit 32 (Map 17) follows:

BILLING CODE 4310-55-P

BILLING CODE 4310-55-C

Vernal Pool Tadpole Shrimp (Lepidurus packardi)

(1) Critical habitat units are depicted for Alameda, Amador, Butte, Colusa, Fresno, Kings, Madera, Mariposa, Merced, Sacramento, Shasta, Solano, Stanislaus, Tehama, Tulare, Yolo, and Yuba counties, California, on the map below.

(2) The primary constituent elements of critical habitat for vernal pool tadpole shrimp (Lepidurus packardi) are the habitat components that provide:

(i) Topographic features characterized by mounds and swales and depressions within a matrix of surrounding uplands that result in complexes of continuously, or intermittently, flowing surface water in the swales connecting the pools described below in paragraph (2)(ii), providing for dispersal and promoting hydroperiods of adequate length in the pools;

(ii) Depressional features including isolated vernal pools with underlying restrictive soil layers that become inundated during winter rains and that continuously hold water for a minimum of 41 days, in all but the driest years; thereby providing adequate water for incubation, maturation, and reproduction. As these features are inundated on a seasonal basis, they do not promote the development of obligate wetland vegetation habitats typical of permanently flooded emergent wetlands;

(iii) Sources of food, expected to be detritus occurring in the pools, contributed by overland flow from the pools' watershed, or the results of biological processes within the pools themselves, such as single-celled bacteria, algae, and dead organic matter, to provide for feeding; and

(iv) Structure within the pools described above in paragraph (2)(ii), consisting of organic and inorganic materials, such as living and dead plants from plant species adapted to seasonally inundated environments, rocks, and other inorganic debris that may be washed, blown, or otherwise transported into the pools, that provide shelter.

(3) Existing manmade features and structures, such as buildings, roads, railroads, airports, runways, other paved areas, lawns, and other urban landscaped areas do not contain one or more of the primary constituent elements. Federal actions limited to those areas, therefore, would not trigger a consultation under section 7 of the Act unless they may affect the species and/or primary constituent elements in adjacent critical habitat.

(4) Unit 1: Shasta County, California. From USGS 1:24,000 scale quadrangle Palo Cedro, Enterprise, Balls Ferry, and Cottonwood. Land bounded by the following UTM Zone 10, NAD 83 coordinates (E,N): 562500, 4487400; 562700, 4487100; 562900, 4487200; 563200, 4487200; 563300, 4487000; 563300, 4486700; 563800, 4486400; 564300, 4484700; 564300, 4484400; 564500, 4484100; 564500, 4483800; 564600, 4483700; 564600, 4483400; 564400, 4483100; 564100, 4482800; 564100, 4482600; 564300, 4482600; 564300, 4482400; 564300, 4482300; 564200, 4482200; 564100, 4482100; 564000, 4482100; 564200, 4481800; 564200, 4480900; 563600, 4480900; 563300, 4481000; 563100, 4480900; 562900, 4480900; 562500, 4481200; 562400, 4481500; 562400, 4481700; 562300, 4482400; 562000, 4482500; 561900, 4482800; 561800, 4483300; 561500, 4483700; 561000, 4484000; 560700, 4485400; 560700, 4486500; 560800, 4486700; 561000, 4486900; 561200, 4487000; 561300, 4487600; 561600, 4487900; 562000, 4487900; returning to 562500, 4487400;

(5) Unit 2: Shasta County, California.

(i) Unit 2A: Shasta County, California. From USGS 1:24,000 scale quadrangle Balls Ferry. Land bounded by the following UTM Zone 10, NAD 83 coordinates (E,N): 570448, 4472017; 570459, 4471725; 570459, 4471725; 570459, 4471724; 570408, 4471708; 570382, 4471714; 570356, 4471741; 570335, 4471767; 570304, 4471767; 570298, 4471772; 570279, 4471768; 570240, 4471758; 570210, 4471761; 570196, 4471743; 570183, 4471738; 570173, 4471734; 570160, 4471705; 570156, 4471680; 570156, 4471678; 570150, 4471671; 570139, 4471657; 570139, 4471654; 570139, 4471645; 570118, 4471628; 570092, 4471624; 570089, 4471624; 570071, 4471623; 570054, 4471623; 570006, 4471624; 569975, 4471641; 569952, 4471639; 569913, 4471639; 569893, 4471626; 569866, 4471623; 569852, 4471624; 569821, 4471597; 569810, 4471574; 569789, 4471573; 569761, 4471574; 569757, 4471575; 569735, 4471544; 569722, 4471574; 569676, 4471581; 569658, 4471581; 569644, 4471584; 569625, 4471584; 569605, 4471585; 569557, 4471585; 569534, 4471593; 569517, 4471599; 569494, 4471607; 569465, 4471615; 569438, 4471622; 569415, 4471629; 569400, 4471629; 569400, 4471687; 569400, 4471800; 569600, 4471900; 569600, 4472000; 569900, 4472200; 570200, 4472100; returning to 570448, 4472017;

(ii) Unit 2B: Shasta and Tehama Counties, California. From USGS 1:24,000 scale quadrangle Shingletown, Tuscan Buttes NE, Balls Ferry, Dales, Bend, and Red Bluff East. Land bounded by the following UTM Zone 10, NAD 83 coordinates (E,N): 583610, 4475072; 583700, 4475000; 584200, 4475200; 584600, 4475200; 585400, 4474500; 586000, 4473600; 586100, 4473400; 585800, 4472600; 585500, 4472100; 584800, 4471900; 584500, 4471600; 584500, 4471400; 584700, 4471100; 584700, 4470800; 584500, 4470500; 583400, 4469700; 583100, 4469400; 582600, 4468500; 582600, 4467600; 582700, 4466900; 582700, 4466700; 581900, 4465800; 581000, 4465500; 580600, 4465200; 580400, 4464000; 580200, 4463300; 578900, 4462700; 578500, 4462300; 578100, 4462000; 577800, 4460900; 577700, 4460000; 576700, 4459300; 576600, 4458800; 576800, 4458300; 576800, 4457100; 576400, 4456700; 575500, 4456800; 574900, 4456800; 574100, 4455900; 573500, 4455600; 572300, 4455300; 572000, 4455300; 571600, 4455600; 571400, 4455400; 571100, 4454900; 570600, 4454900; 570200, 4454800; 570200, 4455000; 570600, 4455900; 570000, 4456100; 569500, 4456300; 569300, 4456500; 568900, 4456500; 568600, 4456500; 568000, 4456800; 567900, 4457100; 567900, 4458000; 568400, 4458800; 569100, 4459800; 569600, 4460500; 569500, 4460800; 569000, 4460600; 568300, 4460700; 567500, 4460700; 566800, 4460000; 566400, 4460000; 565900, 4461100; 565800, 4461400; 565800, 4461700; 566000, 4462000; 565800, 4462300; 565900, 4462400; 565800, 4462500; 565900, 4462600; 565800, 4462800; 565900, 4462900; 565900, 4463000; 566000, 4463100; 566300, 4463100; 566500, 4463300; 566500, 4463600; 566700, 4463700; 566800, 4463700; 566900, 4463600; 567100, 4463500; 567200, 4463600; 567600, 4463400; 568300, 4463200; 569800, 4463200; 570600, 4463900; 570800, 4464300; 572000, 4465200; 572000, 4466300; 572100, 4466600; 572800, 4467300; 573500, 4468600; 573400, 4469000; 573100, 4469400; 572900, 4469600; 572600, 4469600; 571800, 4468800; 571400, 4468100; 571000, 4467900; 571000, 4468700; 571200, 4468700; 571100, 4469200; 571200, 4469500; 571200, 4470500; 570500, 4470900; 570460, 4470920; 570460, 4470932; 570466, 4470931; 570461, 4471354; 570786, 4471349; 571229, 4471353; 571235, 4471908; 571236, 4471912; 571238, 4471962; 571244, 4471992; 571237, 4472042; 571244, 4472069; 571247, 4472123; 571249, 4472164; 571271, 4472165; 571363, 4472165; 571405, 4472139; 571460, 4472143; 571460, 4472143; 571467, 4472144; 571524, 4472166; 571541, 4472166; 571635, 4472166; 571647, 4472171; 571714, 4472199; 571723, 4472200; 571739, 4472200; 571900, 4472200; 572154, 4472285; 572154, 4472284; 572156, 4472284; 572159, 4472227; 572162, 4472225; 572168, 4472227; 572181, 4472226; 572208, 4472225; 572219, 4472223; 572231, 4472219; 572241, 4472217; 572282, 4472215; 572307, 4472215; 572325, 4472213; 572332, 4472212; 572500, 4472100; 573900, 4472100; 574151, 4472791; 574207, 4472814; 574212, 4472816; 574219, 4472814; 574238, 4472808; 574256, 4472804; 574271, 4472800; 574293, 4472798; 574321, 4472797; 574342, 4472798; 574360, 4472803; 574369, 4472807; 574384, 4472811; 574403, 4472815; 574428, 4472823; 574450, 4472828; 574469, 4472831; 574483, 4472832; 574489, 4472834; 574488, 4472924; 574488, 4472933; 574488, 4472941; 574487, 4472952; 574487, 4472951; 574459, 4472946; 574443, 4472942; 574425, 4472940; 574411, 4472938; 574397, 4472937; 574391, 4472934; 574379, 4472930; 574373, 4472928; 574365, 4472924; 574356, 4472921; 574353, 4472920; 574342, 4472919; 574346, 4472925; 574358, 4472955; 574465, 4473021; 574448, 4473020; 574445, 4473038; 574336, 4472971; 574326, 4472947; 574297, 4472920; 574278, 4472922; 574261, 4472941; 574253, 4472951; 574231, 4472975; 574223, 4472987; 574300, 4473200; 574754, 4473200; 574939, 4473200; 575100, 4473200; 575456, 4473413; 575600, 4473500; 575624, 4473524; 576000, 4473900; 576107, 4473900; 576460, 4473900; 576600, 4473900; 576883, 4473900; 577069, 4473900; 577300, 4473900; 577344, 4473933; 577351, 4473938; 577700, 4474200; 578600, 4474200; 578685, 4474224; 578803, 4474258; 579300, 4474400; 579637, 4474400; 580000, 4474400; 580600, 4474700; 580991, 4474700; 581447, 4474700; 581900, 4474700; 581931, 4474738; 582400, 4475300; 583000, 4475400; 583200, 4475400; returning to 583610, 4475072;

(iii) Note: Units 1 and 2 (Map 1) follow:

BILLING CODE 4310-55-P

BILLING CODE 4310-55-C

(6) Unit 3: Tehama County, California.

(i) Unit 3A: Tehama County, California. From USGS 1:24,000 scale quadrangle Acorn Hollow and Richardson Springs NW. Land bounded by the following UTM Zone 10, NAD 83 coordinates (E,N): 588739, 4429822; 588900, 4429500; 589500, 4429500; 589500, 4428600; 589500, 4428000; 589800, 4427100; 590500, 4426400; 590500, 4425300; 591200, 4424400; 591500, 4423300; 591562, 4422558; 590526, 4423686; 589986, 4424273; 589816, 4424458; 589129, 4425207; 588454, 4426221; 588425, 4426265; 588279, 4426485; 588213, 4426583; 588213, 4426584; 588600, 4429100; 588733, 4429833; returning to 588739, 4429822;

(ii) Unit 3B: Tehama County, California. From USGS 1:24,000 scale quadrangle Richard Springs NW. Land bounded by the following UTM Zone 10, NAD 83 coordinates (E,N): 593700, 4420900; 593164, 4420815; 592329, 4421723; 592258, 4421800; 593000, 4421800; 593100, 4421500; 593500, 4421400; returning to 593700, 4420900;

(iii) Unit 3C: Tehama County, California. From USGS 1:24,000 scale quadrangle Richard Springs NW. Land bounded by the following UTM Zone 10, NAD 83 coordinates (E,N): 594500, 4420300; 593881, 4420035; 593371, 4420590; 594000, 4420800; 594400, 4420600; returning to 594500, 4420300;

(iv) Unit 3D: Tehama and Butte Counties, California. From USGS 1:24,000 scale quadrangle Campbell Mound, Richardson Springs NW, and Richardson Springs. Land bounded by the following UTM Zone 10, NAD 83 coordinates (E,N): 597100, 4416400; 597100, 4415600; 597044, 4415525; 596800, 4415200; 597100, 4415000; 597800, 4415500; 598100, 4415200; 597600, 4414600; 597600, 4414400; 597300, 4413800; 597300, 4413300; 598200, 4413900; 598400, 4413900; 598400, 4413600; 597422, 4411938; 597281, 4412382; 596959, 4413403; 596640, 4414416; 596620, 4414481; 596305, 4415484; 596303, 4415489; 596130, 4416040; 596091, 4416160; 596028, 4416358; 596011, 4416411; 595993, 4416465; 595982, 4416500; 596000, 4416500; 596100, 4416400; 596200, 4416500; 596300, 4416600; 596400, 4416700; 596500, 4416700; 596500, 4416800; 596600, 4416800; 597100, 4416400;

(v) Unit 3E: Butte County, California. From USGS 1:24,000 scale quadrangle Richardson Springs. Land bounded by the following UTM Zone 10, NAD 83 coordinates (E,N): 598900, 4411800; 599400, 4411700; 599800, 4411700; 599800, 4411000; 599300, 4410700; 599100, 4410800; 599000, 4410800; 598800, 4410600; 598500, 4410400; 598300, 4410100; 598100, 4410000; 598070, 4409970; 598051, 4409993; 598038, 4410010; 598014, 4410083; 597806, 4410737; 597725, 4410990; 597461, 4411816; 597434, 4411900; 597600, 4411900; 598300, 4412700; 598500, 4413300; 598900, 4413300; returning to 598900, 4411800;

(vi) Unit 3F: Butte County, California. From USGS 1:24,000 scale quadrangle Richardson Springs. Land bounded by the following UTM Zone 10, NAD 83 coordinates (E,N): 599500, 4406200; 600300, 4406000; 601200, 4405600; 601800, 4405600; 602000, 4405500; 602200, 4405200; 602500, 4405200; 602700, 4404900; 603300, 4404700; 604500, 4404200; 605200, 4404200; 605600, 4404000; 605600, 4403600; 605100, 4403300; 604700, 4403400; 604500, 4403300; 604475, 4403175; 604400, 4403100; 604300, 4403100; 604200, 4403000; 604100, 4402900; 604000, 4402900; 603800, 4402800; 603800, 4402600; 603600, 4402400; 603400, 4402400; 603200, 4402500; 603100, 4402400; 602900, 4402400; 602900, 4402100; 602700, 4402100; 602300, 4402600; 602300, 4402700; 601800, 4403300; 601714, 4403300; 601553, 4403500; 601501, 4403499; 601465, 4403621; 601319, 4403663; 601226, 4403595; 601089, 4403571; 600979, 4403503; 600901, 4403569; 600860, 4403446; 600704, 4403566; 600542, 4403475; 600507, 4403530; 600473, 4403563; 600453, 4403580; 600369, 4403651; 600344, 4403642; 600232, 4403605; 599983, 4403679; 599973, 4403678; 599801, 4403662; 599725, 4403718; 599651, 4403697; 599493, 4403839; 599328, 4403862; 599302, 4403865; 599269, 4403870; 599084, 4403634; 599024, 4403611; 598987, 4404400; 598980, 4404543; 598971, 4404723; 598955, 4405388; 598953, 4405458; 598951, 4405529; 598947, 4405677; 598934, 4405719; 598919, 4405750; 599000, 4405800; 598900, 4406100; 598700, 4406000; 598694, 4406000; 598635, 4406058; 598598, 4406103; 598583, 4406127; 598567, 4406159; 598549, 4406210; 598544, 4406234; 598540, 4406255; 598533, 4406421; 598522, 4406815; 598516, 4407133; 598511, 4407496; 598513, 4407515; 598525, 4407568; 598527, 4407571; 598527, 4407589; 598580, 4407812; 598800, 4407900; 598900, 4408100; 599200, 4408400; 600200, 4408900; 600300, 4408800; 600300, 4408400; 600000, 4408100; 600400, 4407600; 599500, 4406700; returning to 599500, 4406200.

(vii) Note: Unit 3 (Map 2) follows:

BILLING CODE 4310-55-P

BILLING CODE 4310-55-C

(7) Unit 4: Butte County, California.

(i) Unit 4A: Butte County, California. From USGS 1:24,000 scale quadrangle Chico. Land bounded by the following UTM Zone 10, NAD 83 coordinates (E,N): 605100, 4399600; 606500, 4399500; 606797, 4399330; 606777, 4399300; 606724, 4399252; 606568, 4399265; 606528, 4399272; 606479, 4399279; 606478, 4399279; 606394, 4399264; 606362, 4399238; 606329, 4399210; 606274, 4399169; 606209, 4399135; 606125, 4399122; 606060, 4399122; 605967, 4399131; 605899, 4399134; 605857, 4399134; 605822, 4399130; 605789, 4399116; 605781, 4399138; 605775, 4399149; 605764, 4399152; 605763, 4399152; 605701, 4399142; 605589, 4399116; 605504, 4399107; 605432, 4399110; 605319, 4399064; 605233, 4399045; 605173, 4399034; 605135, 4399023; 605134, 4399023; 605127, 4399023; 605109, 4399023; 605080, 4399025; 605063, 4399025; 605002, 4399051; 604957, 4399069; 604907, 4399092; 604029, 4399508; 603896, 4399435; 603886, 4399435; 603879, 4399436; 603300, 4399523; 603300, 4399600; 602900, 4399600; 603500, 4399800; 604700, 4400200; returning to 605100, 4399600;

(ii) Unit 4B: Butte County, California. From USGS 1:24,000 scale quadrangle Hamlin Canyon and Chico. Land bounded by the following UTM Zone 10, NAD 83 coordinates (E,N): 606028, 4393143; 606288, 4392851; 606346, 4392785; 606490, 4392637; 606537, 4392593; 607117, 4392045; 607644, 4391539; 607748, 4391438; 607826, 4391363; 608227, 4390978; 608537, 4390636; 608852, 4390288; 609145, 4389965; 609391, 4389694; 609721, 4389330; 609736, 4389313; 609890, 4389143; 610122, 4388889; 610187, 4388819; 610239, 4388754; 610321, 4388664; 610359, 4388624; 610400, 4388500; 609300, 4388100; 609300, 4387900; 608800, 4387800; 608800, 4389300; 607600, 4389300; 607600, 4389500; 607500, 4389600; 607400, 4389600; 607400, 4389900; 607300, 4390000; 607400, 4390000; 607500, 4390100; 607400, 4390300; 607400, 4390500; 607300, 4390600; 607300, 4390800; 607100, 4391000; 605700, 4392300; 605800, 4392300; 606000, 4392500; 606100, 4392700; 605900, 4392900; 605800, 4392900; 605600, 4392800; returning to 606028, 4393143;

(iii) Unit 4C: Butte County, California. From USGS 1:24,000 scale quadrangle Hamlin Canyon and Shippee. Land bounded by the following UTM Zone 10, NAD 83 coordinates (E,N): 610300, 4383000; 610400, 4382900; 610500, 4382900; 610500, 4382800; 610500, 4382700; 610500, 4382600; 610200, 4382300; 610100, 4382400; 610200, 4382500; 610200, 4382600; 610200, 4382700; 610100, 4382600; 609900, 4382400; 609814, 4382314; 608500, 4383300; 608800, 4383800; 609500, 4384200; 609500, 4384500; 609300, 4385000; 609600, 4385300; 609300, 4385800; 609500, 4386000; 609900, 4386100; 610100, 4386100; 610100, 4386400; 610200, 4386500; 610500, 4386700; 611100, 4387100; 611400, 4387400; 611364, 4387515; 611887, 4386936; 612214, 4386572; 612293, 4386410; 612300, 4386300; 612000, 4386100; 611300, 4384500; 611000, 4384500; 611000, 4383600; 610400, 4383600; 610400, 4383200; 610300, 4383200; 610300, 4383100; 610200, 4383000; returning to 610300, 4383000;

(iv) Unit 4D: Butte County, California. From USGS 1:24,000 scale quadrangle Cherokee and Hamlin Canyon. Land bounded by the following UTM Zone 10, NAD 83 coordinates (E,N): 617200, 4387700; 616864, 4387566; 616852, 4387659; 616841, 4388048; 616843, 4388082; 616851, 4388261; 616929, 4388656; 616982, 4388850; 617175, 4389518; 617195, 4389572; 617301, 4390087; 617309, 4390125; 617361, 4390354; 617380, 4390409; 617409, 4390495; 617442, 4390589; 617469, 4390681; 618600, 4390600; 618800, 4390200; 618800, 4389700; 617800, 4388300; returning to 617200, 4387700;

(v) Unit 4E: Butte County, California. From USGS 1:24,000 scale quadrangle Cherokee, Shippee, and Oroville. Land bounded by the following UTM Zone 10, NAD 83 coordinates (E,N): 620700, 4388400; 620700, 4387200; 621300, 4387200; 621600, 4386500; 621400, 4385600; 620900, 4385500; 620600, 4384900; 620400, 4384800; 619600, 4385100; 618600, 4384500; 618592, 4384506; 618592, 4384506; 618560, 4384544; 618512, 4384601; 618377, 4384762; 618358, 4384795; 618286, 4384915; 618226, 4385148; 618207, 4385219; 618185, 4385338; 618017, 4386021; 617998, 4386107; 617951, 4386211; 617930, 4386256; 617902, 4386281; 617839, 4386361; 617731, 4386441; 617685, 4386463; 617667, 4386465; 617664, 4386478; 617425, 4386625; 617700, 4386900; 618000, 4386700; 618200, 4386700; 618700, 4386900; 619000, 4387000; 619200, 4387200; 619300, 4387200; 619500, 4387400; 619500, 4387600; 619700, 4387600; 619800, 4387700; 619900, 4388000; 620200, 4388000; 620600, 4388400; returning to 620700, 4388400;

(vi) Unit 4F: Butte County, California. From USGS 1:24,000 scale quadrangle Oroville and Shippe. Land bounded by the following UTM Zone 10, NAD 83 coordinates (E,N): 618368, 4382306; 618445, 4382277; 618444, 4382301; 618457, 4382372; 618463, 4382408; 618500, 4382501; 618500, 4382500; 619300, 4381300; 619500, 4381000; 619500, 4380500; 620800, 4378900; 620900, 4378400; 620300, 4377700; 618800, 4377000; 617800, 4376400; 617100, 4376200; 616900, 4376000; 617500, 4374800; 617500, 4374500; 617300, 4374200; 615415, 4374121; 615404, 4374354; 615319, 4374453; 614883, 4374120; 614665, 4374382; 614570, 4374749; 614300, 4374727; 614300, 4375700; 614600, 4375700; 614600, 4376600; 614800, 4376600; 614900, 4376700; 615100, 4376800; 615100, 4377000; 615900, 4377000; 616300, 4377000; 616300, 4378100; 614900, 4378100; 614900, 4378300; 614700, 4378300; 614700, 4378500; 614500, 4378500; 614500, 4378800; 614600, 4378900; 614600, 4379700; 614200, 4379700; 614200, 4381300; 612600, 4381300; 612600, 4382900; 613500, 4383000; 613700, 4383100; 613800, 4383200; 614000, 4383500; 614200, 4384000; 614200, 4384200; 614800, 4384200; 615073, 4384200; 615806, 4383804; 616704, 4383304; 617266, 4382991; 617327, 4382957; 617563, 4382829; 617589, 4382812; 617987, 4382563; 618347, 4382330; returning to 618368, 4382306.

(vii) Note: Unit 4 (Map 3) follows:

BILLING CODE 4310-55-P

BILLING CODE 4310-55-C

(8) Unit 6: Colusa County, California. From USGS 1:24,000 scale quadrangle Meridian and Colusa. Land bounded by the following UTM Zone 10, NAD 83 coordinates (E,N): 585800, 4337200; 585900, 4337200; 585900, 4337200; 585900, 4338200; 586100, 4338200; 586100, 4338400; 586800, 4338900; 587000, 4338500; 587000, 4338400; 586800, 4338200; 587000, 4338100; 587500, 4337600; 587700, 4337800; 588800, 4336700; 588900, 4336700; 589100, 4336500; 589100, 4336900; 589200, 4336900; 589200, 4335900; 587900, 4335900; 587900, 4336000; 587400, 4336600; 587300, 4336800; 586900, 4337800; 586700, 4337800; 586700, 4337700; 586400, 4337700; 586400, 4336800; 586300, 4336600; 586000, 4336600; 585800, 4336900; returning to 585800, 4337200;

(9) Unit 7: Yuba County, California. From USGS 1:24,000 scale quadrangle Browns Valley and Wheatland. Land bounded by the following UTM Zone 10, NAD 83 coordinates (E,N): 635000, 4332200; 635000, 4329900; 634600, 4329900; 633800, 4329900; 633600, 4330100; 633500, 4330100; 633300, 4330100; 633300, 4330300; 632700, 4330100; 632400, 4329900; 632400, 4329000; 631300, 4329000; 631300, 4329200; 631600, 4329200; 631600, 4329800; 631900, 4329800; 631900, 4330600; 632800, 4330600; 633000, 4330900; 633000, 4331300; 633100, 4331500; 633500, 4331700; 633800, 4331500; 633800, 4332200; returning to 635000, 4332200;

(10) Note: Units 6 and 7 (Map 4) follow:

BILLING CODE 4310-55-P

BILLING CODE 4310-55-C

(11) Unit 8: Sacramento County, California. From USGS 1:24,000 scale quadrangle Carmichael. Land bounded by the following UTM Zone 10, NAD 83 coordinates (E,N): 649800, 4269600; 649800, 4268700; 650400, 4268900; 650800, 4268800; 651000, 4268800; 651000, 4269400; 651800, 4269300; 651500, 4268800; 651600, 4267900; 651600, 4266500; 651500, 4266400; 651500, 4266300; 651100, 4266300; 651100, 4266000; 651570, 4265812; 651589, 4265075; 651600, 4264400; 651400, 4264400; 651400, 4264200; 650500, 4264200; 650500, 4264300; 650400, 4264300; 650400, 4264600; 650000, 4264700; 649900, 4265100; 649400, 4265100; 649100, 4265000; 648900, 4265100; 648700, 4265100; 648700, 4265300; 648700, 4265500; 649900, 4265500; 649900, 4266000; 648300, 4266000; 648300, 4266200; 648500, 4266400; 648700, 4266200; 649000, 4266200; 649300, 4266400; 649400, 4266600; 649635, 4266678; 649700, 4266700; 649794, 4266693; 650200, 4267100; 650400, 4267000; 650600, 4267000; 650800, 4267200; 650900, 4267500; 650800, 4267900; 650500, 4267800; 650300, 4268100; 649900, 4268400; 649400, 4268100; 649100, 4267800; 649100, 4267500; 649400, 4267400; 649200, 4267100; 648400, 4267100; 648300, 4267700; 648000, 4268000; 648600, 4268500; 649400, 4268900; 649400, 4269200; 649600, 4269600; returning to 649800, 4269600;

(12) Unit 9: Sacramento County, California.

(i) Unit 9A: Sacramento County, California. From USGS 1:24,000 scale quadrangle Sloughhouse. Land bounded by the following UTM Zone 10, NAD 83 coordinates (E,N): 660660, 4256508; 660681, 4256119; 660600, 4256200; 660300, 4256100; 660000, 4256200; 659800, 4256300; 659850, 4256450; 659900, 4256600; 660200, 4256500; 660300, 4256800; 660515, 4256728; 660633, 4256644; 660645, 4256626; returning to 660660, 4256508;

(ii) Unit 9B: Sacramento and Amador Counties, California. From USGS 1:24,000 scale quadrangle Carbondale, Sloughhouse, Goose Creek, and Clay. Land bounded by the following UTM Zone 10, NAD 83 coordinates (E,N): 673200, 4256400; 672800, 4255100; 672800, 4254800; 673100, 4254900; 673800, 4254900; 674000, 4254600; 674000, 4254400; 674500, 4254000; 674500, 4253700; 674100, 4253500; 674100, 4252900; 674300, 4252300; 674500, 4251900; 674500, 4251600; 673400, 4251500; 673300, 4251400; 673300, 4251200; 673900, 4251000; 674000, 4250500; 674300, 4250000; 674300, 4249800; 674200, 4249700; 673900, 4249700; 673600, 4249900; 672500, 4249900; 672315, 4249992; 671900, 4250200; 671300, 4250200; 671100, 4250500; 671000, 4250500; 671000, 4249800; 670700, 4249800; 670700, 4249500; 670800, 4249300; 670800, 4249000; 670900, 4248900; 670900, 4248500; 670500, 4248300; 670500, 4248125; 670400, 4248100; 670400, 4248000; 670100, 4248000; 670100, 4247800; 670500, 4247500; 671100, 4247500; 671600, 4247700; 671800, 4247600; 671900, 4247300; 671900, 4247100; 671500, 4246800; 671600, 4246600; 671800, 4246000; 671800, 4246000; 671255, 4245364; 670800, 4245000; 670000, 4244200; 670000, 4244100; 670500, 4243800; 670200, 4243400; 670200, 4243300; 670300, 4243200; 670400, 4243100; 670600, 4242600; 671200, 4242900; 671600, 4243000; 671600, 4242700; 670700, 4242100; 669800, 4242100; 669300, 4241900; 668900, 4241900; 668700, 4241800; 668500, 4241600; 668400, 4241600; 668200, 4241700; 668000, 4242000; 667900, 4242000; 667400, 4241600; 667400, 4241800; 666400, 4241700; 665400, 4241700; 665400, 4242700; 665000, 4242700; 665000, 4242300; 664800, 4242300; 664800, 4242200; 664700, 4242200; 664600, 4242100; 664500, 4242100; 664500, 4241300; 664000, 4241300; 664000, 4241000; 663500, 4241000; 663500, 4240900; 663400, 4240800; 663300, 4240800; 663300, 4240600; 663100, 4240600; 663100, 4240900; 662800, 4240900; 662800, 4240500; 662700, 4240400; 662700, 4240000; 662500, 4240000; 662500, 4239600; 662100, 4239600; 662100, 4239400; 662000, 4239300; 661700, 4239300; 661700, 4239200; 661400, 4239000; 661400, 4239900; 661500, 4239900; 661500, 4241600; 661500, 4241900; 661700, 4242000; 662200, 4242000; 662200, 4241600; 662900, 4241600; 662800, 4242300; 662500, 4242300; 662600, 4243000; 662900, 4243100; 663400, 4243100; 663400, 4243800; 663050, 4243800; 663029, 4243841; 663000, 4243900; 662500, 4243900; 662700, 4244700; 662850, 4244800; 663000, 4244900; 663100, 4245300; 663800, 4245300; 663900, 4245500; 664400, 4245600; 664500, 4245200; 664600, 4245200; 664750, 4245238; 664900, 4245275; 665000, 4245300; 664900, 4245700; 664900, 4246500; 664400, 4246500; 663900, 4246700; 662500, 4246300; 662233, 4246300; 662100, 4246400; 661700, 4246400; 661900, 4247000; 662000, 4247300; 661800, 4247500; 660900, 4247500; 660900, 4247140; 660850, 4247100; 659700, 4247100; 659500, 4247300; 659500, 4248300; 660000, 4248300; 659900, 4249600; 660000, 4249900; 659900, 4250200; 659400, 4249700; 659400, 4249500; 659300, 4249200; 659100, 4249000; 659100, 4248900; 659200, 4248800; 659100, 4248700; 658900, 4248700; 658800, 4248600; 658600, 4248600; 658500, 4248800; 658400, 4248900; 658200, 4249000; 658200, 4248900; 658300, 4248700; 658500, 4248500; 658500, 4248400; 658400, 4248300; 658400, 4247900; 658100, 4247900; 658000, 4248500; 656700, 4248500; 656300, 4248900; 655900, 4248200; 656100, 4248100; 656100, 4248000; 656000, 4247800; 655200, 4247800; 655200, 4247200; 654700, 4247200; 654700, 4248750; 654800, 4248900; 654700, 4249000; 655100, 4249000; 655800, 4249000; 656300, 4249700; 656600, 4249500; 657200, 4250200; 656700, 4251100; 657700, 4251100; 657700, 4251500; 656700, 4251400; 656700, 4252100; 656500, 4252300; 656500, 4252600; 657000, 4253700; 657400, 4254600; 657800, 4254300; 657800, 4254200; 657800, 4254200; 658100, 4254000; 658900, 4253500; 659000, 4253500; 659300, 4253300; 660000, 4254500; 660100, 4254800; 660200, 4254900; 660300, 4255200; 660600, 4255300; 660700, 4255400; 660800, 4256000; 660754, 4256046; 660777, 4256046; 661541, 4256060; 661554, 4255796; 661731, 4252263; 661736, 4252142; 662180, 4252172; 662313, 4252175; 662583, 4252191; 663009, 4252217; 663119, 4252198; 663221, 4252234; 663275, 4252290; 663311, 4252341; 663324, 4252391; 663344, 4252446; 663378, 4252511; 663390, 4252591; 663409, 4252710; 663437, 4252770; 663510, 4252890; 663546, 4252914; 663590, 4252922; 663630, 4252907; 663726, 4252900; 663761, 4252901; 663800, 4252916; 663817, 4252959; 663824, 4252991; 663760, 4253075; 663650, 4253199; 663651, 4253232; 663667, 4253286; 663741, 4253408; 663807, 4253488; 663832, 4253490; 663904, 4253486; 663962, 4253498; 664039, 4253560; 664088, 4253602; 664125, 4253617; 664219, 4253695; 664248, 4253699; 664313, 4253672; 664369, 4253606; 664471, 4253613; 664566, 4253675; 664591, 4253700; 664647, 4253753; 664752, 4253850; 664854, 4253953; 664868, 4254000; 664877, 4254124; 664856, 4254193; 664883, 4254238; 664977, 4254334; 665118, 4254420; 665174, 4254468; 665227, 4254492; 665313, 4254463; 665390, 4254424; 665514, 4254389; 665619, 4254438; 665656, 4254494; 665723, 4254546; 665757, 4254558; 665800, 4254553; 665853, 4254513; 665880, 4254493; 665956, 4254434; 665960, 4254402; 666029, 4254364; 666067, 4254367; 666114, 4254379; 666168, 4254392; 666236, 4254440; 666273, 4254448; 666310, 4254440; 666339, 4254435; 666417, 4254404; 666451, 4254362; 666491, 4254319; 666523, 4254309; 666581, 4254312; 666652, 4254306; 666705, 4254261; 666722, 4254230; 666740, 4254164; 666742, 4254084; 666763, 4253987; 666791, 4253947; 666826, 4253919; 666849, 4253913; 666914, 4253917; 666977, 4253951; 667057, 4253975; 667142, 4253997; 667253, 4253980; 667277, 4253964; 667302, 4253968; 667313, 4253981; 667315, 4254007; 667377, 4254034; 667482, 4254039; 667618, 4254026; 667801, 4253975; 667959, 4253881; 668167, 4253821; 668360, 4253834; 668422, 4253849; 668525, 4253837; 668643, 4253804; 668700, 4253743; 668799, 4253665; 668877, 4253610; 668998, 4253531; 669098, 4253487; 669171, 4253483; 669251, 4253471; 669328, 4253465; 669399, 4253396; 669461, 4253324; 669558, 4253276; 669619, 4253256; 669665, 4253257; 669859, 4253247; 670012, 4253179; 670143, 4253173; 670241, 4253188; 670278, 4253185; 670320, 4253159; 670371, 4253105; 670419, 4253074; 670499, 4253007; 670537, 4252992; 670594, 4252927; 670626, 4252873; 670642, 4252848; 670663, 4252843; 670712, 4252851; 670732, 4252875; 670716, 4252907; 670727, 4252921; 670756, 4252934; 670807, 4252923; 670850, 4252924; 670883, 4252896; 670912, 4252829; 670949, 4252789; 670975, 4252773; 671041, 4252762; 671109, 4252759; 671191, 4252663; 671270, 4252568; 671315, 4252537; 671376, 4252519; 671438, 4252504; 671509, 4252465; 671531, 4252448; 671559, 4252450; 671603, 4252490; 671631, 4252509; 671674, 4252515; 671716, 4252510; 671773, 4252503; 671827, 4252497; 671848, 4252476; 671934, 4252419; 671943, 4252426; 671963, 4252453; 671990, 4252458; 672004, 4252435; 672042, 4252400; 672107, 4252306; 672117, 4252284; 672129, 4252256; 672134, 4252244; 672152, 4252230; 672159, 4252200; 672153, 4252190; 672148, 4252180; 672110, 4252165; 672104, 4252149; 672109, 4252101; 672114, 4252080; 672113, 4252055; 672107, 4251980; 672120, 4251908; 672151, 4251893; 672177, 4251906; 672185, 4251900; 672199, 4251865; 672213, 4251830; 672245, 4251802; 672263, 4251784; 672271, 4251775; 672271, 4251787; 672265, 4252117; 672263, 4252199; 672247, 4252916; 672246, 4252941; 672231, 4253670; 672225, 4253953; 672223, 4254006; 672220, 4254157; 672219, 4254229; 672217, 4254287; 672192, 4255610; 672200, 4255600; 672400, 4255600; 672700, 4256400; returning to 673200, 4256400;

(iii) Note: Units 8 and 9 (Map 5) follow:

BILLING CODE 4310-55-P

BILLING CODE 4310-55-C

(13) Unit 10: Yolo County, California. From USGS 1:24,000 scale quadrangle Davis. Land bounded by the following UTM Zone 10, NAD 83 coordinates (E,N): 615400, 4262300; 615400, 4260700; 614500, 4260700; 614500, 4261500; 614200, 4261500; 614200, 4261800; 614000, 4261800; 614000, 4262300; returning to 615400, 4262300;

(14) Unit 11: Solano County, California

(i) Unit 11A: Solano County, California. From USGS 1:24,000 scale quadrangle Dozier. Land bounded by the following UTM Zone 10, NAD 83 coordinates (E,N): 600400, 4243000; 600400, 4242200; 601300, 4242200; 601300, 4241416; 601002, 4241415; 600878, 4241415; 600446, 4241414; 600021, 4241414; 599000, 4241412; 599000, 4242300; 599600, 4242300; 599600, 4243000; returning to 600400, 4243000;

(ii) Unit 11B: Solano County, California. From USGS 1:24,000 scale quadrangle Elmira. Land bounded by the following UTM Zone 10, NAD 83 coordinates (E,N): 593200, 4242200; 593200, 4240600; 593211, 4240600; 593255, 4239807; 592030, 4239793; 592062, 4240126; 592044, 4240137; 592026, 4240170; 592026, 4240181; 592030, 4240261; 592300, 4240800; 592100, 4240800; 591800, 4241000; 591700, 4241100; 591600, 4241200; 591600, 4241300; 591600, 4241700; 591700, 4241700; 591800, 4241600; 591900, 4241600; 592000, 4241500; 592200, 4241300; 592300, 4240900; returning to 593200, 4242200;

(iii) Unit 11C: Solano County, California. From USGS 1:24,000 scale quadrangle Elmira and Denverton. Land bounded by the following UTM Zone 10, NAD 83 coordinates (E,N): 589698, 4236560; 589600, 4234900; 589700, 4234900; 589700, 4234500; 590100, 4234500; 590100, 4234064; 589400, 4234000; 589000, 4234400; 588500, 4234400; 588500, 4236400; 588549, 4236449; 588944, 4236551; 589524, 4236558; 589670, 4236559; returning to 589698, 4236560;

(iv) Unit 11D: Solano County, California. From USGS 1:24,000 scale quadrangle Elmira, Denverton, and Fairfield South. Land bounded by the following UTM Zone 10, NAD 83 coordinates (E,N): 594915, 4234098; 594916, 4233314; 595044, 4233310; 595068, 4233296; 595131, 4233266; 595174, 4233226; 595189, 4233210; 595239, 4233151; 595322, 4232978; 595423, 4232778; 595483, 4232667; 595553, 4232524; 595699, 4232243; 595966, 4231717; 594927, 4231710; 594445, 4231707; 594409, 4231673; 594410, 4231616; 594434, 4231540; 594474, 4231494; 594495, 4231457; 594497, 4231414; 594510, 4231370; 594543, 4231356; 594575, 4231342; 594603, 4231341; 594614, 4231338; 594616, 4231325; 594618, 4231311; 594614, 4231290; 594605, 4231284; 594583, 4231275; 594573, 4231268; 594557, 4231245; 594550, 4231209; 594543, 4231179; 594500, 4231200; 593800, 4231200; 593600, 4230500; 593291, 4230515; 593291, 4230514; 593700, 4229900; 594000, 4229700; 593900, 4229600; 593900, 4229500; 594000, 4229400; 593900, 4229300; 593900, 4229100; 594300, 4229000; 594300, 4228500; 593700, 4228400; 593500, 4228100; 592800, 4228100; 592700, 4228000; 592600, 4228000; 592500, 4227900; 592200, 4227800; 592000, 4227500; 591700, 4227400; 591500, 4227200; 591200, 4227100; 590900, 4227000; 590700, 4227100; 590400, 4227100; 589400, 4227400; 589265, 4227400; 589026, 4227463; 588707, 4227579; 587979, 4227869; 587973, 4227872; 587467, 4228036; 587339, 4228077; 587009, 4228197; 586933, 4228334; 586900, 4228400; 586700, 4228500; 586600, 4229000; 586400, 4229100; 586200, 4229100; 586100, 4229300; 585400, 4229900; 585400, 4230100; 585500, 4230200; 585000, 4230300; 585100, 4230400; 585000, 4230500; 585111, 4230567; 585124, 4230550; 585327, 4230585; 585319, 4230629; 585295, 4230649; 585270, 4230662; 585500, 4230800; 585600, 4231100; 585903, 4231100; 585908, 4231071; 585926, 4231064; 585956, 4231058; 586038, 4231061; 586045, 4231073; 586045, 4231088; 586027, 4231096; 586022, 4231100; 586267, 4231100; 586273, 4231084; 586323, 4231038; 586340, 4230994; 587435, 4231016; 587882, 4231052; 587967, 4231111; 587991, 4231124; 588015, 4231126; 588034, 4231123; 588075, 4231099; 588085, 4231097; 588116, 4231095; 588700, 4230900; 588842, 4230900; 588842, 4230900; 588925, 4230897; 588989, 4230899; 589090, 4230913; 589179, 4230901; 589179, 4230901; 589240, 4230894; 589274, 4230890; 589315, 4230894; 589321, 4230909; 589313, 4231179; 589015, 4231215; 589100, 4231300; 589100, 4231700; 588600, 4231600; 588440, 4231680; 588417, 4232400; 588500, 4232400; 588500, 4232500; 588600, 4232500; 588600, 4232800; 588400, 4233000; 588600, 4233300; 588700, 4233500; 589300, 4233500; 589983, 4233500; 590000, 4233500; 590100, 4233500; 590100, 4233300; 590600, 4233300; 591100, 4232800; 591138, 4232825; 591143, 4232820; 591184, 4232856; 591700, 4233200; 592513, 4233290; 592594, 4233291; 592594, 4233299; 592600, 4233300; 592600, 4233800; 592900, 4233700; 592900, 4233751; 592901, 4233751; 592900, 4233754; 592900, 4233800; 593400, 4234100; 594200, 4234100; 594300, 4234900; 594500, 4234900; 594890, 4235396; returning to 594915, 4234098;

(v) Note: Units 10 and 11 (Map 6) follow:

BILLING CODE 4310-55-P

BILLING CODE 4310-55-C

(15) Unit 13: Stanislaus County, California.

(i) Unit 13A: Stanislaus County, California. From USGS 1:24,000 scale quadrangle Paulsell. Land bounded by the following UTM Zone 10, NAD 83 coordinates (E,N): 703100, 4177500; 703000, 4177300; 702911, 4177359; 702906, 4177503; 703100, 4177507; returning to 703100, 4177500;

(ii) Unit 13B: Stanislaus County, California. From USGS 1:24,000 scale quadrangle Paulsell and Waterford. Land bounded by the following UTM Zone 10, NAD 83 coordinates (E,N): 701282, 4176830; 701345, 4176765; 701756, 4176778; 701600, 4176700; 701600, 4176500; 701600, 4176200; 701700, 4175900; 701800, 4175800; 702000, 4175800; 702000, 4175100; 701600, 4175100; 701600, 4174200; 701900, 4173700; 701800, 4173600; 701700, 4173500; 701700, 4173300; 701700, 4173200; 701600, 4173200; 701500, 4173100; 701500, 4173000; 701600, 4173000; 701600, 4172800; 701500, 4172600; 701300, 4172500; 701100, 4172600; 700700, 4172600; 700600, 4172600; 700500, 4172700; 700500, 4172900; 700400, 4172900; 700400, 4172800; 700100, 4172700; 699600, 4172700; 699500, 4172800; 699300, 4172800; 699100, 4172500; 698800, 4172500; 698700, 4172600; 698400, 4172400; 698100, 4172800; 698200, 4173000; 697400, 4174300; 697300, 4174300; 697300, 4174500; 697800, 4174500; 697800, 4176300; 697700, 4176300; 697700, 4176437; 698090, 4176397; 698085, 4176613; 698084, 4176642; 699300, 4176684; 700500, 4176726; 701204, 4176750; returning to 701282, 4176830;

(iii) Unit 13C: Stanislaus County, California. From USGS 1:24,000 scale quadrangle Paulsell. Land bounded by the following UTM Zone 10, NAD 83 coordinates (E,N): 702000, 4171800; 702000, 4169800; 702000, 4169700; 701000, 4169700; 700700, 4169700; 700700, 4170400; 700700, 4170500; 700550, 4170500; 700500, 4170500; 700500, 4170533; 700500, 4170900; 700300, 4170900; 700300, 4171100; 700300, 4171800; 701200, 4171800; returning to 702000, 4171800.

(iv) Note: Unit 13 (Map 7) follows:

BILLING CODE 4310-55-P

BILLING CODE 4310-55-C

(16) Unit 14: Alameda County, California.

(i) Unit 14A: Alameda County, California. From USGS 1:24,000 scale quadrangle Milpitas. Land bounded by the following UTM Zone 10, NAD 83 coordinates (E,N): 590100, 4150400; 590481, 4150210; 590452, 4150159; 590383, 4150201; 590320, 4150230; 590312, 4150216; 590309, 4150216; 590306, 4150215; 590303, 4150215; 590300, 4150214; 590297, 4150213; 590294, 4150212; 590291, 4150212; 590202, 4150262; 590201, 4150263; 590199, 4150264; 590197, 4150265; 590195, 4150266; 590193, 4150267; 590191, 4150267; 590189, 4150268; 590187, 4150269; 590185, 4150269; 590183, 4150269; 590180, 4150270; 590178, 4150270; 590176, 4150270; 590174, 4150270; 590172, 4150270; 590170, 4150270; 590168, 4150270; 590165, 4150270; 590163, 4150270; 590161, 4150269; 590159, 4150269; 590157, 4150269; 590155, 4150268; 590153, 4150267; 590151, 4150266; 590149, 4150266; 590147, 4150265; 590145, 4150264; 590143, 4150263; 590141, 4150262; 590140, 4150261; 590138, 4150260; 590136, 4150258; 590134, 4150257; 590133, 4150256; 589930, 4150084; 589926, 4150080; 589921, 4150076; 589916, 4150073; 589911, 4150070; 589906, 4150066; 589901, 4150064; 589896, 4150061; 589891, 4150059; 589885, 4150056; 589880, 4150054; 589874, 4150052; 589869, 4150050; 589863, 4150049; 589857, 4150048; 589852, 4150046; 589846, 4150045; 589840, 4150045; 589834, 4150044; 589829, 4150044; 589823, 4150044; 589817, 4150044; 589811, 4150044; 589805, 4150045; 589799, 4150045; 589794, 4150046; 589788, 4150047; 589782, 4150048; 589776, 4150050; 589771, 4150052; 589765, 4150053; 589760, 4150055; 589754, 4150058; 589749, 4150060; 589744, 4150063; 589739, 4150066; 589734, 4150068; 589729, 4150072; 589724, 4150075; 589719, 4150078; 589715, 4150082; 589710, 4150086; 589706, 4150090; 589702, 4150094; 589698, 4150098; 589694, 4150103; 589641, 4150165; 589900, 4150100; returning to 590100, 4150400;

(ii) Unit 14B: Alameda County, California. From USGS 1:24,000 scale quadrangle Milpitas. Land bounded by the following UTM Zone 10, NAD 83 coordinates (E,N): 592000, 4150900; 592300, 4150600; 592300, 4150582; 592274, 4150603; 592276, 4150615; 592213, 4150675; 592195, 4150689; 592081, 4150769; 592026, 4150768; 591957, 4150835; 591831, 4150703; 591824, 4150696; 591604, 4150449; 591601, 4150449; 591598, 4150449; 591595, 4150449; 591592, 4150449; 591589, 4150448; 591586, 4150448; 591583, 4150448; 591581, 4150447; 591578, 4150446; 591575, 4150446; 591572, 4150445; 591569, 4150444; 591567, 4150443; 591564, 4150441; 591561, 4150440; 591559, 4150439; 591556, 4150437; 591554, 4150436; 591552, 4150434; 591549, 4150433; 591547, 4150431; 591545, 4150429; 591542, 4150427; 591540, 4150425; 591538, 4150423; 591536, 4150421; 591534, 4150419; 591533, 4150416; 591531, 4150414; 591529, 4150412; 591528, 4150409; 591526, 4150407; 591525, 4150404; 591523, 4150401; 591522, 4150399; 591521, 4150396; 591520, 4150393; 591519, 4150391; 591518, 4150388; 591518, 4150385; 591517, 4150382; 591516, 4150379; 591516, 4150376; 591516, 4150374; 591515, 4150371; 591515, 4150368; 591515, 4150365; 591515, 4150362; 591515, 4150359; 591516, 4150356; 591516, 4150354; 591442, 4150273; 591396, 4150319; 591243, 4150156; 591255, 4150145; 591269, 4150133; 591300, 4150104; 591331, 4150075; 591473, 4149942; 591550, 4149873; 591589, 4149840; 591620, 4149817; 591665, 4149787; 591688, 4149775; 591721, 4149761; 591777, 4149738; 591825, 4149720; 591872, 4149707; 591913, 4149697; 591958, 4149690; 592001, 4149686; 592064, 4149684; 592119, 4149689; 592237, 4150383; 592245, 4150384; 592244, 4150388; 592251, 4150389; 592252, 4150385; 592298, 4150392; 592200, 4150000; 592100, 4149600; 592000, 4149500; 591984, 4149500; 592103, 4149649; 592088, 4149647; 592058, 4149645; 592030, 4149647; 591994, 4149650; 591954, 4149655; 591886, 4149666; 591844, 4149677; 591783, 4149697; 591717, 4149723; 591651, 4149757; 591594, 4149794; 591557, 4149824; 591530, 4149850; 591453, 4149920; 591310, 4150053; 591279, 4150082; 591248, 4150110; 591235, 4150123; 591222, 4150134; 591220, 4150131; 591045, 4149947; 590916, 4150021; 591500, 4150800; 591600, 4150700; 591800, 4150700; returning to 592000, 4150900;

(iii) Note: Unit 14 (Map 8) follows:

BILLING CODE 4310-55-P

BILLING CODE 4310-55-C

(17) Unit 15: Merced, Madera, and Mariposa Counties, California. From USGS 1:24,000 scale quadrangle Raynor Creek, Le Grand, and Plainsburg. Land bounded by the following UTM Zone 10, NAD 83 coordinates (E,N): 747003, 4125902; 747142, 4125971; 747303, 4125987; 747358, 4126000; 747200, 4126000; 747142, 4125971; 747123, 4125969; 747070, 4125950; 747003, 4125902; 747000, 4125900; 746900, 4125900; 746600, 4125800; 746300, 4125700; 746200, 4125600; 746200, 4125500; 745700, 4125500; 745700, 4125100; 744500, 4125100; 744500, 4125300; 744400, 4125300; 744400, 4125200; 743700, 4125200; 743700, 4125800; 744500, 4125800; 744500, 4126200; 743700, 4126200; 743700, 4127000; 743600, 4127000; 742700, 4127000; 742400, 4127000; 742000, 4127200; 742000, 4128600; 742800, 4128600; 742800, 4129100; 742900, 4129100; 743000, 4129100; 743000, 4129200; 743400, 4129300; 743600, 4129500; 743600, 4130284; 743605, 4130284; 743600, 4130493; 743600, 4130700; 743595, 4130700; 743561, 4132097; 743560, 4132170; 743556, 4132335; 743549, 4132692; 743537, 4133202; 743529, 4133301; 743531, 4133352; 743530, 4133400; 743523, 4133729; 743518, 4134016; 743515, 4134159; 743509, 4134382; 743500, 4134708; 743504, 4134743; 743565, 4134782; 744447, 4135329; 746234, 4136439; 746230, 4136445; 745985, 4136865; 745952, 4136931; 745915, 4136978; 745914, 4136987; 745902, 4137008; 745748, 4137298; 745669, 4137403; 745620, 4137437; 745503, 4137487; 745203, 4138201; 744984, 4138471; 744895, 4138606; 744893, 4138653; 744892, 4138670; 744854, 4138756; 744852, 4138807; 744873, 4138873; 744890, 4138973; 744922, 4139007; 745038, 4139064; 745171, 4139174; 745299, 4139239; 745334, 4139300; 745338, 4139306; 745339, 4139307; 745400, 4139400; 745432, 4139432; 745432, 4139432; 745368, 4139567; 745324, 4139603; 745219, 4139621; 745269, 4139653; 745281, 4139676; 745422, 4139619; 745490, 4139575; 745500, 4139576; 745500, 4139600; 745500, 4140300; 746100, 4139500; 746800, 4138500; 747700, 4137700; 748500, 4135800; 748700, 4135100; 749500, 4134000; 749501, 4133999; 750173, 4132710; 750700, 4131700; 751600, 4130500; 752000, 4130200; 752094, 4130188; 752157, 4130180; 752800, 4130100; 753300, 4130400; 753500, 4130400; 753900, 4130200; 754000, 4129300; 753400, 4128400; 753900, 4127700; 754400, 4127700; 754600, 4127400; 755300, 4128400; 755400, 4128400; 755600, 4127700; 756900, 4126400; 757800, 4125800; 758400, 4126300; 758500, 4126300; 758600, 4126000; 757900, 4125100; 757400, 4125100; 757800, 4124400; 757800, 4124000; 758200, 4124000; 758500, 4123600; 758800, 4123600; 759000, 4123900; 759300, 4123900; 759700, 4123500; 759700, 4123400; 759200, 4122900; 760300, 4121300; 761000, 4121000; 761300, 4120300; 761955, 4119563; 761968, 4119549; 761718, 4119265; 761701, 4119258; 761698, 4119256; 761644, 4119235; 761519, 4119174; 761497, 4119158; 761476, 4119142; 761412, 4119094; 761355, 4119052; 761244, 4118969; 761107, 4118894; 760858, 4118839; 760750, 4118755; 760594, 4118634; 760278, 4118609; 760228, 4118605; 760119, 4118597; 760084, 4118594; 760084, 4118594; 760008, 4118588; 759742, 4118512; 759529, 4118452; 759375, 4118358; 759330, 4118326; 759173, 4118214; 758783, 4118084; 758541, 4118070; 758036, 4117982; 757933, 4117964; 757910, 4117955; 757910, 4117955; 757811, 4117918; 757808, 4117917; 757797, 4117914; 757694, 4117865; 757622, 4117811; 757620, 4117809; 757616, 4117808; 757591, 4117800; 757532, 4117781; 757485, 4117741; 757476, 4117726; 757475, 4117726; 757450, 4117700; 757411, 4117661; 757378, 4117627; 757377, 4117626; 757352, 4117600; 757350, 4117598; 757221, 4117467; 757182, 4117433; 757117, 4117417; 757086, 4117410; 757047, 4117400; 756985, 4117385; 756917, 4117369; 756872, 4117341; 756823, 4117300; 756785, 4117267; 756759, 4117243; 756745, 4117231; 756634, 4117128; 756624, 4117124; 756592, 4117112; 756590, 4117110; 756590, 4117110; 756500, 4117200; 756223, 4117292; 756200, 4117300; 755800, 4117200; 755700, 4117200; 755700, 4117160; 755700, 4116700; 755700, 4116600; 755500, 4116500; 755400, 4116500; 754900, 4116300; 754800, 4116300; 754800, 4116600; 753700, 4116600; 753700, 4116400; 753300, 4116400; 753300, 4115600; 753100, 4115500; 752700, 4115400; 752400, 4115300; 752200, 4115200; 752200, 4115600; 751800, 4115600; 752000, 4115800; 751900, 4116000; 751400, 4116100; 751100, 4116300; 751300, 4116300; 751300, 4116900; 751100, 4116900; 750815, 4116900; 750800, 4116900; 750700, 4117000; 750000, 4116800; 749300, 4116800; 749300, 4116611; 749300, 4116500; 746800, 4116500; 746000, 4116500; 746000, 4116520; 746000, 4116600; 745200, 4116600; 745200, 4117800; 744600, 4117800; 744600, 4118600; 743600, 4118600; 743600, 4119000; 745400, 4119000; 745400, 4119700; 744700, 4119700; 744700, 4120500; 745300, 4120500; 745500, 4120600; 745600, 4120700; 746000, 4120700; 746000, 4121400; 746200, 4121500; 746200, 4121600; 746400, 4121700; 746400, 4121800; 747600, 4120700; 746500, 4120700; 746500, 4119700; 747000, 4119700; 747000, 4120300; 747800, 4120300; 747800, 4120000; 748400, 4120000; 747800, 4120500; 747800, 4121400; 748600, 4121400; 748600, 4121900; 747800, 4121900; 747800, 4123300; 748300, 4123300; 748300, 4123500; 748500, 4123500; 748600, 4123500; 748600, 4123900; 747800, 4123900; 747800, 4124600; 747400, 4125100; 747400, 4125500; 746900, 4125500; 746900, 4125763; 746902, 4125767; 746921, 4125818; 746971, 4125871; 746997, 4125897; returning to 747003, 4125902; excluding 757175, 4117475; 757117, 4117435; 757138, 4117438; 757146, 4117439; 757245, 4117516; 757255, 4117530; returning to 757175, 4117475.

(18) Note: Unit 15 (Map 9) follows:

BILLING CODE 4310-55-P

BILLING CODE 4310-55-C

(19) Unit 16: Merced County, California.

(i) Unit 16A: Merced County, California. From USGS 1:24,000 scale quadrangle Stevinson, Gustine, and San Luis Ranch. Land bounded by the following UTM Zone 10, NAD 83 coordinates (E,N): 688300, 4129000; 688600, 4128800; 689100, 4128900; 689200, 4128800; 689400, 4128600; 689800, 4128500; 689900, 4128300; 690200, 4128300; 690400, 4128200; 690500, 4128000; 690600, 4125500; 692700, 4125500; 693200, 4125000; 693100, 4124800; 693100, 4124400; 693300, 4123700; 693600, 4123400; 693800, 4123000; 694000, 4122900; 694079, 4122821; 694035, 4122790; 692453, 4121671; 692300, 4121900; 692200, 4122000; 692200, 4122500; 692100, 4122700; 691800, 4122800; 691400, 4122800; 691261, 4123079; 691262, 4123097; 691263, 4123113; 691267, 4123155; 691273, 4123198; 691267, 4123238; 691248, 4123272; 691217, 4123291; 691200, 4123294; 691200, 4123500; 691110, 4123679; 691126, 4123677; 691149, 4123682; 691156, 4123694; 691166, 4123718; 691177, 4123739; 691191, 4123771; 691193, 4123793; 691200, 4123800; 691195, 4123810; 691201, 4123850; 691215, 4123892; 691220, 4123942; 691214, 4123980; 691192, 4124020; 691171, 4124049; 691150, 4124072; 691127, 4124089; 691099, 4124095; 691071, 4124095; 691055, 4124090; 690900, 4124400; 690559, 4124400; 690559, 4124402; 690569, 4124417; 690582, 4124427; 690582, 4124447; 690576, 4124466; 690563, 4124483; 690546, 4124493; 690525, 4124502; 690523, 4124502; 690523, 4124519; 690500, 4124524; 690475, 4124530; 690469, 4124538; 690445, 4124570; 690388, 4124590; 690353, 4124592; 690180, 4124650; 690127, 4124689; 690083, 4124695; 690025, 4124783; 690020, 4124854; 689996, 4124900; 689988, 4125006; 689952, 4125056; 689912, 4125095; 689856, 4125119; 689819, 4125184; 689788, 4125210; 689747, 4125229; 689700, 4125300; 689658, 4125595; 689665, 4125595; 689672, 4125603; 689645, 4125757; 689630, 4125793; 689600, 4126000; 689700, 4126200; 689600, 4126600; 689400, 4126600; 689275, 4126538; 689239, 4126581; 689188, 4126664; 689134, 4126678; 689121, 4126682; 689069, 4126728; 689067, 4126852; 689020, 4126961; 688990, 4126993; 688911, 4126978; 688903, 4126995; 688913, 4127006; 689100, 4127100; 689024, 4127195; 689025, 4127207; 688949, 4127292; 688931, 4127324; 688922, 4127322; 688854, 4127407; 688823, 4127454; 688780, 4127503; 688735, 4127581; 688723, 4127621; 688696, 4127650; 688684, 4128244; 688193, 4128235; 688100, 4128700; returning to 688300, 4129000;

(ii) Unit 16B: Merced County, California. From USGS 1:24,000 scale quadrangle Stevinson and San Luis Ranch. Land bounded by the following UTM Zone 10, NAD 83 coordinates (E,N): 695400, 4125600; 695500, 4122000; 694900, 4122400; 694700, 4122700; 694500, 4122900; 694500, 4123100; 694100, 4123400; 693800, 4123500; 693800, 4123800; 693500, 4123900; 693500, 4124500; 693700, 4124700; 693800, 4125000; 693600, 4125200; 693400, 4125300; 693122, 4125670; 693100, 4125700; 693146, 4125746; 693200, 4125800; 693700, 4125900; 693700, 4127300; 693800, 4127300; 693900, 4127000; 694200, 4126900; 694600, 4126400; 694600, 4126200; 694700, 4126000; 695179, 4125726; returning to 695400, 4125600;

(iii) Unit 16C: Merced County, California. From USGS 1:24,000 scale quadrangle Arena, Stevinson, Turner Ranch, and San Luis Ranch. Land bounded by the following UTM Zone 10, NAD 83 coordinates (E,N): 699300, 4126300; 699300, 4125400; 700100, 4125400; 700200, 4126000; 700600, 4125700; 701100, 4125300; 701100, 4124300; 700300, 4124300; 700300, 4123800; 700500, 4123800; 700600, 4123500; 701100, 4123400; 701200, 4123200; 701400, 4123100; 701600, 4122700; 701900, 4122500; 702600, 4122200; 702870, 4121705; 703200, 4121100; 703900, 4120500; 704600, 4119800; 704600, 4119800; 704700, 4119700; 698900, 4119600; 698800, 4119700; 698543, 4119957; 698558, 4119970; 698501, 4120012; 698504, 4120069; 698626, 4120197; 698662, 4120077; 698694, 4120113; 698668, 4121116; 698663, 4121510; 698594, 4121508; 698600, 4121600; 699900, 4121600; 700000, 4120400; 700200, 4120400; 700200, 4122700; 697000, 4122600; 696900, 4125100; 697700, 4125100; 697700, 4125300; 697600, 4125400; 697700, 4125600; 698000, 4125700; 698200, 4125800; 698300, 4126100; 698700, 4126500; 699500, 4126500; 699600, 4126300; returning to 699300, 4126300;

(iv) Unit 16D: Merced County, California. From USGS 1:24,000 scale quadrangle Arena and Turner Ranch. Land bounded by the following UTM Zone 10, NAD 83 coordinates (E,N): 706700, 4122100; 706800, 4120900; 706700, 4120500; 706700, 4119700; 708100, 4119700; 708100, 4119600; 708000, 4119500; 707900, 4119200; 707900, 4119000; 708000, 4118900; 708300, 4118900; 708300, 4118100; 707900, 4118100; 707500, 4118500; 706500, 4118500; 706000, 4118900; 705600, 4119300; 705200, 4119700; 704800, 4120000; 704700, 4120100; 704700, 4120400; 705100, 4120400; 705100, 4120600; 704900, 4120700; 704900, 4120800; 705100, 4120800; 704900, 4121000; 705000, 4121100; 705100, 4121700; 705200, 4121700; 705300, 4122000; 705700, 4122100; 705700, 4122200; 705400, 4122300; 705300, 4122400; 705500, 4122600; 705400, 4122600; 705300, 4122500; 705200, 4122500; 705100, 4122500; 704900, 4122500; 704900, 4122700; 704800, 4122800; 704500, 4122800; 704300, 4122900; 704000, 4122800; 703900, 4122900; 703400, 4124400; 703300, 4124600; 701300, 4126500; 700100, 4127600; 700467, 4129067; 700500, 4129200; 700500, 4130600; 701000, 4130600; 701000, 4130100; 701100, 4129800; 701200, 4129800; 701100, 4130100; 701100, 4130600; 701700, 4130600; 701700, 4129200; 701800, 4129200; 702800, 4129200; 703000, 4128800; 703300, 4128800; 703900, 4128800; 703900, 4129000; 704200, 4129000; 704200, 4128500; 703300, 4128400; 703400, 4128300; 703400, 4127900; 703500, 4127800; 703800, 4127500; 703700, 4127300; 703500, 4127300; 703400, 4127100; 703400, 4126100; 703500, 4126100; 704400, 4126100; 704300, 4126000; 704400, 4125900; 704500, 4125300; 704500, 4124800; 705000, 4124800; 705000, 4125300; 705700, 4125300; 705700, 4124900; 706600, 4125000; 706700, 4123700; returning to 706700, 4122100;

(v) Unit 16E: Merced County, California. From USGS 1:24,000 scale quadrangle Sandy Mush and Turner Ranch. Land bounded by the following UTM Zone 10, NAD 83 coordinates (E,N): 706700, 4122100; 711500, 4122200; 711500, 4121700; 711500, 4121200; 709900, 4121300; 709900, 4121900; 709800, 4121900; 709800, 4121800; 709700, 4121500; 709500, 4121500; 709300, 4121600; 708800, 4121400; 708700, 4121300; 706800, 4121300; returning to 706700, 4122100;

(vi) Unit 16F: Merced County, California. From USGS 1:24,000 scale quadrangle Sandy Mush and Turner Ranch. Land bounded by the following UTM Zone 10, NAD 83 coordinates (E,N): 711200, 4120500; 711400, 4120400; 711500, 4120500; 711600, 4119600; 711900, 4119600; 711900, 4119400; 712100, 4119300; 712300, 4119300; 712300, 4119200; 712600, 4119200; 712800, 4118800; 711600, 4118700; 711600, 4118500; 711400, 4118500; 711300, 4118400; 711100, 4118100; 709900, 4118100; 709900, 4118800; 709900, 4119000; 709700, 4119000; 709700, 4119600; 710300, 4119600; 710300, 4119900; 710700, 4119900; 710700, 4120000; 710600, 4120000; 710600, 4120100; 710700, 4120200; 710600, 4120300; 710700, 4120400; 710700, 4120500; 710900, 4120400; 711100, 4120400; returning to 711200, 4120500;

(vii) Unit 16G: Merced County, California. From USGS 1:24,000 scale quadrangle Sandy Mush. Land bounded by the following UTM Zone 10, NAD 83 coordinates (E,N): 714600, 4115000; 713300, 4115000; 713100, 4115300; 713300, 4115300; 713800, 4115400; 713800, 4116600; 715400, 4116600; 715500, 4116500; 715500, 4115818; 714600, 4115800; returning to 714600, 4115000;

(viii) Unit 16H: Merced County, California. From USGS 1:24,000 scale quadrangle El Nido and Sandy Mush. Land bounded by the following UTM Zone 10, NAD 83 coordinates (E,N): 718900, 4120900; 718900, 4120000; 719300, 4120000; 719400, 4120200; 719600, 4120100; 720200, 4120100; 720300, 4120200; 720700, 4120200; 720900, 4120000; 721500, 4120000; 721600, 4120100; 722000, 4120100; 722100, 4120000; 722200, 4120200; 722200, 4120300; 722900, 4120300; 722900, 4119600; 722100, 4119500; 722200, 4118400; 725400, 4118500; 725400, 4118578; 726100, 4118600; 726100, 4120100; 728600, 4120100; 728600, 4119200; 727800, 4119200; 727700, 4118600; 727600, 4118500; 727500, 4118500; 727500, 4118400; 727500, 4116900; 726800, 4116900; 726700, 4116900; 726800, 4115300; 725900, 4115300; 725900, 4116900; 724300, 4116900; 724300, 4117600; 722694, 4117506; 722600, 4117600; 721800, 4117600; 721800, 4118400; 720200, 4118400; 720200, 4117600; 719400, 4117600; 719400, 4116700; 718600, 4116700; 718600, 4117100; 718200, 4117100; 718200, 4117200; 718300, 4117300; 718400, 4117400; 718600, 4117400; 718600, 4117500; 718600, 4118291; 718900, 4118300; 718900, 4118900; 718800, 4119000; 718700, 4119000; 718600, 4119100; 717700, 4119100; 717700, 4119900; 718100, 4119900; 718100, 4119950; 718100, 4120000; 718500, 4120000; 718500, 4120900; returning to 718900, 4120900;

(ix) Unit 16I: Merced County, California. From USGS 1:24,000 scale quadrangle Sandy Mush. Land bounded by the following UTM Zone 10, NAD 83 coordinates (E,N): 721300, 4120800; 720500, 4120800; 720500, 4121600; 721300, 4121600; 721300, 4121200; returning to 721300, 4120800;

(x) Unit 16J: Merced County, California. From USGS 1:24,000 scale quadrangle El Nido. Land bounded by the following UTM Zone 10, NAD 83 coordinates (E,N): 722900, 4121800; 721800, 4121800; 722200, 4122500; 722900, 4122500; returning to 722900, 4121800;

(xi) Unit 16K: Merced County, California. From USGS 1:24,000 scale quadrangle Plainsburg and El Nido. Land bounded by the following UTM Zone 10, NAD 83 coordinates (E,N): 731700, 4117000; 730400, 4117000; 730400, 4118600; 730200, 4118600; 730100, 4119300; 730000, 4119700; 730000, 4119900; 730100, 4120200; 730900, 4120200; 730900, 4121400; 731300, 4121500; 731800, 4121400; 732700, 4121300; 734000, 4121200; 734200, 4121100; 734200, 4120300; 733400, 4120300; 733400, 4118700; 731700, 4118700; returning to 731700, 4117000;

(xii) Note: Unit 16 (Map 10) follows:

BILLING CODE 4310-55-P

BILLING CODE 4310-55-C

(20) Unit 17, Fresno County, California. From USGS 1:24,000 scale quadrangle Millerton Lake East and Academy. Land bounded by the following UTM Zone 10, NAD 83 coordinates (E,N): 802663, 4106066; 803207, 4105399; 803781, 4105836; 803880, 4105842; 804343, 4104869; 804150, 4104757; 803962, 4104544; 803981, 4104245; 804206, 4103858; 804331, 4103465; 804238, 4103359; 803957, 4103040; 803171, 4102790; 802073, 4102721; 801886, 4102509; 801898, 4102309; 802217, 4102028; 802435, 4101741; 802554, 4101448; 802573, 4101149; 802511, 4100543; 802424, 4100337; 802343, 4100031; 802056, 4099812; 801769, 4099594; 801276, 4099463; 800877, 4099437; 800958, 4099743; 801712, 4100492; 801987, 4100911; 801974, 4101110; 801862, 4101304; 801218, 4101965; 801187, 4102464; 801455, 4102983; 801816, 4103607; 802316, 4103638; 802834, 4103370; 803333, 4103402; 803520, 4103614; 803607, 4103820; 803264, 4104500; 802852, 4104675; 802227, 4105036; 802264, 4106041; 802663, 4106066.

(21) Note: Unit 17 (Map 11) follows:

BILLING CODE 4310-55-P

BILLING CODE 4310-55-C

(22) Unit 18: Tulare and Kings Counties, California.

(i) Unit 18A: Tulare and Kings Counties, California. From USGS 1:24,000 scale quadrangle Monson, Traver, Burris Park, and Remnoy. Land bounded by the following UTM Zone 10, NAD 83 coordinates (E,N): 828797, 4041134; 828810, 4040935; 829509, 4040978; 829634, 4040585; 829709, 4039386; 830449, 4039621; 830453, 4039463; 830420, 4039230; 829721, 4039186; 829521, 4039174; 829509, 4039374; 828304, 4039399; 828279, 4039798; 827580, 4039755; 827605, 4039355; 827205, 4039330; 827280, 4038132; 826381, 4038076; 826400, 4037776; 825601, 4037726; 825582, 4038026; 824877, 4038082; 824895, 4037782; 822892, 4037758; 822929, 4037159; 821031, 4037041; 821075, 4036342; 820575, 4036310; 820606, 4035811; 820207, 4035786; 820157, 4034981; 820200, 4034282; 818203, 4034157; 818222, 4033858; 817135, 4033589; 816842, 4033471; 816667, 4033059; 816274, 4032935; 816181, 4032934; 814570, 4032928; 813902, 4032386; 813727, 4031974; 813565, 4031362; 813284, 4031044; 812996, 4030826; 812891, 4032523; 813790, 4032579; 814252, 4033209; 814539, 4033428; 814851, 4034164; 814889, 4034252; 815581, 4034395; 816256, 4034838; 817560, 4034819; 816992, 4035886; 818490, 4035980; 819364, 4036436; 819770, 4036360; 820900, 4037534; 821693, 4037683; 822542, 4038539; 824646, 4038569; 824846, 4038582; 826344, 4038675; 826313, 4039175; 825507, 4039225; 825445, 4040223; 827043, 4040323; 827100, 4041028; returning to 828797, 4041134;

(ii) Unit 18B: Tulare County, California. From USGS 1:24,000 scale quadrangle Monson. Land bounded by the following UTM Zone 10, NAD 83 coordinates (E,N): 831257, 4040285; 831281, 4039895; 831228, 4039894; 831226, 4040265; 830457, 4040256; 830452, 4040335; returning to 831257, 4040285;

(iii) Unit 18C: Tulare County, California. From USGS 1:24,000 scale quadrangle Monson. Land bounded by the following UTM Zone 10, NAD 83 coordinates (E,N): 832081, 4039935; 832106, 4039535; 832038, 4039531; 831991, 4039595; 831752, 4039679; 831748, 4039853; 832035, 4039864; 832031, 4039913; 831542, 4039901; 832081, 4039935; returning to 832081, 4039935;

(iv) Unit 18D: Tulare County, California. From USGS 1:24,000 scale quadrangle Monson. Land bounded by the following UTM Zone 10, NAD 83 coordinates (E,N): 831258, 4037878; 830508, 4037831; 830507, 4037837; 830510, 4037837; 830495, 4038113; 830867, 4038116; 831249, 4038123; returning to 831258, 4037878;

(v) Unit 18E: Tulare County, California. From USGS 1:24,000 scale quadrangle Monson. Land bounded by the following UTM Zone 10, NAD 83 coordinates (E, N): 835309, 4039635; 834510, 4039585; 834460, 4040384; 835259, 4040434; returning to 835309, 4039635;

(vi) Unit 18F: Tulare County, California. From USGS 1:24,000 scale quadrangle Ivanhoe. Land bounded by the following UTM Zone 10, NAD 83 coordinates (E,N): 837863, 4043705; 837178, 4043663; 837165, 4044455; 837527, 4044471; 837510, 4044925; 837253, 4045186; 836546, 4045165; 836550, 4044829; 836726, 4044828; 836732, 4044453; 836753, 4044453; 836777, 4043638; 836764, 4043637; 836765, 4043628; 835983, 4043614; 835959, 4043687; 836040, 4043993; 836433, 4044117; 836365, 4045216; 837164, 4045266; 836733, 4045741; 838331, 4045841; 838338, 4045740; 837838, 4045710; 837919, 4044411; 837819, 4044405; returning to 837863, 4043705;

(vii) Note: Unit 18 (Map 12) follows:

BILLING CODE 4310-55-P

BILLING CODE 4310-55-C

* * * * *

5. In § 17.96 add critical habitat for Castilleja campestris ssp. succulenta (fleshy owl's-clover), Chamaesyce hooveri (Hoover's spurge), Lasthenia conjugens (Contra Costa goldfields), Limnanthes floccosa ssp. californica (Butte County meadowfoam), Neostapfia colusana (Colusa grass), Orcuttia inaequalis (San Joaquin Valley Orcutt grass), Orcuttia pilosa (hairy Orcutt grass), Orcuttia tenuis (slender Orcutt grass), Orcuttia viscida (Sacramento Orcutt grass), Tuctoria greenei (Greene's tuctoria), and Tuctoria mucronata (Solano grass) under paragraph (a) by adding entries for these species in alphabetical order by family under Asteraceae, Euphorbiaceae, Limnanthaceae, Poaceae, and Scrophulariaceae (respectively), to read as follows:

§ 17.96 Critical habitat—plants.

(a) Flowering plants.

* * * * *

Family Scrophulariaceae: Castilleja campestris ssp. succulenta (Fleshy owl's-clover)

(1) Critical habitat units are depicted for Fresno, Madera, Mariposa, Merced, San Joaquin, Stanislaus, and Tuolumne Counties, California, on the map below.

(2) The primary constituent elements of critical habitat for Castilleja campestris ssp. succulenta (Fleshy owl's-clover) are the habitat components that provide:

(i) Topographic features characterized by isolated mound and intermound complex within a matrix of surrounding uplands that result in continuously, or intermittently, flowing surface water in the depressional features including swales connecting the pools described in paragraph (2)(ii) of this section, providing for dispersal and promoting hydroperiods of adequate length in the pools; and

(ii) Depressional features including isolated vernal pools with underlying restrictive soil layers that become inundated during winter rains and that continuously hold water or whose soils are saturated for a period long enough to promote germination, flowering, and seed production of predominantly annual native wetland species and typically exclude both native and nonnative upland plant species in all but the driest years. As these features are inundated on a seasonal basis, they do not promote the development of obligate wetland vegetation habitats typical of permanently flooded emergent wetlands.

(3) Existing manmade features and structures, such as buildings, roads, railroads, airports, runways, other paved areas, lawns, and other urban landscaped areas do not contain one or more of the primary constituent elements. Federal actions limited to those areas, therefore, would not trigger a consultation under section 7 of the Act unless they may affect the species and/or primary constituent elements in adjacent critical habitat.

(4) Unit 1: Sacramento and San Joaquin Counties, California. From USGS 1:24,000 scale quadrangles Clay and Lockeford. Land bounded by the following UTM Zone 10, NAD 83 coordinates (E,N): 660700, 4234700; 660300, 4234400; 660000, 4234300; 659600, 4233400; 656900, 4233400; 654100, 4233200; 654000, 4233200; 654000, 4232700; 653600, 4232700; 653600, 4234100; 654074, 4234764; 654100, 4234800; 655100, 4234800; 655410, 4234568; 655500, 4234500; 655688, 4234594; 655900, 4234700; 655986, 4234700; 656000, 4234700; 656000, 4234500; 656800, 4234500; 656800, 4234700; 657600, 4234700; 657900, 4235000; 658800, 4235200; 658700, 4235100; 658700, 4234600; 659200, 4234600; 659200, 4234700; 659000, 4234900; 660500, 4235300; 661000, 4235300; 661100, 4235100; returning to 660700, 4234700.

(5) Note: Unit 1 (Map 1) follows:

BILLING CODE 4310-55-P

BILLING CODE 4310-55-C

(6) Unit 2: Tuolumne and Stanislaus Counties, California. From USGS 1:24,000 scale quadrangles Keystone, La Grange, Cooperstown and Paulsell. Land bounded by the following UTM Zone 10, NAD 83 coordinates (E,N): 715800, 4183400; 716000, 4182700; 716900, 4182700; 717100, 4182500; 717100, 4182000; 716900, 4181300; 717200, 4180900; 717200, 4180600; 717107, 4180383; 716900, 4179900; 717482, 4180046; 717700, 4180100; 718500, 4180000; 718700, 4179200; 719300, 4178700; 719455, 4178273; 719700, 4177600; 720126, 4177671; 720300, 4177700; 720700, 4177700; 720745, 4177115; 720800, 4176400; 720500, 4175200; 719500, 4174100; 720700, 4173500; 720700, 4172500; 719800, 4171900; 718800, 4171424; 718000, 4171043; 717700, 4170900; 717300, 4170700; 716800, 4171000; 716700, 4171800; 716500, 4171800; 716200, 4170900; 715500, 4170500; 715300, 4170407; 715300, 4171200; 715200, 4171200; 715200, 4171000; 715100, 4171000; 715100, 4170700; 714900, 4170700; 714900, 4170300; 713900, 4169800; 713800, 4169900; 713000, 4169500; 712500, 4169400; 712200, 4169400; 712000, 4169600; 711500, 4169900; 711300, 4169900; 710500, 4169100; 709300, 4169100; 709100, 4169500; 709100, 4169700; 708900, 4169700; 708800, 4169900; 708700, 4169900; 708600, 4169800; 708500, 4169900; 708400, 4170000; 708700, 4170200; 708800, 4170300; 708900, 4170400; 709100, 4170500; 709200, 4170600; 709400, 4170600; 709400, 4170800; 709300, 4170800; 709200, 4170900; 709100, 4170800; 708800, 4170700; 708800, 4170600; 708500, 4170500; 708400, 4170300; 708100, 4170200; 707900, 4170200; 707900, 4170300; 708100, 4170500; 708200, 4170500; 708200, 4170600; 708000, 4170600; 708200, 4170800; 708200, 4170900; 708100, 4170900; 707900, 4170700; 707700, 4170700; 707700, 4170800; 707600, 4170900; 707400, 4170900; 707100, 4171100; 707100, 4171200; 707200, 4171300; 707300, 4171200; 707500, 4171300; 707800, 4171600; 707900, 4171600; 708100, 4171600; 708200, 4171700; 708100, 4171800; 708100, 4171900; 708300, 4171900; 708300, 4172100; 708400, 4172100; 708500, 4172200; 708500, 4172300; 708700, 4172400; 708800, 4172500; 708800, 4172600; 708700, 4172700; 708500, 4172700; 708400, 4172800; 708300, 4172700; 708200, 4172700; 708100, 4172600; 708000, 4172500; 707900, 4172500; 707800, 4172700; 707600, 4172600; 707400, 4172500; 707400, 4172600; 707200, 4172700; 707100, 4172300; 707000, 4172200; 706700, 4172200; 706700, 4172300; 706500, 4172300; 706400, 4172300; 706400, 4172400; 706200, 4172600; 706300, 4172700; 706400, 4172800; 706300, 4172800; 706200, 4172800; 706100, 4172900; 705900, 4173100; 705800, 4173300; 705800, 4173500; 706000, 4173800; 705900, 4173900; 705800, 4174100; 705700, 4174200; 705500, 4174200; 705400, 4174100; 705400, 4173700; 705200, 4173200; 705167, 4173700; 705167, 4173700; 705100, 4174700; 705400, 4175400; 705000, 4175900; 705300, 4176300; 705700, 4176700; 705700, 4177000; 705700, 4177500; 705700, 4177700; 705200, 4177900; 705000, 4178100; 705400, 4178900; 706200, 4178400; 706600, 4177600; 707200, 4177300; 707300, 4176800; 706800, 4176200; 706900, 4175800; 707600, 4175800; 707999, 4176498; 708000, 4176500; 708000, 4176500; 708500, 4176400; 709800, 4176600; 710200, 4176200; 710700, 4176600; 711200, 4176900; 711500, 4177100; 711600, 4178100; 711700, 4178700; 710600, 4178800; 710300, 4179200; 709900, 4179500; 709879, 4179505; 709905, 4179525; 711259, 4179578; 711250, 4179933; 711628, 4179987; 711599, 4180753; 711578, 4180885; 713039, 4181325; 713440, 4181474; 714003, 4181741; 714540, 4182019; 714627, 4182073; 714634, 4182077; 714982, 4182292; 715045, 4182331; 714949, 4182425; 714723, 4182600; 715100, 4182600; 715500, 4183400; returning to 715800, 4183400.

(7) Note: Unit 2 (Map 2) follows:

BILLING CODE 4310-55-P

BILLING CODE 4310-55-C

(8) Unit 3: Mariposa and Merced Counties, California.

(i) Unit 3A: Mariposa and Merced Counties, California. From USGS 1:24,000 scale quadrangles Merced Falls and Snelling. Land bounded by the following UTM Zone 10, NAD 83 coordinates (E,N): 733000, 4162600; 733600, 4162100; 733700, 4161500; 733600, 4161000; 734600, 4160400; 734727, 4160273; 734800, 4160200; 734800, 4160135; 734800, 4159500; 734400, 4158700; 734300, 4158100; 734500, 4157900; 734700, 4158000; 734900, 4158300; 735000, 4158800; 735500, 4158800; 735505, 4158795; 735700, 4158600; 735674, 4158472; 735600, 4158100; 735600, 4158100; 736171, 4157529; 736200, 4157500; 736800, 4157300; 736900, 4157100; 736900, 4156500; 736712, 4156500; 736300, 4156500; 736000, 4156300; 735500, 4156300; 734100, 4156900; 733400, 4157100; 731700, 4156900; 730900, 4156500; 728900, 4156600; 728700, 4156700; 728700, 4156800; 728600, 4156900; 728300, 4156900; 728100, 4156800; 727900, 4156800; 727100, 4156800; 726900, 4156600; 726700, 4156500; 726300, 4156500; 726100, 4156600; 725800, 4156500; 725600, 4156400; 725500, 4156300; 725400, 4156200; 725100, 4156100; 725000, 4156000; 724900, 4156000; 724800, 4156100; 724300, 4156100; 724300, 4155700; 723800, 4155700; 723900, 4155300; 723300, 4155400; 722700, 4155100; 722700, 4155400; 722300, 4155400; 722300, 4156800; 722900, 4156800; 722900, 4157400; 723500, 4157400; 723500, 4157000; 723700, 4157000; 723700, 4156900; 724300, 4156900; 724300, 4157400; 724200, 4157400; 724200, 4157400; 724100, 4160000; 724400, 4160600; 726199, 4160629; 726199, 4160629; 727246, 4160646; 727312, 4160647; 728773, 4160670; 729244, 4160678; 730600, 4160700; 730500, 4162200; 730800, 4162200; 731000, 4162100; 731400, 4162100; 731600, 4162500; 731800, 4162500; 731900, 4162400; 732100, 4162400; 732200, 4162500; 732700, 4162700; returning to 733000, 4162600.

(ii) Unit 3B: Mariposa and Merced Counties, California. From USGS 1:24,000 scale quadrangles Merced Falls, Snelling, Indian Gulch, Haystack Mountain, Yosemite Lake, Winton, Owen's Resevoir, Planada and Merced. Land bounded by the following UTM Zone 10, NAD 83 coordinates (E,N): 737800, 4155000; 738200, 4154200; 738300, 4153300; 739000, 4152800; 739100, 4152200; 740200, 4151800; 740800, 4151500; 740800, 4150300; 741100, 4149900; 741700, 4149400; 742100, 4148500; 742100, 4147100; 743400, 4146100; 744000, 4145600; 744400, 4144600; 744300, 4143900; 743900, 4142700; 744000, 4142000; 744200, 4141700; 745500, 4140300; 746100, 4139500; 746800, 4138500; 747700, 4137700; 748500, 4135800; 748700, 4135100; 749500, 4134000; 749501, 4133999; 750173, 4132710; 750700, 4131700; 751600, 4130500; 752000, 4130200; 752100, 4130200; 752173, 4130200; 752173, 4130199; 752157, 4130180; 752143, 4130162; 752035, 4130070; 751965, 4130010; 751907, 4129917; 751855, 4129864; 751785, 4129829; 751727, 4129817; 751693, 4129800; 751681, 4129794; 751664, 4129785; 751654, 4129772; 751560, 4129753; 751457, 4129733; 751416, 4129705; 751410, 4129701; 751400, 4129700; 751399, 4129700; 751326, 4129693; 751299, 4129685; 751191, 4129530; 751123, 4129507; 751088, 4129488; 751053, 4129470; 751004, 4129410; 751002, 4129402; 750955, 4129261; 750909, 4129180; 750848, 4129037; 750790, 4128977; 750766, 4128953; 750609, 4128861; 750506, 4128806; 750420, 4128760; 750409, 4128754; 750305, 4128665; 750239, 4128660; 750017, 4128694; 750006, 4128700; 749963, 4128723; 749886, 4128721; 749824, 4128725; 749716, 4128734; 749672, 4128755; 749591, 4128753; 749563, 4128739; 749458, 4128596; 749410, 4128574; 749363, 4128542; 749133, 4128508; 749013, 4128457; 749005, 4128453; 749002, 4128451; 748903, 4128379; 748906, 4128277; 748917, 4128239; 748933, 4128123; 748899, 4128013; 748784, 4127941; 748764, 4127912; 748753, 4127851; 748635, 4127644; 748439, 4127570; 748396, 4127553; 748343, 4127521; 748306, 4127500; 748300, 4127486; 748287, 4127458; 748295, 4127296; 748300, 4127277; 748320, 4127203; 748332, 4127134; 748321, 4127094; 748292, 4127060; 748196, 4126992; 748194, 4126991; 748166, 4126932; 748141, 4126839; 748080, 4126756; 748085, 4126672; 748075, 4126641; 748037, 4126635; 747962, 4126676; 747898, 4126700; 747863, 4126691; 747823, 4126667; 747794, 4126628; 747766, 4126528; 747692, 4126358; 747650, 4126316; 747562, 4126246; 747502, 4126125; 747478, 4126053; 747451, 4126022; 747406, 4126011; 747358, 4126000; 747358, 4126000; 747200, 4126000; 747142, 4125971; 747123, 4125969; 747070, 4125950; 747003, 4125902; 747000, 4125900; 746900, 4125900; 746600, 4125800; 746300, 4125700; 746200, 4125600; 746200, 4125500; 745700, 4125500; 745700, 4125500; 745700, 4125100; 744500, 4125100; 744500, 4125300; 744400, 4125300; 744400, 4125200; 743700, 4125200; 743700, 4125800; 744500, 4125800; 744500, 4126200; 743700, 4126200; 743700, 4127000; 743600, 4127000; 742700, 4127000; 742400, 4127000; 742000, 4127200; 742000, 4128600; 742800, 4128600; 742800, 4129100; 742900, 4129100; 743000, 4129100; 743000, 4129200; 743400, 4129300; 743600, 4129500; 743600, 4130284; 743605, 4130284; 743600, 4130493; 743600, 4130700; 743595, 4130700; 743561, 4132097; 743560, 4132170; 743556, 4132335; 743549, 4132692; 743537, 4133202; 743529, 4133301; 743531, 4133352; 743530, 4133400; 743523, 4133729; 743518, 4134016; 743515, 4134159; 743509, 4134382; 743500, 4134708; 743504, 4134743; 743565, 4134782; 744447, 4135329; 746234, 4136439; 746230, 4136445; 745985, 4136865; 745952, 4136931; 745915, 4136978; 745914, 4136987; 745902, 4137008; 745748, 4137298; 745669, 4137403; 745620, 4137437; 745503, 4137487; 745203, 4138201; 744984, 4138471; 744895, 4138606; 744895, 4138606; 744830, 4138711; 744596, 4139085; 744234, 4139637; 744233, 4139645; 744162, 4139744; 744162, 4139744; 744013, 4140002; 744013, 4140002; 743998, 4140029; 743996, 4140030; 743973, 4140072; 743907, 4140195; 743889, 4140229; 743877, 4140264; 743750, 4140609; 743388, 4140868; 743091, 4141131; 743053, 4141165; 742997, 4141268; 742771, 4141692; 742748, 4141734; 742355, 4142343; 742336, 4142368; 742271, 4142457; 742238, 4142503; 742139, 4142637; 742056, 4142749; 742002, 4142823; 741974, 4142874; 741808, 4143176; 741722, 4143360; 741419, 4144010; 741385, 4144081; 741316, 4144328; 741297, 4144395; 741245, 4144456; 741194, 4144530; 741162, 4144608; 741076, 4144820; 740864, 4144897; 740843, 4144899; 740750, 4144952; 740641, 4145056; 740535, 4145175; 740517, 4145182; 740490, 4145240; 740487, 4145263; 740386, 4145415; 740321, 4145847; 740320, 4146066; 740303, 4146114; 740276, 4146159; 740272, 4146225; 740293, 4146273; 740293, 4146303; 740370, 4146426; 740415, 4146474; 740536, 4146602; 740735, 4146722; 740825, 4146775; 741069, 4147251; 741071, 4147549; 741071, 4147576; 740982, 4147830; 740955, 4147883; 740914, 4147967; 740822, 4148059; 740772, 4148182; 740782, 4148363; 740776, 4148391; 740695, 4148831; 740617, 4149151; 740447, 4149311; 740396, 4149534; 740344, 4149561; 740303, 4149575; 740289, 4149588; 740238, 4149636; 740225, 4149666; 740057, 4149659; 739993, 4149678; 739917, 4149678; 739791, 4149621; 739705, 4149597; 739701, 4149596; 739602, 4149593; 739521, 4149560; 739443, 4149542; 739197, 4149515; 738714, 4149273; 738694, 4149252; 738674, 4149251; 738178, 4148999; 737835, 4148823; 737747, 4148772; 737044, 4148135; 736672, 4147809; 736430, 4147669; 735929, 4147379; 735716, 4147219; 735669, 4147184; 735605, 4147136; 735437, 4147009; 735223, 4146848; 735183, 4146809; 735156, 4146798; 735151, 4146778; 735022, 4146655; 734989, 4146630; 734609, 4146349; 734480, 4146255; 734012, 4145909; 733808, 4145758; 733765, 4145739; 733763, 4145732; 733370, 4145442; 732703, 4144952; 732391, 4144910; 732197, 4144885; 731993, 4144850; 731062, 4144594; 730371, 4144363; 729000, 4143905; 728736, 4143813; 728542, 4143745; 728346, 4143647; 728018, 4143482; 727340, 4143194; 726795, 4142958; 726607, 4142867; 726599, 4142856; 726577, 4142853; 725785, 4142417; 725793, 4142408; 725843, 4142361; 726002, 4142378; 726117, 4142355; 726204, 4142264; 726415, 4142046; 726420, 4141975; 726381, 4141921; 726367, 4141880; 726261, 4141732; 726182, 4141648; 725935, 4141477; 725916, 4141451; 725903, 4141379; 725914, 4141349; 725981, 4141288; 726033, 4141240; 726145, 4141137; 726156, 4141109; 726147, 4141073; 726096, 4140993; 726083, 4140896; 726089, 4140784; 726108, 4140739; 726268, 4140551; 726269, 4140436; 726283, 4140368; 726313, 4140308; 726412, 4140209; 726455, 4140025; 726457, 4140000; 726459, 4139959; 726715, 4139715; 726786, 4139647; 726804, 4139630; 726822, 4139625; 726822, 4139611; 726823, 4139582; 726809, 4139546; 726755, 4139466; 726754, 4139433; 726931, 4139179; 727174, 4138842; 727220, 4138823; 727261, 4138819; 727328, 4138864; 727331, 4138842; 727333, 4138831; 727335, 4138819; 727343, 4138816; 727396, 4138803; 727406, 4138800; 727414, 4138798; 727552, 4138779; 727711, 4138793; 727806, 4138786; 727819, 4138766; 727845, 4138644; 727858, 4138617; 727881, 4138590; 727700, 4138500; 727600, 4138400; 727400, 4138300; 727400, 4137800; 727300, 4137800; 727300, 4137600; 727400, 4137600; 727400, 4137500; 727300, 4137500; 727300, 4137400; 727400, 4137400; 727400, 4137200; 726500, 4137200; 726500, 4136500; 726400, 4136400; 725800, 4136400; 725800, 4137200; 725000, 4137200; 724900, 4138800; 725500, 4138800; 725500, 4138700; 725800, 4138700; 725800, 4138800; 725900, 4138800; 725900, 4139500; 726500, 4139500; 726500, 4139600; 725900, 4139600; 725800, 4139600; 725800, 4140200; 725900, 4140200; 725900, 4140900; 725400, 4140900; 725400, 4140800; 725100, 4140800; 725100, 4141000; 724900, 4141000; 724900, 4141200; 724100, 4141200; 724100, 4141600; 723400, 4141600; 723400, 4141100; 723200, 4141100; 723200, 4140600; 723400, 4140500; 723400, 4139500; 724000, 4139500; 724000, 4139400; 723900, 4138900; 723900, 4138700; 723500, 4138200; 723400, 4138200; 723400, 4138300; 723000, 4138300; 723000, 4138700; 723000, 4138900; 723100, 4139100; 723200, 4139400; 723300, 4139500; 722100, 4139500; 722000, 4140500; 721900, 4141100; 721900, 4141900; 721900, 4143400; 720800, 4143400; 720900, 4141800; 721000, 4141500; 721000, 4141200; 721100, 4141100; 721000, 4141000; 717800, 4140900; 717700, 4142500; 714500, 4142400; 714500, 4144900; 715500, 4144900; 715500, 4145000; 715800, 4145000; 715900, 4145000; 716000, 4145000; 716100, 4145100; 716100, 4145200; 716000, 4145200; 715900, 4145300; 715900, 4145400; 716000, 4145500; 716000, 4145600; 716100, 4145700; 717000, 4145700; 717700, 4145300; 717800, 4145300; 717800, 4145200; 717800, 4145100; 717600, 4144900; 717600, 4144800; 717600, 4144700; 717800, 4144500; 717900, 4144600; 718200, 4144600; 718400, 4144500; 718700, 4144500; 718700, 4144800; 718600, 4145000; 718700, 4145100; 718700, 4145600; 718600, 4145600; 718600, 4145700; 718700, 4145800; 718600, 4145900; 718500, 4146000; 718500, 4146100; 718600, 4146200; 718600, 4146500; 718300, 4146500; 718200, 4146600; 718200, 4146800; 718300, 4146800; 718500, 4146900; 718600, 4147000; 718600, 4147100; 718400, 4147200; 718500, 4147300; 718500, 4147600; 718700, 4147600; 718700, 4147400; 719000, 4147500; 719100, 4147700; 719300, 4147600; 719600, 4147900; 719700, 4148000; 719700, 4148100; 719800, 4148200; 720000, 4148200; 720600, 4148200; 720600, 4148300; 720700, 4148400; 720800, 4148400; 720900, 4148500; 722700, 4148500; 722700, 4148600; 722900, 4148600; 723200, 4148700; 723400, 4148700; 723200, 4148600; 723100, 4148500; 723000, 4148400; 723200, 4148200; 723400, 4148200; 723500, 4148300; 723600, 4148400; 723600, 4148500; 723800, 4148500; 723800, 4148400; 723900, 4148400; 723900, 4148500; 724000, 4148700; 724200, 4148500; 724200, 4148900; 724300, 4149000; 724300, 4149100; 724500, 4149000; 724500, 4149300; 724700, 4149400; 724900, 4149600; 725000, 4149700; 725000, 4150000; 724900, 4150100; 725000, 4150200; 725200, 4150200; 725300, 4150400; 725400, 4150500; 725400, 4150600; 725100, 4150900; 724700, 4150900; 724700, 4153400; 725000, 4153500; 725400, 4153900; 725600, 4154100; 725800, 4154200; 726000, 4154300; 726200, 4154000; 726300, 4153800; 726300, 4153700; 727800, 4153600; 727800, 4153400; 727900, 4153400; 727900, 4153500; 728400, 4153600; 728700, 4153700; 729000, 4153700; 729000, 4153600; 729100, 4153500; 729300, 4153400; 729400, 4153400; 729400, 4153300; 729300, 4153200; 729500, 4153100; 729800, 4153100; 729900, 4153200; 729900, 4154200; 730000, 4154200; 730100, 4154300; 730600, 4154300; 730700, 4154400; 731000, 4154600; 731200, 4154700; 731500, 4154700; 731800, 4154900; 732200, 4154900; 732600, 4154800; 733200, 4154500; 733400, 4154500; 733700, 4154300; 734700, 4154300; 734900, 4154600; 735100, 4154800; 735100, 4154900; 735500, 4155300; 735600, 4155300; 735800, 4155500; 736100, 4155900; 737100, 4155400; 737157, 4155367; returning to 737800, 4155000.

(iii) Note: Unit 3 (Map 3) follows:

BILLING CODE 4310-55-P

BILLING CODE 4310-55-C

(9) Unit 4: Madera and Merced Counties, California.

(i) Unit 4A: Madera and Merced Counties, California. From USGS 1:24,000 scale quadrangle Raynor Creek. Land bounded by the following UTM Zone 10, NAD 83 coordinates (E,N): 756592, 4117112; 756590, 4117110; 756590, 4117110; 756592, 4117112; 756624, 4117124; 756634, 4117128; 756785, 4117268; 756823, 4117300; 756872, 4117342; 757001, 4117419; 757117, 4117435; 757138, 4117438; 757146, 4117439; 757245, 4117516; 757255, 4117530; 757281, 4117570; 757313, 4117600; 757321, 4117607; 757378, 4117627; 757377, 4117626; 757352, 4117600; 757350, 4117598; 757221, 4117467; 757182, 4117433; 757117, 4117417; 757086, 4117410; 757047, 4117400; 756985, 4117385; 756917, 4117369; 756872, 4117341; 756823, 4117300; 756785, 4117267; 756759, 4117243; 756745, 4117231; 756634, 4117128; 756624, 4117124; returning to 756592, 4117112.

(ii) Unit 4B: Madera County, California. From USGS 1:24,000 scale quadrangle Raynor Creek. Land bounded by the following UTM Zone 10, NAD 83 coordinates (E,N): 757476, 4117726; 757475, 4117726; 757484, 4117742; 757532, 4117781; 757591, 4117800; 757617, 4117808; 757620, 4117809; 757622, 4117811; 757694, 4117865; 757797, 4117914; 757811, 4117918; 757808, 4117917; 757797, 4117914; 757694, 4117865; 757622, 4117811; 757620, 4117809; 757616, 4117808; 757591, 4117800; 757532, 4117781; 757485, 4117741; returning to 757476, 4117726.

(iii) Note: Units 4A and 4B (Map 4) follow:

BILLING CODE 4310-55-P

BILLING CODE 4310-55-C

(iv) Unit 4C: Madera and Fresno Counties, California. From USGS 1:24,000 scale quadrangles Millerton Lake West, Little Table Mountain, Daulton, Friant, Lanes Bridge and Gregg. Land bounded by the following UTM Zone 10, NAD 83 coordinates (E,N): 768068, 4107230; 768482, 4107223; 768510, 4107237; 768558, 4107312; 768603, 4107420; 768625, 4107444; 768663, 4107460; 768783, 4107434; 768930, 4107375; 769050, 4107290; 769225, 4107285; 769259, 4107274; 769313, 4107237; 769329, 4107230; 769367, 4107213; 769443, 4107216; 769756, 4107290; 770235, 4107165; 770356, 4107136; 771175, 4107264; 771213, 4107261; 771255, 4107237; 771273, 4107227; 771286, 4107215; 771517, 4107059; 771528, 4107056; 771815, 4106993; 772201, 4106696; 772325, 4106560; 772378, 4106500; 772399, 4106384; 772498, 4106310; 772661, 4106375; 772759, 4106385; 772826, 4106355; 772868, 4106337; 772940, 4106262; 773047, 4106226; 773125, 4106234; 773232, 4106319; 773424, 4106582; 773448, 4106601; 773630, 4106805; 773788, 4106934; 774007, 4106931; 774153, 4106987; 774208, 4106991; 774293, 4106979; 774346, 4106988; 774441, 4107034; 774571, 4107181; 774624, 4107185; 774644, 4107178; 774688, 4107162; 774730, 4107128; 774749, 4107108; 774795, 4107079; 774835, 4107052; 774846, 4107045; 774850, 4107042; 774860, 4107038; 774885, 4106988; 774910, 4106826; 774924, 4106643; 774919, 4106604; 774912, 4106536; 774917, 4106473; 774975, 4106381; 774999, 4106361; 775134, 4106205; 775285, 4106081; 775406, 4105942; 775604, 4105742; 775620, 4105713; 775682, 4105659; 775765, 4105623; 775948, 4105456; 775999, 4105450; 776120, 4105477; 776212, 4105561; 776272, 4105591; 776338, 4105583; 776404, 4105519; 776449, 4105460; 776460, 4105422; 776461, 4105333; 776454, 4105310; 776453, 4105259; 776440, 4105190; 776403, 4105067; 776342, 4104912; 776338, 4104874; 776344, 4104834; 776389, 4104794; 776390, 4104794; 776511, 4104930; 776669, 4105060; 776888, 4105057; 777034, 4105112; 777089, 4105117; 777174, 4105104; 777227, 4105114; 777322, 4105160; 777452, 4105307; 777505, 4105311; 777525, 4105303; 777569, 4105287; 777611, 4105253; 777630, 4105233; 777676, 4105204; 777716, 4105178; 777254, 4104608; 776860, 4104161; 777386, 4103739; 777417, 4103722; 777478, 4103724; 777556, 4103747; 777592, 4103745; 777628, 4103729; 777649, 4103704; 777655, 4103686; 777652, 4103610; 777595, 4103484; 777574, 4103361; 777542, 4103322; 777483, 4103277; 777424, 4103214; 777425, 4103166; 777452, 4103116; 777471, 4103096; 777503, 4103036; 777500, 4102977; 777455, 4102796; 777458, 4102704; 777472, 4102666; 777490, 4102639; 777701, 4102491; 777761, 4102460; 777902, 4102427; 778037, 4102384; 778066, 4102347; 778094, 4102274; 778118, 4102255; 778167, 4102239; 778212, 4102243; 778340, 4102295; 778379, 4102282; 778505, 4102141; 778562, 4102125; 778633, 4102132; 778720, 4102092; 778766, 4102096; 778798, 4102120; 778918, 4102254; 778976, 4102268; 778997, 4102264; 779059, 4102223; 779095, 4102209; 779762, 4102193; 779897, 4102172; 780079, 4102219; 780132, 4102236; 780185, 4102235; 780236, 4102217; 780360, 4102089; 780617, 4101823; 780666, 4101774; 780673, 4101764; 780682, 4101751; 780688, 4101743; 780713, 4101714; 780759, 4101634; 780761, 4101576; 780738, 4101514; 780687, 4101446; 780591, 4101336; 780514, 4101212; 780513, 4101163; 780527, 4101126; 780569, 4101089; 780939, 4100827; 781071, 4100686; 781076, 4100683; 781136, 4100645; 781561, 4100454; 781645, 4100459; 781800, 4100538; 781863, 4100561; 781925, 4100540; 781944, 4100528; 782075, 4100451; 782128, 4100455; 782347, 4100528; 782403, 4100533; 782429, 4100521; 782457, 4100499; 782535, 4100382; 782587, 4100338; 782809, 4100244; 782840, 4100222; 782884, 4100193; 782929, 4100075; 783072, 4099907; 783203, 4099779; 783268, 4099756; 783377, 4099744; 783662, 4099749; 783703, 4099735; 783743, 4099676; 783751, 4099641; 783755, 4099621; 783767, 4099609; 783768, 4099584; 783781, 4099548; 783795, 4099504; 783827, 4099471; 783858, 4099445; 783890, 4099424; 783916, 4099399; 783946, 4099382; 784056, 4099380; 784184, 4099372; 784246, 4099369; 784263, 4099375; 784300, 4099370; 784342, 4099377; 784378, 4099391; 784414, 4099405; 784438, 4099417; 784462, 4099430; 784493, 4099442; 784516, 4099445; 784536, 4099439; 784561, 4099422; 784574, 4099398; 784593, 4099356; 784601, 4099324; 784620, 4099288; 784627, 4099259; 784651, 4099241; 784652, 4099240; 784671, 4099217; 784701, 4099206; 784733, 4099188; 784758, 4099176; 784776, 4099164; 784801, 4099153; 784820, 4099143; 784845, 4099124; 784876, 4099102; 784907, 4099085; 784944, 4099056; 784970, 4099032; 784995, 4099006; 785020, 4098984; 785040, 4098960; 785046, 4098935; 785059, 4098917; 785060, 4098888; 785073, 4098858; 785074, 4098834; 785068, 4098801; 785061, 4098785; 785052, 4098764; 785041, 4098739; 785024, 4098708; 785006, 4098676; 784995, 4098640; 784978, 4098615; 784967, 4098591; 784960, 4098572; 784968, 4098548; 784993, 4098525; 785024, 4098508; 785062, 4098476; 785086, 4098473; 785117, 4098442; 785130, 4098431; 785143, 4098395; 785152, 4098345; 785159, 4098279; 785168, 4098231; 785176, 4098163; 785184, 4098120; 785184, 4098108; 785204, 4098054; 785220, 4097988; 785238, 4097931; 785246, 4097885; 785247, 4097853; 785237, 4097805; 785216, 4097736; 785199, 4097682; 785188, 4097625; 785182, 4097596; 785190, 4097576; 785209, 4097535; 785235, 4097499; 785266, 4097451; 785286, 4097422; 785312, 4097385; 785325, 4097349; 785320, 4097300; 785329, 4097245; 785330, 4097202; 785337, 4097165; 785350, 4097153; 785362, 4097142; 785387, 4097137; 785386, 4097154; 785380, 4097178; 785336, 4098764; 785334, 4098821; 785334, 4098823; 785325, 4099157; 785322, 4099281; 785306, 4099391; 785307, 4099496; 785298, 4099673; 785297, 4099722; 785297, 4099769; 785294, 4100139; 785263, 4100819; 785263, 4100835; 785238, 4101571; 785237, 4101665; 785246, 4101786; 785251, 4101854; 785264, 4101867; 785325, 4102090; 785355, 4102183; 785573, 4102647; 785971, 4103427; 785992, 4103409; 786042, 4102610; 786666, 4102248; 787427, 4102898; 788226, 4102948; 789398, 4103424; 791495, 4103556; 792650, 4102727; 792895, 4100437; 793120, 4100050; 793120, 4100037; 793128, 4099917; 793121, 4099905; 793111, 4099889; 793080, 4099839; 792877, 4099507; 792778, 4099513; 792443, 4099501; 792354, 4099461; 792283, 4099420; 792256, 4099426; 792194, 4099354; 792169, 4099353; 792166, 4099315; 792060, 4099424; 792057, 4099418; 792053, 4099482; 791947, 4099575; 790630, 4099793; 790131, 4099761; 790232, 4098164; 789028, 4098188; 789035, 4096485; 790214, 4096559; 790177, 4096506; 790142, 4096037; 790141, 4096017; 790136, 4095948; 790130, 4095880; 790073, 4095105; 790044, 4094714; 790043, 4094701; 790059, 4094701; 790042, 4094542; 789953, 4094536; 789977, 4093542; 790071, 4093498; 790133, 4093611; 790216, 4093646; 790217, 4093637; 790223, 4093534; 790004, 4093307; 789982, 4093284; 789748, 4093122; 789539, 4092854; 789477, 4092776; 789460, 4092765; 789403, 4092681; 789253, 4092489; 789192, 4092486; 788089, 4092416; 788053, 4092376; 787995, 4092310; 787920, 4092305; 787895, 4092303; 787795, 4092297; 787821, 4091898; 787846, 4091900; 788178, 4091921; 788220, 4091923; 788226, 4091823; 788426, 4091836; 788233, 4091723; 788133, 4091717; 788039, 4091611; 787952, 4091405; 787852, 4091399; 787759, 4091293; 787665, 4091186; 787578, 4090981; 787491, 4090775; 787204, 4090556; 786923, 4090238; 786025, 4090181; 786056, 4089682; 787054, 4089745; 787009, 4089307; 786993, 4089152; 786981, 4089139; 786892, 4089134; 786795, 4089077; 786699, 4089021; 786512, 4088809; 786418, 4088703; 786319, 4088696; 786225, 4088590; 786131, 4088484; 786038, 4088378; 786044, 4088278; 785845, 4088266; 785606, 4090455; 785662, 4091161; 785962, 4091179; 785955, 4091279; 786355, 4091304; 786336, 4091604; 786835, 4091635; 786785, 4092434; 785587, 4092359; 785561, 4092758; 785961, 4092783; 785936, 4093182; 785536, 4093157; 785524, 4093357; 785324, 4093344; 784925, 4093319; 784874, 4094118; 785101, 4094332; 785442, 4094655; 785453, 4095958; 785454, 4096058; 784655, 4096008; 784662, 4095507; 784671, 4094757; 784677, 4094306; 784677, 4094305; 784681, 4094005; 780582, 4093847; 779783, 4093796; 776583, 4093695; 776463, 4095591; 776657, 4095704; 778160, 4095698; 778053, 4097395; 778858, 4097346; 778857, 4098949; 779656, 4099000; 779555, 4100597; 776348, 4100594; 776551, 4095797; 776451, 4095791; 773656, 4095615; 773554, 4098815; 773553, 4100418; 773953, 4100443; 774040, 4100649; 774027, 4100849; 774015, 4101049; 774208, 4101161; 774395, 4101373; 774376, 4101673; 773421, 4102514; 773415, 4102614; 773595, 4102926; 773583, 4103126; 773477, 4103219; 773464, 4103419; 773626, 4104030; 773607, 4104329; 774274, 4104873; 774716, 4105803; 774653, 4106801; 774373, 4106482; 773625, 4105633; 772484, 4104659; 772378, 4104753; 772353, 4104745; 771985, 4104628; 771811, 4104431; 771708, 4104432; 771396, 4104436; 771392, 4104490; 771386, 4104590; 771685, 4104609; 770687, 4104546; 770599, 4105943; 768996, 4105942; 768945, 4106741; 766679, 4106696; 766674, 4106696; 766643, 4106695; 766647, 4107100; 766654, 4108020; 766655, 4108063; 766764, 4108105; 766868, 4108114; 766916, 4108115; 766952, 4108116; 766969, 4108117; 767030, 4108139; 767056, 4108159; 767077, 4108174; 767121, 4108207; 767181, 4108251; 767272, 4108279; 767327, 4108281; 767379, 4108260; 767397, 4108238; 767442, 4108033; 767466, 4107846; 767496, 4107799; 767643, 4107646; 767657, 4107605; 767661, 4107533; 767663, 4107481; 767684, 4107415; 767700, 4107360; returning to 768068, 4107230.

(v) Note: Unit 4C (Map 5) follows:

BILLING CODE 4310-55-P

BILLING CODE 4310-55-C

(10) Unit 5: Fresno County, California.

(i) Unit 5A: Fresno County, California. From USGS 1:24,000 scale quadrangles Friant and Round Mountain. Land bounded by the following UTM Zone 10, NAD 83 coordinates (E,N): 808747, 4087503; 808179, 4086966; 808217, 4086367; 808442, 4085980; 808467, 4085580; 807774, 4085437; 807718, 4084731; 807769, 4083933; 808006, 4083346; 808225, 4083059; 808549, 4082678; 808774, 4082291; 808912, 4081699; 809343, 4081224; 809474, 4080731; 808475, 4080669; 808538, 4079670; 808270, 4079152; 806566, 4079145; 806653, 4079351; 806940, 4079570; 807028, 4079776; 807015, 4079975; 806703, 4080156; 806303, 4080131; 806272, 4080630; 806459, 4080843; 806727, 4081361; 806915, 4081573; 807214, 4081592; 807164, 4082391; 806165, 4082328; 803064, 4082233; 803026, 4082832; 803325, 4082851; 803313, 4083051; 803013, 4083032; 802982, 4083531; 802483, 4083499; 802508, 4083100; 801509, 4083037; 801497, 4083237; 801297, 4083225; 801285, 4083424; 801584, 4083443; 801559, 4083843; 801921, 4084467; 801914, 4084566; 803212, 4084648; 803256, 4083949; 803363, 4083856; 803388, 4083456; 803787, 4083481; 803687, 4085079; 804485, 4085129; 804460, 4085529; 804860, 4085554; 804922, 4086159; 803642, 4085778; 803651, 4085648; 803548, 4085713; 803518, 4085730; 803503, 4085745; 803486, 4085763; 803477, 4085795; 803460, 4085856; 803336, 4086213; 803329, 4086239; 803328, 4086267; 803337, 4086291; 803346, 4086315; 803360, 4086337; 803397, 4086402; 803413, 4086436; 803421, 4086499; 803429, 4086539; 803428, 4086574; 803427, 4086596; 803420, 4086622; 803416, 4086642; 803400, 4086665; 803385, 4086684; 803355, 4086698; 803092, 4086820; 803063, 4086833; 803033, 4086837; 803014, 4086832; 802995, 4086821; 802971, 4086815; 802941, 4086799; 802923, 4086789; 802893, 4086788; 802859, 4086786; 802830, 4086800; 802814, 4086815; 802799, 4086827; 802779, 4086852; 802712, 4086936; 802692, 4086960; 802677, 4086979; 802657, 4086994; 802636, 4087002; 802611, 4087006; 802597, 4087012; 802573, 4087005; 802543, 4086999; 802482, 4086972; 802453, 4086962; 802424, 4086956; 802395, 4086950; 802371, 4086949; 802341, 4086953; 802320, 4086966; 802301, 4086981; 802284, 4087001; 802270, 4087015; 802202, 4087133; 802170, 4087191; 802156, 4087214; 802140, 4087235; 802120, 4087248; 802095, 4087261; 802036, 4087284; 801971, 4087307; 801952, 4087320; 801936, 4087339; 801783, 4087657; 801778, 4087682; 801772, 4087701; 801776, 4087725; 801781, 4087745; 801794, 4087759; 801827, 4087782; 801970, 4087900; 801997, 4087947; 802016, 4087966; 802026, 4087981; 802030, 4087995; 802029, 4088020; 802031, 4088119; 802029, 4088162; 802023, 4088185; 802013, 4088200; 801993, 4088229; 801967, 4088260; 801933, 4088261; 801908, 4088289; 801868, 4088316; 801833, 4088351; 801822, 4088369; 801802, 4088388; 801702, 4088590; 801682, 4088617; 801661, 4088629; 801632, 4088642; 801480, 4088680; 801464, 4088690; 801454, 4088699; 801439, 4088718; 801419, 4088747; 801393, 4088770; 801369, 4088779; 801338, 4088785; 801314, 4088777; 801290, 4088763; 801257, 4088741; 801165, 4088719; 801131, 4088709; 801097, 4088706; 801073, 4088701; 801049, 4088699; 800946, 4088716; 800921, 4088715; 800897, 4088714; 800867, 4088713; 800818, 4088697; 800785, 4088686; 800756, 4088679; 800736, 4088679; 800711, 4088684; 800677, 4088696; 800538, 4088760; 800504, 4088778; 800492, 4088794; 800472, 4088823; 800452, 4088855; 800427, 4088878; 800387, 4088891; 800362, 4088899; 800343, 4088896; 800328, 4088886; 800314, 4088865; 800305, 4088839; 800301, 4088806; 800307, 4088780; 800299, 4088756; 800285, 4088731; 800261, 4088712; 800222, 4088694; 800175, 4088674; 800146, 4088664; 800121, 4088648; 800107, 4088632; 800094, 4088606; 800085, 4088563; 800072, 4088538; 800049, 4088512; 800015, 4088495; 799885, 4088448; 799840, 4088436; 799802, 4088440; 799757, 4088454; 799713, 4088467; 799678, 4088485; 799608, 4088541; 799551, 4088598; 799432, 4088682; 799253, 4088709; 799203, 4088852; 798706, 4088768; 797891, 4089617; 797759, 4089579; 797222, 4089872; 796825, 4090491; 796605, 4090672; 796372, 4090700; 796318, 4090707; 796265, 4090961; 796301, 4090929; 796262, 4090975; 796072, 4091876; 796159, 4092137; 796200, 4092206; 796282, 4092261; 796330, 4092663; 796160, 4093099; 796575, 4092951; 797274, 4092995; 797274, 4092995; 797318, 4092296; 797655, 4091716; 797580, 4091310; 799222, 4090712; 799572, 4089932; 799890, 4089651; 800489, 4089689; 800539, 4088890; 801638, 4088960; 802224, 4089197; 802455, 4088711; 801919, 4087674; 802144, 4087287; 802830, 4087531; 802999, 4088043; 803797, 4088093; 804522, 4087738; 805052, 4087270; 805857, 4087221; 806637, 4087570; 806905, 4088089; 807467, 4088726; 807597, 4089836; 807872, 4090255; 807722, 4091047; 807652, 4092146; 809150, 4092240; 809824, 4092684; 809992, 4093195; 810273, 4093514; 810866, 4093651; 811465, 4093689; 811509, 4092991; 810592, 4091629; 810655, 4090631; 810581, 4090225; 810000, 4089888; 809738, 4089270; 809576, 4088658; 809109, 4088127; returning to 808747, 4087503.

(ii) Unit 5B: Fresno County, California. From USGS 1:24,000 scale quadrangle Clovis. Land bounded by the following UTM Zone 10, NAD 83 coordinates (E,N): 800454, 4083873; 799156, 4083792; 800374, 4084719; 800472, 4084785; 800592, 4084876; 800610, 4084585; 800510, 4084578; 800548, 4083979; 800448, 4083973; returning to 800454, 4083873.

(iii) Note: Unit 5 (Map 6) follows:

BILLING CODE 4310-55-P

BILLING CODE 4310-55-C

(11) Unit 6: Fresno County, California.

(i) Unit 6A: Fresno County, California. From USGS 1:24,000 scale quadrangles Millerton Lake East and Academy. Land bounded by the following UTM Zone 10, NAD 83 coordinates (E,N): 802663, 4106066; 803207, 4105399; 803781, 4105836; 803880, 4105842; 804343, 4104869; 804150, 4104757; 803962, 4104544; 803981, 4104245; 804206, 4103858; 804331, 4103465; 804238, 4103359; 803957, 4103040; 803171, 4102790; 802073, 4102721; 801886, 4102509; 801898, 4102309; 802217, 4102028; 802435, 4101741; 802554, 4101448; 802573, 4101149; 802511, 4100543; 802424, 4100337; 802343, 4100031; 802056, 4099812; 801769, 4099594; 801276, 4099463; 800877, 4099437; 800958, 4099743; 801712, 4100492; 801987, 4100911; 801974, 4101110; 801862, 4101304; 801218, 4101965; 801187, 4102464; 801455, 4102983; 801816, 4103607; 802316, 4103638; 802834, 4103370; 803333, 4103402; 803520, 4103614; 803607, 4103820; 803264, 4104500; 802852, 4104675; 802227, 4105036; 802264, 4106041; returning to 802663, 4106066.

(ii) Unit 6B: Madera County, California. From USGS 1:24,000 scale quadrangles North Fork and Millerton Lake East. Land bounded by the following UTM Zone 10, NAD 83 coordinates (E,N): 804045, 4111166; 804569, 4110798; 804807, 4110212; 804938, 4109719; 804571, 4109194; 803572, 4109131; 803260, 4109312; 803222, 4109911; 803359, 4110922; 802579, 4110572; 802254, 4110952; 801755, 4110921; 801473, 4112206; 801947, 4112637; 802009, 4113242; 801391, 4113504; 801578, 4113716; 801627, 4114521; 801820, 4114634; 803618, 4114748; 803836, 4114461; 803787, 4113656; 802720, 4113087; 802839, 4112794; 803158, 4112513; 803788, 4112052; returning to 804045, 4111166.

(iii) Note: Unit 6 (Map 7) follows:

BILLING CODE 4310-55-P

BILLING CODE 4310-55-C

Family Euphorbiaceae: Chamaesyce hooveri (Hoover's Spurge)

(1) Critical habitat units are depicted for Merced, Stanislaus, Tehama, Tulare, and Tuolumne Counties, California, on the maps below.

(2) The primary constituent elements of critical habitat for Chamaesyce hooveri (Hoover's Spurge) are the habitat components that provide:

(i) Topographic features characterized by isolated mound and intermound complex within a matrix of surrounding uplands that result in continuously, or intermittently, flowing surface water in the depressional features including swales connecting the pools described below in paragraph (2)(ii), providing for dispersal and promoting hydroperiods of adequate length in the pools;

(ii) Depressional features including isolated vernal pools with underlying restrictive soil layers that become inundated during winter rains and that continuously hold water or whose soils are saturated for a period long enough to promote germination, flowering, and seed production of predominantly annual native wetland species and typically exclude both native and nonnative upland plant species in all but the driest years. As these features are inundated on a seasonal basis, they do not promote the development of obligate wetland vegetation habitats typical of permanently flooded emergent wetlands;

(3) Existing manmade features and structures, such as buildings, roads, railroads, airports, runways, other paved areas, lawns, and other urban landscaped areas do not contain one or more of the primary constituent elements. Federal actions limited to those areas, therefore, would not trigger a consultation under section 7 of the Act unless they may affect the species and/or primary constituent elements in adjacent critical habitat.

(4) Unit 1: Tehama County, California. From USGS 24,000 topographic quad Acorn Hollow, Richardson Springs NW: Land bounded by the following UTM Zone 10, NAD 83 coordinates (E,N): 588739, 4429822; 588900, 4429500; 589500, 4429500; 589500, 4428600; 589500, 4428000; 589800, 4427100; 590500, 4426400; 590500, 4425300; 591200, 4424400; 591500, 4423300; 591562, 4422558; 590526, 4423686; 589986, 4424273; 589816, 4424458; 589129, 4425207; 588454, 4426221; 588425, 4426265; 588279, 4426485; 588213, 4426583; 588213, 4426584; 588212, 4426585; 588168, 4426652; 588014, 4426883; 587912, 4427036; 588000, 4427300; 587900, 4427300; 587802, 4427202; 587756, 4427271; 587137, 4428163; 587107, 4428243; 586773, 4428770; 586751, 4428801; 586900, 4428900; 587300, 4429100; 588300, 4429600; 588500, 4430000; 588700, 4429900; 588733, 4429833; returning to 588739, 4429822.

(5) Note: Unit 1 (Map 1) follows:

BILLING CODE 4310-55-P

BILLING CODE 4310-55-C

(6) Unit 2: Butte County, California. From USGS 24,000 topographic quad Hamlin Canyon: Land bounded by the following UTM Zone 10, NAD 83 coordinates (E,N): 609736, 4389313; 609200, 4389800; 609145, 4389965; 609391, 4389694; 609721, 4389330; returning to 609736, 4389313.

(7) Note: Unit 2 (Map 2) follows:

BILLING CODE 4310-55-P

BILLING CODE 4310-55-C

(8) Unit 3: Glenn and Colusa Counties, California. This unit was excluded from the designation pursuant to Section 4(b)(2) of the Act (see Exclusions under 4(b)(2) in the final critical habitat rule (70 FR 46924).

(9) Unit 4: Stanislaus and Tuolumne Counties. From USGS 24,000 topographic quads Keystone, Paulsell, Cooperstown, Le Grange: Land bounded by the following UTM Zone 10, NAD 83 coordinates (E,N): 715600, 4180900; 715400, 4180400; 716600, 4180400; 716900, 4179900; 717482, 4180046; 717700, 4180100; 718500, 4180000; 718700, 4179200; 719300, 4178700; 719455, 4178273; 719700, 4177600; 720126, 4177671; 720300, 4177700; 720700, 4177700; 720745, 4177115; 720800, 4176400; 721400, 4175900; 722200, 4175300; 722700, 4175200; 722800, 4173600; 723000, 4173500; 723200, 4173600; 723700, 4173600; 724000, 4173300; 724100, 4172300; 722800, 4172200; 721700, 4171200; 721571, 4170643; 721500, 4170500; 721400, 4170400; 721200, 4170300; 721000, 4170100; 721000, 4169600; 720900, 4169600; 720000, 4168500; 718900, 4168000; 718700, 4168100; 718100, 4168500; 718000, 4168500; 717900, 4168600; 716200, 4168600; 715900, 4168500; 715600, 4168300; 715500, 4168200; 715400, 4168300; 715400, 4169400; 714900, 4169900; 714900, 4170000; 715100, 4170000; 715200, 4170200; 715300, 4170200; 715300, 4170400; 715300, 4170407; 715300, 4171200; 715200, 4171200; 715200, 4171000; 715100, 4171000; 715100, 4170700; 714900, 4170700; 714900, 4170300; 713900, 4169800; 713800, 4169900; 713000, 4169500; 712500, 4169400; 712200, 4169400; 712000, 4169600; 711500, 4169900; 711300, 4169900; 710500, 4169100; 709300, 4169100; 709100, 4169500; 709100, 4169700; 708900, 4169700; 708800, 4169900; 708700, 4169900; 708600, 4169800; 708500, 4169900; 708400, 4170000; 708700, 4170200; 708800, 4170300; 708900, 4170400; 709100, 4170500; 709200, 4170600; 709400, 4170600; 709400, 4170800; 709300, 4170800; 709200, 4170900; 709100, 4170800; 708800, 4170700; 708800, 4170600; 708500, 4170500; 708400, 4170300; 708100, 4170200; 707900, 4170200; 707900, 4170300; 708100, 4170500; 708200, 4170500; 708200, 4170600; 708000, 4170600; 708200, 4170800; 708200, 4170900; 708100, 4170900; 707900, 4170700; 707700, 4170700; 707700, 4170800; 707600, 4170900; 707400, 4170900; 707100, 4171100; 707100, 4171200; 707200, 4171300; 707300, 4171200; 707500, 4171300; 707800, 4171600; 707900, 4171600; 708100, 4171600; 708200, 4171700; 708100, 4171800; 708100, 4171900; 708300, 4171900; 708300, 4172100; 708400, 4172100; 708500, 4172200; 708500, 4172300; 708700, 4172400; 708800, 4172500; 708800, 4172600; 708700, 4172700; 708500, 4172700; 708400, 4172800; 708300, 4172700; 708200, 4172700; 708100, 4172600; 708000, 4172500; 707900, 4172500; 707800, 4172700; 707600, 4172600; 707400, 4172500; 707400, 4172600; 707200, 4172700; 707100, 4172300; 707000, 4172200; 706700, 4172200; 706700, 4172300; 706500, 4172300; 706400, 4172300; 706400, 4172400; 706200, 4172600; 706300, 4172700; 706400, 4172800; 706300, 4172800; 706200, 4172800; 706100, 4172900; 705900, 4173100; 705800, 4173300; 705800, 4173500; 706000, 4173800; 705900, 4173900; 705800, 4174100; 705700, 4174200; 705500, 4174200; 705400, 4174100; 705400, 4173700; 705200, 4173200; 705167, 4173700; 705167, 4173700; 705100, 4174700; 705400, 4175400; 705000, 4175900; 705300, 4176300; 705700, 4176700; 705700, 4177000; 705700, 4177500; 705700, 4177700; 705200, 4177900; 705000, 4178100; 705400, 4178900; 706200, 4178400; 706600, 4177600; 707200, 4177300; 707300, 4176800; 706800, 4176200; 706900, 4175800; 707600, 4175800; 707999, 4176498; 708000, 4176500; 708000, 4176500; 708500, 4176400; 709800, 4176600; 710200, 4176200; 710700, 4176600; 711200, 4176900; 711500, 4177100; 711600, 4178100; 711700, 4178700; 710600, 4178800; 710300, 4179200; 709900, 4179500; 709879, 4179505; 709905, 4179525; 711259, 4179578; 711250, 4179933; 711628, 4179987; 711599, 4180753; 711578, 4180885; 713039, 4181325; 713440, 4181474; 714003, 4181741; 714540, 4182019; 714627, 4182073; 714700, 4182000; 715200, 4181600; returning to 715600, 4180900.

(10) Unit 5: Stanislaus and Merced Counties.

(i) Unit 5A: Stanislaus and Merced Counties. From USGS 24,000 topographic quads Paulsell, Cooperstown, Le Grange, Montpelier, Turlock Lake, Snelling, Merced Falls: Land bounded by the following UTM Zone 10, NAD 83 coordinates (E,N): 720900, 4167500; 721100, 4167400; 721300, 4167700; 721700, 4167700; 722000, 4167600; 722500, 4167600; 723200, 4167100; 723500, 4166300; 723000, 4166100; 723200, 4165600; 723400, 4165700; 723600, 4165600; 723600, 4165100; 723700, 4164900; 724300, 4164900; 725000, 4163700; 725300, 4163800; 724900, 4162800; 725100, 4162700; 725400, 4162700; 726000, 4164100; 726300, 4163500; 726200, 4163100; 726000, 4163000; 726100, 4162700; 726199, 4160629; 726200, 4160600; 725800, 4160600; 725000, 4160200; 725300, 4159800; 726300, 4160200; 727000, 4159500; 727000, 4160400; 727223, 4160623; 727246, 4160646; 727300, 4160700; 727312, 4160647; 727317, 4160625; 727500, 4159800; 727600, 4159800; 727800, 4160400; 728300, 4160400; 728752, 4160658; 728773, 4160670; 729000, 4160800; 729244, 4160678; 729261, 4160670; 730400, 4160100; 730300, 4160500; 730600, 4160600; 730905, 4160871; 731500, 4161400; 731900, 4161400; 732000, 4160800; 731700, 4160700; 732000, 4160000; 733500, 4159000; 733700, 4158700; 733300, 4158600; 733300, 4158300; 733800, 4157700; 733400, 4157100; 731700, 4156900; 730900, 4156500; 728900, 4156600; 728700, 4156700; 728700, 4156800; 728600, 4156900; 728300, 4156900; 728100, 4156800; 727900, 4156800; 727100, 4156800; 726900, 4156600; 726700, 4156500; 726300, 4156500; 726100, 4156600; 725800, 4156500; 725600, 4156400; 725500, 4156300; 725400, 4156200; 725100, 4156100; 725000, 4156000; 724900, 4156000; 724800, 4156100; 724300, 4156100; 724300, 4155700; 723800, 4155700; 723900, 4155300; 723300, 4155400; 722700, 4155100; 722700, 4155400; 722300, 4155400; 722300, 4156800; 722900, 4156800; 722900, 4157400; 723500, 4157400; 723500, 4157000; 723700, 4157000; 723700, 4156900; 724300, 4156900; 724300, 4157400; 724200, 4157400; 724200, 4157400; 724100, 4158200; 723800, 4158200; 723700, 4159000; 722500, 4159000; 722500, 4159200; 722400, 4159200; 722300, 4159300; 722200, 4159300; 721600, 4159300; 721600, 4159500; 721500, 4159600; 721500, 4159800; 721600, 4159800; 721600, 4159900; 721700, 4159900; 721700, 4160500; 721100, 4160500; 721100, 4160100; 720800, 4160100; 720800, 4160500; 719500, 4160500; 719500, 4160300; 720000, 4159600; 719600, 4159600; 719600, 4159500; 719500, 4159500; 719400, 4159500; 719300, 4159400; 719100, 4159400; 719000, 4159400; 718900, 4159300; 718700, 4159100; 718600, 4159000; 718600, 4158900; 718400, 4158900; 718200, 4158800; 718200, 4158700; 718300, 4158600; 718400, 4158500; 718500, 4158500; 718600, 4158400; 718700, 4158400; 718900, 4158300; 719000, 4158100; 719000, 4157900; 718700, 4157600; 718000, 4157700; 717800, 4157400; 717900, 4157200; 718000, 4157000; 718400, 4157300; 718700, 4156700; 718700, 4156300; 717500, 4156300; 717500, 4156700; 717100, 4156700; 717100, 4156300; 716600, 4156300; 716600, 4155800; 716300, 4155700; 716200, 4155000; 715900, 4154900; 715900, 4155100; 715800, 4155200; 715800, 4155300; 715700, 4155400; 715600, 4155700; 715500, 4155800; 715400, 4155800; 715300, 4156600; 715400, 4156600; 715400, 4157200; 715400, 4157400; 715500, 4157400; 715500, 4157600; 717600, 4157600; 717600, 4159700; 718100, 4160200; 718200, 4160500; 718400, 4160800; 718700, 4161100; 716800, 4161100; 716800, 4160400; 715253, 4160400; 714900, 4160400; 714900, 4160900; 715000, 4160900; 715000, 4161000; 715200, 4161000; 715200, 4161100; 714400, 4161100; 714400, 4161200; 713700, 4161200; 713700, 4161100; 713300, 4161100; 713200, 4161200; 713100, 4161100; 713100, 4161000; 713400, 4160700; 713400, 4160600; 713600, 4160500; 713800, 4160800; 713900, 4160800; 714000, 4160700; 714000, 4160400; 711133, 4160301; 711100, 4161900; 709500, 4161900; 709500, 4163500; 707900, 4163500; 707900, 4163100; 707000, 4163100; 707000, 4165600; 707400, 4165600; 707400, 4165800; 706700, 4166100; 706500, 4165800; 706200, 4166000; 706300, 4166300; 706200, 4166400; 706200, 4166500; 706300, 4166500; 706300, 4166700; 706200, 4166700; 706200, 4167100; 706500, 4167100; 706700, 4166700; 706800, 4166700; 706800, 4166300; 707000, 4166300; 707000, 4166100; 707200, 4166100; 707200, 4166700; 707400, 4166700; 707800, 4166000; 707800, 4165600; 708000, 4165800; 708200, 4165800; 708400, 4165700; 708400, 4165500; 708200, 4165400; 708200, 4165300; 708300, 4165200; 708400, 4165200; 708500, 4165300; 708600, 4165400; 708800, 4165400; 709100, 4165100; 710200, 4165100; 710200, 4166400; 710100, 4166400; 710100, 4166500; 710000, 4166500; 709900, 4166500; 709900, 4166700; 709800, 4166700; 709800, 4167100; 710200, 4166800; 711000, 4167600; 711600, 4167800; 712400, 4167800; 712400, 4167300; 712900, 4167300; 712900, 4167200; 712600, 4166900; 711800, 4167000; 711600, 4166800; 711600, 4166600; 711800, 4166500; 711800, 4166600; 711900, 4166600; 712000, 4166300; 712100, 4166500; 712200, 4166500; 712300, 4166400; 712500, 4166400; 712500, 4166200; 712700, 4166200; 712700, 4166300; 712800, 4166300; 713000, 4166100; 712923, 4166062; 712800, 4166000; 712700, 4165800; 712500, 4165800; 712500, 4165600; 712700, 4165600; 712600, 4165400; 712400, 4165500; 712300, 4165400; 712500, 4165300; 712500, 4165200; 712400, 4165100; 712600, 4165100; 712600, 4165000; 712600, 4164900; 712700, 4164800; 712600, 4164700; 712500, 4164800; 712400, 4164800; 712400, 4164300; 712800, 4164500; 713100, 4164300; 713200, 4164100; 712900, 4163800; 712900, 4163700; 713100, 4163800; 713500, 4164000; 713600, 4164000; 713600, 4164100; 713700, 4164300; 714200, 4164300; 714400, 4164500; 714500, 4164800; 714600, 4164800; 714800, 4164700; 714800, 4164200; 714400, 4164000; 714400, 4163600; 714500, 4163500; 715200, 4164000; 715300, 4164200; 715400, 4164200; 715300, 4163900; 715100, 4163700; 715000, 4163500; 714800, 4163300; 714900, 4163200; 715000, 4163200; 715700, 4163200; 715900, 4163100; 716000, 4162900; 716100, 4162800; 716200, 4162800; 716300, 4162900; 716400, 4163000; 716500, 4163100; 716600, 4163200; 716600, 4163500; 716500, 4163600; 716500, 4163800; 716600, 4164100; 716800, 4164500; 716700, 4164900; 716800, 4165300; 717200, 4165800; 717200, 4166100; 717000, 4166400; 716600, 4166400; 716400, 4166300; 716400, 4166900; 716600, 4166900; 716800, 4167100; 716800, 4167300; 717000, 4167400; 717500, 4167400; 718100, 4167300; 718500, 4167100; 718600, 4166600; 718700, 4166400; 719100, 4166700; 719300, 4166800; 719500, 4166800; 719500, 4166500; 719600, 4166400; 719600, 4166100; 719800, 4166100; 719900, 4166300; 719900, 4166200; 720700, 4166200; 720700, 4163700; 721533, 4163700; 721700, 4163700; 722400, 4164100; 722400, 4164155; 722400, 4165300; 722200, 4165300; 722200, 4165400; 721500, 4165400; 721500, 4166100; 721000, 4166300; 720700, 4166500; 720900, 4166600; 721000, 4166700; 721100, 4166900; 721000, 4167000; 720300, 4167000; 720100, 4166900; 720200, 4166700; 720200, 4166600; 720100, 4166500; 720000, 4166500; 719800, 4166800; 719500, 4167400; 719500, 4167600; 719700, 4167800; 720500, 4167800; 720700, 4167700; returning to 720900, 4167500.

(ii) Unit 5B: Merced County. From USGS 24,000 topographic quad Turlock Lake: Land bounded by the following UTM Zone 10, NAD 83 coordinates (E,N): 713800, 4155400; 712600, 4155200; 712600, 4156800; 712900, 4156800; 712900, 4157100; 714800, 4157200; 714800, 4156800; 714300, 4156300; 714200, 4156200; 714000, 4155500; 714000, 4155400; returning to 713800, 4155400.

(iii) Unit 5C: Stanislaus County. From USGS 24,000 topographic quads Paulsell, Montpelier: Land bounded by the following UTM Zone 10, NAD 83 coordinates (E,N): 704200, 4166200; 704000, 4166200; 703800, 4166400; 703400, 4166600; 703400, 4166800; 703500, 4166800; 703600, 4166900; 703700, 4167000; 703700, 4167200; 704600, 4167600; 704700, 4167600; 704800, 4167500; 705000, 4167400; 705300, 4167400; 705300, 4166400; 705000, 4166300; 704400, 4166300; returning to 704200, 4166200.

(iv) Note: Units 4-5 (Map 3) follow:

BILLING CODE 4310-55-P

BILLING CODE 4310-55-C

(11) Unit 6: Merced County.

(i) Unit 6A: Merced County. USGS 24,000 topographic quads Stevinson, San Luis Ranch: Land bounded by the following UTM Zone 10, NAD 83 coordinates (E,N): 695400, 4125600; 695500, 4122000; 694900, 4122400; 694700, 4122700; 694500, 4122900; 694500, 4123100; 694100, 4123400; 693800, 4123500; 693800, 4123800; 693500, 4123900; 693500, 4124500; 693700, 4124700; 693800, 4125000; 693600, 4125200; 693400, 4125300; 693122, 4125670; 693146, 4125746; 693200, 4125800; 693700, 4125900; 693700, 4127300; 693800, 4127300; 693900, 4127000; 694200, 4126900; 694600, 4126400; 694600, 4126200; 694700, 4126000; 695179, 4125726; returning to 695400, 4125600.

(ii) Unit 6B: Merced County. From USGS 24,000 topographic quad Stevinson, Arena, San Luis Ranch, Turner Ranch: Land bounded by the following UTM Zone 10, NAD 83 coordinates (E,N): 699300, 4126300; 699300, 4125400; 700100, 4125400; 700200, 4126000; 700600, 4125700; 701100, 4125300; 701100, 4124300; 700300, 4124300; 700300, 4123800; 700500, 4123800; 700600, 4123500; 701100, 4123400; 701200, 4123200; 701400, 4123100; 701600, 4122700; 701900, 4122500; 702600, 4122200; 702870, 4121705; 703200, 4121100; 703900, 4120500; 704600, 4119800; 704600, 4119800; 704700, 4119700; 698900, 4119600; 698800, 4119700; 698543, 4119957; 698558, 4119970; 698501, 4120012; 698504, 4120069; 698626, 4120197; 698662, 4120077; 698694, 4120113; 698668, 4121116; 698663, 4121510; 698594, 4121508; 698600, 4121600; 699900, 4121600; 700000, 4120400; 700200, 4120400; 700200, 4122700; 697000, 4122600; 696900, 4125100; 697700, 4125100; 697700, 4125300; 697600, 4125400; 697700, 4125600; 698000, 4125700; 698200, 4125800; 698300, 4126100; 698700, 4126500; 699500, 4126500; 699600, 4126300; returning to 699300, 4126300.

(iii) Unit 6C: Merced County. From USGS 24,000 topographic quad Arena, Turner Ranch: Land bounded by the following UTM Zone 10, NAD 83 coordinates (E,N): 706700, 4122100; 706800, 4120900; 706700, 4120500; 706700, 4119700; 708100, 4119700; 708100, 4119600; 708000, 4119500; 707900, 4119200; 707900, 4119000; 708000, 4118900; 708300, 4118900; 708300, 4118100; 707900, 4118100; 707500, 4118500; 706500, 4118500; 706000, 4118900; 705600, 4119300; 705200, 4119700; 704800, 4120000; 704700, 4120100; 704700, 4120400; 705100, 4120400; 705100, 4120600; 704900, 4120700; 704900, 4120800; 705100, 4120800; 704900, 4121000; 705000, 4121100; 705100, 4121700; 705200, 4121700; 705300, 4122000; 705700, 4122100; 705700, 4122200; 705400, 4122300; 705300, 4122400; 705500, 4122600; 705400, 4122600; 705300, 4122500; 705200, 4122500; 705100, 4122500; 704900, 4122500; 704900, 4122700; 704800, 4122800; 704500, 4122800; 704300, 4122900; 704000, 4122800; 703900, 4122900; 703400, 4124400; 703300, 4124600; 701300, 4126500; 700100, 4127600; 700467, 4129067; 700500, 4129200; 700500, 4130600; 701000, 4130600; 701000, 4130100; 701100, 4129800; 701200, 4129800; 701100, 4130100; 701100, 4130600; 701700, 4130600; 701700, 4129200; 701800, 4129200; 702800, 4129200; 703000, 4128800; 703300, 4128800; 703900, 4128800; 703900, 4129000; 704200, 4129000; 704200, 4128500; 703300, 4128400; 703400, 4128300; 703400, 4127900; 703500, 4127800; 703800, 4127500; 703700, 4127300; 703500, 4127300; 703400, 4127100; 703400, 4126100; 703500, 4126100; 704400, 4126100; 704300, 4126000; 704400, 4125900; 704500, 4125300; 704500, 4124800; 705000, 4124800; 705000, 4125300; 705700, 4125300; 705700, 4124900; 706600, 4125000; 706700, 4123700; returning to 706700, 4122100.

(iv) Unit 6D: Merced County. USGS 24,000 topographic quad Turner Ranch, Sandy Mush: Land bounded by the following UTM Zone 10, NAD 83 coordinates (E,N): 706700, 4122100; 711500, 4122200; 711500, 4121700; 711500, 4121200; 709900, 4121300; 709900, 4121900; 709800, 4121900; 709800, 4121800; 709700, 4121500; 709500, 4121500; 709300, 4121600; 708800, 4121400; 708700, 4121300; 706800, 4121300; returning to 706700, 4122100.

(v) Unit 6E: Merced County. USGS 24,000 topographic quad Turner Ranch, Sandy Mush: Land bounded by the following UTM Zone 10, NAD 83 coordinates (E,N): 711200, 4120500; 711400, 4120400; 711500, 4120500; 711600, 4119600; 711900, 4119600; 711900, 4119400; 712100, 4119300; 712300, 4119300; 712300, 4119200; 712600, 4119200; 712800, 4118800; 711600, 4118700; 711600, 4118500; 711400, 4118500; 711300, 4118400; 711100, 4118100; 709900, 4118100; 709900, 4118800; 709900, 4119000; 709700, 4119000; 709700, 4119600; 710300, 4119600; 710300, 4119900; 710700, 4119900; 710700, 4120000; 710600, 4120000; 710600, 4120100; 710700, 4120200; 710600, 4120300; 710700, 4120400; 710700, 4120500; 710900, 4120400; 711100, 4120400; returning to 711200, 4120500.

(vi) Note: Unit 6 (Map 4) follows:

BILLING CODE 4310-55-P

BILLING CODE 4310-55-C

(12) Unit 7: Tulare County.

(i) Unit 7A: Tulare County. From USGS 24,000 topographic quads Stokes Mtn., Ivanhoe: Land bounded by the following UTM Zone 10, NAD 83 coordinates (E,N): 838331, 4045841; 838313, 4046140; 837613, 4046097; 837307, 4046178; 836995, 4046359; 836558, 4046933; 836240, 4047214; 836221, 4047514; 836508, 4047733; 837008, 4047763; 836933, 4048962; 837295, 4049587; 837888, 4049724; 838419, 4049256; 838619, 4049268; 838600, 4049568; 838500, 4049562; 838463, 4050161; 839362, 4050217; 839374, 4050018; 839674, 4050036; 840155, 4050367; 840255, 4050373; 840467, 4050186; 840767, 4050205; 840942, 4050617; 841441, 4050648; 841628, 4050860; 841828, 4050873; 841997, 4051385; 841741, 4052272; 841828, 4052477; 841703, 4052871; 841791, 4053077; 842390, 4053114; 842821, 4052640; 843027, 4052552; 843327, 4052571; 843545, 4052284; 843583, 4051684; 843389, 4051572; 843252, 4050560; 843089, 4049948; 842802, 4049730; 842652, 4048918; 842665, 4048719; 843177, 4048550; 843008, 4048038; 843070, 4047039; 842371, 4046995; 842296, 4046589; 841597, 4046546; 841522, 4046140; 838818, 4046072; returning to 838331, 4045841.

(ii) Unit 7B: Tulare County. From USGS 24,000 topographic quads Ivanhoe: Land bounded by the following UTM Zone 10, NAD 83 coordinates (E,N): 836778, 4043629; 837178, 4043642; 837178, 4043663; 837165, 4044455; 837527, 4044471; 837510, 4044925; 837253, 4045186; 836546, 4045165; 836550, 4044829; 836726, 4044828; 836732, 4044453; 836753, 4044453; 836777, 4043638; 836778, 4043629; 836765, 4043628; 835983, 4043614; 835959, 4043687; 836040, 4043993; 836433, 4044117; 836365, 4045216; 837164, 4045266; 836733, 4045741; 838331, 4045841; 838338, 4045740; 837838, 4045710; 837919, 4044411; 837819, 4044405; 837863, 4043705; 837869, 4043605; 837569, 4043587; 837613, 4042887; 836814, 4042838; 836799, 4043075; returning to 836778, 4043629.

(iii) Unit 7C: Tulare County. From USGS 24,000 topographic quads Stokes Mtn., Auckland, Ivanhoe, Woodlake: Land bounded by the following UTM Zone 10, NAD 83 coordinates (E,N): 846274, 4048743; 846905, 4048281; 849003, 4048412; 849427, 4048037; 850027, 4048075; 850345, 4047794; 850370, 4047394; 849889, 4047064; 848453, 4045971; 848490, 4045371; 848103, 4045146; 848122, 4044847; 847922, 4044834; 847928, 4044734; 847529, 4044710; 847547, 4044410; 847454, 4044303; 847466, 4044104; 847266, 4044091; 846867, 4044066; 846892, 4043667; 846492, 4043642; 846517, 4043242; 845718, 4043192; 845630, 4042986; 845530, 4042980; 845568, 4042381; 845768, 4042393; 845780, 4042193; 845980, 4042206; 845942, 4042805; 846342, 4042830; 846348, 4042730; 846454, 4042637; 846367, 4042431; 846567, 4042443; 846579, 4042243; 846379, 4042230; 846392, 4042031; 846792, 4042056; 846816, 4041656; 846417, 4041631; 846404, 4041831; 845805, 4041794; 845811, 4041694; 845911, 4041700; 845917, 4041600; 845817, 4041594; 845830, 4041394; 846030, 4041406; 846036, 4041306; 846213, 4041318; 846179, 4040614; 846079, 4040607; 846104, 4040207; 846729, 4039845; 846841, 4039652; 846541, 4039633; 846585, 4038933; 846485, 4038927; 846491, 4038827; 846597, 4038734; 846410, 4038521; 846104, 4038603; 845898, 4038690; 845973, 4039096; 845861, 4039290; 845836, 4039689; 845524, 4039871; 845305, 4040158; 845193, 4040351; 845180, 4040551; 844949, 4041038; 844612, 4041619; 844787, 4042031; 844325, 4043005; 844319, 4043105; 844413, 4043211; 844612, 4043224; 844806, 4043336; 844700, 4043430; 844625, 4044628; 845605, 4044991; 845974, 4045515; 845624, 4046296; 845025, 4046258; 844494, 4046726; 844457, 4047326; 844988, 4048463; 845038, 4049268; 845425, 4049493; returning to 846274, 4048743.

(iv) Unit 7D: Tulare County. From USGS 24,000 topographic quad Woodlake: Land bounded by the following UTM Zone 10, NAD 83 coordinates (E,N): 850239, 4044678; 850251, 4044478; 850851, 4044515; 851075, 4044128; 850701, 4043704; 851300, 4043741; 851506, 4043654; 851737, 4043166; 852237, 4043198; 852468, 4042711; 852487, 4042411; 851725, 4041761; 851837, 4041568; 852636, 4041618; 852824, 4041830; 853223, 4041855; 853835, 4041693; 854197, 4040712; 854210, 4040512; 853754, 4039782; 851949, 4039769; 851231, 4040025; 850625, 4040088; 850619, 4040188; 850819, 4040201; 850769, 4041000; 850269, 4040969; 850282, 4040769; 850082, 4040756; 849895, 4040544; 849795, 4040538; 849820, 4040138; 849120, 4040095; 849108, 4040294; 849308, 4040307; 849295, 4040507; 848889, 4040582; 848908, 4040282; 848814, 4040176; 848821, 4040076; 848321, 4040045; 848227, 4039939; 848121, 4040032; 848071, 4040832; 848371, 4040850; 848321, 4041649; 848521, 4041662; 848502, 4041962; 848203, 4041943; 848196, 4042043; 848278, 4042349; 848065, 4042536; 847466, 4042499; 847516, 4043304; 847716, 4043317; 847728, 4043117; 848128, 4043142; 848147, 4042842; 848446, 4042861; 848421, 4043261; 848821, 4043286; 848796, 4043685; 849096, 4043704; 849090, 4043804; 849190, 4043810; 849177, 4044010; 849271, 4044116; 849571, 4044135; 849546, 4044534; 849346, 4044522; 849140, 4044609; 849215, 4045015; 849215, 4045015; 849571, 4045739; 850151, 4046077; 850451, 4046096; 851082, 4045633; 851194, 4045440; 850638, 4044703; returning to 850239, 4044678.

(v) Unit 7E: Tulare County. From USGS 24,000 topographic quad Monson: Land bounded by the following UTM Zone 10, NAD 83 coordinates (E,N): 829566, 4043288; 829884, 4043007; 830383, 4043038; 830427, 4042339; 830827, 4042364; 830833, 4042264; 832028, 4042339; 832069, 4040937; 832106, 4039535; 832038, 4039531; 831991, 4039595; 831752, 4039679; 831748, 4039853; 832035, 4039864; 832031, 4039913; 831542, 4039901; 831281, 4039895; 831228, 4039894; 831226, 4040265; 830457, 4040256; 830432, 4040256; 830449, 4039621; 830453, 4039463; 830420, 4039230; 829721, 4039186; 829521, 4039174; 829509, 4039374; 828304, 4039399; 828279, 4039798; 827580, 4039755; 827605, 4039355; 827205, 4039330; 827280, 4038132; 826381, 4038076; 826400, 4037776; 825601, 4037726; 825582, 4038026; 824877, 4038082; 824846, 4038582; 826344, 4038675; 826313, 4039175; 825507, 4039225; 825445, 4040223; 827043, 4040323; 827100, 4041028; 828797, 4041134; 828810, 4040935; 829509, 4040978; returning to 829566, 4043288.

(vi) Unit 7F: Tulare County. USGS 24,000 topographic quad Monson: Land bounded by the following UTM Zone 10, NAD 83 coordinates (E,N): 831258, 4037878; 830508, 4037831; 830507, 4037837; 830510, 4037837; 830495, 4038113; 830867, 4038116; 831249, 4038123; returning to 831258, 4037878.

(vii) Unit 7G: Tulare County. USGS 24,000 topographic quad Monson: Land bounded by the following UTM Zone 10, NAD 83 coordinates (E,N): 835309, 4039635; 835327, 4039335; 834622, 4039391; 834023, 4039354; 834429, 4040884; 835234, 4040834; 835259, 4040434; returning to 835309, 4039635.

(viii) Note: Unit 7 (Map 5) follows:

BILLING CODE 4310-55-P

BILLING CODE 4310-55-C

Family Asteraceae: Lasthenia conjugens (Contra Costa Goldfields)

(1) Critical habitat units are depicted for Alameda, Contra Costa, Mendocino, Napa, and Solano counties, California, on the map below.

(2) The primary constituent elements of critical habitat for Lasthenia conjugens (Contra Costa goldfields) are the habitat components that provide:

(i) Topographic features characterized by isolated mound and intermound complex within a matrix of surrounding uplands that result in continuously, or intermittently, flowing surface water in the depressional features including swales connecting the pools described below in paragraph (2)(ii), providing for dispersal and promoting hydroperiods of adequate length in the pools;

(ii) Depressional features including isolated vernal pools with underlying restrictive soil layers that become inundated during winter rains and that continuously hold water or whose soils are saturated for a period long enough to promote germination, flowering, and seed production of predominantly annual native wetland species and typically exclude both native and nonnative upland plant species in all but the driest years. As these features are inundated on a seasonal basis, they do not promote the development of obligate wetland vegetation habitats typical of permanently flooded emergent wetlands;

(3) Existing manmade features and structures, such as buildings, roads, railroads, airports, runways, other paved areas, lawns, and other urban landscaped areas do not contain one or more of the primary constituent elements. Federal actions limited to those areas, therefore, would not trigger a consultation under section 7 of the Act unless they may affect the species and/or primary constituent elements in adjacent critical habitat.

(4) Unit 1: Mendocino County, California. From USGS 1:24,000 scale quadrangle Point Arena. Land bounded by the following UTM Zone 10, NAD 83 coordinates (E,N): 441300, 4314200; 441600, 4313700; 441700, 4313500; 442200, 4313400; 442500, 4313300; 442900, 4312800; 443200, 4312300; 443300, 4312000; 443300, 4311800; 442500, 4311800; 442400, 4312000; 442200, 4312000; 441300, 4311000; 441000, 4310900; 440700, 4310900; 440500, 4311100; 440200, 4311100; 440000, 4311300; 439500, 4311000; 438900, 4311000; 438500, 4311400; 438500, 4311800; 438500, 4312500; 438500, 4312700; 438700, 4313000; 439000, 4313100; 439100, 4313500; 439300, 4313900; 439500, 4314000; 439800, 4313900; 440100, 4314000; 441000, 4314000; 441200, 4314200; returning to 441300, 4314200.

(5) Note: Unit 1 (Map 1) follows:

BILLING CODE 4310-55-P

BILLING CODE 4310-55-C

(6) Unit 2: Napa County, California. From USGS 1:24,000 scale quadrangles Yountville, Capell Valley. Land bounded by the following UTM Zone 10, NAD 83 coordinates (E,N): 566800, 4250900; 567300, 4250500; 568100, 4250500; 568300, 4250100; 568100, 4250000; 568400, 4249400; 568500, 4249300; 568300, 4249100; 567800, 4249000; 567500, 4248900; 567400, 4248600; 567300, 4248100; 567200, 4248300; 567000, 4249800; 566700, 4250000; 566400, 4250300; 566100, 4250400; 566000, 4250500; 565500, 4250500; 565100, 4250500; 565100, 4250800; 565400, 4251200; 566000, 4251800; 566600, 4251600; returning to 566800, 4250900.

(7) Unit 3: Napa County, California. From USGS 1:24,000 scale quadrangles Napa, Cuttings Wharf. Land bounded by the following UTM Zone 10, NAD 83 coordinates (E,N): 564800, 4233300; 564800, 4233100; 564600, 4233200; 564100, 4232800; 563800, 4233000; 563800, 4233600; 563800, 4235100; 563800, 4235200; 563900, 4235300; 564200, 4235400; 564400, 4235300; 564500, 4235100; 564700, 4235000; 564700, 4234900; 564800, 4234700; 564700, 4234400; 564800, 4234200; 564700, 4234100; 564700, 4234000; 564800, 4233800; returning to 564800, 4233300.

(8) Unit 4: Solano County, California.

(i) Unit 4A: Solano County, California. From USGS 1:24,000 scale quadrangle Fairfield South. Land bounded by the following UTM Zone 10, NAD 83 coordinates (E,N): 577600, 4229700; 577700, 4229600; 578100, 4229800; 578100, 4229700; 577900, 4229100; 577300, 4229400; 577200, 4229800; 577400, 4230000; 577600, 4229800; returning to 577600, 4229700.

(ii) Unit 4B: Solano County, California. From USGS 1:24,000 scale quadrangles Fairfield South. Land bounded by the following UTM Zone 10, NAD 83 coordinates (E,N): 583778, 4233214; 583700, 4232900; 583100, 4231900; 582700, 4231800; 582400, 4231500; 582300, 4230700; 582000, 4230700; 581900, 4230400; 581700, 4230400; 581700, 4231100; 581800, 4231100; 581800, 4231600; 581300, 4231600; 581300, 4232000; 581500, 4232200; 581500, 4231900; 581700, 4231900; 581700, 4232900; 581900, 4232900; 582800, 4233000; 583100, 4233000; 583112, 4232993; 583156, 4233006; 583545, 4233137; 583619, 4233161; 583629, 4233165; 583725, 4233196; returning to 583778, 4233214.

(iii) Unit 4C: Solano County, California. From USGS 1:24,000 scale quadrangles Elmira, Denverton. Land bounded by the following UTM Zone 10, NAD 83 coordinates (E,N): 594915, 4234098; 594916, 4233314; 595044, 4233310; 595068, 4233296; 595131, 4233266; 595174, 4233226; 595189, 4233210; 595239, 4233151; 595322, 4232978; 595423, 4232778; 595483, 4232667; 595553, 4232524; 595699, 4232243; 595966, 4231717; 594927, 4231710; 594445, 4231707; 594409, 4231673; 594410, 4231616; 594434, 4231540; 594474, 4231494; 594495, 4231457; 594497, 4231414; 594510, 4231370; 594543, 4231356; 594575, 4231342; 594603, 4231341; 594614, 4231338; 594616, 4231325; 594618, 4231311; 594614, 4231290; 594605, 4231284; 594583, 4231275; 594573, 4231268; 594557, 4231245; 594550, 4231209; 594543, 4231179; 594500, 4231200; 593800, 4231200; 593600, 4230500; 593291, 4230515; 593291, 4230514; 589300, 4230700; 589179, 4230901; 589179, 4230901; 589240, 4230894; 589274, 4230890; 589315, 4230894; 589321, 4230909; 589313, 4231179; 589015, 4231215; 589100, 4231300; 589100, 4231700; 588600, 4231600; 588440, 4231680; 588417, 4232400; 588500, 4232400; 588500, 4232500; 588600, 4232500; 588600, 4232800; 588400, 4233000; 588600, 4233300; 588700, 4233500; 589300, 4233500; 589983, 4233500; 590000, 4233500; 590100, 4233500; 590100, 4233300; 590600, 4233300; 591100, 4232800; 591138, 4232825; 591143, 4232820; 591184, 4232856; 591700, 4233200; 592513, 4233290; 592594, 4233291; 592594, 4233299; 592600, 4233300; 592600, 4233800; 592900, 4233700; 592900, 4233751; 592901, 4233751; 592900, 4233754; 592900, 4233800; 593400, 4234100; 594200, 4234100; 594300, 4234900; 594500, 4234900; 594890, 4235396; returning to 594915, 4234098.

(9) Unit 5: Solano County, California.

(i) Unit 5A: Solano County, California. From USGS 1:24,000 scale quadrangle Elmira. Land bounded by the following UTM Zone 10, NAD 83 coordinates (E,N): 593200, 4242200; 593200, 4240600; 593211, 4240600; 593255, 4239807; 592030, 4239793; 592062, 4240126; 592044, 4240137; 592026, 4240170; 592026, 4240181; 592030, 4240261; 592300, 4240800; 592100, 4240800; 591800, 4241000; 591700, 4241100; 591600, 4241200; 591600, 4241300; 591600, 4241700; 591700, 4241700; 591800, 4241600; 591900, 4241600; 592000, 4241500; 592200, 4241300; 592300, 4240900; returning to 593200, 4242200.

(ii) Unit 5B: Solano County, California. From USGS 1:24,000 scale quadrangles Elmira, Denverton. Land bounded by the following UTM Zone 10, NAD 83 coordinates (E,N): 589698, 4236560; 589600, 4234900; 589700, 4234900; 589700, 4234500; 590100, 4234500; 590100, 4234064; 590100, 4234000; 589400, 4234000; 589000, 4234400; 588500, 4234400; 588500, 4236400; 588549, 4236449; 588944, 4236551; 589524, 4236558; 589670, 4236559; returning to 589698, 4236560.

(iii) Note: Units 2-5 (Map 2) follow:

BILLING CODE 4310-55-P

BILLING CODE 4310-55-C

(10) Unit 6: Contra Costa County, California. From USGS 1:24,000 scale quadrangle Benicia. Land bounded by the following UTM Zone 10, NAD 83 coordinates (E,N): 566800, 4208500; 566800, 4208000; 566900, 4208000; 566900, 4207900; 566900, 4207800; 567100, 4207800; 567100, 4207900; 567000, 4207900; 567000, 4208000; 567100, 4208100; 567200, 4208200; 567500, 4207800; 567900, 4207400; 568200, 4207200; 568500, 4207100; 568400, 4207100; 568300, 4207000; 568200, 4207000; 568200, 4207100; 568100, 4207100; 568100, 4207000; 567900, 4207100; 567700, 4207200; 567600, 4207200; 567600, 4207100; 567500, 4207100; 567200, 4207100; 566600, 4207700; 566400, 4207500; 565900, 4207400; 565700, 4207700; 566411, 4208500; returning to 566800, 4208500.

(11) Note: Unit 6 (Map 3) follows:

BILLING CODE 4310-55-P

BILLING CODE 4310-55-C

(12) Unit 7: Contra Costa County, California. From USGS 1:24,000 scale quadrangles Byron Hot Springs, Clifton Court Forebay. Land bounded by the following UTM Zone 10, NAD 83 coordinates (E,N): 621800, 4191200; 622200, 4190700; 622300, 4190400; 622275, 4190400; 621200, 4190400; 621100, 4190400; 621100, 4188700; 620900, 4188700; 620600, 4188400; 620400, 4188600; 620400, 4188100; 620500, 4187900; 620600, 4187800; 620700, 4187700; 620900, 4187700; 621100, 4187500; 620500, 4187100; 620500, 4186900; 621300, 4187300; 621321, 4187289; 621338, 4187281; 621700, 4187100; 621800, 4186900; 621600, 4186200; 621600, 4186000; 621800, 4185900; 621900, 4186100; 621800, 4186500; 621900, 4186600; 622100, 4186600; 622200, 4186400; 622300, 4186200; 622500, 4186000; 622500, 4185800; 622000, 4185300; 621200, 4185300; 621200, 4185700; 621300, 4186000; 621100, 4186100; 620500, 4185900; 620600, 4185400; 620500, 4185200; 620200, 4185300; 620200, 4185500; 620000, 4185900; 620000, 4186100; 620500, 4186100; 620700, 4186200; 620700, 4186600; 620200, 4186800; 620100, 4186900; 620000, 4186800; 619900, 4186600; 619900, 4186400; 619800, 4186300; 619600, 4186400; 619500, 4186300; 619600, 4186100; 619600, 4185700; 619400, 4185700; 618200, 4186600; 618100, 4187100; 617700, 4187400; 617800, 4187900; 618400, 4187900; 618400, 4187500; 619000, 4186900; 619400, 4186700; 619500, 4186900; 619500, 4189200; 619300, 4189400; 619400, 4189600; 619000, 4189700; 618700, 4189400; 618500, 4189000; 617800, 4188900; 617618, 4188855; 617400, 4189000; 617400, 4189200; 618200, 4189500; 618100, 4189800; 618200, 4190100; 618700, 4190300; 618700, 4190700; 619000, 4191000; 619300, 4191100; 619600, 4191100; 619800, 4190700; 619900, 4190700; 620100, 4190900; 620400, 4190900; 620400, 4190900; 620400, 4190900; 620500, 4191200; returning to 621800, 4191200.

(13) Note: Unit 7 (Map 4) follows:

BILLING CODE 4310-55-P

BILLING CODE 4310-55-C

(14) Unit 8: Alameda County, California.

(i) Unit 8A: Alameda County, California. From USGS 1:24,000 scale quadrangles Milpitas, Niles. Land bounded by the following UTM Zone 10, NAD 83 coordinates (E,N): 590100, 4150400; 590481, 4150210; 590452, 4150159; 590383, 4150201; 590320, 4150230; 590312, 4150216; 590309, 4150216; 590306, 4150215; 590303, 4150215; 590300, 4150214; 590297, 4150213; 590294, 4150212; 590291, 4150212; 590202, 4150262; 590201, 4150263; 590199, 4150264; 590197, 4150265; 590195, 4150266; 590193, 4150267; 590191, 4150267; 590189, 4150268; 590187, 4150269; 590185, 4150269; 590183, 4150269; 590180, 4150270; 590178, 4150270; 590176, 4150270; 590174, 4150270; 590172, 4150270; 590170, 4150270; 590168, 4150270; 590165, 4150270; 590163, 4150270; 590161, 4150269; 590159, 4150269; 590157, 4150269; 590155, 4150268; 590153, 4150267; 590151, 4150266; 590149, 4150266; 590147, 4150265; 590145, 4150264; 590143, 4150263; 590141, 4150262; 590140, 4150261; 590138, 4150260; 590136, 4150258; 590134, 4150257; 590133, 4150256; 589930, 4150084; 589926, 4150080; 589921, 4150076; 589916, 4150073; 589911, 4150070; 589906, 4150066; 589901, 4150064; 589896, 4150061; 589891, 4150059; 589885, 4150056; 589880, 4150054; 589874, 4150052; 589869, 4150050; 589863, 4150049; 589857, 4150048; 589852, 4150046; 589846, 4150045; 589840, 4150045; 589834, 4150044; 589829, 4150044; 589823, 4150044; 589817, 4150044; 589811, 4150044; 589805, 4150045; 589799, 4150045; 589794, 4150046; 589788, 4150047; 589782, 4150048; 589776, 4150050; 589771, 4150052; 589765, 4150053; 589760, 4150055; 589754, 4150058; 589749, 4150060; 589744, 4150063; 589739, 4150066; 589734, 4150068; 589729, 4150072; 589724, 4150075; 589719, 4150078; 589715, 4150082; 589710, 4150086; 589706, 4150090; 589702, 4150094; 589698, 4150098; 589694, 4150103; 589641, 4150165; 589900, 4150100; returning to 590100, 4150400;

(ii) Unit 8B: Alameda County, California. From USGS 1:24,000 scale quadrangles Milpitas, Niles. Land bounded by the following UTM Zone 10, NAD 83 coordinates (E,N):592000, 4150900; 592300, 4150600; 592300, 4150582; 592274, 4150603; 592276, 4150615; 592213, 4150675; 592195, 4150689; 592081, 4150769; 592026, 4150768; 591957, 4150835; 591831, 4150703; 591824, 4150696; 591604, 4150449; 591601, 4150449; 591598, 4150449; 591595, 4150449; 591592, 4150449; 591589, 4150448; 591586, 4150448; 591583, 4150448; 591581, 4150447; 591578, 4150446; 591575, 4150446; 591572, 4150445; 591569, 4150444; 591567, 4150443; 591564, 4150441; 591561, 4150440; 591559, 4150439; 591556, 4150437; 591554, 4150436; 591552, 4150434; 591549, 4150433; 591547, 4150431; 591545, 4150429; 591542, 4150427; 591540, 4150425; 591538, 4150423; 591536, 4150421; 591534, 4150419; 591533, 4150416; 591531, 4150414; 591529, 4150412; 591528, 4150409; 591526, 4150407; 591525, 4150404; 591523, 4150401; 591522, 4150399; 591521, 4150396; 591520, 4150393; 591519, 4150391; 591518, 4150388; 591518, 4150385; 591517, 4150382; 591516, 4150379; 591516, 4150376; 591516, 4150374; 591515, 4150371; 591515, 4150368; 591515, 4150365; 591515, 4150362; 591515, 4150359; 591516, 4150356; 591516, 4150354; 591442, 4150273; 591396, 4150319; 591243, 4150156; 591255, 4150145; 591269, 4150133; 591300, 4150104; 591331, 4150075; 591473, 4149942; 591550, 4149873; 591589, 4149840; 591620, 4149817; 591665, 4149787; 591688, 4149775; 591721, 4149761; 591777, 4149738; 591825, 4149720; 591872, 4149707; 591913, 4149697; 591958, 4149690; 592001, 4149686; 592064, 4149684; 592119, 4149689; 592237, 4150383; 592245, 4150384; 592244, 4150388; 592251, 4150389; 592252, 4150385; 592298, 4150392; 592200, 4150000; 592100, 4149600; 592000, 4149500; 591984, 4149500; 592103, 4149649; 592088, 4149647; 592058, 4149645; 592030, 4149647; 591994, 4149650; 591954, 4149655; 591886, 4149666; 591844, 4149677; 591783, 4149697; 591717, 4149723; 591651, 4149757; 591594, 4149794; 591557, 4149824; 591530, 4149850; 591453, 4149920; 591310, 4150053; 591279, 4150082; 591248, 4150110; 591235, 4150123; 591222, 4150134; 591220, 4150131; 591045, 4149947; 590916, 4150021; 591500, 4150800; 591600, 4150700; 591800, 4150700; returning to 592000, 4150900;

(iii) Note: Unit 8 (Map 5) follows:

BILLING CODE 4310-55-P

BILLING CODE 4310-55-C

Family Limnanthaceae: Limnanthes floccosa ssp. californica (Butte County Meadowfoam)

(1) Critical habitat units are depicted for Tehama and Butte Counties, California, on the map below.

(2) The primary constituent elements of critical habitat for Limnanthes floccosa ssp. californica (Butte County meadowfoam) are the habitat components that provide:

(i) Topographic features characterized by isolated mound and intermound complex within a matrix of surrounding uplands that result in continuously, or intermittently, flowing surface water in the depressional features including swales connecting the pools described in paragraph (2)(ii) of this section, providing for dispersal and promoting hydroperiods of adequate length in the pools; and

(ii) Depressional features including isolated vernal pools with underlying restrictive soil layers that become inundated during winter rains and that continuously hold water or whose soils are saturated for a period long enough to promote germination, flowering, and seed production of predominantly annual native wetland species and typically exclude both native and nonnative upland plant species in all but the driest years. As these features are inundated on a seasonal basis, they do not promote the development of obligate wetland vegetation habitats typical of permanently flooded emergent wetlands.

(3) Existing manmade features and structures, such as buildings, roads, railroads, airports, runways, other paved areas, lawns, and other urban landscaped areas do not contain one or more of the primary constituent elements. Federal actions limited to those areas, therefore, would not trigger a consultation under section 7 of the Act unless they may affect the species and/or primary constituent elements in adjacent critical habitat.

(4) Unit 1: Tehama and Butte Counties.

(i) Unit 1A: Tehama and Butte Counties, California. From USGS 1:24,000 scale quadrangles Richardson Springs NW, Campbell Mound, Richardson Springs. Land bounded by the following UTM Zone 10, NAD 83 coordinates (E,N): 597100, 4416400; 597100, 4415600; 597044, 4415525; 596800, 4415200; 597100, 4415000; 597800, 4415500; 598100, 4415200; 597600, 4414600; 597600, 4414400; 597300, 4413800; 597300, 4413300; 598200, 4413900; 598400, 4413900; 598400, 4413600; 597422, 4411938; 597281, 4412382; 596959, 4413403; 596640, 4414416; 596620, 4414481; 596305, 4415484; 596303, 4415489; 596130, 4416040; 596091, 4416160; 596028, 4416358; 596011, 4416411; 595993, 4416465; 595982, 4416500; 596000, 4416500; 596100, 4416400; 596200, 4416500; 596300, 4416600; 596400, 4416700; 596500, 4416700; 596500, 4416800; 596600, 4416800; returning to 597100, 4416400.

(ii) Unit 1B: Butte County, California. From USGS 1:24,000 scale quadrangle Richardson Springs. Land bounded by the following UTM Zone 10, NAD 83 coordinates (E,N): 598900, 4411800; 599400, 4411700; 599800, 4411700; 599800, 4411000; 599300, 4410700; 599100, 4410800; 599000, 4410800; 598800, 4410600; 598500, 4410400; 598300, 4410100; 598100, 4410000; 598070, 4409970; 598051, 4409993; 598038, 4410010; 598014, 4410083; 597806, 4410737; 597725, 4410990; 597461, 4411816; 597434, 4411900; 597600, 4411900; 598300, 4412700; 598500, 4413300; 598900, 4413300; returning to 598900, 4411800.

(5) Unit 2: Butte County, California. From USGS 1:24,000 scale quadrangle Richardson Springs. Land bounded by the following UTM Zone 10, NAD 83 coordinates (E,N): 600300, 4406000; 601200, 4405600; 601800, 4405600; 602000, 4405500; 602200, 4405200; 602500, 4405200; 602700, 4404900; 603300, 4404700; 604500, 4404200; 605200, 4404200; 605600, 4404000; 605600, 4403600; 605100, 4403300; 604700, 4403400; 604500, 4403300; 604475, 4403175; 604400, 4403100; 604300, 4403100; 604200, 4403000; 604100, 4402900; 604000, 4402900; 603800, 4402800; 603800, 4402600; 603600, 4402400; 603400, 4402400; 603200, 4402500; 603100, 4402400; 602900, 4402400; 602900, 4402100; 602700, 4402100; 602300, 4402600; 602300, 4402700; 601800, 4403300; 601714, 4403300; 601553, 4403500; 601501, 4403499; 601465, 4403621; 601319, 4403663; 601226, 4403595; 601089, 4403571; 600979, 4403503; 600901, 4403569; 600860, 4403446; 600704, 4403566; 600542, 4403475; 600507, 4403530; 600473, 4403563; 600453, 4403580; 600369, 4403651; 600344, 4403642; 600232, 4403605; 599983, 4403679; 599973, 4403678; 599801, 4403662; 599725, 4403718; 599651, 4403697; 599493, 4403839; 599328, 4403862; 599302, 4403865; 599269, 4403870; 599084, 4403634; 599024, 4403611; 598987, 4404400; 598980, 4404543; 598971, 4404723; 598955, 4405388; 598953, 4405458; 598951, 4405529; 598947, 4405677; 598934, 4405719; 598919, 4405750; 598913, 4405762; 598884, 4405795; 598842, 4405846; 598785, 4405905; 598773, 4405921; 598722, 4405972; 598711, 4405983; 598694, 4406000; 598635, 4406058; 598598, 4406103; 598583, 4406127; 598567, 4406159; 598549, 4406210; 598544, 4406234; 598540, 4406255; 598533, 4406421; 598522, 4406815; 598516, 4407133; 598511, 4407496; 598513, 4407515; 598525, 4407568; 598527, 4407571; 598527, 4407589; 598580, 4407812; 598800, 4407900; 598900, 4408100; 599200, 4408400; 600200, 4408900; 600300, 4408800; 600300, 4408400; 600000, 4408100; 600400, 4407600; 599500, 4406700; 599500, 4406200; returning to 600300, 4406000.

(6) Unit 3: Butte County, California. From USGS 1:24,000 scale quadrangle Richardson Springs, Paradise West, Chico. Land bounded by the following UTM Zone 10, NAD 83 coordinates (E,N): 607600, 4401300; 607800, 4401100; 607500, 4400800; 606900, 4400800; 605100, 4399800; 605100, 4399600; 606500, 4399500; 606797, 4399330; 606777, 4399300; 606724, 4399252; 606568, 4399265; 606528, 4399272; 606479, 4399279; 606478, 4399279; 606394, 4399264; 606362, 4399238; 606329, 4399210; 606274, 4399169; 606209, 4399135; 606125, 4399122; 606060, 4399122; 605967, 4399131; 605899, 4399134; 605857, 4399134; 605822, 4399130; 605789, 4399116; 605781, 4399138; 605775, 4399149; 605764, 4399152; 605763, 4399152; 605701, 4399142; 605589, 4399116; 605504, 4399107; 605432, 4399110; 605319, 4399064; 605233, 4399045; 605173, 4399034; 605135, 4399023; 605134, 4399023; 605127, 4399023; 605109, 4399023; 605080, 4399025; 605063, 4399025; 605002, 4399051; 604957, 4399069; 604907, 4399092; 604029, 4399508; 603896, 4399435; 603886, 4399435; 603879, 4399436; 603300, 4399523; 603300, 4399600; 602900, 4399600; 603500, 4399800; 604700, 4400200; 604300, 4401300; 604400, 4401400; 604500, 4401300; 604600, 4401300; 604600, 4401400; 604800, 4401400; 604900, 4401400; 604800, 4401600; 605300, 4401900; 605900, 4402000; 606400, 4401800; 607100, 4401400; returning to 607600, 4401300.

(7) Unit 4: Butte County, California. From USGS 1:24,000 scale quadrangles Oroville, Shippee. Land bounded by the following UTM Zone 10, NAD 83 coordinates (E,N): 616900, 4376000; 616900, 4375800; 616600, 4375800; 615900, 4375800; 615900, 4377000; 616300, 4377000; 616300, 4378100; 614900, 4378100; 614900, 4378300; 614700, 4378300; 614700, 4378500; 614500, 4378500; 614500, 4378800; 614600, 4378900; 614600, 4379700; 614200, 4379700; 614200, 4381300; 612600, 4381300; 612600, 4382900; 613500, 4383000; 613700, 4383100; 613800, 4383200; 614000, 4383500; 614200, 4384000; 614200, 4384200; 614800, 4384200; 615073, 4384200; 615806, 4383804; 616704, 4383304; 617266, 4382991; 617327, 4382957; 617563, 4382829; 617589, 4382812; 617987, 4382563; 618347, 4382330; 618368, 4382306; 618445, 4382277; 618444, 4382301; 618457, 4382372; 618463, 4382408; 618500, 4382501; 618500, 4382500; 619300, 4381300; 619500, 4381000; 619500, 4380500; 620800, 4378900; 620900, 4378400; 620300, 4377700; 618800, 4377000; 617800, 4376400; 617100, 4376200; returning to 616900, 4376000.

(8) Note: Units 1-4 (Map 1) follow:

BILLING CODE 4310-55-P

BILLING CODE 4310-55-C

Family Poaceae: Neostapfia colusana (Colusa Grass)

(1) Critical habitat units are depicted for Mariposa, Merced, Stanislaus, Tuolumne, and Yolo Counties, California, on the map below.

(2) The primary constituent elements of critical habitat for Neostapfia colusana (Colusa grass) are the habitat components that provide:

(i) Topographic features characterized by isolated mound and intermound complex within a matrix of surrounding uplands that result in continuously, or intermittently, flowing surface water in the depressional features including swales connecting the pools described in paragraph (2)(ii) of this section, providing for dispersal and promoting hydroperiods of adequate length in the pools; and

(ii) Depressional features including isolated vernal pools with underlying restrictive soil layers that become inundated during winter rains and that continuously hold water or whose soils are saturated for a period long enough to promote germination, flowering, and seed production of predominantly annual native wetland species and typically exclude both native and nonnative upland plant species in all but the driest years. As these features are inundated on a seasonal basis, they do not promote the development of obligate wetland vegetation habitats typical of permanently flooded emergent wetlands.

(3) Existing manmade features and structures, such as buildings, roads, railroads, airports, runways, other paved areas, lawns, and other urban landscaped areas do not contain one or more of the primary constituent elements. Federal actions limited to those areas, therefore, would not trigger a consultation under section 7 of the Act unless they may affect the species and/or primary constituent elements in adjacent critical habitat.

(4) Unit 1: Yolo County, California. From USGS 1:24,000 topographic quadrangles Davis and Saxon: 615400, 4262300; 615400, 4260700; 614500, 4260700; 614500, 4261500; 614200, 4261500; 614200, 4261800; 614000, 4261800; 614000, 4262300; returning to 615400, 4262300.

(5) Note: Map Unit 1 (Map 1) follows:

BILLING CODE 4310-55-P

BILLING CODE 4310-55-C

(6) Unit 4: Tuolumne and Stanislaus Counties, California.

(i) Unit 4A: Tuolumne and Stanislaus Counties, California. From USGS 1:24, 000 topographic quadrangles Knights Ferry and Keystone. Land bounded by the following UTM Zone 10, NAD 83 coordinates (E,N): 709919, 4186841; 709913, 4186795; 709477, 4187175; 709275, 4187351; 708435, 4188084; 708351, 4188158; 708264, 4188233; 708132, 4188349; 707999, 4188465; 707639, 4188779; 707607, 4188807; 707900, 4189100; 708400, 4189600; 708700, 4190000; 709200, 4189300; 709200, 4188600; 710100, 4188200; returning to 709919, 4186841.

(ii) Unit 4B: Stanislaus County, California. From USGS 1:24,000 topographic quadrangles Waterford and Paulsell. Land bounded by the following UTM Zone 10, NAD 83 coordinates (E,N): 701282, 4176830; 701345, 4176765; 701756, 4176778; 701600, 4176700; 701600, 4176500; 701600, 4176200; 701700, 4175900; 701800, 4175800; 702000, 4175800; 702000, 4175100; 701600, 4175100; 701600, 4174200; 701900, 4173700; 701800, 4173600; 701700, 4173500; 701700, 4173300; 701700, 4173200; 701600, 4173200; 701500, 4173100; 701500, 4173000; 701600, 4173000; 701600, 4172800; 701500, 4172600; 701300, 4172500; 701100, 4172600; 700700, 4172600; 700600, 4172600; 700500, 4172700; 700500, 4172900; 700400, 4172900; 700400, 4172800; 700100, 4172700; 699600, 4172700; 699500, 4172800; 699300, 4172800; 699100, 4172500; 698800, 4172500; 698700, 4172600; 698400, 4172400; 698100, 4172800; 698200, 4173000; 697400, 4174300; 697300, 4174300; 697300, 4174500; 697800, 4174500; 697800, 4176300; 697700, 4176300; 697700, 4176437; 698090, 4176397; 698085, 4176613; 698084, 4176642; 699300, 4176684; 700500, 4176726; 701204, 4176750; returning to 701282, 4176830.

(iii) Unit 4C: Stanislaus County, California. From USGS 1:24,000 topographic quadrangle Paulsell. Land bounded by the following UTM Zone 10, NAD 83 coordinates (E,N): 702000, 4171800; 702000, 4169800; 702200, 4169800; 702200, 4169700; 702200, 4169658; 701000, 4169612; 701000, 4169700; 700700, 4169700; 700700, 4170400; 700700, 4170500; 700550, 4170500; 700500, 4170533; 700500, 4170900; 700300, 4170900; 700300, 4171100; 700300, 4171800; 701200, 4171800; returning to 702000, 4171800.

(iv) Unit 4D: Tuolumne County Stanislaus Counties, California. From USGS 1:24,000 topographic quadrangles Paulsell, Cooperstown, La Grange, Keystone. Land bounded by the following UTM Zone 10, NAD 83 coordinates (E,N): 715600, 4180900; 715400, 4180400; 716600, 4180400; 716900, 4179900; 717482, 4180046; 717700, 4180100; 718500, 4180000; 718700, 4179200; 719300, 4178700; 719455, 4178273; 719700, 4177600; 720126, 4177671; 720300, 4177700; 720700, 4177700; 720745, 4177115; 720800, 4176400; 721400, 4175900; 722200, 4175300; 722700, 4175200; 722800, 4173600; 723000, 4173500; 723200, 4173600; 723700, 4173600; 724000, 4173300; 724100, 4172300; 722800, 4172200; 721700, 4171200; 721571, 4170643; 721500, 4170500; 721400, 4170400; 721200, 4170300; 721000, 4170100; 721000, 4169600; 720900, 4169600; 720000, 4168500; 718900, 4168000; 718700, 4168100; 718100, 4168500; 718000, 4168500; 717900, 4168600; 716200, 4168600; 715900, 4168500; 715600, 4168300; 715500, 4168200; 715400, 4168300; 715400, 4169400; 714900, 4169900; 714900, 4170000; 715100, 4170000; 715200, 4170200; 715300, 4170200; 715300, 4170400; 715300, 4170407; 715300, 4171200; 715200, 4171200; 715200, 4171000; 715100, 4171000; 715100, 4170700; 714900, 4170700; 714900, 4170300; 713900, 4169800; 713800, 4169900; 713000, 4169500; 712500, 4169400; 712200, 4169400; 712000, 4169600; 711500, 4169900; 711300, 4169900; 710500, 4169100; 709300, 4169100; 709100, 4169500; 709100, 4169700; 708900, 4169700; 708800, 4169900; 708700, 4169900; 708600, 4169800; 708500, 4169900; 708400, 4170000; 708700, 4170200; 708800, 4170300; 708900, 4170400; 709100, 4170500; 709200, 4170600; 709400, 4170600; 709400, 4170800; 709300, 4170800; 709200, 4170900; 709100, 4170800; 708800, 4170700; 708800, 4170600; 708500, 4170500; 708400, 4170300; 708100, 4170200; 707900, 4170200; 707900, 4170300; 708100, 4170500; 708200, 4170500; 708200, 4170600; 708000, 4170600; 708200, 4170800; 708200, 4170900; 708100, 4170900; 707900, 4170700; 707700, 4170700; 707700, 4170800; 707600, 4170900; 707400, 4170900; 707100, 4171100; 707100, 4171200; 707200, 4171300; 707300, 4171200; 707500, 4171300; 707800, 4171600; 707900, 4171600; 708100, 4171600; 708200, 4171700; 708100, 4171800; 708100, 4171900; 708300, 4171900; 708300, 4172100; 708400, 4172100; 708500, 4172200; 708500, 4172300; 708700, 4172400; 708800, 4172500; 708800, 4172600; 708700, 4172700; 708500, 4172700; 708400, 4172800; 708300, 4172700; 708200, 4172700; 708100, 4172600; 708000, 4172500; 707900, 4172500; 707800, 4172700; 707600, 4172600; 707400, 4172500; 707400, 4172600; 707200, 4172700; 707100, 4172300; 707000, 4172200; 706700, 4172200; 706700, 4172300; 706500, 4172300; 706400, 4172300; 706400, 4172400; 706200, 4172600; 706300, 4172700; 706400, 4172800; 706300, 4172800; 706200, 4172800; 706100, 4172900; 705900, 4173100; 705800, 4173300; 705800, 4173500; 706000, 4173800; 705900, 4173900; 705800, 4174100; 705700, 4174200; 705500, 4174200; 705400, 4174100; 705400, 4173700; 705200, 4173200; 705100, 4173200; 705100, 4172600; 704900, 4172400; 704800, 4172100; 704600, 4172100; 704500, 4171900; 704400, 4171800; 704500, 4171600; 704600, 4171400; 704700, 4171500; 704900, 4171200; 704700, 4171100; 704900, 4171000; 704800, 4170900; 704600, 4170900; 704600, 4170700; 704800, 4170200; 705100, 4170200; 705000, 4170100; 705000, 4169600; 705000, 4169500; 704900, 4169400; 704800, 4169300; 704100, 4169300; 703500, 4169500; 703400, 4169600; 703400, 4170100; 703600, 4170200; 703600, 4170300; 703500, 4170300; 703500, 4170600; 703500, 4170700; 703500, 4170800; 703400, 4170900; 703400, 4171300; 703300, 4171400; 703200, 4171500; 703400, 4171500; 703400, 4171800; 703600, 4171800; 703600, 4174000; 704300, 4174000; 704300, 4173700; 705167, 4173700; 705167, 4173700; 705100, 4174700; 705400, 4175400; 705000, 4175900; 705300, 4176300; 705700, 4176700; 705700, 4177000; 705700, 4177500; 705100, 4177500; 705000, 4177300; 704800, 4177300; 704800, 4177100; 704600, 4177100; 704500, 4177200; 704500, 4177400; 704300, 4177500; 704200, 4177300; 704000, 4177300; 703800, 4177100; 703500, 4177300; 703500, 4177650; 703661, 4177654; 703645, 4177993; 703800, 4178200; 704000, 4178200; 704100, 4178100; 704200, 4178100; 704200, 4178400; 703900, 4178400; 703900, 4178800; 703800, 4178900; 703900, 4179100; 703900, 4179200; 703588, 4179200; 703586, 4179240; 704434, 4179184; 705229, 4179481; 706142, 4179326; 708062, 4179408; 708659, 4178568; 709277, 4179043; 709879, 4179505; 709905, 4179525; 711259, 4179578; 711250, 4179933; 711628, 4179987; 711599, 4180753; 711578, 4180885; 713039, 4181325; 713440, 4181474; 714003, 4181741; 714540, 4182019; 714627, 4182073; 714700, 4182000; 715200, 4181600; returning to 715600, 4180900.

(v) Unit 4E: Stanislaus County, California. From USGS 1:24,000 topographic quadrangle Paulsell. Land bounded by the following UTM Zone 10, NAD 83 coordinates (E,N): 703100, 4177500; 703000, 4177300; 702911, 4177359; 702906, 4177503; 703100, 4177507; returning to 703100, 4177500.

(7) Unit 5: Stanislaus County, California

(i) Unit 5A: Stanislaus County, California. From USGS 1:24,000 topographic quadrangles Paulsell and Montpelier: Land bounded by the following UTM Zone 10, NAD 83 coordinates (E,N): 704200, 4166200; 704000, 4166200; 703800, 4166400; 703400, 4166600; 703400, 4166800; 703500, 4166800; 703600, 4166900; 703700, 4167000; 703700, 4167200; 704600, 4167600; 704700, 4167600; 704800, 4167500; 705000, 4167400; 705300, 4167400; 705300, 4166400; 705000, 4166300; 704400, 4166300; returning to 704200, 4166200.

(ii) Unit 5B: Stanislaus and Merced Counties, California. From USGS 1:24,000 topographic quadrangles Paulsell, Cooperstown, La Grange, Montpelier, Turlock Lake, Snelling, Merced Falls. Land bounded by the following UTM Zone 10, NAD 83 coordinates (E,N): 720900, 4167500; 721100, 4167400; 721300, 4167700; 721700, 4167700; 722000, 4167600; 722500, 4167600; 723200, 4167100; 723500, 4166300; 723000, 4166100; 723200, 4165600; 723400, 4165700; 723600, 4165600; 723600, 4165100; 723700, 4164900; 724300, 4164900; 725000, 4163700; 725300, 4163800; 724900, 4162800; 725100, 4162700; 725400, 4162700; 726000, 4164100; 726300, 4163500; 726200, 4163100; 726000, 4163000; 726100, 4162700; 726199, 4160629; 726200, 4160600; 725800, 4160600; 725000, 4160200; 725300, 4159800; 726300, 4160200; 727000, 4159500; 727000, 4160400; 727223, 4160623; 727246, 4160646; 727300, 4160700; 727312, 4160647; 727317, 4160625; 727500, 4159800; 727600, 4159800; 727800, 4160400; 728300, 4160400; 728752, 4160658; 728773, 4160670; 729000, 4160800; 729244, 4160678; 729261, 4160670; 730400, 4160100; 730300, 4160500; 730600, 4160600; 730905, 4160871; 731500, 4161400; 731900, 4161400; 732000, 4160800; 731700, 4160700; 732000, 4160000; 733500, 4159000; 733700, 4158700; 733300, 4158600; 733300, 4158300; 733800, 4157700; 733400, 4157100; 731700, 4156900; 730900, 4156500; 728900, 4156600; 728700, 4156700; 728700, 4156800; 728600, 4156900; 728300, 4156900; 728100, 4156800; 727900, 4156800; 727100, 4156800; 726900, 4156600; 726700, 4156500; 726300, 4156500; 726100, 4156600; 725800, 4156500; 725600, 4156400; 725500, 4156300; 725400, 4156200; 725100, 4156100; 725000, 4156000; 724900, 4156000; 724800, 4156100; 724300, 4156100; 724300, 4155700; 723800, 4155700; 723900, 4155300; 723300, 4155400; 722700, 4155100; 722700, 4155400; 722300, 4155400; 722300, 4156800; 722900, 4156800; 722900, 4157400; 723500, 4157400; 723500, 4157000; 723700, 4157000; 723700, 4156900; 724300, 4156900; 724300, 4157400; 724200, 4157400; 724200, 4157400; 724100, 4158200; 723800, 4158200; 723700, 4159000; 722500, 4159000; 722500, 4159200; 722400, 4159200; 722300, 4159300; 722200, 4159300; 721600, 4159300; 721600, 4159500; 721500, 4159600; 721500, 4159800; 721600, 4159800; 721600, 4159900; 721700, 4159900; 721700, 4160500; 721100, 4160500; 721100, 4160100; 720800, 4160100; 720800, 4160500; 719500, 4160500; 719500, 4160300; 720000, 4159600; 719600, 4159600; 719600, 4159500; 719500, 4159500; 719400, 4159500; 719300, 4159400; 719100, 4159400; 719000, 4159400; 718900, 4159300; 718700, 4159100; 718600, 4159000; 718600, 4158900; 718400, 4158900; 718200, 4158800; 718200, 4158700; 718300, 4158600; 718400, 4158500; 718500, 4158500; 718600, 4158400; 718700, 4158400; 718900, 4158300; 719000, 4158100; 719000, 4157900; 718700, 4157600; 718000, 4157700; 717800, 4157400; 717900, 4157200; 718000, 4157000; 718400, 4157300; 718700, 4156700; 718700, 4156300; 717500, 4156300; 717500, 4156700; 717100, 4156700; 717100, 4156300; 716600, 4156300; 716600, 4155800; 716300, 4155700; 716200, 4155000; 715900, 4154900; 715900, 4155100; 715800, 4155200; 715800, 4155300; 715700, 4155400; 715600, 4155700; 715500, 4155800; 715400, 4155800; 715300, 4156600; 715400, 4156600; 715400, 4157200; 715400, 4157400; 715500, 4157400; 715500, 4157600; 717600, 4157600; 717600, 4159700; 718100, 4160200; 718200, 4160500; 718400, 4160800; 718700, 4161100; 716800, 4161100; 716800, 4160400; 715253, 4160400; 714900, 4160400; 714900, 4160900; 715000, 4160900; 715000, 4161000; 715200, 4161000; 715200, 4161100; 714400, 4161100; 714400, 4161200; 713700, 4161200; 713700, 4161100; 713300, 4161100; 713200, 4161200; 713100, 4161100; 713100, 4161000; 713400, 4160700; 713400, 4160600; 713600, 4160500; 713800, 4160800; 713900, 4160800; 714000, 4160700; 714000, 4160400; 711133, 4160301; 711100, 4161900; 709500, 4161900; 709500, 4163500; 707900, 4163500; 707900, 4163100; 707000, 4163100; 707000, 4165600; 707400, 4165600; 707400, 4165800; 706700, 4166100; 706500, 4165800; 706200, 4166000; 706300, 4166300; 706200, 4166400; 706200, 4166500; 706300, 4166500; 706300, 4166700; 706200, 4166700; 706200, 4167100; 706500, 4167100; 706700, 4166700; 706800, 4166700; 706800, 4166300; 707000, 4166300; 707000, 4166100; 707200, 4166100; 707200, 4166700; 707400, 4166700; 707800, 4166000; 707800, 4165600; 708000, 4165800; 708200, 4165800; 708400, 4165700; 708400, 4165500; 708200, 4165400; 708200, 4165300; 708300, 4165200; 708400, 4165200; 708500, 4165300; 708600, 4165400; 708800, 4165400; 709100, 4165100; 710200, 4165100; 710200, 4166400; 710100, 4166400; 710100, 4166500; 710000, 4166500; 709900, 4166500; 709900, 4166700; 709800, 4166700; 709800, 4167100; 710200, 4166800; 711000, 4167600; 711600, 4167800; 712400, 4167800; 712400, 4167300; 712900, 4167300; 712900, 4167200; 712600, 4166900; 711800, 4167000; 711600, 4166800; 711600, 4166600; 711800, 4166500; 711800, 4166600; 711900, 4166600; 712000, 4166300; 712100, 4166500; 712200, 4166500; 712300, 4166400; 712500, 4166400; 712500, 4166200; 712700, 4166200; 712700, 4166300; 712800, 4166300; 713000, 4166100; 712923, 4166062; 712800, 4166000; 712700, 4165800; 712500, 4165800; 712500, 4165600; 712700, 4165600; 712600, 4165400; 712400, 4165500; 712300, 4165400; 712500, 4165300; 712500, 4165200; 712400, 4165100; 712600, 4165100; 712600, 4165000; 712600, 4164900; 712700, 4164800; 712600, 4164700; 712500, 4164800; 712400, 4164800; 712400, 4164300; 712800, 4164500; 713100, 4164300; 713200, 4164100; 712900, 4163800; 712900, 4163700; 713100, 4163800; 713500, 4164000; 713600, 4164000; 713600, 4164100; 713700, 4164300; 714200, 4164300; 714400, 4164500; 714500, 4164800; 714600, 4164800; 714800, 4164700; 714800, 4164200; 714400, 4164000; 714400, 4163600; 714500, 4163500; 715200, 4164000; 715300, 4164200; 715400, 4164200; 715300, 4163900; 715100, 4163700; 715000, 4163500; 714800, 4163300; 714900, 4163200; 715000, 4163200; 715700, 4163200; 715900, 4163100; 716000, 4162900; 716100, 4162800; 716200, 4162800; 716300, 4162900; 716400, 4163000; 716500, 4163100; 716600, 4163200; 716600, 4163500; 716500, 4163600; 716500, 4163800; 716600, 4164100; 716800, 4164500; 716700, 4164900; 716800, 4165300; 717200, 4165800; 717200, 4166100; 717000, 4166400; 716600, 4166400; 716400, 4166300; 716400, 4166900; 716600, 4166900; 716800, 4167100; 716800, 4167300; 717000, 4167400; 717500, 4167400; 718100, 4167300; 718500, 4167100; 718600, 4166600; 718700, 4166400; 719100, 4166700; 719300, 4166800; 719500, 4166800; 719500, 4166500; 719600, 4166400; 719600, 4166100; 719800, 4166100; 719900, 4166300; 719900, 4166200; 720700, 4166200; 720700, 4163700; 721533, 4163700; 721700, 4163700; 722400, 4164100; 722400, 4164155; 722400, 4165300; 722200, 4165300; 722200, 4165400; 721500, 4165400; 721500, 4166100; 721000, 4166300; 720700, 4166500; 720900, 4166600; 721000, 4166700; 721100, 4166900; 721000, 4167000; 720300, 4167000; 720100, 4166900; 720200, 4166700; 720200, 4166600; 720100, 4166500; 720000, 4166500; 719800, 4166800; 719500, 4167400; 719500, 4167600; 719700, 4167800; 720500, 4167800; 720700, 4167700; returning to 720900, 4167500.

(iii) Unit 5C: Merced County, California. From USGS 1:24,000 topographic quadrangle Turlock Lake. Land bounded by the following UTM Zone 10, NAD 83 coordinates (E,N): 713800, 4155400; 712600, 4155200; 712600, 4156800; 712900, 4156800; 712900, 4157100; 714800, 4157200; 714800, 4156800; 714300, 4156300; 714200, 4156200; 714000, 4155500; 714000, 4155400; returning to 713800, 4155400.

(iv) Unit 5D: Merced County, California. From USGS 1:24,000 topographic quadrangle Merced Falls. Land bounded by the following UTM Zone 10, NAD 83 coordinates (E,N): 734700, 4158000; 734500, 4157900; 734700, 4158000; 734900, 4158300; returning to 734700, 4158000.

(v) Unit 5E: Merced County, California. From USGS 1:24,000 topographic quadrangles Merced Falls. Land bounded by the following UTM Zone 10, NAD 83 coordinates (E,N): 735600, 4158100; 736171, 4157529; 735600, 4158100; returning to 735600, 4158100.

(8) Unit 6: Merced and Mariposa Counties, California. From USGS 1:24,000 topographic quadrangles Winton, Yosemite Lake, Snelling, Merced Falls, Haystack Mtn., Indian Gulch. Land bounded by the following UTM Zone 10, NAD 83 coordinates (E,N): 737800, 4155000; 738200, 4154200; 738300, 4153300; 739000, 4152800; 739100, 4152200; 740200, 4151800; 740800, 4151500; 740800, 4150300; 741100, 4149900; 741700, 4149400; 742100, 4148500; 742100, 4147100; 743400, 4146100; 744000, 4145600; 744400, 4144600; 744300, 4143900; 743900, 4142700; 744000, 4142000; 744200, 4141700; 745500, 4140300; 745504, 4139577; 745500, 4139576; 745490, 4139575; 745422, 4139619; 745281, 4139676; 745269, 4139653; 745219, 4139621; 745324, 4139603; 745368, 4139567; 745432, 4139432; 745432, 4139432; 745433, 4139429; 745469, 4139385; 745412, 4139359; 745339, 4139307; 745338, 4139306; 745334, 4139300; 745299, 4139239; 745171, 4139174; 745038, 4139064; 744922, 4139007; 744890, 4138973; 744873, 4138873; 744852, 4138807; 744854, 4138756; 744892, 4138670; 744893, 4138653; 744895, 4138606; 744895, 4138606; 744830, 4138711; 744596, 4139085; 744234, 4139637; 744233, 4139645; 744162, 4139744; 744162, 4139744; 744013, 4140002; 744013, 4140002; 743998, 4140029; 743996, 4140030; 743973, 4140072; 743907, 4140195; 743889, 4140229; 743877, 4140264; 743750, 4140609; 743388, 4140868; 743091, 4141131; 743053, 4141165; 742997, 4141268; 742771, 4141692; 742748, 4141734; 742355, 4142343; 742336, 4142368; 742271, 4142457; 742238, 4142503; 742139, 4142637; 742056, 4142749; 742002, 4142823; 741974, 4142874; 741808, 4143176; 741722, 4143360; 741419, 4144010; 741385, 4144081; 741316, 4144328; 741297, 4144395; 741245, 4144456; 741194, 4144530; 741162, 4144608; 741076, 4144820; 740864, 4144897; 740843, 4144899; 740750, 4144952; 740641, 4145056; 740535, 4145175; 740517, 4145182; 740490, 4145240; 740487, 4145263; 740386, 4145415; 740321, 4145847; 740320, 4146066; 740303, 4146114; 740276, 4146159; 740272, 4146225; 740293, 4146273; 740293, 4146303; 740370, 4146426; 740415, 4146474; 740536, 4146602; 740735, 4146722; 740825, 4146775; 741069, 4147251; 741071, 4147549; 741071, 4147576; 740982, 4147830; 740955, 4147883; 740914, 4147967; 740822, 4148059; 740772, 4148182; 740782, 4148363; 740776, 4148391; 740695, 4148831; 740617, 4149151; 740447, 4149311; 740396, 4149534; 740344, 4149561; 740303, 4149575; 740289, 4149588; 740238, 4149636; 740225, 4149666; 740057, 4149659; 739993, 4149678; 739917, 4149678; 739791, 4149621; 739705, 4149597; 739701, 4149596; 739602, 4149593; 739521, 4149560; 739443, 4149542; 739197, 4149515; 738714, 4149273; 738694, 4149252; 738674, 4149251; 738178, 4148999; 737835, 4148823; 737747, 4148772; 737044, 4148135; 736672, 4147809; 736430, 4147669; 735929, 4147379; 735716, 4147219; 735669, 4147184; 735605, 4147136; 735437, 4147009; 735223, 4146848; 735183, 4146809; 735156, 4146798; 735151, 4146778; 735022, 4146655; 734989, 4146630; 734609, 4146349; 734480, 4146255; 734012, 4145909; 733808, 4145758; 733765, 4145739; 733763, 4145732; 733370, 4145442; 732703, 4144952; 732391, 4144910; 732197, 4144885; 731993, 4144850; 731062, 4144594; 730371, 4144363; 729000, 4143905; 728736, 4143813; 728542, 4143745; 728346, 4143647; 728018, 4143482; 727340, 4143194; 726795, 4142958; 726607, 4142867; 726599, 4142856; 726577, 4142853; 725785, 4142417; 725793, 4142408; 725843, 4142361; 726002, 4142378; 726117, 4142355; 726204, 4142264; 726415, 4142046; 726420, 4141975; 726381, 4141921; 726367, 4141880; 726261, 4141732; 726182, 4141648; 725935, 4141477; 725916, 4141451; 725903, 4141379; 725914, 4141349; 725981, 4141288; 726033, 4141240; 726145, 4141137; 726156, 4141109; 726147, 4141073; 726096, 4140993; 726083, 4140896; 726089, 4140784; 726108, 4140739; 726268, 4140551; 726269, 4140436; 726283, 4140368; 726313, 4140308; 726412, 4140209; 726455, 4140025; 726457, 4140000; 726459, 4139959; 726715, 4139715; 726786, 4139647; 726804, 4139630; 726822, 4139625; 726822, 4139611; 726823, 4139582; 726809, 4139546; 726755, 4139466; 726754, 4139433; 726931, 4139179; 727174, 4138842; 727220, 4138823; 727261, 4138819; 727328, 4138864; 727331, 4138842; 727333, 4138831; 727335, 4138819; 727343, 4138816; 727396, 4138803; 727406, 4138800; 727414, 4138798; 727552, 4138779; 727711, 4138793; 727806, 4138786; 727819, 4138766; 727845, 4138644; 727858, 4138617; 727881, 4138590; 727700, 4138500; 727600, 4138400; 727400, 4138300; 727400, 4137800; 727300, 4137800; 727300, 4137600; 727400, 4137600; 727400, 4137500; 727300, 4137500; 727300, 4137400; 727400, 4137400; 727400, 4137200; 726500, 4137200; 726500, 4136500; 726400, 4136400; 725800, 4136400; 725800, 4137200; 725000, 4137200; 724900, 4138800; 725500, 4138800; 725500, 4138700; 725800, 4138700; 725800, 4138800; 725900, 4138800; 725900, 4139500; 726500, 4139500; 726500, 4139600; 725900, 4139600; 725800, 4139600; 725800, 4140200; 725900, 4140200; 725900, 4140900; 725400, 4140900; 725400, 4140800; 725100, 4140800; 725100, 4141000; 724900, 4141000; 724900, 4141200; 724100, 4141200; 724100, 4141600; 723400, 4141600; 723400, 4141100; 723200, 4141100; 723200, 4140600; 723400, 4140500; 723400, 4139500; 724000, 4139500; 724000, 4139400; 723900, 4138900; 723900, 4138700; 723500, 4138200; 723400, 4138200; 723400, 4138300; 723000, 4138300; 723000, 4138700; 723000, 4138900; 723100, 4139100; 723200, 4139400; 723300, 4139500; 722100, 4139500; 722000, 4140500; 721900, 4141100; 721900, 4141900; 721900, 4143400; 720800, 4143400; 720900, 4141800; 721000, 4141500; 721000, 4141200; 721100, 4141100; 721000, 4141000; 717800, 4140900; 717700, 4142500; 714500, 4142400; 714500, 4144900; 715500, 4144900; 715500, 4145000; 715800, 4145000; 715900, 4145000; 716000, 4145000; 716100, 4145100; 716100, 4145200; 716000, 4145200; 715900, 4145300; 715900, 4145400; 716000, 4145500; 716000, 4145600; 716100, 4145700; 717000, 4145700; 717700, 4145300; 717800, 4145300; 717800, 4145200; 717800, 4145100; 717600, 4144900; 717600, 4144800; 717600, 4144700; 717800, 4144500; 717900, 4144600; 718200, 4144600; 718400, 4144500; 718700, 4144500; 718700, 4144800; 718600, 4145000; 718700, 4145100; 718700, 4145600; 718600, 4145600; 718600, 4145700; 718700, 4145800; 718600, 4145900; 718500, 4146000; 718500, 4146100; 718600, 4146200; 718600, 4146500; 718300, 4146500; 718200, 4146600; 718200, 4146800; 718300, 4146800; 718500, 4146900; 718600, 4147000; 718600, 4147100; 718400, 4147200; 718500, 4147300; 718500, 4147600; 718700, 4147600; 718700, 4147400; 719000, 4147500; 719100, 4147700; 719300, 4147600; 719600, 4147900; 719700, 4148000; 719700, 4148100; 719800, 4148200; 720000, 4148200; 720600, 4148200; 720600, 4148300; 720700, 4148400; 720800, 4148400; 720900, 4148500; 722700, 4148500; 722700, 4148600; 722900, 4148600; 723200, 4148700; 723400, 4148700; 723200, 4148600; 723100, 4148500; 723000, 4148400; 723200, 4148200; 723400, 4148200; 723500, 4148300; 723600, 4148400; 723600, 4148500; 723800, 4148500; 723800, 4148400; 723900, 4148400; 723900, 4148500; 724000, 4148700; 724200, 4148500; 724200, 4148900; 724300, 4149000; 724300, 4149100; 724500, 4149000; 724500, 4149300; 724700, 4149400; 724900, 4149600; 725000, 4149700; 725000, 4150000; 724900, 4150100; 725000, 4150200; 725200, 4150200; 725300, 4150400; 725400, 4150500; 725400, 4150600; 725100, 4150900; 724700, 4150900; 724700, 4153400; 725000, 4153500; 725400, 4153900; 725600, 4154100; 725800, 4154200; 726000, 4154300; 726200, 4154000; 726300, 4153800; 726300, 4153700; 727800, 4153600; 727800, 4153400; 727900, 4153400; 727900, 4153500; 728400, 4153600; 728700, 4153700; 729000, 4153700; 729000, 4153600; 729100, 4153500; 729300, 4153400; 729400, 4153400; 729400, 4153300; 729300, 4153200; 729500, 4153100; 729800, 4153100; 729900, 4153200; 729900, 4154200; 730000, 4154200; 730100, 4154300; 730600, 4154300; 730700, 4154400; 731000, 4154600; 731200, 4154700; 731500, 4154700; 731800, 4154900; 732200, 4154900; 732600, 4154800; 733200, 4154500; 733400, 4154500; 733700, 4154300; 734700, 4154300; 734900, 4154600; 735100, 4154800; 735100, 4154900; 735500, 4155300; 735600, 4155300; 735800, 4155500; 736100, 4155900; 737100, 4155400; 737157, 4155367; returning to 737800, 4155000.

(9) Note: Units 4-6 (Map 2) follow:

BILLING CODE 4310-55-P

BILLING CODE 4310-55-C

(10) Unit 7: Merced County, California.

(i) Unit 7A: Merced County, California. From USGS 1:24,000 topographic quad Sandy Mush and El Nido. Land bounded by the following UTM Zone 10, NAD 83 coordinates (E,N): 718900, 4120900; 718900, 4120000; 719300, 4120000; 719400, 4120200; 719600, 4120100; 720200, 4120100; 720300, 4120200; 720700, 4120200; 720900, 4120000; 721500, 4120000; 721600, 4120100; 722000, 4120100; 722100, 4120000; 722200, 4120200; 722200, 4120300; 722900, 4120300; 722900, 4119600; 722100, 4119500; 722200, 4118400; 725400, 4118500; 725400, 4118578; 725400, 4118582; 726100, 4118600; 726100, 4120100; 728600, 4120100; 728600, 4119200; 727800, 4119200; 727700, 4118600; 727600, 4118500; 727500, 4118500; 727500, 4118400; 727500, 4116900; 726800, 4116900; 726700, 4116900; 726800, 4115300; 725900, 4115300; 725900, 4116900; 724300, 4116900; 724300, 4117600; 722694, 4117506; 722600, 4117600; 721800, 4117600; 721800, 4118400; 720200, 4118400; 720200, 4117600; 719400, 4117600; 719400, 4116700; 718600, 4116700; 718600, 4117100; 718200, 4117100; 718200, 4117200; 718300, 4117300; 718400, 4117400; 718600, 4117400; 718600, 4117500; 718600, 4118291; 718900, 4118300; 718900, 4118900; 718800, 4119000; 718700, 4119000; 718600, 4119100; 717700, 4119100; 717700, 4119900; 718100, 4119900; 718100, 4119950; 718500, 4120000; 718500, 4120900; returning to 718900, 4120900.

(ii) Unit 7B: Merced County, California. From USGS 1:24,000 topographic quadrangle Sandy Mush. Land bounded by the following UTM Zone 10, NAD 83 coordinates (E,N): 721300, 4120800; 720500, 4120800; 720500, 4121600; 721300, 4121600; 721300, 4121200; returning to 721300, 4120800.

(iii) Unit 7C: Merced County, California. From USGS 1:24,000 topographic quadrangle El Nido. Land bounded by the following UTM Zone 10, NAD 83 coordinates (E,N): 722900, 4121800; 721800, 4121800; 722200, 4122500; 722900, 4122500; returning to 722900, 4121800.

(iv) Unit 7D: Merced County, California. From USGS 1:24,000 topographic quadrangles Arena, and Turner Ranch: Land bounded by the following UTM Zone 10, NAD 83 coordinates (E,N): 701700, 4130600; 701700, 4129200; 701800, 4129200; 702800, 4129200; 703000, 4128800; 703300, 4128800; 703900, 4128800; 703900, 4129000; 704200, 4129000; 704200, 4128500; 703300, 4128400; 703400, 4128300; 703400, 4127900; 703500, 4127800; 703800, 4127500; 703700, 4127300; 703500, 4127300; 703400, 4127100; 703400, 4126100; 703400, 4126100; 703500, 4126100; 704400, 4126100; 704300, 4126000; 704300, 4126000; 704400, 4125900; 704500, 4125300; 704500, 4124800; 705000, 4124800; 705000, 4125300; 705700, 4125300; 705700, 4124900; 706600, 4125000; 706700, 4123700; 706700, 4122100; 706800, 4120900; 706700, 4120500; 706700, 4119700; 708100, 4119700; 708100, 4119600; 708000, 4119500; 707900, 4119200; 707900, 4119000; 708000, 4118900; 708300, 4118900; 708300, 4118100; 707900, 4118100; 707500, 4118500; 706500, 4118500; 706000, 4118900; 705600, 4119300; 705200, 4119700; 704800, 4120000; 704700, 4120100; 704700, 4120400; 705100, 4120400; 705100, 4120600; 704900, 4120700; 704900, 4120800; 705100, 4120800; 704900, 4121000; 705000, 4121100; 705100, 4121700; 705200, 4121700; 705300, 4122000; 705700, 4122100; 705700, 4122200; 705400, 4122300; 705300, 4122400; 705500, 4122600; 705400, 4122600; 705300, 4122500; 705200, 4122500; 705100, 4122500; 704900, 4122500; 704900, 4122700; 704800, 4122800; 704500, 4122800; 704300, 4122900; 704000, 4122800; 703900, 4122900; 703400, 4124400; 703300, 4124600; 701300, 4126500; 700100, 4127600; 700467, 4129067; 700500, 4129200; 700500, 4130600; 701000, 4130600; 701000, 4130100; 701100, 4129800; 701200, 4129800; 701100, 4130100; 701100, 4130600; returning to 701700, 4130600.

(v) Unit 7E: Merced County, California. USGS 24,000 topographic quadrangles Turner Ranch, and Sandy Mush. Land bounded by the following UTM Zone 10, NAD 83 coordinates (E,N): 711200, 4120500; 711400, 4120400; 711500, 4120500; 711600, 4119600; 711900, 4119600; 711900, 4119400; 712100, 4119300; 712300, 4119300; 712300, 4119200; 712600, 4119200; 712800, 4118800; 711600, 4118700; 711600, 4118500; 711400, 4118500; 711300, 4118400; 711100, 4118100; 709900, 4118100; 709900, 4118800; 709900, 4119000; 709700, 4119000; 709700, 4119600; 710300, 4119600; 710300, 4119900; 710700, 4119900; 710700, 4120000; 710600, 4120000; 710600, 4120100; 710700, 4120200; 710600, 4120300; 710700, 4120400; 710700, 4120500; 710900, 4120400; 711100, 4120400; returning to 711200, 4120500.

(vi) Unit 7F: Merced County, California. From USGS 1:24,000 topographic quadrangle Turner Ranch. Land bounded by the following UTM Zone 10, NAD 83 coordinates (E,N): 702870, 4121705; 703200, 4121100; 702800, 4121700; returning to 702870, 4121705.

(vii) Note: Unit 7 (Map 3) follows:

BILLING CODE 4310-55-P

BILLING CODE 4310-55-C

Family Poaceae: Orcuttia inaequalis (San Joaquin Valley Orcutt Grass).

(1) Critical habitat units are depicted for Fresno, Madera, Mariposa, Merced, and Tulare Counties, California, on the maps below.

(2) The primary constituent elements of critical habitat for Orcuttia inaequalis (San Joaquin Valley Orcutt grass) are the habitat components that provide:

(i) Topographic features characterized by isolated mound and intermound complex within a matrix of surrounding uplands that result in continuously, or intermittently, flowing surface water in the depressional features including swales connecting the pools described in paragraph (2)(ii) of this section, providing for dispersal and promoting hydroperiods of adequate length in the pools; and

(ii) Depressional features including isolated vernal pools with underlying restrictive soil layers that become inundated during winter rains and that continuously hold water or whose soils are saturated for a period long enough to promote germination, flowering, and seed production of predominantly annual native wetland species and typically exclude both native and nonnative upland plant species in all but the driest years. As these features are inundated on a seasonal basis, they do not promote the development of obligate wetland vegetation habitats typical of permanently flooded emergent wetlands.

(3) Existing manmade features and structures, such as buildings, roads, railroads, airports, runways, other paved areas, lawns, and other urban landscaped areas do not contain one or more of the primary constituent elements. Federal actions limited to those areas, therefore, would not trigger a consultation under section 7 of the Act unless they may affect the species and/or primary constituent elements in adjacent critical habitat.

(4) Unit 1: Merced and Mariposa Counties, California. From USGS 1:24,000 topographic quadrangles Snelling, Merced Falls, Winton, Yosemite Lake, Haystack Mountain, Indian Gulch, Merced, and Owens Reservoir. Land bounded by the following UTM Zone 10, NAD 83 coordinates (E,N): 737800, 4155000; 738200, 4154200; 738300, 4153300; 739000, 4152800; 739100, 4152200; 740200, 4151800; 740800, 4151500; 740800, 4150300; 741100, 4149900; 741700, 4149400; 742100, 4148500; 742100, 4147100; 743400, 4146100; 744000, 4145600; 744400, 4144600; 744300, 4143900; 743900, 4142700; 744000, 4142000; 744200, 4141700; 745500, 4140300; 745500, 4139600; 745500, 4139576; 745500, 4139500; 745432, 4139432; 745400, 4139400; 745339, 4139307; 745338, 4139306; 745334, 4139300; 745299, 4139239; 745171, 4139174; 745038, 4139064; 744922, 4139007; 744890, 4138973; 744873, 4138873; 744852, 4138807; 744854, 4138756; 744892, 4138670; 744893, 4138653; 744895, 4138606; 744895, 4138606; 744830, 4138711; 744596, 4139085; 744234, 4139637; 744233, 4139645; 744162, 4139744; 744162, 4139744; 744013, 4140002; 744013, 4140002; 743998, 4140029; 743996, 4140030; 743973, 4140072; 743907, 4140195; 743889, 4140229; 743877, 4140264; 743750, 4140609; 743388, 4140868; 743091, 4141131; 743053, 4141165; 742997, 4141268; 742771, 4141692; 742748, 4141734; 742355, 4142343; 742336, 4142368; 742271, 4142457; 742238, 4142503; 742139, 4142637; 742056, 4142749; 742002, 4142823; 741974, 4142874; 741808, 4143176; 741722, 4143360; 741419, 4144010; 741385, 4144081; 741316, 4144328; 741297, 4144395; 741245, 4144456; 741194, 4144530; 741162, 4144608; 741076, 4144820; 740864, 4144897; 740843, 4144899; 740750, 4144952; 740641, 4145056; 740535, 4145175; 740517, 4145182; 740490, 4145240; 740487, 4145263; 740386, 4145415; 740321, 4145847; 740320, 4146066; 740303, 4146114; 740276, 4146159; 740272, 4146225; 740293, 4146273; 740293, 4146303; 740370, 4146426; 740415, 4146474; 740536, 4146602; 740735, 4146722; 740825, 4146775; 741069, 4147251; 741071, 4147549; 741071, 4147576; 740982, 4147830; 740955, 4147883; 740914, 4147967; 740822, 4148059; 740772, 4148182; 740782, 4148363; 740776, 4148391; 740695, 4148831; 740617, 4149151; 740447, 4149311; 740396, 4149534; 740344, 4149561; 740303, 4149575; 740289, 4149588; 740238, 4149636; 740225, 4149666; 740057, 4149659; 739993, 4149678; 739917, 4149678; 739791, 4149621; 739705, 4149597; 739701, 4149596; 739602, 4149593; 739521, 4149560; 739443, 4149542; 739197, 4149515; 738714, 4149273; 738694, 4149252; 738674, 4149251; 738178, 4148999; 737835, 4148823; 737747, 4148772; 737044, 4148135; 736672, 4147809; 736430, 4147669; 735929, 4147379; 735716, 4147219; 735669, 4147184; 735605, 4147136; 735437, 4147009; 735223, 4146848; 735183, 4146809; 735156, 4146798; 735151, 4146778; 735022, 4146655; 734989, 4146630; 734609, 4146349; 734480, 4146255; 734012, 4145909; 733808, 4145758; 733765, 4145739; 733763, 4145732; 733370, 4145442; 732703, 4144952; 732391, 4144910; 732197, 4144885; 731993, 4144850; 731062, 4144594; 730371, 4144363; 729000, 4143905; 728736, 4143813; 728542, 4143745; 728346, 4143647; 728018, 4143482; 727340, 4143194; 726795, 4142958; 726607, 4142867; 726599, 4142856; 726577, 4142853; 725785, 4142417; 725793, 4142408; 725843, 4142361; 726002, 4142378; 726117, 4142355; 726204, 4142264; 726415, 4142046; 726420, 4141975; 726381, 4141921; 726367, 4141880; 726261, 4141732; 726182, 4141648; 725935, 4141477; 725916, 4141451; 725903, 4141379; 725914, 4141349; 725981, 4141288; 726033, 4141240; 726145, 4141137; 726156, 4141109; 726147, 4141073; 726096, 4140993; 726083, 4140896; 726089, 4140784; 726108, 4140739; 726268, 4140551; 726269, 4140436; 726283, 4140368; 726313, 4140308; 726412, 4140209; 726455, 4140025; 726457, 4140000; 726459, 4139959; 726715, 4139715; 726786, 4139647; 726804, 4139630; 726822, 4139625; 726822, 4139611; 726823, 4139582; 726809, 4139546; 726755, 4139466; 726754, 4139433; 726931, 4139179; 727174, 4138842; 727220, 4138823; 727261, 4138819; 727328, 4138864; 727331, 4138842; 727333, 4138831; 727335, 4138819; 727343, 4138816; 727396, 4138803; 727406, 4138800; 727414, 4138798; 727552, 4138779; 727711, 4138793; 727806, 4138786; 727819, 4138766; 727845, 4138644; 727858, 4138617; 727881, 4138590; 727700, 4138500; 727600, 4138400; 727400, 4138300; 727400, 4137800; 727300, 4137800; 727300, 4137600; 727400, 4137600; 727400, 4137500; 727300, 4137500; 727300, 4137400; 727400, 4137400; 727400, 4137200; 726500, 4137200; 726500, 4136500; 726400, 4136400; 725800, 4136400; 725800, 4137200; 725000, 4137200; 724900, 4138800; 725500, 4138800; 725500, 4138700; 725800, 4138700; 725800, 4138800; 725900, 4138800; 725900, 4139500; 726500, 4139500; 726500, 4139600; 725900, 4139600; 725800, 4139600; 725800, 4140200; 725900, 4140200; 725900, 4140900; 725400, 4140900; 725400, 4140800; 725100, 4140800; 725100, 4141000; 724900, 4141000; 724900, 4141200; 724100, 4141200; 724100, 4141600; 723400, 4141600; 723400, 4141100; 723200, 4141100; 723200, 4140600; 723400, 4140500; 723400, 4139500; 724000, 4139500; 724000, 4139400; 723900, 4138900; 723900, 4138700; 723500, 4138200; 723400, 4138200; 723400, 4138300; 723000, 4138300; 723000, 4138700; 723000, 4138900; 723100, 4139100; 723200, 4139400; 723300, 4139500; 722100, 4139500; 722000, 4140500; 721900, 4141100; 721900, 4141900; 721900, 4143400; 720800, 4143400; 720900, 4141800; 721000, 4141500; 721000, 4141200; 721100, 4141100; 721000, 4141000; 717800, 4140900; 717700, 4142500; 714500, 4142400; 714500, 4144900; 715500, 4144900; 715500, 4145000; 715800, 4145000; 715900, 4145000; 716000, 4145000; 716100, 4145100; 716100, 4145200; 716000, 4145200; 715900, 4145300; 715900, 4145400; 716000, 4145500; 716000, 4145600; 716100, 4145700; 717000, 4145700; 717700, 4145300; 717800, 4145300; 717800, 4145200; 717800, 4145100; 717600, 4144900; 717600, 4144800; 717600, 4144700; 717800, 4144500; 717900, 4144600; 718200, 4144600; 718400, 4144500; 718700, 4144500; 718700, 4144800; 718600, 4145000; 718700, 4145100; 718700, 4145600; 718600, 4145600; 718600, 4145700; 718700, 4145800; 718600, 4145900; 718500, 4146000; 718500, 4146100; 718600, 4146200; 718600, 4146500; 718300, 4146500; 718200, 4146600; 718200, 4146800; 718300, 4146800; 718500, 4146900; 718600, 4147000; 718600, 4147100; 718400, 4147200; 718500, 4147300; 718500, 4147600; 718700, 4147600; 718700, 4147400; 719000, 4147500; 719100, 4147700; 719300, 4147600; 719600, 4147900; 719700, 4148000; 719700, 4148100; 719800, 4148200; 720000, 4148200; 720600, 4148200; 720600, 4148300; 720700, 4148400; 720800, 4148400; 720900, 4148500; 722700, 4148500; 722700, 4148600; 722900, 4148600; 723200, 4148700; 723400, 4148700; 723200, 4148600; 723100, 4148500; 723000, 4148400; 723200, 4148200; 723400, 4148200; 723500, 4148300; 723600, 4148400; 723600, 4148500; 723800, 4148500; 723800, 4148400; 723900, 4148400; 723900, 4148500; 724000, 4148700; 724200, 4148500; 724200, 4148900; 724300, 4149000; 724300, 4149100; 724500, 4149000; 724500, 4149300; 724700, 4149400; 724900, 4149600; 725000, 4149700; 725000, 4150000; 724900, 4150100; 725000, 4150200; 725200, 4150200; 725300, 4150400; 725400, 4150500; 725400, 4150600; 725100, 4150900; 724700, 4150900; 724700, 4153400; 725000, 4153500; 725400, 4153900; 725600, 4154100; 725800, 4154200; 726000, 4154300; 726200, 4154000; 726300, 4153800; 726300, 4153700; 727800, 4153600; 727800, 4153400; 727900, 4153400; 727900, 4153500; 728400, 4153600; 728700, 4153700; 729000, 4153700; 729000, 4153600; 729100, 4153500; 729300, 4153400; 729400, 4153400; 729400, 4153300; 729300, 4153200; 729500, 4153100; 729800, 4153100; 729900, 4153200; 729900, 4154200; 730000, 4154200; 730100, 4154300; 730600, 4154300; 730700, 4154400; 731000, 4154600; 731200, 4154700; 731500, 4154700; 731800, 4154900; 732200, 4154900; 732600, 4154800; 733200, 4154500; 733400, 4154500; 733700, 4154300; 734700, 4154300; 734900, 4154600; 735100, 4154800; 735100, 4154900; 735500, 4155300; 735600, 4155300; 735800, 4155500; 736100, 4155900; 737100, 4155400; 737157, 4155367; returning to 737800, 4155000.

(5) Note: Unit 1 (Map 1) follows:

BILLING CODE 4310-55-P

BILLING CODE 4310-55-C

(6) Unit 2: Merced, Madera, and Mariposa Counties, California. From USGS 1:24, 000 topographic quadrangles Owens Reservoir, Plainsburg, Le Grand, and Raynor Creek. Land bounded by the following UTM Zone 10, NAD 83 coordinates (E,N): 754000, 4129300; 753400, 4128400; 752500, 4126600; 752300, 4126400; 752200, 4125500; 752800, 4125600; 753900, 4125000; 755000, 4125700; 755100, 4125300; 755900, 4125200; 756100, 4124900; 757100, 4124900; 757166, 4124735; 757187, 4124682; 757300, 4124400; 756719, 4124012; 756700, 4124000; 757000, 4123700; 757600, 4123900; 757900, 4123200; 758400, 4122900; 759200, 4122900; 760300, 4121300; 761000, 4121000; 761300, 4120300; 761955, 4119563; 761968, 4119549; 761718, 4119265; 761701, 4119258; 761698, 4119256; 761644, 4119235; 761519, 4119174; 761497, 4119158; 761476, 4119142; 761412, 4119094; 761355, 4119052; 761244, 4118969; 761107, 4118894; 760858, 4118839; 760750, 4118755; 760594, 4118634; 760278, 4118609; 760228, 4118605; 760119, 4118597; 760084, 4118594; 760084, 4118594; 760008, 4118588; 759742, 4118512; 759529, 4118452; 759375, 4118358; 759330, 4118326; 759173, 4118214; 758783, 4118084; 758541, 4118070; 758036, 4117982; 757933, 4117964; 757910, 4117955; 757910, 4117955; 757811, 4117918; 757797, 4117914; 757694, 4117865; 757622, 4117811; 757620, 4117809; 757617, 4117808; 757591, 4117800; 757532, 4117781; 757484, 4117742; 757475, 4117726; 757450, 4117700; 757411, 4117661; 757378, 4117627; 757321, 4117607; 757313, 4117600; 757281, 4117570; 757255, 4117530; 757245, 4117516; 757146, 4117439; 757138, 4117438; 757117, 4117435; 757001, 4117419; 756872, 4117342; 756823, 4117300; 756785, 4117268; 756634, 4117128; 756624, 4117124; 756592, 4117112; 756590, 4117110; 756500, 4117200; 756223, 4117292; 756200, 4117300; 755800, 4117200; 755700, 4117200; 755700, 4117160; 755700, 4116700; 755700, 4116600; 755500, 4116500; 755400, 4116500; 754900, 4116300; 754800, 4116300; 754800, 4116600; 753700, 4116600; 753700, 4116400; 753300, 4116400; 753300, 4115600; 753100, 4115500; 752700, 4115400; 752400, 4115300; 752200, 4115200; 752200, 4115600; 751800, 4115600; 752000, 4115800; 751900, 4116000; 751400, 4116100; 751100, 4116300; 751300, 4116300; 751300, 4116900; 751100, 4116900; 750815, 4116900; 750800, 4116900; 750700, 4117000; 750000, 4116800; 749300, 4116800; 749300, 4116611; 749300, 4116500; 746800, 4116500; 746000, 4116500; 746000, 4116520; 746000, 4116600; 745200, 4116600; 745200, 4117800; 744600, 4117800; 744600, 4118600; 743600, 4118600; 743600, 4119000; 745400, 4119000; 745400, 4119700; 744700, 4119700; 744700, 4120500; 745300, 4120500; 745500, 4120600; 745600, 4120700; 746000, 4120700; 746000, 4121400; 746200, 4121500; 746200, 4121600; 746400, 4121700; 746400, 4121800; 747600, 4120700; 746500, 4120700; 746500, 4119700; 747000, 4119700; 747000, 4120300; 747800, 4120300; 747800, 4120000; 748400, 4120000; 747800, 4120500; 747800, 4121400; 748600, 4121400; 748600, 4121900; 747800, 4121900; 747800, 4123300; 748300, 4123300; 748300, 4123500; 748500, 4123500; 748600, 4123500; 748600, 4123900; 747800, 4123900; 747800, 4124600; 747400, 4125100; 747400, 4125500; 746900, 4125500; 746900, 4125763; 746902, 4125767; 746921, 4125818; 746971, 4125871; 746997, 4125897; 747003, 4125902; 747142, 4125971; 747303, 4125987; 747358, 4126000; 747358, 4126000; 747406, 4126011; 747451, 4126022; 747478, 4126053; 747502, 4126125; 747562, 4126246; 747650, 4126316; 747692, 4126358; 747766, 4126528; 747794, 4126628; 747823, 4126667; 747863, 4126691; 747898, 4126700; 747962, 4126676; 748037, 4126635; 748075, 4126641; 748085, 4126672; 748080, 4126756; 748141, 4126839; 748166, 4126932; 748194, 4126991; 748196, 4126992; 748292, 4127060; 748321, 4127094; 748332, 4127134; 748320, 4127203; 748300, 4127277; 748295, 4127296; 748287, 4127458; 748300, 4127486; 748306, 4127500; 748343, 4127521; 748396, 4127553; 748439, 4127570; 748635, 4127644; 748753, 4127851; 748764, 4127912; 748784, 4127941; 748899, 4128013; 748933, 4128123; 748917, 4128239; 748906, 4128277; 748903, 4128379; 749002, 4128451; 749005, 4128453; 749013, 4128457; 749133, 4128508; 749363, 4128542; 749410, 4128574; 749458, 4128596; 749563, 4128739; 749591, 4128753; 749672, 4128755; 749716, 4128734; 749824, 4128725; 749886, 4128721; 749963, 4128723; 750006, 4128700; 750017, 4128694; 750239, 4128660; 750305, 4128665; 750409, 4128754; 750420, 4128760; 750506, 4128806; 750609, 4128861; 750766, 4128953; 750790, 4128977; 750848, 4129037; 750909, 4129180; 750955, 4129261; 751002, 4129402; 751004, 4129410; 751053, 4129470; 751088, 4129488; 751123, 4129507; 751191, 4129530; 751299, 4129685; 751326, 4129693; 751399, 4129700; 751400, 4129700; 751410, 4129701; 751416, 4129705; 751457, 4129733; 751560, 4129753; 751654, 4129772; 751664, 4129785; 751681, 4129794; 751693, 4129800; 751700, 4129800; 751800, 4129800; 753100, 4129800; returning to 754000, 4129300.

(7) Note: Unit 2 (Map 2) follows:

BILLING CODE 4310-55-P

BILLING CODE 4310-55-C

(8) Unit 3: Madera County, California.

(i) Unit 3A: Madera County, California. From USGS 1:24,000 topographic quadrangle Kismet. Land bounded by the following UTM Zone 10, NAD 83 coordinates (E,N): 766600, 4106300; 766600, 4105100; 764500, 4105000; 764500, 4105400; 764500, 4106200; 764500, 4106400; 764800, 4106300; 765200, 4106400; 765700, 4106500; 765900, 4106700; 766100, 4106700; 766100, 4106500; 766300, 4106400; returning to 766600, 4106300.

(ii) Unit 3B: Madera County, California. From USGS 1:24,000 topographic quadrangles Daulton, Little Table Mountain, Gregg, and Lanes Bridge. Land bounded by the following UTM Zone 10, NAD 83 coordinates (E,N): 768068, 4107230; 768482, 4107223; 768510, 4107237; 768558, 4107312; 768603, 4107420; 768625, 4107444; 768663, 4107460; 768783, 4107434; 768930, 4107375; 769050, 4107290; 769225, 4107285; 769259, 4107274; 769313, 4107237; 769329, 4107230; 769367, 4107213; 769443, 4107216; 769756, 4107290; 770235, 4107165; 770356, 4107136; 771175, 4107264; 771213, 4107261; 771255, 4107237; 771273, 4107227; 771286, 4107215; 771517, 4107059; 771528, 4107056; 771815, 4106993; 772201, 4106696; 772325, 4106560; 772378, 4106500; 772399, 4106384; 772498, 4106310; 772661, 4106375; 772759, 4106385; 772826, 4106355; 772868, 4106337; 772940, 4106262; 773047, 4106226; 773125, 4106234; 773232, 4106319; 773424, 4106582; 773448, 4106601; 773630, 4106805; 773788, 4106934; 774007, 4106931; 774153, 4106987; 774208, 4106991; 774293, 4106979; 774346, 4106988; 774441, 4107034; 774571, 4107181; 774624, 4107185; 774644, 4107178; 774688, 4107162; 774730, 4107128; 774749, 4107108; 774795, 4107079; 774835, 4107052; 774846, 4107045; 774850, 4107042; 774860, 4107038; 774885, 4106988; 774910, 4106826; 774924, 4106643; 774919, 4106604; 774912, 4106536; 774917, 4106473; 774975, 4106381; 774999, 4106361; 775134, 4106205; 775285, 4106081; 775406, 4105942; 775604, 4105742; 775620, 4105713; 775682, 4105659; 775765, 4105623; 775948, 4105456; 775999, 4105450; 776120, 4105477; 776212, 4105561; 776272, 4105591; 776338, 4105583; 776404, 4105519; 776449, 4105460; 776460, 4105422; 776461, 4105333; 776454, 4105310; 776453, 4105259; 776440, 4105190; 776403, 4105067; 776342, 4104912; 776338, 4104874; 776344, 4104834; 776389, 4104794; 776390, 4104794; 776511, 4104930; 776669, 4105060; 776888, 4105057; 777034, 4105112; 777089, 4105117; 777174, 4105104; 777227, 4105114; 777322, 4105160; 777452, 4105307; 777505, 4105311; 777525, 4105303; 777569, 4105287; 777611, 4105253; 777630, 4105233; 777676, 4105204; 777716, 4105178; 777254, 4104608; 776860, 4104161; 777386, 4103739; 777417, 4103722; 777478, 4103724; 777556, 4103747; 777592, 4103745; 777628, 4103729; 777649, 4103704; 777655, 4103686; 777652, 4103610; 777595, 4103484; 777574, 4103361; 777542, 4103322; 777483, 4103277; 777424, 4103214; 777425, 4103166; 777452, 4103116; 777471, 4103096; 777503, 4103036; 777500, 4102977; 777455, 4102796; 777458, 4102704; 777472, 4102666; 777490, 4102639; 777701, 4102491; 777761, 4102460; 777902, 4102427; 778037, 4102384; 778066, 4102347; 778094, 4102274; 778118, 4102255; 778167, 4102239; 778212, 4102243; 778340, 4102295; 778379, 4102282; 778505, 4102141; 778562, 4102125; 778633, 4102132; 778720, 4102092; 778766, 4102096; 778798, 4102120; 778918, 4102254; 778976, 4102268; 778997, 4102264; 779059, 4102223; 779095, 4102209; 779762, 4102193; 779897, 4102172; 780079, 4102219; 780132, 4102236; 780185, 4102235; 780236, 4102217; 780360, 4102089; 780617, 4101823; 780666, 4101774; 780673, 4101764; 780682, 4101751; 780688, 4101743; 780713, 4101714; 780759, 4101634; 780761, 4101576; 780738, 4101514; 780687, 4101446; 780591, 4101336; 780514, 4101212; 780513, 4101163; 780527, 4101126; 780569, 4101089; 780939, 4100827; 781071, 4100686; 781076, 4100683; 781136, 4100645; 781561, 4100454; 781645, 4100459; 781800, 4100538; 781863, 4100561; 781925, 4100540; 781944, 4100528; 782075, 4100451; 782128, 4100455; 782347, 4100528; 782403, 4100533; 782429, 4100521; 782457, 4100499; 782535, 4100382; 782587, 4100338; 782809, 4100244; 782840, 4100222; 782884, 4100193; 782929, 4100075; 783072, 4099907; 783203, 4099779; 783268, 4099756; 783377, 4099744; 783662, 4099749; 783703, 4099735; 783743, 4099676; 783751, 4099641; 783755, 4099621; 783767, 4099609; 783768, 4099584; 783781, 4099548; 783795, 4099504; 783827, 4099471; 783858, 4099445; 783890, 4099424; 783916, 4099399; 783946, 4099382; 784056, 4099380; 784184, 4099372; 784246, 4099369; 784263, 4099375; 784300, 4099370; 784342, 4099377; 784378, 4099391; 784414, 4099405; 784438, 4099417; 784462, 4099430; 784493, 4099442; 784516, 4099445; 784536, 4099439; 784561, 4099422; 784574, 4099398; 784593, 4099356; 784601, 4099324; 784620, 4099288; 784627, 4099259; 784651, 4099241; 784652, 4099240; 784671, 4099217; 784701, 4099206; 784733, 4099188; 784758, 4099176; 784776, 4099164; 784801, 4099153; 784820, 4099143; 784845, 4099124; 784876, 4099102; 784907, 4099085; 784944, 4099056; 784970, 4099032; 784995, 4099006; 785020, 4098984; 785040, 4098960; 785046, 4098935; 785059, 4098917; 785060, 4098888; 785073, 4098858; 785074, 4098834; 785068, 4098801; 785061, 4098785; 785052, 4098764; 785041, 4098739; 785024, 4098708; 785006, 4098676; 784995, 4098640; 784978, 4098615; 784967, 4098591; 784960, 4098572; 784968, 4098548; 784993, 4098525; 785024, 4098508; 785062, 4098476; 785086, 4098473; 785117, 4098442; 785130, 4098431; 785143, 4098395; 785152, 4098345; 785159, 4098279; 785168, 4098231; 785176, 4098163; 785184, 4098120; 785184, 4098108; 785204, 4098054; 785220, 4097988; 785238, 4097931; 785246, 4097885; 785247, 4097853; 785237, 4097805; 785216, 4097736; 785199, 4097682; 785188, 4097625; 785182, 4097596; 785190, 4097576; 785209, 4097535; 785235, 4097499; 785266, 4097451; 785286, 4097422; 785312, 4097385; 785325, 4097349; 785320, 4097300; 785329, 4097245; 785330, 4097202; 785337, 4097165; 785350, 4097153; 785362, 4097142; 785387, 4097137; 785386, 4097154; 785380, 4097178; 785336, 4098764; 785334, 4098821; 785334, 4098823; 785383, 4098760; 785490, 4097063; 786070, 4097400; 786769, 4097444; 786801, 4096945; 786601, 4096933; 786208, 4096807; 786246, 4096208; 786258, 4096009; 785453, 4095958; 784661, 4095908; 784661, 4095908; 784662, 4095507; 784662, 4094305; 784677, 4094305; 785061, 4094330; 785101, 4094332; 787557, 4094487; 787582, 4094088; 787609, 4093989; 787714, 4093594; 787976, 4092609; 787920, 4092305; 787895, 4092303; 787795, 4092297; 787821, 4091898; 787846, 4091900; 787827, 4091798; 785606, 4090455; 785662, 4091161; 785962, 4091179; 785955, 4091279; 786355, 4091304; 786336, 4091604; 786835, 4091635; 786785, 4092434; 785587, 4092359; 785561, 4092758; 785961, 4092783; 785936, 4093182; 785536, 4093157; 785524, 4093357; 785324, 4093344; 784925, 4093319; 784725, 4093306; 784687, 4093905; 784687, 4093905; 784681, 4094005; 780582, 4093847; 779783, 4093796; 776583, 4093695; 776463, 4095591; 776657, 4095704; 778160, 4095698; 778053, 4097395; 778858, 4097346; 778857, 4098949; 779656, 4099000; 779555, 4100597; 776348, 4100594; 776551, 4095797; 776451, 4095791; 773656, 4095615; 771760, 4095495; 771697, 4096493; 771652, 4098795; 773554, 4098815; 773553, 4100418; 769954, 4100291; 769935, 4100590; 771238, 4102176; 772086, 4103031; 772447, 4103655; 772896, 4104485; 772484, 4104659; 772378, 4104753; 772353, 4104745; 771985, 4104628; 771811, 4104431; 771798, 4104416; 771829, 4103917; 771642, 4103705; 771549, 4103598; 771449, 4103592; 771396, 4104436; 771392, 4104490; 771386, 4104590; 771685, 4104609; 770687, 4104546; 770599, 4105943; 768996, 4105942; 768945, 4106741; 766679, 4106696; 766679, 4106696; 766674, 4106696; 766674, 4106696; 766647, 4107100; 766654, 4108020; 766655, 4108063; 766764, 4108105; 766868, 4108114; 766916, 4108115; 766952, 4108116; 766969, 4108117; 767030, 4108139; 767056, 4108159; 767077, 4108174; 767121, 4108207; 767181, 4108251; 767272, 4108279; 767327, 4108281; 767379, 4108260; 767397, 4108238; 767442, 4108033; 767466, 4107846; 767496, 4107799; 767643, 4107646; 767657, 4107605; 767661, 4107533; 767663, 4107481; 767684, 4107415; 767700, 4107360; returning to 768068, 4107230.

(iii) Unit 3C: Madera County, California. From USGS 1:24,000 topographic quadrangle Lanes Bridge. Land bounded by the following UTM Zone 10, NAD 83 coordinates (E,N): 782261, 4092650; 782311, 4091851; 781014, 4091769; 781039, 4091370; 780839, 4091358; 780864, 4090958; 781463, 4090996; 781507, 4090298; 780310, 4090222; 780284, 4090621; 779885, 4090596; 779859, 4092599; 780458, 4092637; 780496, 4092038; 780889, 4092162; 781182, 4092281; 781575, 4092406; 781868, 4092525; 782161, 4092643; returning to 782261, 4092650.

(iv) Note: Unit 3 (Map 3) follows:

BILLING CODE 4310-55-P

BILLING CODE 4310-55-C

(9) Unit 4: Fresno County, California. From USGS 1:24,000 topographic quadrangle Friant. Land bounded by the following UTM Zone 10, NAD 83 coordinates (E,N): 796160, 4093099; 796575, 4092951; 797274, 4092995; 797274, 4092995; 797318, 4092296; 797436, 4092003; 797168, 4091485; 796875, 4091366; 796301, 4090929; 796262, 4090975; 796072, 4091876; 796159, 4092137; 796200, 4092206; 796282, 4092261; 796330, 4092663; returning to 796160, 4093099.

(10) Unit 5: Madera County, California.

(i) Unit 5A: Madera County, California. From USGS 1:24,000 topographic quadrangles North Fork and Millerton Lake East. Land bounded by the following UTM Zone 10, NAD 83 coordinates (E,N): 804045, 4111166; 804569, 4110798; 804807, 4110212; 804938, 4109719; 804571, 4109194; 803572, 4109131; 803260, 4109312; 803222, 4109911; 803359, 4110922; 802579, 4110572; 802254, 4110952; 801755, 4110921; 801473, 4112206; 801947, 4112637; 802009, 4113242; 801391, 4113504; 801578, 4113716; 801627, 4114521; 801820, 4114634; 803618, 4114748; 803836, 4114461; 803787, 4113656; 802720, 4113087; 802839, 4112794; 803158, 4112513; 803788, 4112052; returning to 804045, 4111166.

(ii) Unit 5B: Fresno County, California. From USGS 1:24,000 topographic quadrangles Millerton Lake East and Academy. Land bounded by the following UTM Zone 10, NAD 83 coordinates (E,N): 802663, 4106066; 803207, 4105399; 803781, 4105836; 803880, 4105842; 804343, 4104869; 804150, 4104757; 803962, 4104544; 803981, 4104245; 804206, 4103858; 804331, 4103465; 804238, 4103359; 803957, 4103040; 803171, 4102790; 802073, 4102721; 801886, 4102509; 801898, 4102309; 802217, 4102028; 802435, 4101741; 802554, 4101448; 802573, 4101149; 802511, 4100543; 802424, 4100337; 802343, 4100031; 802056, 4099812; 801769, 4099594; 801276, 4099463; 800877, 4099437; 800958, 4099743; 801712, 4100492; 801987, 4100911; 801974, 4101110; 801862, 4101304; 801218, 4101965; 801187, 4102464; 801455, 4102983; 801816, 4103607; 802316, 4103638; 802834, 4103370; 803333, 4103402; 803520, 4103614; 803607, 4103820; 803264, 4104500; 802852, 4104675; 802227, 4105036; 802264, 4106041; returning to 802663, 4106066.

(iii) Note: Units 4-5 (Map 4) follow:

BILLING CODE 4310-55-P

BILLING CODE 4310-55-C

(11) Unit 6: Tulare County, California.

(i) Unit 6A: Tulare County, California. From USGS 1:24,000 topographic quadrangle Monson. Land bounded by the following UTM Zone 10, NAD 83 coordinates (E,N): 829566, 4043288; 829884, 4043007; 830383, 4043038; 830427, 4042339; 830827, 4042364; 830833, 4042264; 832028, 4042339; 832069, 4040937; 832106, 4039535; 832038, 4039531; 831991, 4039595; 831752, 4039679; 831748, 4039853; 832035, 4039864; 832031, 4039913; 831542, 4039901; 831281, 4039895; 831228, 4039894; 831226, 4040265; 830457, 4040256; 830432, 4040256; 830449, 4039621; 830453, 4039463; 830420, 4039230; 829721, 4039186; 829521, 4039174; 829509, 4039374; 828304, 4039399; 828279, 4039798; 827580, 4039755; 827605, 4039355; 827205, 4039330; 827280, 4038132; 826381, 4038076; 826400, 4037776; 825601, 4037726; 825582, 4038026; 824877, 4038082; 824846, 4038582; 826344, 4038675; 826313, 4039175; 825507, 4039225; 825445, 4040223; 827043, 4040323; 827100, 4041028; 828797, 4041134; 828810, 4040935; 829509, 4040978; 829634, 4040585; 830433, 4040634; 830383, 4041434; 829578, 4041484; returning to 829566, 4043288.

(ii) Unit 6B: Tulare County, California. From USGS 1:24,000 topographic quadrangle Monson. Land bounded by the following UTM Zone 10, NAD 83 coordinates (E,N): 831258, 4037878; 830508, 4037831; 830507, 4037837; 830510, 4037837; 830495, 4038113; 830867, 4038116; 831249, 4038123; returning to 831258, 4037878.

(iii) Unit 6C: Tulare County, California. From USGS 1:24,000 topographic quadrangle Ivanhoe. Land bounded by the following UTM Zone 10, NAD 83 coordinates (E,N): 846274, 4048743; 846905, 4048281; 849003, 4048412; 849427, 4048037; 850027, 4048075; 850345, 4047794; 850370, 4047394; 849889, 4047064; 848453, 4045971; 848490, 4045371; 848103, 4045146; 848122, 4044847; 847922, 4044834; 847928, 4044734; 847529, 4044710; 847547, 4044410; 847454, 4044303; 847466, 4044104; 847266, 4044091; 846867, 4044066; 846892, 4043667; 846492, 4043642; 846517, 4043242; 845718, 4043192; 845630, 4042986; 845530, 4042980; 845568, 4042381; 845768, 4042393; 845780, 4042193; 845980, 4042206; 845942, 4042805; 846342, 4042830; 846348, 4042730; 846454, 4042637; 846367, 4042431; 846567, 4042443; 846579, 4042243; 846379, 4042230; 846392, 4042031; 846792, 4042056; 846816, 4041656; 846417, 4041631; 846404, 4041831; 845805, 4041794; 845811, 4041694; 845911, 4041700; 845917, 4041600; 845817, 4041594; 845830, 4041394; 846030, 4041406; 846036, 4041306; 846213, 4041318; 846179, 4040614; 846079, 4040607; 846104, 4040207; 846729, 4039845; 846841, 4039652; 846541, 4039633; 846585, 4038933; 846485, 4038927; 846491, 4038827; 846597, 4038734; 846410, 4038521; 846104, 4038603; 845898, 4038690; 845973, 4039096; 845861, 4039290; 845836, 4039689; 845524, 4039871; 845305, 4040158; 845193, 4040351; 845180, 4040551; 844949, 4041038; 844612, 4041619; 844787, 4042031; 844325, 4043005; 844319, 4043105; 844413, 4043211; 844612, 4043224; 844806, 4043336; 844700, 4043430; 844625, 4044628; 845605, 4044991; 845974, 4045515; 845624, 4046296; 845025, 4046258; 844494, 4046726; 844457, 4047326; 844988, 4048463; 845038, 4049268; 845425, 4049493; returning to 846274, 4048743.

(iv) Unit 6D: Tulare County, California. From USGS 1:24,000 topographic quadrangle Woodlake. Land bounded by the following UTM Zone 10, NAD 83 coordinates (E,N): 850239, 4044678; 850251, 4044478; 850851, 4044515; 851075, 4044128; 850701, 4043704; 851300, 4043741; 851506, 4043654; 851737, 4043166; 852237, 4043198; 852468, 4042711; 852487, 4042411; 851725, 4041761; 851837, 4041568; 852636, 4041618; 852824, 4041830; 853223, 4041855; 853835, 4041693; 854197, 4040712; 854210, 4040512; 853754, 4039782; 851949, 4039769; 851231, 4040025; 850625, 4040088; 850619, 4040188; 850819, 4040201; 850769, 4041000; 850269, 4040969; 850282, 4040769; 850082, 4040756; 849895, 4040544; 849795, 4040538; 849820, 4040138; 849120, 4040095; 849108, 4040294; 849308, 4040307; 849295, 4040507; 848889, 4040582; 848908, 4040282; 848814, 4040176; 848821, 4040076; 848321, 4040045; 848227, 4039939; 848121, 4040032; 848071, 4040832; 848371, 4040850; 848321, 4041649; 848521, 4041662; 848502, 4041962; 848203, 4041943; 848196, 4042043; 848278, 4042349; 848065, 4042536; 847466, 4042499; 847516, 4043304; 847716, 4043317; 847728, 4043117; 848128, 4043142; 848147, 4042842; 848446, 4042861; 848421, 4043261; 848821, 4043286; 848796, 4043685; 849096, 4043704; 849090, 4043804; 849190, 4043810; 849177, 4044010; 849271, 4044116; 849571, 4044135; 849546, 4044534; 849346, 4044522; 849140, 4044609; 849215, 4045015; 849215, 4045015; 849571, 4045739; 850151, 4046077; 850451, 4046096; 851082, 4045633; 851194, 4045440; 850638, 4044703; returning to 850239, 4044678.

(v) Note: Unit 6 (Map 5) follows:

BILLING CODE 4310-55-P

BILLING CODE 4310-55-C

Family Poaceae: Orcuttia pilosa (Hairy Orcutt Grass)

(1) Critical habitat units are depicted for Butte, Fresno, Madera, Mariposa, Merced, Stanislaus, and Tehama Counties, California, on the maps below.

(2) The primary constituent elements of critical habitat for Orcuttia pilosa (hairy Orcutt grass) are the habitat components that provide:

(i) Topographic features characterized by isolated mound and intermound complex within a matrix of surrounding uplands that result in continuously, or intermittently, flowing surface water in the depressional features including swales connecting the pools described in paragraph (2)(ii) of this section, providing for dispersal and promoting hydroperiods of adequate length in the pools; and

(ii) Depressional features including isolated vernal pools with underlying restrictive soil layers that become inundated during winter rains and that continuously hold water or whose soils are saturated for a period long enough to promote germination, flowering, and seed production of predominantly annual native wetland species and typically exclude both native and nonnative upland plant species in all but the driest years. As these features are inundated on a seasonal basis, they do not promote the development of obligate wetland vegetation habitats typical of permanently flooded emergent wetlands.

(3) Existing manmade features and structures, such as buildings, roads, railroads, airports, runways, other paved areas, lawns, and other urban landscaped areas do not contain one or more of the primary constituent elements. Federal actions limited to those areas, therefore, would not trigger a consultation under section 7 of the Act unless they may affect the species and/or primary constituent elements in adjacent critical habitat.

(4) Unit 1: Tehama County, California. From USGS 1:24,000 topographic quadrangles Acorn Hollow and Richardson Springs NW. Land bounded by the following UTM Zone 10, NAD 83 coordinates (E,N): 588213, 4426583; 588739, 4429822; 588900, 4429500; 589500, 4429500; 589500, 4428600; 589500, 4428000; 589800, 4427100; 590500, 4426400; 590500, 4425300; 591200, 4424400; 591500, 4423300; 591562, 4422558; 590526, 4423686; 589986, 4424273; 589816, 4424458; 589129, 4425207; 588454, 4426221; 588425, 4426265; 588279, 4426485; returning to 588213, 4426583.

(5) Note: Unit 1 (Map 1) follows:

BILLING CODE 4310-55-P

BILLING CODE 4310-55-C

(6) Unit 2: Butte County, California. From USGS 1:24,000 topographic quadrangle Hamlin Canyon. Land bounded by the following UTM Zone 10, NAD 83 coordinates (E,N): 609736, 4389313; 609200, 4389800; 609145, 4389965; 609391, 4389694; 609721, 4389330; returning to 609736, 4389313.

(7) Note: Unit 2 (Map 2) follows:

BILLING CODE 4310-55-P

BILLING CODE 4310-55-C

(8) Unit 4: Merced, Mariposa, and Stanislaus Counties, California.

(i) Unit 4A: Merced, Mariposa, and Stanislaus Counties, California. From USGS 1:24,000 topographic quadrangles Paulsell, Cooperstown, Le Grange, Montpelier, Turlock Lake, Snelling, and Merced Falls. Land bounded by the following UTM Zone 10, NAD 83 coordinates (E,N): 725100, 4167900; 725300, 4167200; 726200, 4167100; 726500, 4166800; 726500, 4166600; 726727, 4166429; 727300, 4166000; 727700, 4165800; 729000, 4165800; 730100, 4165400; 730400, 4165100; 730500, 4164900; 730700, 4164100; 731300, 4164100; 731700, 4163800; 731800, 4163400; 732200, 4162800; 732200, 4162500; 732700, 4162700; 733000, 4162600; 733600, 4162100; 733700, 4161500; 733600, 4161000; 734600, 4160400; 734727, 4160273; 734800, 4160200; 734800, 4160135; 734800, 4159500; 734400, 4158700; 734300, 4158100; 734500, 4157900; 734700, 4158000; 734900, 4158300; 735000, 4158800; 735500, 4158800; 735505, 4158795; 735700, 4158600; 735674, 4158472; 735600, 4158100; 736171, 4157529; 736200, 4157500; 736800, 4157300; 736900, 4157100; 736900, 4156500; 736712, 4156500; 736300, 4156500; 736000, 4156300; 735500, 4156300; 734100, 4156900; 733400, 4157100; 731700, 4156900; 730900, 4156500; 728900, 4156600; 728700, 4156700; 728700, 4156800; 728600, 4156900; 728300, 4156900; 728100, 4156800; 727900, 4156800; 727100, 4156800; 726900, 4156600; 726700, 4156500; 726300, 4156500; 726100, 4156600; 725800, 4156500; 725600, 4156400; 725500, 4156300; 725400, 4156200; 725100, 4156100; 725000, 4156000; 724900, 4156000; 724800, 4156100; 724300, 4156100; 724300, 4155700; 723800, 4155700; 723900, 4155300; 723300, 4155400; 722700, 4155100; 722700, 4155400; 722300, 4155400; 722300, 4156800; 722900, 4156800; 722900, 4157400; 723500, 4157400; 723500, 4157000; 723700, 4157000; 723700, 4156900; 724300, 4156900; 724300, 4157400; 724200, 4157400; 724200, 4157400; 724100, 4158200; 723800, 4158200; 723700, 4159000; 722500, 4159000; 722500, 4159200; 722400, 4159200; 722300, 4159300; 722200, 4159300; 721600, 4159300; 721600, 4159500; 721500, 4159600; 721500, 4159800; 721600, 4159800; 721600, 4159900; 721700, 4159900; 721700, 4160500; 721100, 4160500; 721100, 4160100; 720800, 4160100; 720800, 4160500; 719500, 4160500; 719500, 4160300; 720000, 4159600; 719600, 4159600; 719600, 4159500; 719500, 4159500; 719400, 4159500; 719300, 4159400; 719100, 4159400; 719000, 4159400; 718900, 4159300; 718700, 4159100; 718600, 4159000; 718600, 4158900; 718400, 4158900; 718200, 4158800; 718200, 4158700; 718300, 4158600; 718400, 4158500; 718500, 4158500; 718600, 4158400; 718700, 4158400; 718900, 4158300; 719000, 4158100; 719000, 4157900; 718700, 4157600; 718000, 4157700; 717800, 4157400; 717900, 4157200; 718000, 4157000; 718400, 4157300; 718700, 4156700; 718700, 4156300; 717500, 4156300; 717500, 4156700; 717100, 4156700; 717100, 4156300; 716600, 4156300; 716600, 4155800; 716300, 4155700; 716200, 4155000; 715900, 4154900; 715900, 4155100; 715800, 4155200; 715800, 4155300; 715700, 4155400; 715600, 4155700; 715500, 4155800; 715400, 4155800; 715300, 4156600; 715400, 4156600; 715400, 4157200; 715400, 4157400; 715500, 4157400; 715500, 4157600; 717600, 4157600; 717600, 4159700; 718100, 4160200; 718200, 4160500; 718400, 4160800; 718700, 4161100; 716800, 4161100; 716800, 4160400; 715253, 4160400; 714900, 4160400; 714900, 4160900; 715000, 4160900; 715000, 4161000; 715200, 4161000; 715200, 4161100; 714400, 4161100; 714400, 4161200; 713700, 4161200; 713700, 4161100; 713300, 4161100; 713200, 4161200; 713100, 4161100; 713100, 4161000; 713400, 4160700; 713400, 4160600; 713600, 4160500; 713800, 4160800; 713900, 4160800; 714000, 4160700; 714000, 4160400; 711133, 4160301; 711100, 4161900; 709500, 4161900; 709500, 4163500; 707900, 4163500; 707900, 4163100; 707000, 4163100; 707000, 4165600; 707400, 4165600; 707400, 4165800; 706700, 4166100; 706500, 4165800; 706200, 4166000; 706300, 4166300; 706200, 4166400; 706200, 4166500; 706300, 4166500; 706300, 4166700; 706200, 4166700; 706200, 4167100; 706500, 4167100; 706700, 4166700; 706800, 4166700; 706800, 4166300; 707000, 4166300; 707000, 4166100; 707200, 4166100; 707200, 4166700; 707400, 4166700; 707800, 4166000; 707800, 4165600; 708000, 4165800; 708200, 4165800; 708400, 4165700; 708400, 4165500; 708200, 4165400; 708200, 4165300; 708300, 4165200; 708400, 4165200; 708500, 4165300; 708600, 4165400; 708800, 4165400; 709100, 4165100; 710200, 4165100; 710200, 4166400; 710100, 4166400; 710100, 4166500; 710000, 4166500; 709900, 4166500; 709900, 4166700; 709800, 4166700; 709800, 4167100; 710200, 4166800; 711000, 4167600; 711600, 4167800; 712400, 4167800; 712400, 4167300; 712900, 4167300; 712900, 4167200; 712600, 4166900; 711800, 4167000; 711600, 4166800; 711600, 4166600; 711800, 4166500; 711800, 4166600; 711900, 4166600; 712000, 4166300; 712100, 4166500; 712200, 4166500; 712300, 4166400; 712500, 4166400; 712500, 4166200; 712700, 4166200; 712700, 4166300; 712800, 4166300; 713000, 4166100; 712923, 4166062; 712800, 4166000; 712700, 4165800; 712500, 4165800; 712500, 4165600; 712700, 4165600; 712600, 4165400; 712400, 4165500; 712300, 4165400; 712500, 4165300; 712500, 4165200; 712400, 4165100; 712600, 4165100; 712600, 4165000; 712600, 4164900; 712700, 4164800; 712600, 4164700; 712500, 4164800; 712400, 4164800; 712400, 4164300; 712800, 4164500; 713100, 4164300; 713200, 4164100; 712900, 4163800; 712900, 4163700; 713100, 4163800; 713500, 4164000; 713600, 4164000; 713600, 4164100; 713700, 4164300; 714200, 4164300; 714400, 4164500; 714500, 4164800; 714600, 4164800; 714800, 4164700; 714800, 4164200; 714400, 4164000; 714400, 4163600; 714500, 4163500; 715200, 4164000; 715300, 4164200; 715400, 4164200; 715300, 4163900; 715100, 4163700; 715000, 4163500; 714800, 4163300; 714900, 4163200; 715000, 4163200; 715700, 4163200; 715900, 4163100; 716000, 4162900; 716100, 4162800; 716200, 4162800; 716300, 4162900; 716400, 4163000; 716500, 4163100; 716600, 4163200; 716600, 4163500; 716500, 4163600; 716500, 4163800; 716600, 4164100; 716800, 4164500; 716700, 4164900; 716800, 4165300; 717200, 4165800; 717200, 4166100; 717000, 4166400; 716600, 4166400; 716400, 4166300; 716400, 4166900; 716600, 4166900; 716800, 4167100; 716800, 4167300; 717000, 4167400; 717500, 4167400; 718100, 4167300; 718500, 4167100; 718600, 4166600; 718700, 4166400; 719100, 4166700; 719300, 4166800; 719500, 4166800; 719500, 4166500; 719600, 4166400; 719600, 4166100; 719800, 4166100; 719900, 4166300; 719900, 4166200; 720700, 4166200; 720700, 4163700; 721533, 4163700; 721700, 4163700; 722400, 4164100; 722400, 4164155; 722400, 4165300; 722200, 4165300; 722200, 4165400; 721500, 4165400; 721500, 4166100; 721000, 4166300; 720700, 4166500; 720900, 4166600; 721000, 4166700; 721100, 4166900; 721000, 4167000; 720300, 4167000; 720100, 4166900; 720200, 4166700; 720200, 4166600; 720100, 4166500; 720000, 4166500; 719800, 4166800; 719500, 4167400; 719500, 4167600; 719700, 4167800; 720500, 4167800; 720700, 4167700; 720900, 4167500; 721100, 4167400; 721300, 4167700; 721700, 4167700; 722000, 4167600; 722500, 4167600; 722900, 4167500; 723300, 4167400; 723000, 4168400; 723000, 4169200; 723300, 4169700; 723800, 4169800; 724100, 4169800; 724600, 4169200; 724700, 4168300; returning to 725100, 4167900.

(ii) Unit 4B: Stanislaus County, California. From USGS 1:24,000 topographic quadrangles Paulsell and Montpelier. Land bounded by the following UTM Zone 10, NAD 83 coordinates (E,N): 704200, 4166200; 704000, 4166200; 703800, 4166400; 703400, 4166600; 703400, 4166800; 703500, 4166800; 703600, 4166900; 703700, 4167000; 703700, 4167200; 704600, 4167600; 704700, 4167600; 704800, 4167500; 705000, 4167400; 705300, 4167400; 705300, 4166400; 705000, 4166300; 704400, 4166300; returning to 704200, 4166200.

(iii) Unit 4C: Merced County, California. From USGS 1:24,000 topographic quadrangle Turlock Lake. Land bounded by the following UTM Zone 10, NAD 83 coordinates (E,N): 713800, 4155400; 712600, 4155200; 712600, 4156800; 712900, 4156800; 712900, 4157100; 714800, 4157200; 714800, 4156800; 714300, 4156300; 714200, 4156200; 714000, 4155500; 714000, 4155400; returning to 713800, 4155400.

(iv) Note: Unit 4 (Map 3) follows:

BILLING CODE 4310-55-P

BILLING CODE 4310-55-C

(9) Unit 5: Madera County, California.

(i) Unit 5A: Madera County, California. From USGS 1:24,000 topographic quadrangle Daulton. Land bounded by the following UTM Zone 10, NAD 83 coordinates (E,N): 767397, 4108238; 767442, 4108033; 767466, 4107846; 767496, 4107799; 767643, 4107646; 767657, 4107605; 767661, 4107533; 767663, 4107481; 767684, 4107415; 767700, 4107360; 768068, 4107230; 768482, 4107223; 768510, 4107237; 768558, 4107312; 768603, 4107420; 768625, 4107444; 768663, 4107460; 768783, 4107434; 768930, 4107375; 769050, 4107290; 769225, 4107285; 769259, 4107274; 769313, 4107237; 769329, 4107230; 769367, 4107213; 769443, 4107216; 769756, 4107290; 770235, 4107165; 770356, 4107136; 771175, 4107264; 771213, 4107261; 771255, 4107237; 771273, 4107227; 771286, 4107215; 771517, 4107059; 771528, 4107056; 771815, 4106993; 772201, 4106696; 772325, 4106560; 772378, 4106500; 772399, 4106384; 772498, 4106310; 772661, 4106375; 772759, 4106385; 772826, 4106355; 772868, 4106337; 772940, 4106262; 773047, 4106226; 773125, 4106234; 773232, 4106319; 773424, 4106582; 773448, 4106601; 773630, 4106805; 773788, 4106934; 774007, 4106931; 774153, 4106987; 774208, 4106991; 774293, 4106979; 774346, 4106988; 774441, 4107034; 774571, 4107181; 774624, 4107185; 774644, 4107178; 774688, 4107162; 774730, 4107128; 774749, 4107108; 774795, 4107079; 774835, 4107052; 774373, 4106482; 772896, 4104485; 772484, 4104659; 772378, 4104753; 772353, 4104745; 772066, 4104933; 772066, 4104934; 772066, 4104934; 771685, 4104609; 770687, 4104546; 770599, 4105943; 770592, 4106043; 770430, 4107035; 769419, 4107171; 769213, 4107259; 768315, 4107202; 767710, 4107264; 767247, 4108236; 767077, 4108174; 767121, 4108207; 767181, 4108251; 767272, 4108279; 767327, 4108281; 767379, 4108260; returning to 767397, 4108238.

(ii) Unit 5B: Madera County, California. From USGS 1:24,000 topographic quadrangle Daulton. Land bounded by the following UTM Zone 10, NAD 83 coordinates (E,N): 766916, 4108115; 766654, 4108020; 766655, 4108063; 766764, 4108105; 766868, 4108114; returning to 766916, 4108115.

(10) Unit 6: Madera County, California. From USGS 1:24,000 topographic quadrangles Daulton, Little Table Mountain, Gregg, and Lanes Bridge. Land bounded by the following UTM Zone 10, NAD 83 coordinates (E,N):775948, 4105456; 775999, 4105450; 776120, 4105477; 776212, 4105561; 776272, 4105591; 776338, 4105583; 776404, 4105519; 776449, 4105460; 776460, 4105422; 776461, 4105333; 776454, 4105310; 776453, 4105259; 776440, 4105190; 776403, 4105067; 776342, 4104912; 776338, 4104874; 776344, 4104834; 776389, 4104794; 776390, 4104794; 776511, 4104930; 776669, 4105060; 776888, 4105057; 777034, 4105112; 777089, 4105117; 777174, 4105104; 777227, 4105114; 777322, 4105160; 777452, 4105307; 777505, 4105311; 777525, 4105303; 777569, 4105287; 777611, 4105253; 777630, 4105233; 777676, 4105204; 777716, 4105178; 777254, 4104608; 776860, 4104161; 777386, 4103739; 777417, 4103722; 777478, 4103724; 777556, 4103747; 777592, 4103745; 777628, 4103729; 777649, 4103704; 777655, 4103686; 777652, 4103610; 777595, 4103484; 777574, 4103361; 777542, 4103322; 777483, 4103277; 777424, 4103214; 777425, 4103166; 777452, 4103116; 777471, 4103096; 777503, 4103036; 777500, 4102977; 777455, 4102796; 777458, 4102704; 777472, 4102666; 777490, 4102639; 777701, 4102491; 777761, 4102460; 777902, 4102427; 778037, 4102384; 778066, 4102347; 778094, 4102274; 778118, 4102255; 778167, 4102239; 778212, 4102243; 778340, 4102295; 778379, 4102282; 778505, 4102141; 778562, 4102125; 778633, 4102132; 778720, 4102092; 778766, 4102096; 778798, 4102120; 778918, 4102254; 778976, 4102268; 778997, 4102264; 779059, 4102223; 779095, 4102209; 779762, 4102193; 779897, 4102172; 780079, 4102219; 780132, 4102236; 780185, 4102235; 780236, 4102217; 780360, 4102089; 780617, 4101823; 780666, 4101774; 780673, 4101764; 780682, 4101751; 780688, 4101743; 780713, 4101714; 780759, 4101634; 780761, 4101576; 780738, 4101514; 780687, 4101446; 780591, 4101336; 780514, 4101212; 780513, 4101163; 780527, 4101126; 780569, 4101089; 780939, 4100827; 781071, 4100686; 781076, 4100683; 781136, 4100645; 781561, 4100454; 781645, 4100459; 781800, 4100538; 781863, 4100561; 781925, 4100540; 781944, 4100528; 782075, 4100451; 782128, 4100455; 782347, 4100528; 782403, 4100533; 782429, 4100521; 782457, 4100499; 782535, 4100382; 782587, 4100338; 782809, 4100244; 782840, 4100222; 782884, 4100193; 782929, 4100075; 783072, 4099907; 783203, 4099779; 783268, 4099756; 783377, 4099744; 783662, 4099749; 783703, 4099735; 783743, 4099676; 783751, 4099641; 783755, 4099621; 783767, 4099609; 783768, 4099584; 783781, 4099548; 783795, 4099504; 783827, 4099471; 783858, 4099445; 783890, 4099424; 783916, 4099399; 783946, 4099382; 784056, 4099380; 784184, 4099372; 784246, 4099369; 784263, 4099375; 784300, 4099370; 784342, 4099377; 784378, 4099391; 784414, 4099405; 784438, 4099417; 784462, 4099430; 784493, 4099442; 784516, 4099445; 784536, 4099439; 784561, 4099422; 784574, 4099398; 784593, 4099356; 784601, 4099324; 784620, 4099288; 784627, 4099259; 784651, 4099241; 784678, 4098816; 785061, 4098785; 785052, 4098764; 785041, 4098739; 785024, 4098708; 785006, 4098676; 784995, 4098640; 784978, 4098615; 784967, 4098591; 784960, 4098572; 784968, 4098548; 784993, 4098525; 785024, 4098508; 785062, 4098476; 785086, 4098473; 785117, 4098442; 785130, 4098431; 785143, 4098395; 785152, 4098345; 785159, 4098279; 785168, 4098231; 785176, 4098163; 785184, 4098120; 785184, 4098108; 785204, 4098054; 785220, 4097988; 785238, 4097931; 785246, 4097885; 785247, 4097853; 785237, 4097805; 785216, 4097736; 785199, 4097682; 785188, 4097625; 785182, 4097596; 785190, 4097576; 785209, 4097535; 785235, 4097499; 785266, 4097451; 785286, 4097422; 785312, 4097385; 785325, 4097349; 785320, 4097300; 785329, 4097245; 785330, 4097202; 785337, 4097165; 785350, 4097153; 785362, 4097142; 785387, 4097137; 785386, 4097154; 785380, 4097178; 785336, 4098764; 785383, 4098760; 785383, 4098760; 785490, 4097063; 786070, 4097400; 786769, 4097444; 786932, 4096452; 786601, 4096933; 786208, 4096807; 786246, 4096208; 786258, 4096009; 785453, 4095958; 784661, 4095908; 784661, 4095908; 784662, 4095507; 784662, 4094305; 784677, 4094305; 785061, 4094330; 785101, 4094332; 787557, 4094487; 787582, 4094088; 787610, 4093989; 787745, 4093495; 788053, 4092376; 787995, 4092310; 787920, 4092305; 787895, 4092303; 787795, 4092297; 787821, 4091898; 787846, 4091900; 788178, 4091921; 788233, 4091723; 788133, 4091717; 788039, 4091611; 787952, 4091405; 787852, 4091399; 787759, 4091293; 787665, 4091186; 787578, 4090981; 787491, 4090775; 787204, 4090556; 786923, 4090238; 786025, 4090181; 786056, 4089682; 787054, 4089745; 787009, 4089307; 786993, 4089152; 786992, 4089140; 786981, 4089139; 786892, 4089134; 786795, 4089077; 786699, 4089021; 786512, 4088809; 786418, 4088703; 786319, 4088696; 786225, 4088590; 786131, 4088484; 786038, 4088378; 786044, 4088278; 785845, 4088266; 785606, 4090455; 785662, 4091161; 785962, 4091179; 785955, 4091279; 786355, 4091304; 786336, 4091604; 786835, 4091635; 786785, 4092434; 785587, 4092359; 785561, 4092758; 785961, 4092783; 785936, 4093182; 785536, 4093157; 785524, 4093357; 785324, 4093344; 784925, 4093319; 784725, 4093306; 784687, 4093905; 784687, 4093905; 784681, 4094005; 780582, 4093847; 779783, 4093796; 776583, 4093695; 776463, 4095591; 776657, 4095704; 778160, 4095698; 778053, 4097395; 778858, 4097346; 778857, 4098949; 779656, 4099000; 779555, 4100597; 776348, 4100594; 776551, 4095797; 776451, 4095791; 773656, 4095615; 771760, 4095495; 771697, 4096493; 771652, 4098795; 773554, 4098815; 773553, 4100418; 769954, 4100291; 769935, 4100590; 771238, 4102176; 772086, 4103031; 772447, 4103655; 772896, 4104485; 774373, 4106482; 774835, 4107052; 774846, 4107045; 774850, 4107042; 774860, 4107038; 774885, 4106988; 774910, 4106826; 774924, 4106643; 774919, 4106604; 774912, 4106536; 774917, 4106473; 774975, 4106381; 774999, 4106361; 775134, 4106205; 775285, 4106081; 775406, 4105942; 775604, 4105742; 775620, 4105713; 775682, 4105659; 775765, 4105623; returning to 775948, 4105456.

(11) Note: Units 5-6 (Map 4) follow:

BILLING CODE 4310-55-P

BILLING CODE 4310-55-C

Family Poaceae: Orcuttia tenuis (Slender Orcutt Grass)

(1) Critical habitat units are depicted for Lake, Lassen, Modoc, Plumas, Sacramento, Shasta, Siskiyou, and Tehama Counties, California, on the maps below.

(2) The primary constituent elements of critical habitat for Orcuttia tenuis (slender Orcutt grass) are the habitat components that provide:

(i) Topographic features characterized by isolated mound and intermound complex within a matrix of surrounding uplands that result in continuously, or intermittently, flowing surface water in the depressional features including swales connecting the pools described in paragraph (2)(ii) of this section, providing for dispersal and promoting hydroperiods of adequate length in the pools; and

(ii) Depressional features including isolated vernal pools with underlying restrictive soil layers that become inundated during winter rains and that continuously hold water or whose soils are saturated for a period long enough to promote germination, flowering, and seed production of predominantly annual native wetland species and typically exclude both native and nonnative upland plant species in all but the driest years. As these features are inundated on a seasonal basis, they do not promote the development of obligate wetland vegetation habitats typical of permanently flooded emergent wetlands.

(3) Existing manmade features and structures, such as buildings, roads, railroads, airports, runways, other paved areas, lawns, and other urban landscaped areas do not contain one or more of the primary constituent elements. Federal actions limited to those areas, therefore, would not trigger a consultation under section 7 of the Act unless they may affect the species and/or primary constituent elements in adjacent critical habitat.

(4) Unit 1: Siskiyou County, California.

(i) Unit 1A: Siskiyou County, California. From USGS 1:24,000 scale quadrangle Timbered Crater. Land bounded by the following UTM Zone 10, NAD 83 coordinates (E,N): 627900, 4566000; 628000, 4565800; 628200, 4565800; 628200, 4565600; 628300, 4565200; 628000, 4565000; 627900, 4564700; 628000, 4564400; 627900, 4564200; 627900, 4564000; 627900, 4563800; 628100, 4563700; 628200, 4563600; 628100, 4563300; 628200, 4563200; 628200, 4563000; 628300, 4562900; 628600, 4562800; 628600, 4562600; 628700, 4562500; 628900, 4562300; 628900, 4562000; 628700, 4561900; 628500, 4561800; 628400, 4561800; 628100, 4561700; 628000, 4561600; 627900, 4561500; 627800, 4561400; 627600, 4561400; 627530, 4561330; 626000, 4561600; 626000, 4562200; 626200, 4562900; 625811, 4563911; 626000, 4564100; 626100, 4564300; 626200, 4564400; 626300, 4564600; 626400, 4564700; 626400, 4564900; 626500, 4565100; 626700, 4565100; 626700, 4565400; 626800, 4565600; 627000, 4565700; 627000, 4566000; 627100, 4566100; 627300, 4566200; 627500, 4566200; 627700, 4566200; 627800, 4566100; returning to 627900, 4566000.

(ii) Unit 1B: Modoc and Shasta Counties, California. From USGS 1:24,000 scale quadrangles Day and Timbered Crater. Land bounded by the following UTM Zone 10, NAD 83 coordinates (E,N): 634600, 4560900; 635000, 4560700; 635100, 4561000; 635700, 4561000; 635996, 4561099; 636652, 4560546; 637300, 4560000; 637400, 4559300; 637300, 4558900; 636900, 4558700; 636700, 4558300; 636100, 4558000; 634900, 4557900; 634100, 4558300; 633900, 4559000; 633700, 4560000; 633879, 4560476; 634000, 4560800; 634500, 4561300; returning to 634600, 4560900.

(iii) Note: Units 1A-1B (Map 1) follow:

BILLING CODE 4310-55-P

BILLING CODE 4310-55-C

(iv) Unit 1C: Shasta County, California. From USGS 1:24,000 scale quadrangles Dana and Burney Falls. Land bounded by the following UTM Zone 10, NAD 83 coordinates (E,N): 616900, 4549000; 616800, 4549000; 615900, 4549500; 615700, 4549800; 615600, 4549900; 615600, 4550000; 615500, 4550100; 615400, 4550200; 615300, 4550400; 615300, 4550600; 615600, 4550700; 615900, 4550700; 616200, 4550500; 616400, 4550300; 616700, 4550100; 616800, 4549800; 617000, 4549400; 617100, 4549100; returning to 616900, 4549000.

(v) Unit 1D: Shasta County, California. From USGS 1:24,000 scale quadrangle Burney. Land bounded by the following UTM Zone 10, NAD 83 coordinates (E,N): 613000, 4536500; 613000, 4536200; 612800, 4536000; 612700, 4536000; 612600, 4536100; 612600, 4536200; 612500, 4536300; 612500, 4536500; 612300, 4536500; 612300, 4536700; 612300, 4537100; 612500, 4537400; 612500, 4537600; 612600, 4537700; 612700, 4537700; 612900, 4537800; 613000, 4537900; 613000, 4538100; 612900, 4538300; 612900, 4538500; 613000, 4538600; 613100, 4538800; 613400, 4538900; 613600, 4539000; 613700, 4539100; 613800, 4539100; 613900, 4539100; 614000, 4539000; 614100, 4538900; 614200, 4538800; 614400, 4538700; 614400, 4538600; 614300, 4538500; 614100, 4538400; 614000, 4538400; 613800, 4538300; 613600, 4538100; 613400, 4537900; 613400, 4537700; 613400, 4537500; 613200, 4537400; 613200, 4537100; 613100, 4536800; returning to 613000, 4536500.

(vi) Unit 1E: Shasta County, California. From USGS 1:24,000 scale quadrangle Burney. Land bounded by the following UTM Zone 10, NAD 83 coordinates (E,N): 609700, 4536000; 610300, 4535500; 610500, 4535000; 610600, 4534600; 610500, 4533700; 610800, 4532700; 611000, 4532500; 611000, 4532400; 611100, 4532100; 611300, 4531900; 611500, 4531600; 611500, 4531400; 611600, 4531200; 611800, 4531100; 612000, 4531000; 612200, 4530800; 612200, 4530500; 612100, 4530100; 611900, 4529900; 611700, 4529900; 611500, 4529900; 611000, 4529900; 610500, 4530200; 610400, 4530300; 610200, 4530400; 610200, 4530600; 610300, 4530900; 610600, 4531100; 610500, 4531400; 610200, 4531600; 610200, 4531800; 610100, 4532200; 610100, 4532600; 610000, 4532800; 610000, 4533000; 609900, 4533200; 609900, 4533500; 609700, 4533900; 609600, 4534100; 609600, 4534300; 609600, 4534600; 609600, 4534800; 609600, 4535200; 609500, 4535300; 609300, 4535400; 609100, 4535500; 608800, 4535600; 608600, 4535600; 608300, 4535700; 608200, 4535800; 608000, 4535800; 608100, 4536000; returning to 609700, 4536000.

(vii) Note: Units 1C-1E (Map 2) follow:

BILLING CODE 4310-55-P

BILLING CODE 4310-55-C

(viii) 1F: Shasta County, California. From USGS 1:24,000 scale quadrangles Murken Bench and Old Station. Land bounded by the following UTM Zone 10, NAD 83 coordinates (E,N): 636000, 4513100; 636000, 4512800; 636000, 4512400; 635600, 4512100; 635500, 4511700; 635500, 4511400; 635400, 4511200; 635100, 4510900; 634800, 4510800; 634600, 4511200; 634400, 4511400; 634600, 4512400; 634200, 4512800; 634300, 4513000; 634400, 4512900; 634800, 4512900; 635100, 4513200; 635800, 4513200; returning to 636000, 4513100.

(ix) Unit 1G: Shasta and Lassen Counties, California. From USGS 1:24,000 scale quadrangle Swain's Hole. Land bounded by the following UTM Zone 10, NAD 83 coordinates (E,N): 643400, 4503600; 644000, 4503500; 644100, 4503500; 644200, 4503400; 644400, 4503300; 645000, 4503400; 645200, 4503200; 645200, 4502900; 645500, 4502200; 645500, 4501700; 645300, 4501300; 645300, 4500600; 645200, 4500200; 644800, 4500100; 644300, 4500300; 643500, 4500400; 642400, 4500800; 641861, 4501219; 641500, 4501500; 641200, 4502700; 641300, 4502900; 641600, 4502900; 641700, 4503100; 641834, 4503100; 642100, 4503100; 642100, 4503200; 642500, 4503300; 642700, 4503300; 643000, 4503400; 643200, 4503500; returning to 643400, 4503600.

(x) Unit 1H: Lassen County, California. From USGS 1:24,000 scale quadrangles Swain's Hold and Poison Lake. Land bounded by the following UTM Zone 10, NAD 83 coordinates (E,N): 651500, 4507600; 651800, 4506500; 652200, 4505700; 651700, 4504900; 651500, 4505100; 650800, 4504400; 650300, 4504700; 649500, 4504900; 648800, 4504600; 648900, 4503800; 648700, 4503600; 648100, 4504000; 647400, 4505400; 647800, 4505900; 647500, 4506600; 647700, 4507200; 648800, 4507600; 649500, 4507400; 650300, 4507600; 651200, 4507700; returning to 651500, 4507600.

(xi) Unit 1I: Lassen County, California. From USGS 1:24,000 scale quadrangles Harvey Mountain, Poison Lake, Pine Creek Valley and Bogard Buttes. Land bounded by the following UTM Zone 10, NAD 83 coordinates (E,N): 662800, 4502300; 661600, 4501100; 661300, 4499600; 660800, 4498800; 660700, 4498600; 660700, 4498200; 660800, 4498000; 661000, 4498000; 661100, 4497700; 659900, 4497900; 659300, 4497700; 657500, 4499000; 655500, 4500700; 655000, 4501200; 654900, 4501700; 655100, 4501600; 655600, 4501800; 656600, 4502600; 656700, 4502800; 657700, 4503200; 658700, 4503200; 660000, 4503600; 661300, 4504400; 662200, 4505000; 662900, 4505100; 663600, 4504700; 664200, 4504500; 664400, 4504300; 664400, 4503100; 664100, 4503000; returning to 662800, 4502300.

(xii) Unit 1J: Shasta County, California. From USGS 1:24,000 scale quadrangles Old Station and West Prospect Peak. Land bounded by the following UTM Zone 10, NAD 83 coordinates (E,N): 634600, 4495600; 634600, 4495400; 634800, 4495400; 635000, 4495200; 635000, 4494900; 635200, 4494800; 635200, 4494500; 635100, 4494400; 634800, 4494000; 635100, 4493500; 635000, 4493400; 635200, 4493100; 634900, 4492900; 634300, 4492900; 634300, 4493700; 634100, 4493900; 634100, 4494100; 633600, 4494400; 632500, 4495100; 631900, 4495300; 631300, 4495200; 631000, 4495000; 630700, 4494500; 630500, 4494000; 630500, 4493400; 630400, 4493300; 630400, 4492700; 629900, 4493100; 629300, 4493500; 629100, 4493700; 629300, 4494200; 629500, 4494700; 629400, 4494800; 629400, 4495200; 629700, 4495500; 630500, 4495700; 630500, 4496500; 631700, 4497100; 631700, 4497600; 631800, 4498000; 631900, 4498200; 632000, 4498400; 632100, 4498400; 632400, 4498400; 633900, 4497900; 634200, 4496800; 634200, 4496700; 634100, 4496600; 634100, 4496300; 634400, 4496100; 634400, 4495800; returning to 634600, 4495600.

(xiii) Note: Units 1F-1J (Map 3) follow:

BILLING CODE 4310-55-P

BILLING CODE 4310-55-C

(xiv) Unit 1K: Plumas County, California. From USGS 1:24,000 scale quadrangle Almanor. Land bounded by the following UTM Zone 10, NAD 83 coordinates (E,N): 654900, 4453400; 655300, 4452900; 655400, 4452600; 655400, 4452100; 655000, 4452100; 654900, 4452500; 654400, 4452700; 654100, 4453000; 653900, 4453200; 653700, 4453200; 653400, 4453000; 652600, 4453000; 652300, 4453500; 651900, 4453700; 651600, 4454400; 651600, 4454700; 652000, 4455400; 652400, 4455500; 652700, 4455700; 653200, 4455300; 653000, 4455100; 653000, 4454800; 653300, 4454400; 653500, 4454100; 653900, 4453900; 654500, 4453700; returning to 654900, 4453400.

(xv) Note: Unit 1K (Map 4) follows:

BILLING CODE 4310-55-P

BILLING CODE 4310-55-C

(5) Unit 2: Shasta County, California.

(i) Unit 2A: Shasta County, California. From USGS 1:24,000 scale quadrangle Enterprise. Land bounded by the following UTM Zone 10, NAD 83 coordinates (E,N): 559200, 4490200; 559200, 4490000; 559400, 4489800; 559400, 4489300; 559200, 4489000; 558800, 4488900; 558500, 4488900; 558000, 4489000; 558000, 4489800; 558100, 4489800; 558300, 4489900; 558200, 4490100; 558000, 4490100; 558000, 4490500; 558000, 4491016; 558316, 4490822; 558323, 4490817; 558674, 4490603; 558717, 4490577; 558791, 4490532; 558987, 4490411; 559000, 4490405; 559000, 4490400; returning to 559200, 4490200.

(ii) Unit 2B: Shasta County, California. From USGS 1:24,000 scale quadrangles Enterprise and Cottonwood. Land bounded by the following UTM Zone 10, NAD 83 coordinates (E,N): 559000, 4486800; 559000, 4484000; 559300, 4484000; 559300, 4483900; 559500, 4483900; 559800, 4483600; 560700, 4483600; 560900, 4483500; 560500, 4483500; 560500, 4482600; 560100, 4482500; 559900, 4482500; 559900, 4482000; 559400, 4482000; 558900, 4482400; 558900, 4482900; 558900, 4483600; 558300, 4483600; 558200, 4483900; 558200, 4484500; 558000, 4484800; 558000, 4485100; 558000, 4485300; 557800, 4485600; 557600, 4485900; 557300, 4486100; 557300, 4487400; 559000, 4487400; returning to 559000, 4486800.

(iii) Unit 2C: Shasta County, California. From USGS 1:24,000 scale quadrangles Palo Cedro, Enterprise, Balls Ferry and Cottonwood. Land bounded by the following UTM Zone 10, NAD 83 coordinates (E,N): 562500, 4487400; 562700, 4487100; 562900, 4487200; 563200, 4487200; 563300, 4487000; 563300, 4486700; 563800, 4486400; 564300, 4484700; 564300, 4484400; 564500, 4484100; 564500, 4483800; 564600, 4483700; 564600, 4483400; 564400, 4483100; 564100, 4482800; 564100, 4482600; 564300, 4482600; 564300, 4482400; 564300, 4482300; 564200, 4482200; 564100, 4482100; 564000, 4482100; 564200, 4481800; 564200, 4480900; 563600, 4480900; 563300, 4481000; 563100, 4480900; 562900, 4480900; 562500, 4481200; 562400, 4481500; 562400, 4481700; 562300, 4482400; 562000, 4482500; 561900, 4482800; 561800, 4483300; 561500, 4483700; 561000, 4484000; 560700, 4485400; 560700, 4486500; 560800, 4486700; 561000, 4486900; 561200, 4487000; 561300, 4487600; 561600, 4487900; 562000, 4487900; returning to 562500, 4487400.

(iv) Unit 2D: Shasta County, California. From USGS 1:24,000 scale quadrangle Palo Cedro and Balls Ferry. Land bounded by the following UTM Zone 10, NAD 83 coordinates (E,N): 566900, 4477300; 566700, 4477300; 566100, 4478200; 565900, 4478900; 565500, 4479200; 565500, 4479300; 565600, 4479600; 565300, 4479700; 565300, 4479900; 565400, 4480200; 566100, 4480400; 566100, 4480700; 565700, 4480800; 565700, 4481000; 565700, 4481300; 565700, 4481700; 565500, 4482500; 565100, 4482600; 564900, 4482900; 564900, 4483100; 565000, 4483300; 565400, 4483800; 565700, 4484900; 566400, 4485400; 567400, 4485000; 568100, 4483800; 568100, 4483300; 568400, 4483000; 568400, 4482100; 568200, 4481600; 567500, 4481300; 567500, 4480200; 567700, 4479400; 567700, 4478400; 567500, 4477800; returning to 566900, 4477300.

(v) Note: Unit 2 (Map 5) follows:

BILLING CODE 4310-55-P

BILLING CODE 4310-55-C

(6) Unit 3: Shasta and Tehama Counties, California.

(i) Unit 3A: Shasta and Tehama Counties, California. From USGS 1:24,000 scale quadrangles Shingletown, Tuscan Buttes NE, Balls Ferry, Dales, Bend and Red Bluff East. Land bounded by the following UTM Zone 10, NAD 83 coordinates (E,N): 583610, 4475072; 583700, 4475000; 584200, 4475200; 584600, 4475200; 585400, 4474500; 586000, 4473600; 586100, 4473400; 585800, 4472600; 585500, 4472100; 584800, 4471900; 584500, 4471600; 584500, 4471400; 584700, 4471100; 584700, 4470800; 584500, 4470500; 583400, 4469700; 583100, 4469400; 582600, 4468500; 582600, 4467600; 582700, 4466900; 582700, 4466700; 581900, 4465800; 581000, 4465500; 580600, 4465200; 580400, 4464000; 580200, 4463300; 578900, 4462700; 578500, 4462300; 578100, 4462000; 577800, 4460900; 577700, 4460000; 576700, 4459300; 576600, 4458800; 576800, 4458300; 576800, 4457100; 576400, 4456700; 575500, 4456800; 574900, 4456800; 574100, 4455900; 573500, 4455600; 572300, 4455300; 572000, 4455300; 571600, 4455600; 571400, 4455400; 571100, 4454900; 570600, 4454900; 570200, 4454800; 570200, 4455000; 570600, 4455900; 570000, 4456100; 569500, 4456300; 569300, 4456500; 568900, 4456500; 568600, 4456500; 568000, 4456800; 567900, 4457100; 567900, 4458000; 568400, 4458800; 569100, 4459800; 569600, 4460500; 569500, 4460800; 569000, 4460600; 568300, 4460700; 567500, 4460700; 566800, 4460000; 566400, 4460000; 565900, 4461100; 565800, 4461400; 565800, 4461700; 566000, 4462000; 565800, 4462300; 565900, 4462400; 565800, 4462500; 565900, 4462600; 565800, 4462800; 565900, 4462900; 565900, 4463000; 566000, 4463100; 566300, 4463100; 566500, 4463300; 566500, 4463600; 566700, 4463700; 566800, 4463700; 566900, 4463600; 567100, 4463500; 567200, 4463600; 567600, 4463400; 568300, 4463200; 569800, 4463200; 570600, 4463900; 570800, 4464300; 572000, 4465200; 572000, 4466300; 572100, 4466600; 572800, 4467300; 573500, 4468600; 573400, 4469000; 573100, 4469400; 572900, 4469600; 572600, 4469600; 571800, 4468800; 571400, 4468100; 571000, 4467900; 571000, 4468700; 571200, 4468700; 571100, 4469200; 571200, 4469500; 571200, 4470500; 570500, 4470900; 570460, 4470920; 570460, 4470932; 570466, 4470931; 570461, 4471354; 570786, 4471349; 571229, 4471353; 571235, 4471908; 571236, 4471912; 571238, 4471962; 571244, 4471992; 571237, 4472042; 571244, 4472069; 571247, 4472123; 571249, 4472164; 571271, 4472165; 571363, 4472165; 571405, 4472139; 571460, 4472143; 571460, 4472143; 571467, 4472144; 571524, 4472166; 571541, 4472166; 571635, 4472166; 571647, 4472171; 571714, 4472199; 571723, 4472200; 571739, 4472200; 571900, 4472200; 572154, 4472285; 572154, 4472284; 572156, 4472284; 572159, 4472227; 572162, 4472225; 572168, 4472227; 572181, 4472226; 572208, 4472225; 572219, 4472223; 572231, 4472219; 572241, 4472217; 572282, 4472215; 572307, 4472215; 572325, 4472213; 572332, 4472212; 572500, 4472100; 573900, 4472100; 574151, 4472791; 574207, 4472814; 574212, 4472816; 574219, 4472814; 574238, 4472808; 574256, 4472804; 574271, 4472800; 574293, 4472798; 574321, 4472797; 574342, 4472798; 574360, 4472803; 574369, 4472807; 574384, 4472811; 574403, 4472815; 574428, 4472823; 574450, 4472828; 574469, 4472831; 574483, 4472832; 574489, 4472834; 574488, 4472924; 574488, 4472933; 574488, 4472941; 574487, 4472952; 574487, 4472951; 574459, 4472946; 574443, 4472942; 574425, 4472940; 574411, 4472938; 574397, 4472937; 574391, 4472934; 574379, 4472930; 574373, 4472928; 574365, 4472924; 574356, 4472921; 574353, 4472920; 574342, 4472919; 574346, 4472925; 574358, 4472955; 574465, 4473021; 574448, 4473020; 574445, 4473038; 574336, 4472971; 574326, 4472947; 574297, 4472920; 574278, 4472922; 574261, 4472941; 574253, 4472951; 574231, 4472975; 574223, 4472987; 574300, 4473200; 574754, 4473200; 574939, 4473200; 575100, 4473200; 575456, 4473413; 575600, 4473500; 575624, 4473524; 576000, 4473900; 576107, 4473900; 576460, 4473900; 576600, 4473900; 576883, 4473900; 577069, 4473900; 577300, 4473900; 577344, 4473933; 577351, 4473938; 577700, 4474200; 578600, 4474200; 578685, 4474224; 578803, 4474258; 579300, 4474400; 579637, 4474400; 580000, 4474400; 580600, 4474700; 580991, 4474700; 581447, 4474700; 581900, 4474700; 581931, 4474738; 582400, 4475300; 583000, 4475400; 583200, 4475400; returning to 583610, 4475072; excluding 579328, 4466483; 579344, 4463788; 580057, 4465659; 580132, 4465813; 580184, 4465918; 580313, 4466064; 580839, 4466455; returning to 579328, 4466483.

(ii) Unit 3B: Shasta and Tehama Counties, California. From USGS 1:24,000 scale quadrangle Balls Ferry. Land bounded by the following UTM Zone 10, NAD 83 coordinates (E,N): 570448, 4472017; 570459, 4471725; 570459, 4471725; 570459, 4471724; 570408, 4471708; 570382, 4471714; 570356, 4471741; 570335, 4471767; 570304, 4471767; 570298, 4471772; 570279, 4471768; 570240, 4471758; 570210, 4471761; 570196, 4471743; 570183, 4471738; 570173, 4471734; 570160, 4471705; 570156, 4471680; 570156, 4471678; 570150, 4471671; 570139, 4471657; 570139, 4471654; 570139, 4471645; 570118, 4471628; 570092, 4471624; 570089, 4471624; 570071, 4471623; 570054, 4471623; 570006, 4471624; 569975, 4471641; 569952, 4471639; 569913, 4471639; 569893, 4471626; 569866, 4471623; 569852, 4471624; 569821, 4471597; 569810, 4471574; 569789, 4471573; 569761, 4471574; 569757, 4471575; 569735, 4471544; 569722, 4471574; 569676, 4471581; 569658, 4471581; 569644, 4471584; 569625, 4471584; 569605, 4471585; 569557, 4471585; 569534, 4471593; 569517, 4471599; 569494, 4471607; 569465, 4471615; 569438, 4471622; 569415, 4471629; 569400, 4471629; 569400, 4471687; 569400, 4471800; 569600, 4471900; 569600, 4472000; 569900, 4472200; 570200, 4472100; returning to 570448, 4472017.

(iii) Note: Unit 3 (Map 6) follows:

BILLING CODE 4310-55-P

BILLING CODE 4310-55-C

(7) Unit 4: Tehama County, California. From USGS 1:24,000 scale quadrangles Acorn Hollow and Richardson Springs NW. Land bounded by the following UTM Zone 10, NAD 83 coordinates (E,N): 588739, 4429822; 588900, 4429500; 589500, 4429500; 589500, 4428600; 589500, 4428000; 589800, 4427100; 590500, 4426400; 590500, 4425300; 591200, 4424400; 591500, 4423300; 591562, 4422558; 590526, 4423686; 589986, 4424273; 589816, 4424458; 589129, 4425207; 588454, 4426221; 588425, 4426265; 588279, 4426485; 588213, 4426583; 588213, 4426584; 588212, 4426585; 588168, 4426652; 588014, 4426883; 587912, 4427036; 588000, 4427300; 587900, 4427300; 587802, 4427202; 587756, 4427271; 587137, 4428163; 587107, 4428243; 586773, 4428770; 586751, 4428801; 586900, 4428900; 587300, 4429100; 588300, 4429600; 588500, 4430000; 588700, 4429900; 588733, 4429833; returning to 588739, 4429822.

(8) Note: Unit 4 (Map 7) follows:

BILLING CODE 4310-55-P

BILLING CODE 4310-55-C

(9) Unit 5: Lake County, California.

(i) Unit 5A: Lake County, California. From USGS 1:24,000 scale quadrangles Kelseyville and The Geysers. Land bounded by the following UTM Zone 10, NAD 83 coordinates (E,N): 520600, 4304700; 520700, 4304400; 521200, 4303900; 521200, 4303500; 520900, 4303400; 520000, 4302900; 519600, 4302900; 519200, 4303200; 518600, 4303600; 518400, 4304000; 517700, 4304500; 517700, 4305500; 518000, 4305800; 518900, 4305800; 519400, 4305600; 519400, 4305200; returning to 520600, 4304700; excluding 519133, 4304515; 519186, 4304513; 519190, 4304580; 519259, 4304536; 519575, 4304594; 519707, 4304515; 519882, 4304203; 519928, 4304160; 519924, 4304114; 519785, 4304012; 519729, 4303886; 519677, 4303975; 519634, 4303917; 519639, 4303693; 519840, 4303690; 519846, 4303903; 519925, 4303879; 519937, 4303781; 519975, 4303782; 519980, 4304504; 519952, 4304510; 519944, 4304600; 519130, 4304611; returning to 519133, 4304515.

(ii) Unit 5B: Lake County, California. From USGS 1:24,000 scale quadrangle Middletown. Land bounded by the following UTM Zone 10, NAD 83 coordinates (E,N): 538700, 4301200; 539100, 4300600; 540000, 4300000; 540700, 4299700; 541000, 4299300; 541100, 4298700; 540700, 4298300; 540200, 4298400; 539100, 4299100; 538800, 4299200; 538400, 4299200; 538100, 4299500; 538300, 4300200; 537900, 4300700; 537400, 4300600; 536900, 4299900; 536300, 4299700; 536000, 4299700; 535100, 4300400; 535000, 4300800; 535000, 4301200; 535100, 4301800; 535300, 4302200; 535700, 4302400; 536100, 4302400; 536900, 4302300; returning to 538700, 4301200.

(iii) Note: Unit 5 (Map 8) follows:

BILLING CODE 4310-55-P

BILLING CODE 4310-55-C

(10) Unit 6: Sacramento County, California. From USGS 1:24,000 scale quadrangle Carmichael. Land bounded by the following UTM Zone 10, NAD 83 coordinates (E,N): 651200, 4266600; 651500, 4266400; 651500, 4266300; 651100, 4266300; 651100, 4266000; 651570, 4265812; 651589, 4265075; 651600, 4264400; 651400, 4264400; 651400, 4264200; 650500, 4264200; 650500, 4264300; 650400, 4264300; 650400, 4264600; 650000, 4264700; 649900, 4265100; 649400, 4265100; 649100, 4265000; 648900, 4265100; 648700, 4265100; 648700, 4265300; 648700, 4265500; 649900, 4265500; 649900, 4266000; 648300, 4266000; 648300, 4266200; 648500, 4266400; 648700, 4266200; 649000, 4266200; 649300, 4266400; 649400, 4266600; 649635, 4266678; returning to 651200, 4266600.

(11) Note: Unit 6 (Map 9) follows:

BILLING CODE 4310-55-P

BILLING CODE 4310-55-C

Family Poaceae: Orcuttia viscida (Sacramento Orcutt Grass)

(1) Critical habitat units are depicted for Amador and Sacramento counties, California, on the maps below.

(2) The primary constituent elements of critical habitat for Orcuttia viscida (Sacramento Orcutt grass) are the habitat components that provide:

(i) Topographic features characterized by isolated mound and intermound complex within a matrix of surrounding uplands that result in continuously, or intermittently, flowing surface water in the depressional features including swales connecting the pools described in paragraph (2)(ii) of this section, providing for dispersal and promoting hydroperiods of adequate length in the pools; and

(ii) Depressional features including isolated vernal pools with underlying restrictive soil layers that become inundated during winter rains and that continuously hold water or whose soils are saturated for a period long enough to promote germination, flowering, and seed production of predominantly annual native wetland species and typically exclude both native and nonnative upland plant species in all but the driest years. As these features are inundated on a seasonal basis, they do not promote the development of obligate wetland vegetation habitats typical of permanently flooded emergent wetlands.

(3) Existing manmade features and structures, such as buildings, roads, railroads, airports, runways, other paved areas, lawns, and other urban landscaped areas do not contain one or more of the primary constituent elements. Federal actions limited to those areas, therefore, would not trigger a consultation under section 7 of the Act unless they may affect the species and/or primary constituent elements in adjacent critical habitat.

(4) Unit 1: Sacramento County, California. From USGS 1:24,000 topographic quadrangle Folsom. Land bounded by the following UTM Zone 10, NAD 83 coordinates (E,N): 655240, 4279350; 655100, 4279350; 655054, 4279362; 655060, 4279380; 655090, 4279390; 655090, 4279560; 655060, 4279580; 655040, 4279590; 655020, 4279610; 655010, 4279640; 654990, 4279650; 654960, 4279720; 654940, 4279770; 654940, 4279800; 655100, 4279800; 655101, 4279806; 655220, 4279810; 655210, 4280150; 655290, 4280150; 655218, 4280146; 655230, 4279930; 655378, 4279928; 655370, 4279920; 655280, 4279920; 655270, 4279860; 655270, 4279830; 655260, 4279800; 655250, 4279750; 655240, 4279700; 655240, 4279640; returning to 655240, 4279350.

(5) Note: Unit 1 (Map 1) follows:

BILLING CODE 4310-55-P

BILLING CODE 4310-55-C

(6) Unit 2: Sacramento County, California. From USGS 1:24,000 topographic quadrangle Carmichael. Land bounded by the following UTM Zone 10, NAD 83 coordinates (E,N): 651200, 4266600; 651500, 4266400; 651500, 4266300; 651100, 4266300; 651100, 4266000; 651570, 4265812; 651589, 4265075; 651600, 4264400; 651400, 4264400; 651400, 4264200; 650500, 4264200; 650500, 4264300; 650400, 4264300; 650400, 4264600; 650000, 4264700; 649900, 4265100; 649400, 4265100; 649100, 4265000; 648900, 4265100; 648700, 4265100; 648700, 4265300; 648700, 4265500; 649900, 4265500; 649900, 4266000; 648300, 4266000; 648300, 4266200; 648500, 4266400; 648700, 4266200; 649000, 4266200; 649300, 4266400; 649400, 4266600; 649635, 4266678; returning to 651200, 4266600.

(7) Note: Unit 2 (Map 2) follows:

BILLING CODE 4310-55-P

BILLING CODE 4310-55-C

(8) Unit 3: Sacramento and Amador Counties, California. From USGS 1:24,000 topographic quadrangles Sloughhouse, Carbondale, Clay, and Goose Creek. Land bounded by the following UTM Zone 10, NAD 83 coordinates (E,N): 673200, 4256400; 672800, 4255100; 672800, 4254800; 673100, 4254900; 673800, 4254900; 674000, 4254600; 674000, 4254400; 674500, 4254000; 674500, 4253700; 674100, 4253500; 674100, 4252900; 674300, 4252300; 674500, 4251900; 674500, 4251600; 673400, 4251500; 673300, 4251400; 673300, 4251200; 673900, 4251000; 674000, 4250500; 674300, 4250000; 674300, 4249800; 674200, 4249700; 673900, 4249700; 673600, 4249900; 672500, 4249900; 672315, 4249992; 671900, 4250200; 671300, 4250200; 671100, 4250500; 671000, 4250500; 671000, 4249800; 670700, 4249800; 670700, 4249500; 670700, 4249500; 670800, 4249300; 670800, 4249000; 670900, 4248900; 670900, 4248500; 670500, 4248300; 670500, 4248125; 670500, 4248100; 670400, 4248100; 670400, 4248000; 670100, 4248000; 670100, 4247800; 670500, 4247500; 671100, 4247500; 671600, 4247700; 671800, 4247600; 671900, 4247300; 671900, 4247100; 671500, 4246800; 671600, 4246600; 671800, 4246000; 671800, 4246000; 671300, 4245400; 671255, 4245364; 670800, 4245000; 670000, 4244200; 669900, 4244100; 669800, 4243700; 669500, 4243500; 669200, 4243400; 669100, 4242900; 668500, 4242100; 667900, 4242000; 667400, 4241600; 667400, 4241800; 666400, 4241700; 665400, 4241700; 665400, 4242700; 665000, 4242700; 665000, 4242700; 665000, 4242300; 664800, 4242300; 664800, 4242200; 664700, 4242200; 664600, 4242100; 664500, 4242100; 664500, 4241300; 664000, 4241300; 664000, 4241000; 663500, 4241000; 663500, 4240900; 663400, 4240800; 663300, 4240800; 663300, 4240600; 663100, 4240600; 663100, 4240900; 662800, 4240900; 662800, 4240500; 662700, 4240400; 662700, 4240000; 662500, 4240000; 662500, 4239600; 662100, 4239600; 662100, 4239400; 662000, 4239300; 661700, 4239300; 661700, 4239200; 661400, 4239000; 661400, 4239900; 661500, 4239900; 661500, 4241600; 662200, 4241600; 662900, 4241600; 662900, 4243100; 663400, 4243100; 663400, 4243800; 663029, 4243841; 663000, 4243844; 663000, 4243900; 662500, 4243900; 662700, 4244700; 662800, 4244800; 662850, 4244800; 663700, 4244800; 664400, 4244300; 664600, 4244700; 664900, 4244800; 664900, 4245275; 664900, 4245300; 665000, 4245300; 664900, 4245700; 664900, 4246500; 664400, 4246500; 663900, 4246700; 662500, 4246300; 662233, 4246300; 662200, 4246300; 662100, 4246400; 661700, 4246400; 661900, 4247000; 662000, 4247300; 661800, 4247500; 660900, 4247500; 660900, 4247140; 660900, 4247100; 660850, 4247100; 659700, 4247100; 659500, 4247300; 659500, 4248300; 660000, 4248300; 659900, 4249600; 660000, 4249900; 659900, 4250200; 659400, 4249700; 659400, 4249500; 659300, 4249200; 659100, 4249000; 659100, 4248900; 659200, 4248800; 659100, 4248700; 658900, 4248700; 658800, 4248600; 658600, 4248600; 658500, 4248800; 658400, 4248900; 658200, 4249000; 658200, 4248900; 658300, 4248700; 658500, 4248500; 658500, 4248400; 658400, 4248300; 658400, 4247900; 658100, 4247900; 658000, 4248500; 656700, 4248500; 656300, 4248900; 655900, 4248200; 656100, 4248100; 656100, 4248000; 656000, 4247800; 655200, 4247800; 655200, 4247200; 654700, 4247200; 654700, 4248750; 654700, 4248800; 654700, 4249000; 655100, 4249000; 655800, 4249000; 656300, 4249700; 656600, 4249500; 657200, 4250200; 656700, 4251100; 657700, 4251100; 658700, 4252500; 659500, 4252500; 659600, 4252100; 659900, 4252200; 660500, 4251500; 660600, 4250500; 661700, 4251200; 662400, 4252100; 662583, 4252191; 663009, 4252217; 663119, 4252198; 663221, 4252234; 663275, 4252290; 663311, 4252341; 663324, 4252391; 663344, 4252446; 663378, 4252511; 663390, 4252591; 663409, 4252710; 663437, 4252770; 663510, 4252890; 663546, 4252914; 663590, 4252922; 663630, 4252907; 663726, 4252900; 663761, 4252901; 663800, 4252916; 663817, 4252959; 663824, 4252991; 663760, 4253075; 663650, 4253199; 663651, 4253232; 663667, 4253286; 663741, 4253408; 663807, 4253488; 663832, 4253490; 663904, 4253486; 663962, 4253498; 664039, 4253560; 664088, 4253602; 664125, 4253617; 664219, 4253695; 664248, 4253699; 664313, 4253672; 664369, 4253606; 664471, 4253613; 664566, 4253675; 664591, 4253700; 664900, 4253700; 665800, 4254500; 665853, 4254513; 665880, 4254493; 665956, 4254434; 665960, 4254402; 666029, 4254364; 666067, 4254367; 666114, 4254379; 666168, 4254392; 666236, 4254440; 666273, 4254448; 666310, 4254440; 666339, 4254435; 666417, 4254404; 666451, 4254362; 666491, 4254319; 666523, 4254309; 666581, 4254312; 666652, 4254306; 666705, 4254261; 666722, 4254230; 666740, 4254164; 666742, 4254084; 666763, 4253987; 666791, 4253947; 666826, 4253919; 666849, 4253913; 666914, 4253917; 666977, 4253951; 667057, 4253975; 667142, 4253997; 667253, 4253980; 667277, 4253964; 667302, 4253968; 667313, 4253981; 667315, 4254007; 667377, 4254034; 667482, 4254039; 667618, 4254026; 667801, 4253975; 667959, 4253881; 668167, 4253821; 668360, 4253834; 668422, 4253849; 668525, 4253837; 668643, 4253804; 668700, 4253743; 668799, 4253665; 668877, 4253610; 668998, 4253531; 669098, 4253487; 669171, 4253483; 669251, 4253471; 669328, 4253465; 669399, 4253396; 669461, 4253324; 669558, 4253276; 669619, 4253256; 669665, 4253257; 669859, 4253247; 670012, 4253179; 670143, 4253173; 670241, 4253188; 670278, 4253185; 670320, 4253159; 670371, 4253105; 670419, 4253074; 670499, 4253007; 670537, 4252992; 670594, 4252927; 670626, 4252873; 670642, 4252848; 670663, 4252843; 670712, 4252851; 670732, 4252875; 670716, 4252907; 670727, 4252921; 670756, 4252934; 670807, 4252923; 670850, 4252924; 670883, 4252896; 670912, 4252829; 670949, 4252789; 670975, 4252773; 671041, 4252762; 671109, 4252759; 671191, 4252663; 671270, 4252568; 671315, 4252537; 671376, 4252519; 671438, 4252504; 671509, 4252465; 671531, 4252448; 671559, 4252450; 671603, 4252490; 671631, 4252509; 671674, 4252515; 671716, 4252510; 671773, 4252503; 671827, 4252497; 671848, 4252476; 671934, 4252419; 671943, 4252426; 671963, 4252453; 671990, 4252458; 672004, 4252435; 672042, 4252400; 672107, 4252306; 672117, 4252284; 672129, 4252256; 672134, 4252244; 672152, 4252230; 672159, 4252200; 672153, 4252190; 672148, 4252180; 672110, 4252165; 672104, 4252149; 672109, 4252101; 672114, 4252080; 672113, 4252055; 672107, 4251980; 672120, 4251908; 672151, 4251893; 672177, 4251906; 672185, 4251900; 672199, 4251865; 672213, 4251830; 672245, 4251802; 672263, 4251784; 672271, 4251775; 672271, 4251787; 672265, 4252117; 672263, 4252199; 672247, 4252916; 672246, 4252941; 672231, 4253670; 672225, 4253953; 672223, 4254006; 672220, 4254157; 672219, 4254229; 672217, 4254287; 672192, 4255610; 672200, 4255600; 672400, 4255600; 672700, 4256400; returning to 673200, 4256400.

(9) Note: Unit 3 (Map 3) follows:

BILLING CODE 4310-55-P

BILLING CODE 4310-55-C

Family Poaceae: Tuctoria greenei (Greene's Tuctoria).

(1) Critical habitat units are depicted for Butte, Madera, Mariposa, Merced, Shasta, Stanislaus, Tehama, and Tuolumne counties, California, on the map below.

(2) The primary constituent elements of critical habitat for Tuctoria greenei (Greene's tuctoria) are the habitat components that provide:

(i) Topographic features characterized by isolated mound and intermound complex within a matrix of surrounding uplands that result in continuously, or intermittently, flowing surface water in the depressional features including swales connecting the pools described in paragraph (2)(ii) of this section, providing for dispersal and promoting hydroperiods of adequate length in the pools; and

(ii) Depressional features including isolated vernal pools with underlying restrictive soil layers that become inundated during winter rains and that continuously hold water or whose soils are saturated for a period long enough to promote germination, flowering, and seed production of predominantly annual native wetland species and typically exclude both native and nonnative upland plant species in all but the driest years. As these features are inundated on a seasonal basis, they do not promote the development of obligate wetland vegetation habitats typical of permanently flooded emergent wetlands.

(3) Existing manmade features and structures, such as buildings, roads, railroads, airports, runways, other paved areas, lawns, and other urban landscaped areas do not contain one or more of the primary constituent elements. Federal actions limited to those areas, therefore, would not trigger a consultation under section 7 of the Act unless they may affect the species and/or primary constituent elements in adjacent critical habitat.

(4) Unit 1: Shasta County, California. From USGS 1:24,000 scale quadrangle Murken Bench. Land bounded by the following UTM Zone 10, NAD 83 coordinates (E,N): 632400, 4522900; 632000, 4521600; 631200, 4521600; 631100, 4521700; 630900, 4521600; 630500, 4521600; 630300, 4521300; 630100, 4521200; 629900, 4521200; 628900, 4522800; 629200, 4523500; 629600, 4523900; 631000, 4524100; 631800, 4523500; returning to 632400, 4522900.

(5) Note: Unit 1 (Map 1) follows:

BILLING CODE 4310-55-P

BILLING CODE 4310-55-C

(6) Unit 2: Tehama County, California. From USGS 1:24,000 scale quadrangles Acorn Hollow, Richardson Springs NW. Land bounded by the following UTM Zone 10, NAD 83 coordinates (E,N): 588739, 4429822; 588900, 4429500; 589500, 4429500; 589500, 4428600; 589500, 4428000; 589800, 4427100; 590500, 4426400; 590500, 4425300; 591200, 4424400; 591500, 4423300; 591562, 4422558; 590526, 4423686; 589986, 4424273; 589816, 4424458; 589129, 4425207; 588454, 4426221; 588425, 4426265; 588279, 4426485; 588213, 4426583; 588213, 4426584; 588212, 4426585; 588168, 4426652; 588014, 4426883; 587912, 4427036; 588000, 4427300; 587900, 4427300; 587802, 4427202; 587756, 4427271; 587137, 4428163; 587107, 4428243; 586773, 4428770; 586751, 4428801; 586900, 4428900; 587300, 4429100; 588300, 4429600; 588500, 4430000; 588700, 4429900; 588733, 4429833; returning to 588739, 4429822.

(7) Note: Unit 2 (Map 2) follows:

BILLING CODE 4310-55-P

BILLING CODE 4310-55-C

(8) Unit 3: Butte County, California. From USGS 1:24,000 scale quadrangle Hamlin Canyon. Land bounded by the following UTM Zone 10, NAD 83 coordinates (E,N): 609736, 4389313; 609200, 4389800; 609145, 4389965; 609391, 4389694; 609721, 4389330; returning to 609736, 4389313.

(9) Note: Unit 3 (Map 3) follows:

BILLING CODE 4310-55-P

BILLING CODE 4310-55-C

(10) Unit 6: Stanislaus County, California.

(i) Unit 6A: Stanislaus County, California. From USGS 1:24,000 scale quadrangles Paulsell. Land bounded by the following UTM Zone 10, NAD 83 coordinates (E,N): 702000, 4171800; 702000, 4169800; 702200, 4169800; 702200, 4169700; 702200, 4169658; 702200, 4169200; 701700, 4169000; 701300, 4168800; 701200, 4168600; 701000, 4168600; 701000, 4169612; 701000, 4169700; 700700, 4169700; 700700, 4170400; 700700, 4170500; 700550, 4170500; 700500, 4170500; 700500, 4170533; 700500, 4170900; 700300, 4170900; 700300, 4171100; 700300, 4171800; 701200, 4171800; returning to 702000, 4171800.

(ii) Unit 6B: Stanislaus County, California. From USGS 1:24,000 scale quadrangles Waterford, Paulsell. Land bounded by the following UTM Zone 10, NAD 83 coordinates (E,N): 701282, 4176830; 701345, 4176765; 701756, 4176778; 701600, 4176700; 701600, 4176500; 701600, 4176200; 701700, 4175900; 701800, 4175800; 702000, 4175800; 702000, 4175100; 701600, 4175100; 701600, 4174200; 701900, 4173700; 701800, 4173600; 701700, 4173500; 701700, 4173300; 701700, 4173200; 701600, 4173200; 701500, 4173100; 701500, 4173000; 701600, 4173000; 701600, 4172800; 701500, 4172600; 701300, 4172500; 701100, 4172600; 700700, 4172600; 700600, 4172600; 700500, 4172700; 700500, 4172900; 700400, 4172900; 700400, 4172800; 700100, 4172700; 699600, 4172700; 699500, 4172800; 699300, 4172800; 699100, 4172500; 698800, 4172500; 698700, 4172600; 698400, 4172400; 698100, 4172800; 698200, 4173000; 697400, 4174300; 697300, 4174300; 697300, 4174500; 697800, 4174500; 697800, 4176300; 697700, 4176300; 697700, 4176437; 698090, 4176397; 698085, 4176613; 698084, 4176642; 699300, 4176684; 700500, 4176726; 701204, 4176750; returning to 701282, 4176830.

(iii) Unit 6C: Stanislaus County, California. From USGS 1:24,000 scale quadrangles Paulsell. Land bounded by the following UTM Zone 10, NAD 83 coordinates (E,N): 703100, 4177500; 703000, 4177300; 702911, 4177359; 702906, 4177503; 703100, 4177507; returning to 703100, 4177500.

(iv) Unit 6D: Stanislaus County, Tuolumne County, California. From USGS 1:24,000 scale quadrangles Paulsell. Keystone, Cooperstown, La Grange. Land bounded by the following UTM Zone 10, NAD 83 coordinates (E,N): 715800, 4183400; 716000, 4182700; 716900, 4182700; 717100, 4182500; 717100, 4182000; 716900, 4181300; 717200, 4180900; 717200, 4180600; 717107, 4180383; 716900, 4179900; 717482, 4180046; 717700, 4180100; 718500, 4180000; 718700, 4179200; 719300, 4178700; 719455, 4178273; 719700, 4177600; 720126, 4177671; 720300, 4177700; 720700, 4177700; 720745, 4177115; 720800, 4176400; 721400, 4175900; 722200, 4175300; 722700, 4175200; 722800, 4173600; 723000, 4173500; 723200, 4173600; 723700, 4173600; 724000, 4173300; 724100, 4172300; 722800, 4172200; 721700, 4171200; 721571, 4170643; 721500, 4170500; 721400, 4170400; 721200, 4170300; 721000, 4170100; 721000, 4169600; 720900, 4169600; 720000, 4168500; 718900, 4168000; 718700, 4168100; 718100, 4168500; 718000, 4168500; 717900, 4168600; 716200, 4168600; 715900, 4168500; 715600, 4168300; 715500, 4168200; 715400, 4168300; 715400, 4169400; 714900, 4169900; 714900, 4170000; 715100, 4170000; 715200, 4170200; 715300, 4170200; 715300, 4170400; 715300, 4170407; 715300, 4171200; 715200, 4171200; 715200, 4171000; 715100, 4171000; 715100, 4170700; 714900, 4170700; 714900, 4170300; 713900, 4169800; 713800, 4169900; 713000, 4169500; 712500, 4169400; 712200, 4169400; 712000, 4169600; 711500, 4169900; 711300, 4169900; 710500, 4169100; 709300, 4169100; 709100, 4169500; 709100, 4169700; 708900, 4169700; 708800, 4169900; 708700, 4169900; 708600, 4169800; 708500, 4169900; 708400, 4170000; 708700, 4170200; 708800, 4170300; 708900, 4170400; 709100, 4170500; 709200, 4170600; 709400, 4170600; 709400, 4170800; 709300, 4170800; 709200, 4170900; 709100, 4170800; 708800, 4170700; 708800, 4170600; 708500, 4170500; 708400, 4170300; 708100, 4170200; 707900, 4170200; 707900, 4170300; 708100, 4170500; 708200, 4170500; 708200, 4170600; 708000, 4170600; 708200, 4170800; 708200, 4170900; 708100, 4170900; 707900, 4170700; 707700, 4170700; 707700, 4170800; 707600, 4170900; 707400, 4170900; 707100, 4171100; 707100, 4171200; 707200, 4171300; 707300, 4171200; 707500, 4171300; 707800, 4171600; 707900, 4171600; 708100, 4171600; 708200, 4171700; 708100, 4171800; 708100, 4171900; 708300, 4171900; 708300, 4172100; 708400, 4172100; 708500, 4172200; 708500, 4172300; 708700, 4172400; 708800, 4172500; 708800, 4172600; 708700, 4172700; 708500, 4172700; 708400, 4172800; 708300, 4172700; 708200, 4172700; 708100, 4172600; 708000, 4172500; 707900, 4172500; 707800, 4172700; 707600, 4172600; 707400, 4172500; 707400, 4172600; 707200, 4172700; 707100, 4172300; 707000, 4172200; 706700, 4172200; 706700, 4172300; 706500, 4172300; 706400, 4172300; 706400, 4172400; 706200, 4172600; 706300, 4172700; 706400, 4172800; 706300, 4172800; 706200, 4172800; 706100, 4172900; 705900, 4173100; 705800, 4173300; 705800, 4173500; 706000, 4173800; 705900, 4173900; 705800, 4174100; 705700, 4174200; 705500, 4174200; 705400, 4174100; 705400, 4173700; 705200, 4173200; 705100, 4173200; 705100, 4172600; 704900, 4172400; 704800, 4172100; 704600, 4172100; 704500, 4171900; 704400, 4171800; 704500, 4171600; 704600, 4171400; 704700, 4171500; 704900, 4171200; 704700, 4171100; 704900, 4171000; 704800, 4170900; 704600, 4170900; 704600, 4170700; 704800, 4170200; 705100, 4170200; 705000, 4170100; 705000, 4169600; 705000, 4169500; 704900, 4169400; 704800, 4169300; 704100, 4169300; 703500, 4169500; 703400, 4169600; 703400, 4170100; 703600, 4170200; 703600, 4170300; 703500, 4170300; 703500, 4170600; 703500, 4170700; 703500, 4170800; 703400, 4170900; 703400, 4171300; 703300, 4171400; 703200, 4171500; 703400, 4171500; 703400, 4171800; 703600, 4171800; 703600, 4174000; 704300, 4174000; 704300, 4173700; 705167, 4173700; 705167, 4173700; 705100, 4174700; 705400, 4175400; 705000, 4175900; 705300, 4176300; 705700, 4176700; 705700, 4177000; 705700, 4177500; 705100, 4177500; 705000, 4177300; 704800, 4177300; 704800, 4177100; 704600, 4177100; 704500, 4177200; 704500, 4177400; 704300, 4177500; 704200, 4177300; 704000, 4177300; 703800, 4177100; 703500, 4177300; 703500, 4177650; 703661, 4177654; 703645, 4177993; 703800, 4178200; 704000, 4178200; 704100, 4178100; 704200, 4178100; 704200, 4178400; 703900, 4178400; 703900, 4178800; 703800, 4178900; 703900, 4179100; 703900, 4179200; 703588, 4179200; 703586, 4179240; 704434, 4179184; 705229, 4179481; 706142, 4179326; 708062, 4179408; 708659, 4178568; 709277, 4179043; 709879, 4179505; 709905, 4179525; 711259, 4179578; 711250, 4179933; 711628, 4179987; 711599, 4180753; 711578, 4180885; 713039, 4181325; 713440, 4181474; 714003, 4181741; 714540, 4182019; 714627, 4182073; 714634, 4182077; 714982, 4182292; 715045, 4182331; 714949, 4182425; 714723, 4182600; 715100, 4182600; 715500, 4183400; returning to 715800, 4183400.

(v) Unit 6E: Calaveras County and Tuolumne County, California. From USGS 1:24,000 scale quadrangles Knights Ferry, Keystone. Land bounded by the following UTM Zone 10, NAD 83 coordinates (E,N): 707800, 4190700; 708400, 4190000; 708700, 4190000; 709200, 4189300; 709200, 4188600; 710100, 4188200; 709919, 4186841; 709913, 4186795; 709477, 4187175; 709275, 4187351; 708435, 4188084; 708351, 4188158; 708264, 4188233; 708132, 4188349; 707999, 4188465; 707639, 4188779; 707607, 4188807; 707565, 4188844; 706885, 4189437; 706596, 4189689; 706578, 4189704; 706611, 4189812; 706700, 4190100; 707300, 4190700; returning to 707800, 4190700.

(vi) Note: Unit 6 (Map 4) follows:

BILLING CODE 4310-55-P

BILLING CODE 4310-55-C

(13) Unit 7: Merced County and Mariposa County. USGS 24,000 topographic quadrangles Winton, Yosemite Lake, Snelling, Merced Falls, Haystack Mountain, Indian Gulch, Planada, Owens Reservoir, Illinois Hill, Le Grand, Raynor Creek: Land bounded by the following UTM Zone 10, NAD 83 coordinates (E,N): 747003, 4125902; 747142, 4125971; 747303, 4125987; 747358, 4126000; 747200, 4126000; 747142, 4125971; 747123, 4125969; 747070, 4125950; 747003, 4125902; 747000, 4125900; 746900, 4125900; 746600, 4125800; 746300, 4125700; 746200, 4125600; 746200, 4125500; 745700, 4125500; 745700, 4125100; 744500, 4125100; 744500, 4125300; 744400, 4125300; 744400, 4125200; 743700, 4125200; 743700, 4125800; 744500, 4125800; 744500, 4126200; 743700, 4126200; 743700, 4127000; 743600, 4127000; 742700, 4127000; 742400, 4127000; 742000, 4127200; 742000, 4128600; 742800, 4128600; 742800, 4129100; 742900, 4129100; 743000, 4129100; 743000, 4129200; 743400, 4129300; 743600, 4129500; 743600, 4130284; 743605, 4130284; 743600, 4130493; 743600, 4130700; 743595, 4130700; 743561, 4132097; 743560, 4132170; 743556, 4132335; 743549, 4132692; 743537, 4133202; 743529, 4133301; 743531, 4133352; 743530, 4133400; 743523, 4133729; 743518, 4134016; 743515, 4134159; 743509, 4134382; 743500, 4134708; 743504, 4134743; 743565, 4134782; 744447, 4135329; 746234, 4136439; 746230, 4136445; 745985, 4136865; 745952, 4136931; 745915, 4136978; 745914, 4136987; 745902, 4137008; 745748, 4137298; 745669, 4137403; 745620, 4137437; 745503, 4137487; 745203, 4138201; 744984, 4138471; 744895, 4138606; 744895, 4138606; 744830, 4138711; 744596, 4139085; 744234, 4139637; 744233, 4139645; 744162, 4139744; 744162, 4139744; 744013, 4140002; 744013, 4140002; 743998, 4140029; 743996, 4140030; 743973, 4140072; 743907, 4140195; 743889, 4140229; 743877, 4140264; 743750, 4140609; 743388, 4140868; 743091, 4141131; 743053, 4141165; 742997, 4141268; 742771, 4141692; 742748, 4141734; 742355, 4142343; 742336, 4142368; 742271, 4142457; 742238, 4142503; 742139, 4142637; 742056, 4142749; 742002, 4142823; 741974, 4142874; 741808, 4143176; 741722, 4143360; 741419, 4144010; 741385, 4144081; 741316, 4144328; 741297, 4144395; 741245, 4144456; 741194, 4144530; 741162, 4144608; 741076, 4144820; 740864, 4144897; 740843, 4144899; 740750, 4144952; 740641, 4145056; 740535, 4145175; 740517, 4145182; 740490, 4145240; 740487, 4145263; 740386, 4145415; 740321, 4145847; 740320, 4146066; 740303, 4146114; 740276, 4146159; 740272, 4146225; 740293, 4146273; 740293, 4146303; 740370, 4146426; 740415, 4146474; 740536, 4146602; 740735, 4146722; 740825, 4146775; 741069, 4147251; 741071, 4147549; 741071, 4147576; 740982, 4147830; 740955, 4147883; 740914, 4147967; 740822, 4148059; 740772, 4148182; 740782, 4148363; 740776, 4148391; 740695, 4148831; 740617, 4149151; 740447, 4149311; 740396, 4149534; 740344, 4149561; 740303, 4149575; 740289, 4149588; 740238, 4149636; 740225, 4149666; 740057, 4149659; 739993, 4149678; 739917, 4149678; 739791, 4149621; 739705, 4149597; 739701, 4149596; 739602, 4149593; 739521, 4149560; 739443, 4149542; 739197, 4149515; 738714, 4149273; 738694, 4149252; 738674, 4149251; 738178, 4148999; 737835, 4148823; 737747, 4148772; 737044, 4148135; 736672, 4147809; 736430, 4147669; 735929, 4147379; 735716, 4147219; 735669, 4147184; 735605, 4147136; 735437, 4147009; 735223, 4146848; 735183, 4146809; 735156, 4146798; 735151, 4146778; 735022, 4146655; 734989, 4146630; 734609, 4146349; 734480, 4146255; 734012, 4145909; 733808, 4145758; 733765, 4145739; 733763, 4145732; 733370, 4145442; 732703, 4144952; 732391, 4144910; 732197, 4144885; 731993, 4144850; 731062, 4144594; 730371, 4144363; 729000, 4143905; 728736, 4143813; 728542, 4143745; 728346, 4143647; 728018, 4143482; 727340, 4143194; 726795, 4142958; 726607, 4142867; 726599, 4142856; 726577, 4142853; 725785, 4142417; 725793, 4142408; 725843, 4142361; 726002, 4142378; 726117, 4142355; 726204, 4142264; 726415, 4142046; 726420, 4141975; 726381, 4141921; 726367, 4141880; 726261, 4141732; 726182, 4141648; 725935, 4141477; 725916, 4141451; 725903, 4141379; 725914, 4141349; 725981, 4141288; 726033, 4141240; 726145, 4141137; 726156, 4141109; 726147, 4141073; 726096, 4140993; 726083, 4140896; 726089, 4140784; 726108, 4140739; 726268, 4140551; 726269, 4140436; 726283, 4140368; 726313, 4140308; 726412, 4140209; 726455, 4140025; 726457, 4140000; 726459, 4139959; 726715, 4139715; 726786, 4139647; 726804, 4139630; 726822, 4139625; 726822, 4139611; 726823, 4139582; 726809, 4139546; 726755, 4139466; 726754, 4139433; 726931, 4139179; 727174, 4138842; 727220, 4138823; 727261, 4138819; 727328, 4138864; 727331, 4138842; 727333, 4138831; 727335, 4138819; 727343, 4138816; 727396, 4138803; 727406, 4138800; 727414, 4138798; 727552, 4138779; 727711, 4138793; 727806, 4138786; 727819, 4138766; 727845, 4138644; 727858, 4138617; 727881, 4138590; 727700, 4138500; 727600, 4138400; 727400, 4138300; 727400, 4137800; 727300, 4137800; 727300, 4137600; 727400, 4137600; 727400, 4137500; 727300, 4137500; 727300, 4137400; 727400, 4137400; 727400, 4137200; 726500, 4137200; 726500, 4136500; 726400, 4136400; 725800, 4136400; 725800, 4137200; 725000, 4137200; 724900, 4138800; 725500, 4138800; 725500, 4138700; 725800, 4138700; 725800, 4138800; 725900, 4138800; 725900, 4139500; 726500, 4139500; 726500, 4139600; 725900, 4139600; 725800, 4139600; 725800, 4140200; 725900, 4140200; 725900, 4140900; 725400, 4140900; 725400, 4140800; 725100, 4140800; 725100, 4141000; 724900, 4141000; 724900, 4141200; 724100, 4141200; 724100, 4141600; 723400, 4141600; 723400, 4141100; 723200, 4141100; 723200, 4140600; 723400, 4140500; 723400, 4139500; 724000, 4139500; 724000, 4139400; 723900, 4138900; 723900, 4138700; 723500, 4138200; 723400, 4138200; 723400, 4138300; 723000, 4138300; 723000, 4138700; 723000, 4138900; 723100, 4139100; 723200, 4139400; 723300, 4139500; 722100, 4139500; 722000, 4140500; 721900, 4141100; 721900, 4141900; 721900, 4143400; 720800, 4143400; 720900, 4141800; 721000, 4141500; 721000, 4141200; 721100, 4141100; 721000, 4141000; 717800, 4140900; 717700, 4142500; 714500, 4142400; 714500, 4144900; 715500, 4144900; 715500, 4145000; 715800, 4145000; 715900, 4145000; 716000, 4145000; 716100, 4145100; 716100, 4145200; 716000, 4145200; 715900, 4145300; 715900, 4145400; 716000, 4145500; 716000, 4145600; 716100, 4145700; 717000, 4145700; 717700, 4145300; 717800, 4145300; 717800, 4145200; 717800, 4145100; 717600, 4144900; 717600, 4144800; 717600, 4144700; 717800, 4144500; 717900, 4144600; 718200, 4144600; 718400, 4144500; 718700, 4144500; 718700, 4144800; 718600, 4145000; 718700, 4145100; 718700, 4145600; 718600, 4145600; 718600, 4145700; 718700, 4145800; 718600, 4145900; 718500, 4146000; 718500, 4146100; 718600, 4146200; 718600, 4146500; 718300, 4146500; 718200, 4146600; 718200, 4146800; 718300, 4146800; 718500, 4146900; 718600, 4147000; 718600, 4147100; 718400, 4147200; 718500, 4147300; 718500, 4147600; 718700, 4147600; 718700, 4147400; 719000, 4147500; 719100, 4147700; 719300, 4147600; 719600, 4147900; 719700, 4148000; 719700, 4148100; 719800, 4148200; 720000, 4148200; 720600, 4148200; 720600, 4148300; 720700, 4148400; 720800, 4148400; 720900, 4148500; 722700, 4148500; 722700, 4148600; 722900, 4148600; 723200, 4148700; 723400, 4148700; 723200, 4148600; 723100, 4148500; 723000, 4148400; 723200, 4148200; 723400, 4148200; 723500, 4148300; 723600, 4148400; 723600, 4148500; 723800, 4148500; 723800, 4148400; 723900, 4148400; 723900, 4148500; 724000, 4148700; 724200, 4148500; 724200, 4148900; 724300, 4149000; 724300, 4149100; 724500, 4149000; 724500, 4149300; 724700, 4149400; 724900, 4149600; 725000, 4149700; 725000, 4150000; 724900, 4150100; 725000, 4150200; 725200, 4150200; 725300, 4150400; 725400, 4150500; 725400, 4150600; 725100, 4150900; 724700, 4150900; 724700, 4153400; 725000, 4153500; 725400, 4153900; 725600, 4154100; 725800, 4154200; 726000, 4154300; 726200, 4154000; 726300, 4153800; 726300, 4153700; 727800, 4153600; 727800, 4153400; 727900, 4153400; 727900, 4153500; 728400, 4153600; 728700, 4153700; 729000, 4153700; 729000, 4153600; 729100, 4153500; 729300, 4153400; 729400, 4153400; 729400, 4153300; 729300, 4153200; 729500, 4153100; 729800, 4153100; 729900, 4153200; 729900, 4154200; 730000, 4154200; 730100, 4154300; 730600, 4154300; 730700, 4154400; 731000, 4154600; 731200, 4154700; 731500, 4154700; 731800, 4154900; 732200, 4154900; 732600, 4154800; 733200, 4154500; 733400, 4154500; 733700, 4154300; 734700, 4154300; 734900, 4154600; 735100, 4154800; 735100, 4154900; 735500, 4155300; 735600, 4155300; 735800, 4155500; 736100, 4155900; 737100, 4155400; 737157, 4155367; 737800, 4155000; 738200, 4154200; 738300, 4153300; 739000, 4152800; 739100, 4152200; 740200, 4151800; 740800, 4151500; 740800, 4150300; 741100, 4149900; 741700, 4149400; 742100, 4148500; 742100, 4147100; 743400, 4146100; 744000, 4145600; 744400, 4144600; 744300, 4143900; 743900, 4142700; 744000, 4142000; 744200, 4141700; 745500, 4140300; 746100, 4139500; 746800, 4138500; 747700, 4137700; 748500, 4135800; 748700, 4135100; 749500, 4134000; 749501, 4133999; 750173, 4132710; 750700, 4131700; 751600, 4130500; 752000, 4130200; 752094, 4130188; 752157, 4130180; 752800, 4130100; 753300, 4130400; 753500, 4130400; 753900, 4130200; 754000, 4129300; 753400, 4128400; 753900, 4127700; 754400, 4127700; 754600, 4127400; 755300, 4128400; 755400, 4128400; 755600, 4127700; 756900, 4126400; 757800, 4125800; 758400, 4126300; 758500, 4126300; 758600, 4126000; 757900, 4125100; 757400, 4125100; 757800, 4124400; 757800, 4124000; 758200, 4124000; 758500, 4123600; 758800, 4123600; 759000, 4123900; 759300, 4123900; 759700, 4123500; 759700, 4123400; 759200, 4122900; 758400, 4122900; 757900, 4123200; 757600, 4123900; 757000, 4123700; 756700, 4124000; 756719, 4124012; 757300, 4124400; 757187, 4124682; 757166, 4124735; 756500, 4123700; 753500, 4122400; 750200, 4122400; 750200, 4121400; 748600, 4121400; 748600, 4121900; 747800, 4121900; 747800, 4123300; 748300, 4123300; 748300, 4123500; 748500, 4123500; 748600, 4123500; 748600, 4123900; 747800, 4123900; 747800, 4124600; 747400, 4125100; 747400, 4125500; 746900, 4125500; 746900, 4125763; 746902, 4125767; 746921, 4125818; 746971, 4125871; 746997, 4125897; returning to 747003, 4125902.

(11) Note: Unit 7 (Map 5) follows:

BILLING CODE 4310-55-P

BILLING CODE 4310-55-C

(12) Unit 8: Madera County.

(i) Unit 8A: Madera County. USGS 24,000 topographic quadrangle Kismet. Land bounded by the following UTM Zone 10, NAD 83 coordinates (E,N): 766600, 4106300; 766600, 4105100; 764500, 4105000; 764500, 4105400; 761715, 4105400; 761700, 4105900; 762100, 4105900; 762900, 4106300; 763300, 4106200; 764100, 4106700; 764100, 4106200; 764500, 4106200; 764500, 4106400; 764800, 4106300; 765200, 4106400; 765700, 4106500; 765900, 4106700; 766100, 4106700; 766100, 4106500; 766300, 4106400; returning to 766600, 4106300.

(ii) Unit 8B: Madera County. USGS 24,000 topographic quadrangle Daulton: Land bounded by the following UTM Zone 10, NAD 83 coordinates (E,N): 767397, 4108238; 767442, 4108033; 767466, 4107846; 767496, 4107799; 767643, 4107646; 767657, 4107605; 767661, 4107533; 767663, 4107481; 767684, 4107415; 767700, 4107360; 768068, 4107230; 768482, 4107223; 768510, 4107237; 768558, 4107312; 768603, 4107420; 768625, 4107444; 768663, 4107460; 768783, 4107434; 768930, 4107375; 769050, 4107290; 769225, 4107285; 769259, 4107274; 769313, 4107237; 769329, 4107230; 769367, 4107213; 769443, 4107216; 769756, 4107290; 770235, 4107165; 770356, 4107136; 771175, 4107264; 771213, 4107261; 771255, 4107237; 771273, 4107227; 771286, 4107215; 771517, 4107059; 771528, 4107056; 771815, 4106993; 772201, 4106696; 772325, 4106560; 772378, 4106500; 772399, 4106384; 772498, 4106310; 772661, 4106375; 772759, 4106385; 772826, 4106355; 772868, 4106337; 772940, 4106262; 773047, 4106226; 773125, 4106234; 773232, 4106319; 773424, 4106582; 773448, 4106601; 773630, 4106805; 773788, 4106934; 774007, 4106931; 774153, 4106987; 774208, 4106991; 774293, 4106979; 774346, 4106988; 774441, 4107034; 774571, 4107181; 774624, 4107185; 774644, 4107178; 774688, 4107162; 774730, 4107128; 774749, 4107108; 774795, 4107079; 774835, 4107052; 774373, 4106482; 772896, 4104485; 772484, 4104659; 772378, 4104753; 772353, 4104745; 772066, 4104933; 772066, 4104934; 772066, 4104934; 771685, 4104609; 770687, 4104546; 770599, 4105943; 770592, 4106043; 770430, 4107035; 769419, 4107171; 769213, 4107259; 768315, 4107202; 767710, 4107264; 767247, 4108236; 767056, 4108159; 767077, 4108174; 767121, 4108207; 767181, 4108251; 767272, 4108279; 767327, 4108281; returning to 767379, 4108260; 767397, 4108238.

(iii) Unit 8C: Madera County. USGS 24,000 topographic quadrangle Daulton: Land bounded by the following UTM Zone 10, NAD 83 coordinates (E,N): 766679, 4106696; 766679, 4106696; 766674, 4106696; 766674, 4106696; 766643, 4106695; 766647, 4107100; 766654, 4108020; 766655, 4108063; 766764, 4108105; 766868, 4108114; 766916, 4108115; 766952, 4108116; 766661, 4107999; returning to 766679, 4106696.

(iv) Note: Unit 8 (Map 6) follows:

BILLING CODE 4310-55-P

BILLING CODE 4310-55-C

Family Poaceae: Tuctoria mucronata (Solano Grass)

(1) Critical habitat units are depicted for Yolo County, California, on the map below.

(2) The primary constituent elements of critical habitat for Tuctoria mucronata (Solano grass) are the habitat components that provide:

(i) Topographic features characterized by isolated mound and intermound complex within a matrix of surrounding uplands that result in continuously, or intermittently, flowing surface water in the depressional features including swales connecting the pools described in paragraph (2)(ii) of this section, providing for dispersal and promoting hydroperiods of adequate length in the pools; and

(ii) Depressional features including isolated vernal pools with underlying restrictive soil layers that become inundated during winter rains and that continuously hold water or whose soils are saturated for a period long enough to promote germination, flowering, and seed production of predominantly annual native wetland species and typically exclude both native and nonnative upland plant species in all but the driest years. As these features are inundated on a seasonal basis, they do not promote the development of obligate wetland vegetation habitats typical of permanently flooded emergent wetlands.

(3) Existing manmade features and structures, such as buildings, roads, railroads, airports, runways, other paved areas, lawns, and other urban landscaped areas do not contain one or more of the primary constituent elements. Federal actions limited to those areas, therefore, would not trigger a consultation under section 7 of the Act unless they may affect the species and/or primary constituent elements in adjacent critical habitat.

(4) Unit 1: Yolo County, California. From USGS 1:24,000 scale quadrangles Davis, Saxon. Land bounded by the following UTM Zone 10, NAD 83 coordinates (E,N): 615400, 4262300; 615400, 4260700; 614500, 4260700; 614500, 4261500; 614200, 4261500; 614200, 4261800; 614000, 4261800; 614000, 4262300; 615400, 4262300; returning to 615400, 4262300.

(5) Note: Unit 1 (Map 1) follows:

BILLING CODE 4310-55-P

BILLING CODE 4310-55-C

§ 17.97 [Reserved].

6. Remove and reserve § 17.97.

Dated: January 25, 2006.
Matt Hogan,
Acting Assistant Secretary for Fish and Wildlife and Parks.

[FR Doc. 06-1080 Filed 2-9-06; 8:45 am]

BILLING CODE 4310-55-C